ENVIRONMENTAL PROTECTION AGENCY

[FRL-6562-5]

Proposed Reissuance of National Pollutant Discharge Elimination System (NPDES) Storm Water Multi-Sector General Permit for Industrial Activities

AGENCY: Environmental Protection Agency (EPA).

ACTION: Notice of proposed NPDES general permit.

SUMMARY: EPA Regions 1, 2, 3, 4, 6, 8, 9, and 10 are today proposing to reissue EPA's NPDES Storm Water Multi-Sector General Permit (MSGP). This general permit was first issued on September 29, 1995 (60 FR 50804), and amended on February 9, 1996 (61 FR 5248), February 20, 1996 (61 FR 6412), September 24, 1996 (61 FR 50020), August 7, 1998 (63 FR 42534) and September 30, 1998 (63 FR 52430). Today's proposed MSGP is similar to the 1995 permit, as amended, and will authorize the discharge of storm water from industrial facilities consistent with the terms of the permit.

Public Comment Period: The public comment period for the proposed MSGP will be from today's date until May 30, 2000. All public comments must be submitted to: ATTN: MSGP-2000 Comments, W-99-26, MC 4101, U.S. EPA, Room EB57, 401 M Street SW, Washington, DC 20460.

Please submit the original and three copies of your comments and enclosures (including references). Comments must be received or postmarked by midnight no later than May 30, 2000. To ensure that EPA can read, understand and therefore properly respond to comments, the Agency would prefer that commenters cite, where possible, the paragraph(s) or sections in the notice or supporting documents to which each comment refers. Commenters who want EPA to acknowledge receipt of their comments should enclose a self-addressed stamped envelope. No fascimiles (faxes) will be accepted. Comments may also be submitted electronically to: ow-docket@epa.gov. Electronic comments must be submitted as an ASCII file avoiding the use of special characters and forms of encryption. Electronic comments must be identified by the docket number W-99-26 (MSGP-2000). No Confidential Business information (CBI) should be submitted through e-mail. Comments and data will also be accepted on disks in WordPerfect 6.1 format or ASCII file format. Electronic comments on this notice may be filed online at many Federal Depository Libraries.

The record for today's proposed MSGP has been established under docket number W-99-26, and includes supporting documentation as well as printed, paper versions of electronic comments. It does not include any information claimed as CBI.

Public Meetings: Public meetings on the proposed permit will be held at the locations listed below. The public meetings will include a presentation on the draft permits and a question and answer session. Written, but not oral, comments for the official permit record will be accepted at the public meetings.

Dallas, TX: May 1, 2000, 1:00 pm, EPA Region 6 Offices, 12th Floor, 1445 Ross Ave., Dallas, Texas.

Santa Fe, NM: April 24, 2000, 1:00 pm, New Mexico Environment Department Offices, Runnels Building Auditorium, 1190 St. Francis Dr., Santa Fe, New Mexico.

Additional public meets may be scheduled in one or more EPA regions. For times and locations, please visit our MSGP web site at www.epa.gov/owm/sw/industry/msgp/index.htm.

Public Hearings: EPA has not scheduled any public hearings to receive public comment concerning today's proposal in view of the limited attendance at previous hearings which have been held related to the existing MSGP. All persons will continue to have the right to provide written comments at any time during the public comment period. However, interested persons may request a public hearing pursuant to 40 CFR 124.12 concerning the proposed MSGP-2000. Requests for a public hearing must be sent or delivered in writing to the same address as provided above for public comments prior to the close of the comment period. Requests for a public hearing must state the nature of the issues proposed to be raised in the hearing. Pursuant to 40 CFR 124.12, EPA shall hold a public hearing if it finds, on the basis of requests, a significant degree of public interest in the proposed permit. If EPA decides to hold a public hearing, a public notice of the date, time and place of the hearing will be made at least 30 days prior to the hearing. Any person may provide written or oral statements and data pertaining to the proposed permit at the public hearing.

ADDRESSES: The index to the administrative record for the proposed MSGP is available at the appropriate Regional Office or from the EPA Water Docket Office in Washington, DC. The administrative record is stored in two locations. Documents immediately referenced in this reissuance notice are stored at the EPA Water Docket Office at the following address: Water Docket, MC-4101, U.S. EPA, 401 M Street SW, Washington, DC 20460. All other documents which were used to support the original issuance of the MSGP in 1995 are a supplement to the record for this reissuance and are stored at U.S. EPA, 401 M Street SW, Washington, DC 20460. These materials include, for example, the permit applications and sampling data provided to EPA by group applicants. The immediate and supplemental records are available for inspection from 9 a.m. to 4 p.m., Monday through Friday, excluding legal holidays. For appointments to examine any portion of the administrative record, please call the Water Docket Office at (202) 260-3027. A reasonable fee may be charged for copying. Specific record information can also be made available at the appropriate Regional Office upon request.

FOR FURTHER INFORMATION CONTACT: For further information on the proposed MSGP, contact the appropriate EPA Regional Office or Dan Weese at (202) 260-6809. The name, address and phone number of the EPA Regional Storm Water Coordinators are provided in Section VI.F of this fact sheet.

SUPPLEMENTARY INFORMATION: The following fact sheet provides background information and explanation for today's notice of proposed MSGP reissuance. The actual language of the proposed MSGP appears after this fact sheet.

Fact Sheet

Table of Contents

I. Background

A. Pollutants in Storm Water Discharges Associated with Industrial Activities in General

B. Summary of Options for Controlling Pollutants

C. The Federal/Municipal Partnership: The Role of Municipal Operators of Large and Medium Municipal Separate Storm Sewer Systems

II. Organization of Today's Proposed MSGP and Summary of Proposed Changes

III. Geographic Coverage of Proposed MSGP

IV. Categories of Facilities Covered by Proposed MSGP

V. Limitations on Coverage

A. Storm Water Discharges Subject to Effluent Guidelines, Including New Source Performance Standards

B. Historic Preservation

C. Endangered Species

D. New Storm Water Discharges to Water-Quality Impaired Receiving Waters

E. Storm Water Discharges Subject to Anti-Degradation Water Quality Standards

F. Storm Water Discharges Previously Covered by an Individual Permit

VI. Summary of Common Permit Conditions

A. Notification Requirements

1. Contents of NOIs

2. Deadlines

3. Municipal Separate Storm Sewer System Operator Notification

4. Notice of Termination

5. Conditional Exclusion for No Exposure

B. Special Conditions

1. Prohibition of Non-storm Water Discharges

2. Releases of Reportable Quantities of Hazardous Substances and Oil

3. Co-located Industrial Facilities

4. Numeric Effluent Limitations

5. Compliance with Water Quality Standards

C. Common Pollution Prevention Plan Requirements

1. Pollution Prevention Team

2. Description of the Facility and Potential Pollution Sources

3. Selection and Implementation of Storm Water Controls

4. Comprehensive Site Compliance Evaluation

D. Special Requirements

1. Special Requirements for Storm Water Discharges Associated with Industrial Activity from Facilities Subject to EPCRA Section 313 Requirements

2. Special Requirements for Storm Water Discharges Associated with Industrial Activity from Salt Storage Facilities

3. Consistency With Other Plans

E. Monitoring and Reporting Requirements

1. Analytical Monitoring Requirements

2. Compliance Monitoring

3. Alternate Certification

4. Reporting and Retention Requirements

5. Sample Type

6. Representative Discharge

7. Sampling Waiver

8. Quarterly Visual Examination of Storm Water Quality

F. Regional Offices

1. Notice of Intent Address

2. Regional Office Addresses and Contacts

VII. Cost Estimates For Common Permit Requirements

VIII. Special Requirements for Discharges Associated with Specific Industrial Activities

IX. Economic Impact (Executive Order 12866)

X. Unfunded Mandates Reform Act

XI. Paperwork Reduction Act

XII. Regulatory Flexibility Act

XIII. Official Signatures

I. Background

EPA Regions 1, 2, 3, 4, 6, 8, 9, and 10 are today proposing to reissue EPA's NPDES Storm Water Multi-Sector General Permit (MSGP). The MSGP currently authorizes storm water discharges from a particular facility for most areas of the United States where the NPDES permit program has not been delegated. The MSGP was originally issued on September 29, 1995 (60 FR 50804), and amended on February 9, 1996 (61 FR 5248), February 20, 1996 (61 FR 6412), September 24, 1996 (61 FR 50020), August 7, 1998 (63 FR 42534) and September 30, 1998 (63 FR 52430).

The 1995 MSGP was the culmination of the group permit application process described at 40 CFR 122.26(c)(2). A group permit application was one of three options for obtaining an NPDES industrial storm water permit which were provided by the 1990 storm water permit application regulations (47 FR 47990). The 1990 regulations also provided that industrial facilities could apply for coverage under an existing general NPDES permit or apply for an individual permit. In 1992, EPA issued a baseline general permit (57 FR 41175 and 57 FR 44412) to cover industrial facilities which did not select the group application option or submit an application for an individual permit.

In response to the group application option, EPA received applications from approximately 1,200 groups representing nearly all of the categories of industrial facilities listed in the storm water regulations at 40 CFR 122.26(b)(14). To facilitate permit issuance for the group applications, EPA consolidated the groups into 29 industrial sectors, with subsectors also included in certain sectors as appropriate.

In developing the requirements for the 1995 MSGP, EPA utilized and built upon the storm water pollution control requirements of the 1992 baseline general permit. The baseline permit had required a storm water pollution prevention plan (SWPPP) with generic best management practice (BMP) requirements which applied to all facilities covered by the permit. In addition, certain categories of facilities were required to monitor storm water discharges based on EPA's best professional judgment concerning the risks posed by the facilities.

The group permit applications included information concerning the specific types of operations present at the different types of industrial facilities, potential sources of pollutants at the facilities, industry-specific BMPs which are available, and monitoring data from the different types of facilities. Using this information, EPA developed SWPPP requirements for the MSGP which consisted of the generic requirements of the baseline permit plus industry-specific requirements developed from the group application information. Also, the industries required to perform monitoring and the contaminants to be monitored for in the 1995 MSGP were developed using the monitoring data submitted with the group applications rather than EPA's best professional judgment.

On September 30, 1998 (63 FR 52430), EPA terminated the baseline general permit and required facilities which were previously covered by the baseline permit to seek coverage under the MSGP (or submit an individual permit application). EPA believed that the MSGP, with its industry-specific requirements, would provide improved water quality benefits as compared to the baseline permit.

For the reissuance of the MSGP, EPA has re-evaluated the industry-specific requirements of the MSGP. In a few instances, additional requirements have been proposed based on new information which has been obtained since the original MSGP issuance in 1995. These changes are discussed in more detail in Section VIII of this fact sheet. EPA also re-evaluated the monitoring requirements of the existing MSGP. Although no changes are being proposed in the monitoring requirements, EPA is interested in receiving comments on these requirements and exploring alternatives as discussed in Section VI.E of the fact sheet.

A. Pollutants in Storm Water Discharges Associated With Industrial Activities in General

The volume and quality of storm water discharges from a particular facility will depend on a number of factors, including the industrial activities occurring at the facility, the nature of the precipitation, and the degree of surface imperviousness. A discussion of these factors was provided in the fact sheet for the original proposed MSGP (58 FR 61146 Nov. 19, 1993), and is not being repeated here.

B. Summary of Options for Controlling Pollutants

Pollutants in storm water discharges from industrial plants may be reduced using several methods, including: Eliminating pollutant sources; implementing BMPs that prevent the generation of pollutant sources and/or control the discharge of pollutants; and end-of-pipe treatment. A general discussion of each of these was presented in the original MSGP proposal (58 FR 61146, Nov. 19, 1993), and is not being repeated here.

C. The Federal/Municipal Partnership: The Role of Municipal Operators of Large and Medium Municipal Separate Storm Sewer Systems

A key issue in developing a workable regulatory program for controlling pollutants in storm water discharges associated with industrial activity is the proper use and coordination of limited regulatory resources. This is especially important when addressing the appropriate role of municipal operators of large and medium municipal separate storm sewer systems in the control of pollutants in storm water discharges associated with industrial activity which are conveyed through municipal separate storm sewer systems. The original proposed MSGP discussed several key policy factors (see 58 FR 61146).

II. Organization of Proposed MSGP and Summary of Proposed Changes

The organization of today's proposal has been revised from the 1995 MSGP to reduce the overall size of the permit. In Part XI of the 1995 MSGP, many requirements such as SWPPP and monitoring requirements which were common to each sector were repeated in each sector, greatly adding to length of the permit. For today's proposal, such requirements are found only once in expanded sections of the permit (Parts 4 and 5) which include requirements common to each sector. Requirements which are genuinely unique to a given sector or subsector are found in Part 6 in the permit. Similarly, Section VIII of the fact sheet for the 1995 MSGP repeated certain explanatory information in the discussions of sector-specific requirements, and also included considerable descriptive information about the various sectors. To reduce the length of today's notice, most of this information is not being repeated. Section VIII of today's fact sheet focuses on the changes (if any) which are being proposed for the various sectors. The reorganization and reduction of duplication have reduced the size of the permit by approximately 50%.

Also note that the section/paragraph identification scheme of the proposed MSGP-2000 has been modified from the existing MSGP. The original scheme utilized a sometimes lengthy combination of numbers, letters and Roman numerals (in both upper and lower cases) which many permittees found confusing. Today's proposal identifies sections/paragraphs, and hence permit conditions, using numbers only, except in Part 6 (which also incorporates the sector letters from the 1995 MSGP for consistency). Under the original permit, only the last digit or letter of the section/paragraph identifier appeared with its accompanying section title/paragraph, making it difficult to determine where you were in the permit. In today's proposal, the entire string of identifying numbers is listed at each section/paragraph to facilitate recognizing where you are and in citing and navigating through the permit. For example, paragraph number 1.2.3.5 tells you immediately that you are in Part 1, section 2, paragraph 3, subparagraph 5; whereas under the 1995 MSGP you would only see an “e”, thereby forcing you to hunt back through the permit to determine that you were in Part I.B.3.e. The exception to the numbering rule is in Part 6, where the Sector letters from the 1995 MSGP have been retained to correspond to the sectors of industry covered by the permit and make it easy to tell that you are in a section of the permit which has conditions which only apply to a specific industrial sector. For example, paragraph 6.F.3.4 immediately tells you that you are in Part 6 and looking at conditions that only apply to sector “F” facilities. In some cases, requirements which previously appeared in a single paragraph are now found listed out as separate individual items. The proposed MSGP is also written in EPA's “readable regulations” style using terms like “you” and “your” in referring to permittees, etc.

Following below is a list of the major changes in today's proposal as compared to the existing MSGP. These changes are discussed in more detail later in this fact sheet.

1. Requirements for co-located activities clarified (Part 1.2.1.1).

2. Incidental cooling tower mist discharges included as an authorized non-storm water discharge, subject to certain requirements (Parts 1.2.2.2.13 and 4.4.2.3).

3. Provided eligibility for coverage of inactive mining activities occurring on Federal Lands where an operator has not been identified (Part 1.2.3).

4. Clarified language for situations where a discharge previously covered by an individual permit can be covered under the MSGP-2000 (Part 1.2.3.3).

5. Clarified/added language for compliance with water quality standards and requirements for follow-up actions if standards are exceeded (Parts 1.2.3.5 and 3.3).

6. ESA and NHPA eligibility requirements modified (Parts 1.2.3.6 and 1.2.3.7).

7. Eligibility requirements for discharges to water quality impaired/limited waterbodies added/clarified (Part 1.2.3.8).

8. Clarifies that discharges which do not comply with anti-degradation requirements are not authorized by the permit (Part 1.2.3.9).

9. Deadline of 30 days for submission of an NOT added (Part 1.4.2).

10. Opportunity for termination of permit coverage based on the “no exposure exemption” from the Phase II storm water regulations (64 FR 68722, 12/8/99) added (Parts 1.5 and 11.4).

11. Notice of Intent requirements and form modified (Part 2.2 and Addendum D).

12. Permit will accommodate electronic filing of NOIs, NOTs, or DMRs, should these options become available during the term of the permit (Parts 2.3, 7.1, and 11.3)

13. Prohibition on discharges of solid materials and floating debris and requirement to minimize off-site tracking of materials and generation of dust added (Part 4.2.7.2.3).

14. Requirement to include a copy of the permit with the storm water pollution prevention plan (SWPPP) was added (Part 4.7).

15. Special conditions for EPCRA 313 facilities were modified (Part 4.12).

16. Monitoring requirements reorganized and additional clarification/revisions on monitoring periods, waivers, default minimum monitoring for limitations added by State 401 certification, and reporting requirements added. Public specifically requested to comment on alternatives to proposed benchmark monitoring scheme (Parts 5 and 7).

17. Manufacturing of fertilizer from leather scraps (SIC 2873) moved from Sector Z—Leather Tanning and Finishing to Sector C—Chemical and Allied Products (Table 1 and Part 6.C).

18. New effluent limitations guidelines for landfills in Sectors K and L included; the final guidelines were published in the Federal Register on January 19, 2000 (65 FR 3007) (Parts 6.K.5 and 6.L.6).

19. Sector AD (Non-Classified Facilities) language clarified to say that facilities cannot choose coverage under Sector AD, but can only be so assigned by permitting authority (Part 6.AD).

20. Additional BMP requirements in Sectors S, T, and Y added (Parts 6.S, 6.T, and 6.Y).

21. NOI to continue coverage under the permit when it expires (without a replacement permit in place) is not required and the reapplication process has been clarified (Part 9.2).

22. Process for EPA to remove facilities from permit coverage clarified (Part 9.12).

In conjunction with the final permit, EPA anticipates making a “User's Guide” available that would answer common questions regarding how to obtain coverage and comply with the MSGP. This users guide would most likely be made available via the Internet.

III. Geographic Coverage of Proposed MSGP

The geographic coverage of today's proposed MSGP includes the following areas:

EPA Region 1—for the States of Maine, Massachusetts and New Hampshire; for Indian country located in Massachusetts, Connecticut, Rhode Island and Maine; and for Federal facilities in the State of Vermont.

EPA Region 2—for the Commonwealth of Puerto Rico.

EPA Region 3—for the District of Columbia and Federal facilities in the State of Delaware.

EPA Region 4—for the State of Florida; and for Indian country located in the State of Florida.

EPA Region 6—for the State of New Mexico; for Indian country located in the States of Louisiana, New Mexico, Texas and Oklahoma (except Navajo lands and Ute Mountain Reservation lands); for Oil and gas facilities under SIC codes 1311, 1381, 1382, and 1389 and 5171 and point source (but not non-point source) discharges associated with agricultural production, services, and silviculture in the State of Oklahoma, except those on Indian Country lands; and oil and gas facilities under SIC codes 1311, 1321, 1381, 1382, and 1389 in the State of Texas not on Indian Country lands.

EPA Region 8—for Federal facilities in the State of Colorado; for Indian Country lands in Colorado, Montana, North Dakota, South Dakota, Wyoming and Utah (except Goshute Reservation lands); for Ute Mountain Reservation lands in Colorado and New Mexico; and for Pine Ridge Reservation lands in South Dakota and Nebraska.

EPA Region 9—for the State of Arizona; for the Territories of Johnston Atoll, American Samoa, Guam, the Commonwealth of Northern Mariana Islands, Midway and Wake Islands; for Indian country located in Arizona, California, and Nevada; and for the Goshute Reservation in Utah and Nevada, the Navajo Reservation in Utah, New Mexico, and Arizona, the Duck Valley Reservation in Nevada and Idaho, and the Fort McDermitt Reservation in Oregon and Nevada.

EPA Region 10—for the States of Alaska and Idaho; for Indian country located in Alaska, Oregon (except Fort McDermitt Reservation lands), Idaho (except Duck Valley Reservation lands) and Washington; and for Federal facilities in Washington.

For several reasons, the geographic area of coverage described above differs from the area of coverage of the 1995 MSGP. Indian country in Vermont and New Hampshire has been removed since there are no Federally recognized tribes in these States. Also, state NPDES permit programs have since been authorized in the States of South Dakota, Louisiana, Oklahoma (except for certain oil and gas facilities and agriculture-related point sources in Oklahoma) and Texas (again except for oil and gas facilities). In Oklahoma, EPA maintains NPDES permitting authority over oil and gas exploration and production related industries, and pipeline operations regulated by the Oklahoma Corporation Commission and point source (but not non-point source) discharges associated with agricultural production, services, and silviculture regulated by the Oklahoma Department of Agriculture, except those on Indian Country lands (See 61 FR 65049). Oklahoma received NPDES program authorization only for those discharges covered by the authority of the Oklahoma Department of Environmental Quality (ODEQ). In Texas, EPA maintains NPDES permitting authority over oil and gas discharges regulated by the Texas Railroad Commission (See 63 FR 51164). Texas received NPDES program authorization only for those discharges covered by the authority of the Texas Natural Resource Conservation Commission (TNRCC).

Federal facilities in Colorado, and Indian country located in Colorado (including the portion of the Ute Mountain Reservation located in New Mexico), Montana, North Dakota, South Dakota (including the portion of the Pine Ridge Reservation located in Nebraska), Utah (except for the Goshute and Navajo Reservation lands) and Wyoming were not included in the 1995 MSGP, but are now proposed to be included. At the present time, industrial facilities in these areas are largely covered under an extension of EPA's 1992 baseline general permit for industries (57 FR 41175).

Lastly, subsequent to the issuance of the MSGP in 1995, coverage was extended to the Island of Guam on September 24, 1996 (61 FR 50020) and the Commonwealth of the Northern Mariana Islands on September 30, 1998 (63 FR 52430).

There are some areas where the NPDES permit program has not been delegated (such as Indian country in states not listed above) where neither the MSGP nor an alternate general permit is available for authorization of storm water discharges associated with industrial activity. However, only a very small number of permittees exist in such areas and individual permits are issued as needed.

IV. Categories of Facilities Covered by the Proposed MSGP

The proposed MSGP would authorize storm water discharges associated with industrial activity from the categories of facilities shown in Table 1 below:

Table 1.—Sector/Subsectors Covered by the Proposed MSGP
Subsector | SIC code | Activity represented
Sector A. Timber Products
1* | 2421 | General Sawmills and Planning Mills.
2 | 2491 | Wood Preserving
3* | 2411 | Log Storage and Handling.
4* | 2426 | Hardwood Dimension and Flooring Mills.
| 2429 | Special Product Sawmills, Not Elsewhere Classified.
| 2431-2439 (except 2434) | Millwork, Veneer, Plywood, and Structural Wood.
| 2448, 2449 | Wood Containers.
| 2451, 2452 | Wood Buildings and Mobile Homes.
| 2493 | Reconstituted Wood Products.
| 2499 | Wood Products, Not Elsewhere Classified.
Sector B. Paper and Allied Products Manufacturing
1 | 2611 | Pulp Mills.
2 | 2621 | Paper Mills.
3* | 2631 | Paperboard Mills.
4 | 2652-2657 | Paperboard Containers and Boxes.
5 | 2671-2679 | Converted Paper and Paperboard Products, Except Containers and Boxes.
Sector C. Chemical and Allied Products Manufacturing
1* | 2812-2819 | Industrial Inorganic Chemicals.
2* | 2821-2824 | Plastics Materials and Synthetic Resins, Synthetic Rubber, Cellulosic and Other Manmade Fibers Except Glass.
3 | 2833-2836 | Medicinal chemicals and botanical products; pharmaceutical preparations; invitro and invivo diagnostic substances; biological products, except diagnostic substances.
4* | 2841-2844 | Soaps, Detergents, and Cleaning Preparations; Perfumes, Cosmetics, and Other Toilet Preparations.
5 | 2851 | Paints, Varnishes, Lacquers, Enamels, and Allied Products.
6 | 2861-2869 | Industrial Organic Chemicals.
7* | 2873-2879 | Agricultural Chemicals, Including Facilities that Make Fertilizer Solely from Leather Scraps and Leather Dust.
8 | 2891-2899 | Miscellaneous Chemical Products.
9 | 3952 (limited to list) | Inks and Paints, Including China Painting Enamels, India Ink, Drawing Ink, Platinum Paints for Burnt Wood or Leather Work, Paints for China Painting, Artist's Paints and Artist's Watercolors.
Sector D. Asphalt Paving and Roofing Materials Manufacturers and Lubricant Manufacturers
1* | 2951, 2952 | Asphalt Paving and Roofing Materials.
2 | 2992, 2999 | Miscellaneous Products of Petroleum and Coal.
Sector E. Glass, Clay, Cement, Concrete, and Gypsum Product Manufacturing
1 | 3211 | Flat Glass.
| 3221, 3229 | Glass and Glassware, Pressed or Blown.
| 3231 | Glass Products Made of Purchased Glass.
| 3281 | Cut Stone and Stone Products.
| 3297 | Abrasive, Asbestos, and Miscellaneous Nonmetallic Mineral Products.
2 | 3241 | Hydraulic Cement.
3* | 3251-3259 | Structural Clay Products.
| 3262-3269 | Pottery and Related Products.
| 3297 | Non-Clay Refractories.
4* | 3271-3275 | Concrete, Gypsum and Plaster Products.
| 3295 | Minerals and Earth's, Ground, or Otherwise Treated.
Sector F. Primary Metals
1* | 3312-3317 | Steel Works, Blast Furnaces, and Rolling and Finishing Mills.
2* | 3321-3325 | Iron and Steel Foundries.
3 | 3331-3339 | Primary Smelting and Refining of Nonferrous Metals.
4 | 3341 | Secondary Smelting and Refining of Nonferrous Metals.
5* | 3351-3357 | Rolling, Drawing, and Extruding of Nonferrous Metals.
6* | 3363-3369 | Nonferrous Foundries (Castings).
7 | 3398, 3399 | Miscellaneous Primary Metal Products.
Sector G. Metal Mining (Ore Mining and Dressing)
1 | 1011 | Iron Ores.
2* | 1021 | Copper Ores.
3 | 1031 | Lead and Zinc Ores.
4 | 1041, 1044 | Gold and Silver Ores.
5 | 1061 | Ferroalloy Ores, Except Vanadium.
6 | 1081 | Metal Mining Services.
7 | 1094, 1099 | Miscellaneous Metal Ores.
Sector H. Coal Mines and Coal Mining-Related Facilities
NA* | 1221-1241 | Coal Mines and Coal Mining-Related Facilities.
Sector I. Oil and Gas Extraction
1* | 1311 | Crude Petroleum and Natural Gas.
2 | 1321 | Natural Gas Liquids.
3* | 1381-1389 | Oil and Gas Field Services.
4 | 2911 | Petroleum refining
Sector J. Mineral Mining and Dressing
1* | 1411 | Dimension Stone.
| 1422-1429 | Crushed and Broken Stone, Including Rip Rap.
| 1481 | Nonmetallic Minerals, Except Fuels.
2* | 1442, 1446 | Sand and Gravel.
3 | 1455, 1459 | Clay, Ceramic, and Refractory Materials.
4 | 1474-1479 | Chemical and Fertilizer Mineral Mining.
| 1499 | Miscellaneous Nonmetallic Minerals, Except Fuels.
Sector K. Hazardous Waste Treatment Storage or Disposal Facilities
NA* | HZ | Hazardous Waste Treatment, Storage or Disposal.
Sector L. Landfills and Land Application Sites
NA* | LF | Landfills, Land Application Sites and Open Dumps.
Sector M. Automobile Salvage Yards
NA* | 5015 | Automobile Salvage Yards.
Sector N. Scrap Recycling Facilities
NA* | 5093 | Scrap Recycling Facilities.
Sector O. Steam Electric Generating Facilities
NA* | SE | Steam Electric Generating Facilities.
Sector P. Land Transportation
1 | 4011, 4013 | Railroad Transportation.
2 | 4111-4173 | Local and Highway Passenger Transportation.
3 | 4212-4231 | Motor Freight Transportation and Warehousing.
4 | 4311 | United States Postal Service.
5 | 5171 | Petroleum Bulk Stations and Terminals.
Sector Q. Water Transportation
NA* | 4412-4499 | Water Transportation.
Sector R. Ship and Boat Building or Repairing Yards
NA | 3731, 3732 | Ship and Boat Building or Repairing Yards.
Sector S. Air Transportation Facilities
NA* | 4512-4581 | Air Transportation Facilities.
Sector T. Treatment Works
NA* | TW | Treatment Works.
Sector U. Food and Kindred Products
1 | 2011-2015 | Meat Products.
2 | 2021-2026 | Dairy Products.
3 | 2032 | Canned, Frozen and Preserved Fruits, Vegetables and Food Specialties.
4* | 2041-2048 | Grain Mill Products.
5 | 2051-2053 | Bakery Products.
6 | 2061-2068 | Sugar and Confectionery Products.
7* | 2074-2079 | Fats and Oils.
8 | 2082-2087 | Beverages.
9 | 2091-2099 | Miscellaneous Food Preparations and Kindred Products.
| 2111-2141 | Tobacco Products.
Sector V. Textile Mills, Apparel, and Other Fabric Product Manufacturing
1 | 2211-2299 | Textile Mill Products.
2 | 2311-2399 | Apparel and Other Finished Products Made From Fabrics and Similar Materials.
| 3131-3199 (except 3111) | Leather Products.
Sector W. Furniture and Fixtures
NA | 2511-2599 | Furniture and Fixtures.
| 2434 | Wood Kitchen Cabinets.
Sector X. Printing and Publishing
NA | 2711-2796 | Printing, Publishing and Allied Industries.
Sector Y. Rubber, Miscellaneous Plastic Products, and Miscellaneous Manufacturing Industries
1* | 3011 | Tires and Inner Tubes.
| 3021 | Rubber and Plastics Footwear.
| 3052, 3053 | Gaskets, Packing, and Sealing Devices and Rubber and Plastics Hose and Belting.
| 3061, 3069 | Fabricated Rubber Products, Not Elsewhere Classified.
2 | 3081-3089 | Miscellaneous Plastics Products.
| 3931 | Musical Instruments.
| 3942-3949 | Dolls, Toys, Games and Sporting and Athletic Goods.
| 3951-3955 (except 3952 as specified in Sector C) | Pens, Pencils, and Other Artists' Materials.
| 3961, 3965 | Costume Jewelry, Costume Novelties, Buttons, and Miscellaneous Notions, Except Precious Metal.
| 3991-3999 | Miscellaneous Manufacturing Industries.
Sector Z. Leather Tanning and Finishing
NA | 3111 | Leather Tanning and Finishing.
Sector AA. Fabricated Metal Products
1* | 3411-3499 | Fabricated Metal Products, Except Machinery and Transportation Equipment and Cutting, Engraving and Allied Services.
| 3911-3915 | Jewelry, Silverware, and Plated Ware.
2* | 3479 | Coating, Engraving, and Allied Services.
Sector AB. Transportation Equipment, Industrial or Commercial Machinery
NA | 3511-3599 (except 3571-3579) | Industrial and Commercial Machinery (except Computer and Office Equipment—see Sector AC).
NA | 3711-3799 (except 3731, 3732) | Transportation Equipment (except Ship and Boat Building and Repairing—see Sector R).
Sector AC. Electronic, Electrical, Photographic and Optical Goods
NA | 3612-3699 | Electronic, Electrical Equipment and Components, Except Computer Equipment.
| 3812-3873 | Measuring, Analyzing and Controlling Instrument; Photographic and Optical Goods, Watches and Clocks.
| 3571-3579 | Computer and Office Equipment.
Sector AD. Reserved for Facilities Not Covered Under Other Sectors and Designated by the Director
* Denotes subsector with analytical (chemical) monitoring requirements.
NA indicates those industry sectors in which subdivision into subsectors was determined to be not applicable.

The final MSGP modification of September 30, 1998 (63 FR 52430) expanded the coverage of the 1995 MSGP to include a small number of categories of facilities which had been covered by the 1992 baseline industrial general permit but excluded from the MSGP. In Table 1 above, these categories have been included in the appropriate sectors/subsectors of the MSGP as determined by the September 30, 1998 modification.

With the September 30, 1998 modification, EPA believes that the MSGP now covers all of the categories of industrial facilities which may discharge storm water associated with industrial activity as defined at 40 CFR 122.26(b)(14) (except construction activities disturbing five or more acres which are permitted separately). However, the September 30, 1998 modification also added another sector to the MSGP (Sector AD) to cover any inadvertent omissions. EPA is proposing to retain Sector AD in the reissued MSGP.

Sector AD is further intended to provide a readily available means for covering many of the storm water facilities which are designated for permitting in accordance with NPDES regulations at 40 CFR 122.26(g)(1)(i). These regulations provide that permit applications may be required within 180 days of notice for any discharges which contribute to a violation of a water quality standard, or are determined to be significant sources of pollutants.

EPA also recognizes that a new North American Industry Classification System (NAICS) was recently adopted by the Office of Management and Budget (62 FR 17288, April 9, 1997). NAICS replaces the 1987 standard industrial classification (SIC) code system for the collection of statistical economic data. However, the use of the new system for nonstatistical purposes is optional. EPA considered the use of NAICS for the today's proposal, but elected to retain the 1987 SIC code system since the storm water regulations (40 CFR 122.26(b)(14)) reference the previous system and this system has generally proven to be adequate for identifying the facilities covered by storm water regulations. EPA will consider transitioning to the new NAICS system in future rule making.

V. Limitations on Coverage

A. Storm Water Discharges Subject to Effluent Guideline Limitations, Including New Source Performance Standards

The general prohibition on coverage of storm water subject to an effluent guideline limitation in the 1995 MSGP has been retained. Only those storm water discharges subject to the following effluent guidelines are eligible for coverage (provided they meet all other eligibility requirements):

Table 2.—Effluent Guidelines Applicable to Discharges That May be Eligible for Permit Coverage
Effluent guideline | New source ¹ | Sectors ²
Runoff from material storage piles at cement manufacturing facilities [40 CFR Part 411 Subpart C (established February 23, 1977)] | Yes | E
Contaminated runoff from phosphate fertilizer manufacturing facilities [40 CFR Part 418 Subpart A (established April 8, 1974)] | Yes | C
Coal pile runoff at steam electric generating facilities [40 CFR Part 423 (established November 19, 1982)] | Yes | O
Discharges resulting from spray down or intentional wetting of logs at wet deck storage areas [40 CFR Part 429, Subpart I (established January 26, 1981)] | Yes | A
Mine dewatering discharges at crushed stone mines [40 CFR part 436, Subpart B] | No | J
Mine dewatering discharges at construction sand and gravel mines [40 CFR part 436, Subpart C] | No | J
Mine dewatering discharges at industrial sand mines [40 CFR part 436, Subpart D] | No | J
Runoff from asphalt emulsion facilities [40 CFR Part 443 Subpart A (established July 24, 1975)]. | Yes | D
Runoff from landfills, [40 CFR Part 445, Subpart A and B (established February 2, 2000.] | Yes | K & L
¹ New Source Performance Standards Included in Effluent Guidelines?
² Sectors with Affected Facilitates.

Section 306 of the Clean Water Act (CWA) requires EPA to develop performance standards for all new sources described in that section. These standards apply to all facilities which go into operation after the date the standards are promulgated. Section 511(c) of the CWA Act requires the Agency to comply with the National Environmental Policy Act (NEPA) prior to issuance of a permit under the authority of section 402 of the CWA to facilities defined as a new source under Section 306.

The fact sheet for the existing MSGP described a process for ensuring compliance with NEPA for the MSGP (60 FR 50809). This process, which is repeated below, is proposed to be retained for the reissued MSGP. Additional guidance is found in a new Addendum C to the proposed MSGP.

Facilities which are subject to the performance standards for new sources as described in this section of the fact sheet must provide EPA with an Environmental Information Document pursuant to 40 CFR 6.101 prior to seeking coverage under this permit. This information shall be used by the Agency to evaluate the facility under the requirements of NEPA in an Environmental Review. The Agency will make a final decision regarding the direct or indirect impact of the discharge. The Agency will follow all administrative procedures required in this process. The permittee must obtain a copy of the Agency's final finding prior to the submission of a Notice of Intent to be covered by this general permit. In order to maintain eligibility, the permittee must implement any mitigation required of the facility as a result of the NEPA review process. Failure to implement mitigation measures upon which the Agency's NEPA finding is based is grounds for termination of permit coverage. In this way, EPA has established a procedure which allows for the appropriate review procedures to be completed by this Agency prior to the issuance of a permit under section 402 of the CWA to an operator of a facility subject to the new source performance standards of section 306 of the CWA. EPA believes that it has fulfilled its requirements under NEPA for this Federal action under section 402 of the CWA.

B. Historic Preservation

The National Historic Preservation Act (NHPA) requires Federal agencies to take into account the effects of Federal undertakings, including undertakings on historic properties that are either listed on, or eligible for listing on, the National Register of Historic Places. The term “Federal undertaking” is defined in the existing NHPA regulations to include any project, activity, or program under the direct or indirect jurisdiction of a Federal agency that can result in changes in the character or use of historic properties, if any such historic properties are located in the area of potential effects for that project, activity, or program. See 36 CFR 800.2(a). Historic properties are defined in the NHPA regulations to include prehistoric or historic districts, sites, buildings, structures, or objects that are included in, or are eligible for inclusion in, the National Register of Historic Places. See 36 CFR 800.2(e).

Federal undertakings include the EPA's issuance of general NPDES permits. In light of NHPA requirements, EPA included a provision in the eligibility requirements of the 1995 MSGP for the consideration of the effects to historic properties. That provision provides that an applicant is eligible for permit coverage only if: (1) The applicant's storm water discharges and BMPs to control storm water runoff do not affect a historic property, or (2) the applicant has obtained, and is in compliance with, a written agreement between the applicant and the State Historic Preservation Officer (SHPO) that outlines all measures to be taken by the applicant to mitigate or prevent adverse effects to the historic property. See Part I.B.6, 60 FR 51112 (September 29, 1995). When applying for permit coverage, applicants are required to certify in the NOI that they are in compliance with the Part I.B.6 eligibility requirements. Provided there are no other factors limiting permit eligibility, MSGP coverage is then granted 48 hours after the postmark on the envelope used to the mail the NOI.

The September 30, 1998 modification included two revisions of the original MSGP with respect to historic properties. First, EPA amended the original Part I.B.6.(ii) to include a reference to Tribal Historic Preservation Officers (THPOs) because MSGP coverage extends to Tribal lands and in recognition of the central role Tribal governments play in the protection of historic resources. Second, EPA included NHPA guidance and a list of SHPO and THPO addresses in a new Addendum I to the MSGP to assist applicants with the certification process for permit eligibility under this condition.

For the MSGP-2000, EPA is proposing to modify slightly the requirements of the first option for obtaining permit coverage to enhance the protection of historic properties. Permit coverage would only be available if storm water and allowable non-storm water discharges and “discharge-related activities” do not affect historic properties. “Discharge-related activities” are defined to include activities which cause, contribute to, or result in storm water and allowable non-storm water point source discharges, and measures such as the siting, construction and obtained, and is in compliance with, a written agreement between the applicant and the State Historic Preservation Officer (SHPO) that outlines all measures to be taken by the applicant to mitigate or prevent adverse effects to the historic property. See Part I.B.6, 60 FR 51112 (September 29, 1995). When applying for permit coverage, applicants are required to certify in the NOI that they are in compliance with the Part I.B.6 eligibility requirements. Provided there are no other factors limiting permit eligibility, MSGP coverage is then granted 48 hours after the postmark on the envelope used to the mail the NOI.

The September 30, 1998 modficiation included two revisions of the original MSGP with respect to historic properties. First, EPA amended the original Part I.B.6(ii) to include a reference to Tribal Historic Preservation Officers (THPOs) because MSGP coverage extends to Tribal lands and in recognition of the central role Tribal governments play in the protection of historic resources. Second, EPA included NHPA guidance and a list of SHPO and THPO addresses in a new Addendum I to the MSGP to assist applicants with the certification process for permit eligibility under this condition.

For the MSGP-2000, EPA is proposing to modify slightly the requirements of the first option for obtaining permit coverage to enhance the protection of historic properties. Permit coverage would only available if storm water and allowable non-storm water discharges and “discharge-related activities” do not affect historic properties. “Discharge-related activities” are defined to include activities which cause, contribute to, or result in storm water and allowable non-storm water point source discharges, and measures such as the siting, construction and operation of BMPs to control, reduce of prevent pollution in the discharges. Discharge-related activity is included to ensure compliance with NHPA requirements to consider the effects of activities which are related to the activity which is permitted, i.e., the storm water and non-storm water discharges.

Also, as discussed in Section VI.A.1 below, EPA is proposing to modify the Notice of Intent form to require that operators identify which of the above two options they are using to ensure eligibility for permit coverage under the MSGP. The NHPA guidance has also been modified to reflect the above changes, and appears in Addendum B in today's notice rather than Addendum I.

Facilities seeking coverage under the MSGP which cannot certify compliance with the NHPA requirements must submit individual permit applications to the permitting authority. For facilities already covered by the existing MSGP, the deadline for the individual applications is the same as that for NOIs requesting coverage under the reissued MSGP (December 29, 2000).

C. Endangered Species

The Endangered Species Act (ESA) of 1973 requires Federal Agencies such as EPA to ensure, in consultation with the U.S. Fish and Wildlife Service (FWS) and the National Marine Fisheries Service (NMFS) (also known collectively as the “Services”), that any actions authorized, funded, or carried out by the Agency (e.g., EPA issued NPDES permits authorizing discharges to waters of the United States) are not likely to jeopardize the continued existence of any Federally-listed endangered or threatened species or adversely modify or destroy critical habitat of such species (see 16 U.S.C. 1536(a)(2), 50 CFR part 402 and 40 CFR 122.49(c)).

For the 1995 MSGP, EPA conducted formal consultation with the Services which resulted in a joint Service biological opinion issued by the FWS on March 31, 1995, and by the NMFS on April 5, 1995, which concluded that the issuance and operation of the MSGP was not likely to jeopardize the existence of any listed endangered or threatened species, or result in the adverse modification or destruction of any critical habitat.

The existing MSGP contains a number of conditions to protect listed species and critical habitat. Permit coverage is only provided where:

• The storm water discharge(s), and the construction of BMPs to control storm water runoff, are not likely to adversely affect species identified in Addendum H of the permit; or

• The applicant's activity has received previous authorization under the Endangered Species Act and established an environmental baseline that is unchanged; or,

• The applicant is implementing appropriate measures as required by the Director to address adverse effects.

For the MSGP-2000, EPA is proposing to modify the ESA-related requirements for obtaining permit coverage to enhance the protection of listed species. First, permit coverage is only available if storm water and allowable non-storm water discharges and “discharge-related activities” avoid unacceptable effects to listed species. “Discharge-related activities” are defined to include activities which cause, contribute to or result in storm water and allowable non-storm water point source discharges, and measures such as the siting, construction and operation of BMPs to control, reduce or prevent pollution in the discharges. Inclusion of discharge-related activity is for compliance with ESA requirements to consider the effects of activities which are related to the activity which is permitted, i.e., the storm water and non-storm water discharges. NOTE: The permit conditions, NOI requirements and/or related guidance for the final permit are subject to revision based on results of required ESA § 7 consultations with the Services over issuance of the permit.

In addition, operators seeking coverage under the proposed MSGP must certify that they are eligible for coverage under one of the following five options which are provided in Parts 1.2.3.6.3.1 through 5 of the permit:

1. No endangered or threatened species or critical habitat are in proximity to the facility or the point where authorized discharges reach the receiving water; or

2. In the course of a separate federal action involving the facility (e.g.,

EPA processing request for an individual NPDES permit, issuance of a CWA Section 404 wetlands dredge and fill permit, etc.), formal or informal consultation with the Fish and Wildlife Service and/or the National Marine Fisheries Service under section 7 of the ESA has been concluded and that consultation:

(a) Addressed the effects of the storm water and allowable non-storm water discharges and discharge-related activities on listed species and critical habitat and

(b) The consultation resulted in either a no jeopardy opinion or a written concurrence by the Service(s) on a finding that the storm water and allowable non-storm water discharges and discharge-related activities are not likely to adversely affect listed species or critical habitat; or

3. The activities are authorized under section 10 of the ESA and that authorization addresses the effects of the storm water and allowable non-storm water discharges and discharge-related activities on listed species and critical habitat; or

4. Using due diligence, the operator has evaluated the effects of the storm water discharges, allowable non-storm water discharges, and discharge-related activities on listed endangered or threatened species and critical habitat and does not have reason to believe listed species or critical habitat would be adversely affected; or

5. The storm water and allowable non-storm water discharges and discharge-related activities were already addressed in another operator's certification of eligibility under Part 1.2.3.6.3.1 through 1.2.3.6.3.4 which included the facility's activities. By certifying eligibility under this Part, a permittee agrees to comply with any measures or controls upon which the other operator's certification was based.

The first four options listed above are similar to the eligibility provisions of the existing MSGP. Option 5 was added to account for situations such as an airport facility where one operator (e.g., the airport authority) may have covered the entire airport through its certification. Option 5 would allow other operators to take advantage of such a certification without repeating the reviews conducted by the first operator. Options 1 and 4 are essentially the two halves of the 1995 MSGP's “unlikely to adversely effect” option. Option 1 would apply to operators who are not adversely affecting endangered species because listed species simply are not in proximity to their facility. Option 4 would apply to operators who have endangered species nearby and must look more closely at potential adverse effects and may need to adopt measures to reduce the risk of adverse effects on listed species or critical habitat. The separation of the two routes to determine that a facility is unlikely to adversely affect listed species, coupled with the new NOI requirement to indicate whether or not the Service was contacted in making the determination will also allow for better oversight of the permit. Under the 1995 permit, there was no way to tell from the NOI information whether the decision on eligibility was due to no species in the county, a discussion with the Service, or a simple unilateral decision by the operator.

Addendum H of the 1995 MSGP provided instructions to assist permittees in determining whether they meet the permit's ESA-related eligibility requirements. For today's proposed MSGP-2000, this guidance has been updated to reflect above requirements and appears as Addendum A. As noted in Section VI.A.1 below, EPA is also proposing to modify the Notice of Intent form to conform with new ESA requirements discussed above.

Addendum H of the 1995 MSGP contained a list of proposed and listed endangered and threatened species that could be affected by the discharges and measures to control pollutants in the discharges. EPA reinitiated and completed formal consultation with the Services for the September 30, 1998 modification of the MSGP. As a result of this consultation and in response to public comments on the modification, EPA updated the species list in Addendum H to include species that were listed or proposed for listing since the Addendum H list was originally compiled on March 31, 1995. EPA also decided to expand the list to include all of the terrestrial (i.e., non-aquatic) listed and proposed species in recognition that those species may be impacted by permitted activities such as the construction and operation of the BMPs. The September 30, 1998 MSGP modification included the species list updated as of July 8, 1998 (63 FR 52494). The species list is also being updated on a regular basis and an electronic copy of the list is available at the Office of Wastewater Management website at “http://www.epa.gov/owm/esalst2.htm”.

To be eligible for coverage under the reissued MSGP, facilities must review the updated list of species and their locations in conjunction with the Addendum A instructions for completing the application requirements under this permit. If an applicant determines that none of the species identified in the updated species list are found in the county in which the facility is located, then there is no likelihood of an adverse effect and they are eligible for permit coverage. Applicants must then certify that their storm water and allowable non-storm water discharges, and their discharge-related activities, are not likely to adversely affect species and will be granted MSGP permit coverage 48 hours after the date of the postmark on the envelope used to mail the NOI form, provided there are no other factors limiting permit eligibility.

If listed species are located in the same county as the facility seeking MSGP coverage, then the applicant must determine whether the species are in proximity to the storm water or allowable non-storm water discharges or discharge-related activities at the facility. A species is in proximity to a storm water or allowable non-storm water discharge when the species is located in the path or down gradient area through which or over which point source discharge flows from industrial activities to the point of discharge into the receiving water, and once discharged into the receiving water, in the immediate vicinity of, or nearby, the discharge point. A species is also in proximity if a species is located in the area of a site where discharge-related activities occur. If an applicant determines there are no species in proximity to the storm water or allowable non-storm water discharges, or discharge-related activities, then there is no likelihood of adversely affecting the species and the applicant is eligible for permit coverage.

If species are in proximity to the storm water or allowable non-storm water discharges or discharge-related activities, as long as they have been considered as part of a previous ESA authorization of the applicant's activity, and the environmental baseline established in that authorization is unchanged, the applicant may be covered under the permit. The environmental baseline generally includes the past and present impacts of all Federal, state and private actions that were occurring at the time the initial NPDES authorization and current ESA section 7 action by EPA or any other federal agency was taken. Therefore, if a permit applicant has received previous authorization and nothing has changed or been added to the environmental baseline established in the previous authorization, then coverage under this permit will be provided.

In the absence of such previous authorization, if species identified in the updated species list are in proximity to the discharges or discharge-related activities, then the applicant must determine whether there is any likely adverse effect upon the species. This is done by the applicant conducting a further examination or investigation, or an alternative procedure, as described in the instructions in Addendum A of the permit. If the applicant determines that there is no likely adverse effect upon the species, then the applicant is eligible for permit coverage. If the applicant determines that there likely is, or will likely be an adverse effect, then the applicant is not eligible for MSGP coverage unless or until they can meet one of the other eligibility conditions.

All dischargers applying for coverage under the MSGP must provide in the application information on the Notice of Intent form: (1) A determination as to whether there are any listed species in proximity to the storm water or allowable non-storm water discharges or discharge related activity, and (2) An indication of which option under Part 1.2.3.6.3 of the MSGP they claim eligibility for permit coverage, and (3) a certification that their storm water and allowable non-storm water discharges and discharge-related activities are not likely to adversely affect listed species, or are otherwise eligible for coverage due to a previous authorization under the ESA. Coverage is contingent upon the applicant's providing truthful information concerning certification and abiding by any conditions imposed by the permit.

Dischargers who cannot determine if they meet one of the endangered species eligibility criteria cannot sign the certification to gain coverage under the MSGP and must apply to EPA for an individual NPDES storm water permit. For facilities already covered by the existing MSGP, the deadline for the individual applications is the same as that for NOIs requesting coverage under the reissued MSGP (December 29, 2000). As appropriate, EPA will conduct ESA section 7 consultation when issuing such individual permits.

Regardless of the above conditions, EPA may require that a permittee apply for an individual NPDES permit on the basis of possible adverse effects on species or critical habitats. Where there are concerns that coverage for a particular discharger is not sufficiently protective of listed species, the Services (as well as any other interested parties) may petition EPA to require that the discharger obtain an individual NPDES permit and conduct an individual section 7 consultation as appropriate.

In addition, the Assistant Administrator for Fisheries for the National Oceanic and Atmospheric Administration, or his/her authorized representative, or the U.S. Fish and Wildlife Service (as well as any other interested parties) may petition EPA to require that a permittee obtain an individual NPDES permit. The permittee is also required to make the SWPPP, annual site compliance inspection report, or other information available upon request to the Assistant Administrator for Fisheries for the National Oceanic and Atmospheric Administration, or his/her authorized representative, or the U.S. Fish and Wildlife Service Regional Director, or his/her authorized representative.

These mechanisms allow for the broadest and most efficient coverage for the permittee while still providing for the most efficient protection of endangered species. They significantly reduce the number of dischargers that must be considered individually and therefore allow the Agency and the Services to focus their resources on those discharges that are indeed likely to adversely affect listed species. Straightforward mechanisms such as these allow applicants more immediate access to permit coverage, and eliminates “permit limbo” for the greatest number of permitted discharges. At the same time it is more protective of endangered species because it allows both agencies to focus on the real problems, and thus, provide endangered species protection in a more expeditious manner.

D. New Storm Water Discharges to Water Quality-Impaired or Water Quality-Limited Receiving Waters

Today's proposal includes a new provision (Part 1.2.3.8) which establishes eligibility conditions with regard to discharges to water quality-limited or water quality-impaired waters. For the purposes of this permit, “water quality-impaired” refers to a stream, lake, estuary, etc. that is not currently meeting its assigned water quality standards. These waters are also referred to as “303(d) waters” due to the requirement under that section of the CWA for States to periodically list all state waters that are not meeting their water quality standards. “Water quality-limited waters” refers to waterbodies for which a State had to develop individual Total Maximum Daily Loads (TMDLs), a tool which helps waterbodies meet their water quality standards. A TMDL is a calculation of the maximum amount of a pollutant that a waterbody can receive and still meet water quality standards, and an allocation of that amount to the pollutant's sources. Water quality standards are set by States, Territories, and Tribes. They identify the uses for each waterbody, for example, drinking water supply, contact recreation (swimming), and aquatic life support (fishing), and the scientific criteria to support that use. The Clean Water Act, section 303, establishes the water quality standards and TMDL programs.

Prior to submitting a Notice of Intent, any new discharger (see 40 CFR 122.2) to a 303(d) waterbody must be able to demonstrate compliance with 40 CFR 122.4(i). In essence, you are a new discharger if your facility started discharging after August 13, 1979 and your storm water was not previously permitted. Any discharger to a waterbody for which there is an approved TMDL must confirm that the TMDL allocated a portion of the load for storm water point source discharges. These provisions apply only to discharges containing the pollutant(s) for which the waterbody is impaired or the TMDL developed.

Part 1.2.3.8.1 (which applies to new storm water discharges and not to existing discharges) is designed to better ensure compliance with NPDES regulations at 40 CFR 122.4(i), which include certain special requirements for new discharges into impaired waterbodies. Lists of impaired waterbodies (sometimes referred to as 303(d) waterbodies) may be obtained from appropriate State environmental offices or their internet sites. NPDES regulations at 40 CFR 122.4(i) prohibit new discharges unless it can be shown that:

1. There are sufficient remaining pollutant load allocations to allow for the discharge; and

2. The existing dischargers into that segment are subject to compliance schedules designed to bring the segments into compliance with applicable water quality standards.

Part 1.2.3.8.2 (which applies to both new and existing storm water discharges) is designed to better ensure compliance with NPDES regulations at 40 CFR 122.4(d), which requires compliance with State water quality standards. The eligibility condition prohibits coverage of new or existing discharges of a particular pollutant where there is a TMDL, unless the discharge is consistent with the TMDL. Lists of waterbodies with TMDLs may be obtained from appropriate State environmental offices or their internet sites and from EPA's TMDL internet site at http://www.epa.gov/owow/tmdl/index.html. It should also be noted that EPA has recently proposed revisions to NPDES regulations pertaining to discharges to impaired receiving waters (64 FR 46058, August 23, 1999). How these revisions will ultimately apply to general permits is unclear at this time. However, the final MSGP may include additional requirements to ensure consistency with the final revisions.

E. Storm Water Discharges Subject to Anti-Degradation Provisions of Water Quality Standards

Part 1.2.3.9 of today's proposed MSGP includes a new provision which clarifies that discharges which do not comply with applicable anti-degradation provisions of State water quality standards are not eligible for coverage under the MSGP. This eligibility condition is designed to better ensure compliance with NPDES regulations at 40 CFR 122.4(d), which requires compliance with State water quality standards. Anti-degradation provisions may be obtained from the appropriate State environmental office or their internet sites.

F. Storm Water Discharges Previously Covered by an Individual Permit

The 1995 MSGP contained general prohibitions on coverage where a discharge was covered by another NPDES permit (Part I.B.3.d) and where a permit had been terminated other than at the request of the permittee (Part I.B.3.e.). It was therefore possible to obtain coverage by requesting termination of an individual permit and then submitting an NOI for coverage under the MSGP. This could be desirable from both the discharger's and EPA's perspective for a variety of reasons, for example, where a wastewater permit included storm water outfalls, but the wastewater outfalls had been eliminated. Being able to use the general permit would reduce the application cost to the permittee and the administrative burden of permit issuance to the Agency. Today's permit clarifies the conditions under which transfer from an individual permit to this general permit would be acceptable (Part 1.2.3.3.2).

In order to avoid conflict with the anti-backsliding provisions of the CWA, transfer from an individual permit to the MSGP will only be allowed where all of the following conditions are met:

• All wastewater discharges in the individual permit have been eliminated and only storm water discharges and eligible non-storm water discharges remain (e.g., wastewater is now discharged to a municipal sanitary sewer); and

• The individual permit did not contain numeric water quality-based effluent limitations developed for the storm water component of the discharge; and

• The permittee includes any specific BMPs for storm water required under the individual permit in their storm water pollution prevention plan.

• Implementation of a comprehensive pollution prevention plan for the entire facility (as opposed to selected outfalls in an individual permit) and compliance will all other conditions of the MSGP is deemed to be at least as stringent a technology-based permit limit as the conditions of the individual permit. This assumption is only made where the previous permit did not contain any specific water quality-based effluent limitations on storm water discharges (e.g., storm water contained high levels of zinc and the individual permit contained a zinc limit developed to assure compliance with the State water quality criteria).

VI. Summary of Common Permit Requirements

The following section describes the permit conditions common to discharges from all the industrial activities covered by today's proposal. These conditions are largely the same as the conditions of the existing MSGP.

A. Notification Requirements

General permits for storm water discharges associated with industrial activity must require the submission of a Notice of Intent (NOI) prior to the authorization of such discharges (see 40 CFR 122.28(b)(2)(i), April 2, 1992 (57 FR 11394)). Consistent with these regulatory requirements, today's proposed MSGP establishes NOI requirements. These requirements apply to facilities currently covered by the existing MSGP, as well as new facilities seeking coverage. However, as noted earlier, EPA is proposing to modify the NOI form to allow the discharger, the Agency and the public to more easily determine permit eligibility and the sector-specific conditions that will apply to the facility. The proposed revised NOI form is found in Addendum D of today's proposed MSGP, and is also currently being reviewed by the Office of Management and Budget under the Paperwork Reduction Act. The information requirements of the revised NOI form are described below:

1. Contents of NOIs

a. An indication of which permit the operator is filing the NOI for (e.g., a facility in New Hampshire would be filing for coverage under permit NHR05*###, a facility located on Navajo Reservation lands in New Mexico under the AZR05*##I permit, a private contractor operating a federal facility in Colorado that is not located on Indian Country lands under the COR05*##F permit, etc.);

b. The name, address, and telephone number of the operator filing the NOI for permit coverage;

c. An indication of whether the owner of the site is a Federal, State, Tribal, private, or other public entity;

d. The name (or other identifier), address, county, and latitude/longitude of the facility for which the NOI is submitted (latitude/longitude will be accepted in either degree-minute-second or decimal format);

e. An indication of whether the facility is located on Indian Country lands;

f. An indication of whether the facility is a federal facility operated by the federal government;

g. The name of the receiving water(s);

h. The name of the municipal operator if the discharge enters a municipal separate storm sewer system prior to discharge to a water of the U.S.;

i. Up to four 4-digit Standard Industrial Classification (SIC) codes that best represent the principal products produced or services rendered, including hazardous waste treatment, storage, or disposal activities, land disposal facilities that receive or have received any industrial waste, steam electric power generating facilities, or treatment works treating domestic sewage;

j. Identification of applicable sector(s) in this permit, as designated in Table 1, for facility discharges associated with industrial activity the operator wishes to have covered under this permit;

k. Certification that a storm water pollution prevention plan (SWPPP) meeting the requirements of Part 4 has been developed (with a copy of the permit language to the plan);

l. Based on the instructions in Addendum A, whether any listed or proposed threatened or endangered species, or designated critical habitat, are in proximity to the storm water discharges or storm water discharge-related activities to be covered by this permit;

m. Under which Part(s) of Part 1.2.3.6 (Endangered Species) the applicant is certifying eligibility and whether the FWS or NMFS was involved in making the determination of eligibility;

n. Whether any historic property listed or eligible for listing on the National Register of Historic Places is located on the facility or in proximity to the discharge;

o. Under which Part(s) of Part 1.2.3.7 (Historic Properties) the applicant is certifying eligibility and whether the SHPO or THPO was involved in the determination of eligibility;

p. A signed and dated certification, signed by a authorized representative of the facility as detailed in Part 9.7 that certifies the following:

“I certify under penalty of law that I have read and understand the Part 1.2 eligibility requirements for coverage under the multi-sector storm water general permit including those requirements relating to the protection of endangered or threatened species or critical habitat. To the best of my knowledge, the storm water and allowable non-storm discharges authorized by this permit (and discharged related activities), are not likely and will not likely, adversely affect endangered or threatened species or critical habitat, or are otherwise eligible for coverage under Part 1.2.3.6 of the permit. To the best of my knowledge, I further certify that such discharges and discharge related activities do not have an effect on properties listed or eligible for listing on the National Register or Historic Places under the National Historic Preservation Act, or are otherwise eligible for coverage under Part 1.2.3.7 of the permit. I understand that continued coverage under the multi-sector storm water general permit is contingent upon maintaining eligibility as provided for in Part 1.2”

The NOI must be signed in accordance with the signatory requirements of 40 CFR 122.22. A complete description of these signatory requirements is provided in the instructions accompanying the NOI. Completed NOI forms must be submitted to the Storm Water Notice of Intent (4203), 401 M Street, SW., Washington, DC 20460.

Under the 1995 MSGP, continued coverage under the general permit (should it expire without a replacement permit being issued) was available provided the permittee applied for the replacement general permit according to the deadlines established in that permit. The new MSGP has clarified this process at Part 9.2.

In the future (but not at the present time), EPA may also allow alternate means of NOI submission (such as electronic submission). An alternate means of NOI submission may be used by operators provided EPA has informed the operator of the acceptability of the alternative.

2. Deadlines

For facilities currently covered by the existing MSGP, the deadline for submission of an NOI requesting coverage under the MSGP-2000 is December 29, 2000 (90 days after expiration of the existing MSGP). For these facilities, the requirements of the existing MSGP are incorporated into the MSGP-2000 and would continue to apply during the interim period subsequent to the expiration of the existing MSGP, but prior to submission of the NOI requesting coverage under the reissued MSGP.

Facilities currently covered by the existing MSGP who cannot immediately determine if they are eligible for coverage under the MSGP-2000 may nevertheless be covered for up to 270 days provided an application for an alternative permit is submitted within 90 days. This interim coverage allows permit coverage while the permittee assesses their eligibility for the MSGP-2000 and, if necessary, still meet the 180 day lead time required for applications for individual permits.

For facilities commencing operations after reissuance of the MSGP, the NOI must be submitted at least two days prior to the commencement of the new industrial activity. New operators of existing facilities must also submit the NOI at least two days prior to assuming operational control at existing facilities.

Dischargers who submit a complete NOI in accordance with the MSGP requirements are authorized to discharge storm water associated with industrial activity two days after the date the NOI is postmarked, unless otherwise notified by EPA. EPA may deny coverage under the MSGP and require submission of an individual NPDES permit application based on a review of the completeness and/or content of the NOI or other information (e.g., Endangered Species Act compliance, National Historic Preservation Act Compliance, water quality information, compliance history, history of spills, etc.). Where EPA requires a discharger authorized under the MSGP to apply for an individual NPDES permit (or an alternative general permit), EPA will notify the discharger in writing that a permit application (or different NOI) is required by an established deadline. Coverage under the MSGP will automatically terminate if the discharger fails to submit the required permit application in a timely manner. Where the discharger does submit a requested permit application, coverage under the MSGP will automatically terminate on the effective date of the issuance or denial of the individual NPDES permit or the alternative general permit as it applies to the individual permittee.

A discharger is not precluded from submitting an NOI at a later date than described above. However, in such instances, EPA may bring appropriate enforcement actions.

3. Municipal Separate Storm Sewer System Operator Notification

Operators of storm water discharges associated with industrial activity that discharge through a large or medium municipal separate storm sewer system (MS4) or a municipal system designated by the Director,¹ must (upon request of the MS4 operator) submit a copy of the NOI to the municipal operator of the system receiving the discharge. This proposed requirement differs from the existing MSGP which requires that a copy of the NOI be sent to the MS4 operator. The MSGP is proposed to be modified in this regard to reduce paperwork requirements, and in consideration of the fact that most large and medium MS4 operators already have good information concerning the industrial facilities discharging into their MS4s.

¹ The terms large and medium municipal separate storm sewer systems (systems serving a population of 100,000 or more) are defined at 40 CFR 122.26(b)(4) and (7). Some of the cities and counties in which these systems are found are listed in Appendices F, G, H, and I to 40 CFR Part 122. Other municipal systems have been designated by EPA on a case-by-case basis or have brought into the program based upon the 1990 Census.

EPA wishes to ensure a coordinated program between EPA and operators of MS4s for controlling pollutants in storm water discharges associated with industrial activity which enter an MS4. Such a coordinated program was intended by EPA's original storm water permit application regulations of November 16, 1990 (47 FR 47990). Additional discussion of this matter can be found in the original proposed MSGP (58 FR 61146).

4. Notice of Termination

Where a discharger is able to eliminate the storm water discharges associated with industrial activity from a facility, the discharger may submit a Notice of Termination (NOT) form (or photocopy thereof) provided by the Director. Today's proposed MSGP also differs from the existing MSGP by requiring that an NOT be submitted within 30 days after one or both of the following two conditions having been met:

a. A new owner/operator has assumed responsibility for the facility; or

b. The permittee has ceased operations at the facility and there no longer are discharges of storm water associated with industrial activity from the facility;

A copy of the NOT and instructions for completing the NOT are included in Addendum E. The NOT form requires the following information:

a. Name, mailing address, and location of the facility for which the notification is submitted. Where a street address for the site is not available, the location of the approximate center of the site must be described in terms of the latitude and longitude to the nearest 15 seconds, or the section, township and range to the nearest quarter;

b. The name, address and telephone number of the operator addressed by the Notice of Termination;

c. The NPDES permit number for the storm water discharge associated with industrial activity identified by the NOT;

d. An indication of whether the storm water discharges associated with industrial activity have been eliminated or the operator of the discharges has changed; and

e. The following certification:

I certify under penalty of law that all storm water discharges associated with industrial activity from the identified facility that are authorized by an NPDES general permit have been eliminated or that I am no longer the operator of the industrial activity. I understand that by submitting this Notice of Termination I am no longer authorized to discharge storm water associated with industrial activity under this general permit, and that discharging pollutants in storm water associated with industrial activity to waters of the United States is unlawful under the Clean Water Act where the discharge is not authorized by an NPDES permit. I also understand that the submission of this notice of termination does not release an operator from liability for any violations of this permit or the Clean Water Act.

NOTs are to be sent to the Storm Water Notice of Termination (4203), 401 M Street SW, Washington, DC 20460.

The NOT must be signed in accordance with the signatory requirements of 40 CFR 122.22. A complete description of these signatory requirements is provided in the instructions accompanying the NOT.

5. Conditional Exclusion for No Exposure

The proposed MSGP includes a special provision (Part 1.5 of the permit) which provides that a facility may discontinue permit coverage if the facility determines that it is eligible for the “no exposure” permit exemption which was created by EPA as part of the promulgation of the Phase II storm water regulations (64 FR 68722). A notice of termination is not required to discontinue permit coverage under these circumstances. However, in accordance with the Phase II regulations, a no exposure certification must be filed with the permitting authority.

It should also be noted that facilities operating under the existing MSGP are eligible, as of the effective date of the Phase II regulations, to submit no exposure certifications immediately if they meet the criteria for no exposure. No exposure certification renewals must be submitted five years from the time they are first submitted (assuming the facility still qualifies for the exemption). If conditions change at a facility such that renewed MSGP coverage is needed, the facility may submit an NOI requesting renewed coverage.

EPA is also requesting comment on whether including a copy of the “No Exposure” form and instructions as an addendum to the permit would be useful enough to outweigh the increase in length of the permit and cost of publication.

B. Special Conditions

The conditions of today's proposed MSGP have been designed to comply with the technology-based standards of the CWA (BAT/BCT). Based on a consideration of the appropriate factors for BAT and BCT requirements, and a consideration of the factors and options for controlling pollutants in storm water discharges associated with industrial activity, the proposed MSGP lists a set of tailored requirements for developing and implementing storm water pollution prevention plans (SWPPPs), and for selected discharges, numeric effluent limitations.² This is same approach as in the existing MSGP.

² Section 9.12.2 of the proposed MSGP provides that facilities with storm water discharges associated with industrial activity which, based on an evaluation of site specific conditions, believe that the appropriate conditions of this permit do not adequately represent BAT and BCT requirements for the facility may submit to the Director an individual application (Form 1 and Form 2F). A detailed explanation of the reasons why the conditions of the available general permits do not adequately represent BAT and BCT requirements for the facility as well as any supporting documentation must be included.

Section VIII of the fact sheet for the 1995 MSGP summarized the industry-specific BMP options for controlling pollutants in storm water discharges associated with industrial activity for the various industrial sectors covered by the MSGP. Section VIII of today's fact sheet does not repeat the information from the 1995 fact sheet; however, updates are provided as appropriate.

Section VI.B.4 of today's fact sheet discusses the storm water discharges which are subject to numeric effluent limitations. For other discharges covered by the proposed MSGP, the permit conditions reflect EPA's proposed decision to identify a number of BMP and traditional storm water management practices which prevent pollution in storm water discharges as the BAT/BCT level of control for the majority of storm water discharges covered by this permit. The permit conditions applicable to these discharges are not numeric effluent limitations, but rather are flexible requirements for developing and implementing site specific plans to minimize and control pollutants in storm water discharges associated with industrial activity.

EPA is authorized under 40 CFR 122.44(k)(2) to impose BMPs in lieu of numeric effluent limitations in NPDES permits when the Agency finds numeric effluent limitations to be infeasible. EPA may also impose BMPs which are “reasonably necessary * * * to carry out the purposes of the Act” under 40 CFR 122.44(k)(3). Both of these standards for imposing BMPs were recognized in NRDC v. Costle, 568 F.2d 1369, 1380 (D.C. Cir. 1977). The conditions in the proposed MSGP are issued under the authority of both of these regulatory provisions. The pollution prevention or BMP requirements in today's proposed permit operate as limitations on effluent discharges that reflect the application of BAT/BCT. This is because the BMPs identified require the use of source control technologies which, in the context of the MSGP, are the best available of the technologies economically achievable (or the equivalent BCT finding). See NRDC v. EPA, 822 F.2d 104, 122-23 (D.C. Cir. 1987) (EPA has substantial discretion to impose nonquantitative permit requirements pursuant to Section 402(a)(1)).

1. Prohibition of Non-Storm Water Discharges

Today's proposal includes basically the same provisions pertaining to non-storm water discharges as the current MSGP. Like the existing MSGP, the proposed MSGP does not authorize non-storm water discharges that are mixed with storm water except as provided below.

The proposed MSGP would authorize one additional non-storm water discharge: mist discharges which originate from cooling towers and which are deposited at an industrial facility and may be discharged. During the term of the existing MSGP, these discharges were brought to the attention of EPA with a request that the discharges be authorized under the reissued MSGP. The mist discharges would be authorized under the proposed MSGP provided:

a. The permittee has evaluated the potential for the discharges to be contaminated by chemicals used in the cooling tower and determined that the levels of such chemicals in the discharges would not cause or contribute to a violation of an applicable water quality standard; and

b. The permittee has addressed this source of pollutants with appropriate BMPs in the SWPPP.

The other non-storm water discharges that would be authorized under today's proposed MSGP are the same as those in the existing MSGP and include discharges from fire fighting activities; fire hydrant flushings; potable water sources, including waterline flushings; irrigation drainage; lawn watering; routine external building washdown without detergents; pavement washwaters where spills or leaks of toxic or hazardous materials have not occurred (unless all spilled material has been removed) and where detergents are not used; air conditioning condensate; compressor condensate; springs; uncontaminated ground water; and foundation or footing drains where flows are not contaminated with process materials such as solvents that are combined with storm water discharges associated with industrial activity.

To be authorized under the proposed MSGP, these other sources of non-storm water (except flows from fire fighting activities) must be identified in the SWPPP prepared for the facility. (SWPPP requirements are discussed in more detail below). Where such discharges occur, the SWPPP must also identify and ensure the implementation of appropriate pollution prevention measures for the non-storm water component(s) of the discharge.

Today's proposal does not require pollution prevention measures to be identified and implemented for non-storm water flows from fire-fighting activities because these flows will generally be unplanned emergency situations where it is necessary to take immediate action to protect the public.

The prohibition of unpermitted non-storm water discharges in this proposed MSGP ensures that non-storm water discharges (except for those classes of non-storm water discharges that are conditionally authorized in Part 1.2.2.2 of the proposed MSGP) are not inadvertently authorized by the permit. Where a storm water discharge is mixed with non-storm water that is not authorized by today's proposed MSGP or another NPDES permit, the discharger should submit the appropriate application forms (Forms 1, 2C, and/or 2E) to gain permit coverage of the non-storm water portion of the discharge.

2. Releases of Reportable Quantities of Hazardous Substances and Oil

As discussed below, today's proposed MSGP includes the same provisions pertaining to releases of reportable quantities of hazardous substances and oil as the existing MSGP.

a. The proposed MSGP provides that the discharge of hazardous substances or oil from a facility must be eliminated or minimized in accordance with the SWPPP developed for the facility. Where a permitted storm water discharge contains a hazardous substance or oil in an amount equal to or in excess of a reporting quantity established under 40 CFR part 117, or 40 CFR part 302 during a 24-hour period, the following actions must be taken:

(1) Any person in charge of the facility that discharges hazardous substances or oil is required to notify the National Response Center (NRC) (800-424-8802; in the Washington, DC, metropolitan area, 202-426-2675) in accordance with the requirements of 40 CFR part 117, and 40 CFR part 302 as soon as they have knowledge of the discharge.

(2) The SWPPP for the facility must be modified within 14 calendar days of knowledge of the release to provide a description of the release, an account of the circumstances leading to the release, and the date of the release. In addition, the plan must be reviewed to identify measures to prevent the reoccurrence of such releases and to respond to such releases, and it must be modified where appropriate.

(3) The permittee must also submit to EPA within 14 calendar days of knowledge of the release a written description of the release (including the type and estimate of the amount of material released), the date that such release occurred, the circumstances leading to the release, and steps to be taken to modify the SWPPP for the facility.

b. Anticipated discharges containing a hazardous substance in an amount equal to or in excess of reporting quantities are those caused by events occurring within the scope of the relevant operating system. Facilities that have more than 1 anticipated discharge per year containing a hazardous substance in an amount equal to or in excess of a reportable quantity are required to:

(1) Submit notifications of the first release that occurs during a calendar year (or for the first year of this permit, after submission of an NOI); and

(2) Provide a written description in the SWPPP of the dates on which such releases occurred, the type and estimate of the amount of material released, and the circumstances leading to the releases. In addition, the SWPPP must address measures to minimize such releases.

c. Where a discharge of a hazardous substance or oil in excess of reporting quantities is caused by a non-storm water discharge (e.g., a spill of oil into a separate storm sewer), that discharge is not authorized by the MSGP and the discharger must report the discharge as required under 40 CFR part 110, 40 CFR part 117, or 40 CFR part 302. In the event of a spill, the requirements of section 311 of the CWA and other applicable provisions of sections 301 and 402 of the CWA continue to apply. This approach is consistent with the requirements for reporting releases of hazardous substances and oil that make a clear distinction between hazardous substances typically found in storm water discharges and those associated with spills that are not considered part of a normal storm water discharge (see 40 CFR 117.12(d)(2)(i)).

3. Co-Located Industrial Facilities

Like the existing MSGP, today's proposal includes requirements pertaining to co-located industrial facilities. However, these requirements have been modified from the requirements of the existing MSGP to clarify their applicability. Co-located industrial activities occur when activities being conducted onsite fall into more than one of the categories of the industrial facilities listed in Part 1.2.1 of the proposed MSGP-2000 (e.g., a landfill at a wood treatment facility). Facilities operating under the existing MSGP have sometimes been unclear whether certain limited activities (e.g., minor vehicle maintenance activities at an industrial plant) would trigger the MSGP's requirements regarding co-located activities.

If you have co-located industrial activities on-site that are described in a sector(s) other than your primary sector, you must comply with all other applicable sector-specific conditions found in Part 6 for the co-located industrial activities. The extra sector-specific requirements are applied only to those areas of your facility where the extra-sector activities occur. An activity at a facility is not considered co-located if the activity, when considered separately, does not meet the description of a category of industrial activity covered by the storm water regulations, and identified by the MSGP-2000 SIC code list. For example, unless you are actually hauling substantial amounts of freight or materials with your own truck fleet or are providing a trucking service to outsiders, simple maintenance of vehicles used at your facility is unlikely to meet the SIC code group 42 description of a motor freight transportation facility. Even though Sector P may not apply, the runoff from your vehicle maintenance facility would likely still be considered storm water associated with industrial activity. As such, your SWPPP must still address the runoff from the vehicle maintenance facility—although not necessarily with the same degree of detail as required by Sector P—but you would not be required to monitor as per Sector P.

In the event there truly are co-located activities at your facility, the proposed MSGP-2000 authorizes, as does the existing MSGP, all storm water discharges provided that your facility complies with all SWPPP and monitoring requirements for each co-located activity. By monitoring the discharges from the different industrial activities, you can better determine the effectiveness of your SWPPP for controlling all major pollutants of concern in your storm water discharges. However, if monitoring for the same parameter is required for more than one sector (and the different industrial activities drain to the same outfall), then only one sample analysis is required for that parameter.

4. Numeric Effluent Limitations

Today's proposal retains the numeric effluent limitations which are included in the existing MSGP, and also includes the effluent limitations guidelines which EPA recently finalized for certain storm water discharges from new and existing hazardous and non-hazardous landfills (65 FR 3007, January 19, 2000). The new effluent limitations guidelines for these landfills are discussed in more detail in the Sections VIII.K and L of this fact sheet (Special Requirements for Discharges Associated with Industry Activities).

The proposed MSGP-2000 retains the numeric effluent limitations from the existing MSGP for the following discharges: Coal pile runoff (including runoff from steam electric power plants subject to 40 CFR part 423 requirements), discharges from phosphate fertilizer manufacturing (40 CFR part 418), asphalt paving and roofing emulsions (40 CFR part 443), cement manufacturing materials storage pile runoff (40 CFR part 411), and discharges resulting from the spray down of lumber and wood products storage yards (wet decking) (40 CFR part 429). In addition, the proposed MSGP authorizes mine dewatering discharges from construction sand and gravel, industrial sand, and crushed stone facilities (40 CFR part 436) in EPA Regions 1, 2, 6, 10 and Arizona. The actual numeric effluent limitations can be found in Part 6 of the proposed MSGP.

5. Compliance With Water Quality Standards

The existing MSGP does not specifically address compliance with water quality standards (WQS), other than to exclude from coverage discharges which may contribute to an exceedance of WQS. Today's proposed MSGP includes the same restriction on eligibility, and in Part 3.3 also includes certain requirements if exceedances occur for discharges covered by the MSGP. If a discharge authorized under the proposed MSGP is later discovered to cause, or have the reasonable potential to cause or contribute to a violation of a WQS, the permitting authority will inform the permittee of the violation. The permittee must then take all necessary actions to ensure future discharges do not cause or contribute to the violation of WQS, and document these actions in the SWPPP. If violations remain or reoccur, coverage under the MSGP may be terminated by the permitting authority and an alternate permit issued. The proposed MSGP also clarifies that compliance with this requirement does not preclude enforcement actions as provided by the Clean Water Act for the underlying violation.

C. Common Pollution Prevention Plan Requirements

Like the existing MSGP, today's proposal requires that all facilities which intend to be covered by the MSGP for storm water discharges associated with industrial activity prepare and implement a SWPPP. The MSGP addresses pollution prevention plan requirements for a number of categories of industries. Following below is a discussion of the common permit requirements for all industries; special requirements for storm water discharges associated with industrial activity through large and medium MS4s; special requirements for facilities subject to EPCRA section 313 reporting requirements; and special requirements for facilities with outdoor salt storage piles. These are the permit requirements which apply to discharges associated with any of the industrial activities covered by today's proposed permit. These common requirements may be amended or further clarified in the industry-specific SWPPP requirements which are found in Part 6 of the proposed MSGP. These industry-specific requirements are additive for facilities where co-located industrial activities occur.

The pollution prevention approach in today's proposed MSGP focuses on two major objectives: (1) To identify sources of pollution potentially affecting the quality of storm water discharges associated with industrial activity from the facility; and (2) Ensure implementation of measures to minimize and control pollutants in storm water discharges associated with industrial activity from the facility.

The SWPPP requirements in today's proposed MSGP are intended to facilitate a process whereby the operator of the industrial facility thoroughly evaluates potential pollution sources at the site and selects and implements appropriate measures designed to prevent or control the discharge of pollutants in storm water runoff. The process involves the following four steps: (1) Formation of a team of qualified plant personnel who will be responsible for preparing the plan and assisting the plant manager in its implementation; (2) assessment of potential storm water pollution sources; (3) selection and implementation of appropriate management practices and controls; and (4) periodic evaluation of the effectiveness of the plan to prevent storm water contamination.

EPA believes the pollution prevention approach is the most environmentally sound and cost-effective way to control the discharge of pollutants in storm water runoff from industrial facilities. This position is supported by the results of a comprehensive technical survey EPA completed in 1979.³ The survey found that two classes of management practices are generally employed at industries to control the nonroutine discharge of pollutants from sources such as storm water runoff, drainage from raw material storage and waste disposal areas, and discharges from places where spills or leaks have occurred. The first class of management practices includes those that are low in cost, applicable to a broad class of industries and substances, and widely considered essential to a good pollution control program. Some examples of practices in this class are good housekeeping, employee training, and spill response and prevention procedures. The second class includes management practices that provide a second line of defense against the release of pollutants. This class addresses containment, mitigation, and cleanup. Since publication of the 1979 survey, EPA has imposed management practices and controls in NPDES permits on a case-by-case basis. The Agency also has continued to review the appropriateness and effectiveness of such practices,⁴ as well as the techniques used to prevent and contain oil spills.⁵ Experience with these practices and controls has shown that they can be used in permits to reduce pollutants in storm water discharges in a cost-effective manner. In keeping with both the present and previous administration's objective to attain environmental goals through pollution prevention, pollution prevention has been and continues to be the cornerstone of the NPDES permitting program for storm water. EPA has developed guidance entitled “Storm Water Management for Industrial Activities: Developing Pollution Prevention Plans and Best Management Practices,” September 1992, to assist permittees in developing and implementing pollution prevention measures.

³ See “Storm Water Management for Industrial Activities,” EPA, September 1992, EPA-832-R-92-006.

⁴ For example, see “Best Management Practices: Useful Tools for Cleaning Up,” Thron, H. Rogoshewski, P., 1982, Proceedings of the 1982 Hazardous Material Spills Conference; “The Chemical Industries’ Approach to Spill Prevention,” Thompson, C., Goodier, J. 1980, Proceedings of the 1980 National Conference of Control of Hazardous Materials Spills; a series of EPA memorandum entitled “Best Management Practices in NPDES Permits—Information Memorandum,” 1983, 1985, 1986, 1987, 1988; Review of Emergency Systems: Report to Congress,” EPA, 1988; and “Analysis of Implementing Permitting Activities for Storm Water Discharges Associated with Industrial Activity,” EPA, 1991.

⁵ See for example, “The Oil Spill Prevention, Control and Countermeasures Program Task Force Report,” EPA, 1988; and “Guidance Manual for the Development of an Accidental Spill Prevention Program,” prepared by SAIC for EPA, 1986.

Note: The discussions of the SWPPP requirements are grouped in subject areas and do not follow the exact order of the permit conditions.

1. Pollution Prevention Team (Part 4.2.1)

As a first step in the process of developing and implementing a SWPPP, permittees are required to identify a qualified individual or team of individuals to be responsible for developing the plan and assisting the facility or plant manager in its implementation. When selecting members of the team, the plant manager should draw on the expertise of all relevant departments within the plant to ensure that all aspects of plant operations are considered when the plan is developed. The plan must clearly describe the responsibilities of each team member as they relate to specific components of the plan. In addition to enhancing the quality of communication between team members and other personnel, clear delineation of responsibilities will ensure that every aspect of the plan is addressed by a specified individual or group of individuals. Pollution Prevention Teams may consist of one individual where appropriate (e.g., in certain small businesses with limited storm water pollution potential).

2. Description of the Facility and Potential Pollution Sources (Part 4.2.2)

Each SWPPP must describe activities, materials, and physical features of the facility that may contribute significant amounts of pollutants to storm water runoff or, during periods of dry weather, result in pollutant discharges through the separate storm sewers or storm water drainage systems that drain the facility. This assessment of storm water pollution risk will support subsequent efforts to identify and set priorities for necessary changes in materials, materials management practices, or site features, as well as aid in the selection of appropriate structural and nonstructural control techniques. Some operators may find that significant amounts of pollutants are running onto the facility property. Such operators should identify and address the contaminated runon in the SWPPP. If the runon cannot be addressed or diverted by the permittee, the permitting authority should be notified. If necessary, the permitting authority may require the operator of the adjacent facility to obtain a permit.

Part 6 of the proposed MSGP includes industry-specific requirements for the various industry sectors covered by today's proposed permit. All SWPPPs generally must describe the following elements:

a. Description of the Facility Site and Receiving Waters/Wetlands (Parts 4.2.2 & 4.2.3): The plan must contain a map of the site that shows the location of outfalls covered by the permit (or by other NPDES permits), the pattern of storm water drainage, an indication of the types of discharges contained in the drainage areas of the outfalls, structural features that control pollutants in runoff, ⁶ surface water bodies (including wetlands), places where significant materials ⁷ are exposed to rainfall and runoff, and locations of major spills and leaks that occurred in the 3 years prior to the date of the submission of an NOI to be covered under this permit. The map also must show areas where the following activities take place: Fueling, vehicle and equipment maintenance and/or cleaning, loading and unloading, material storage (including tanks or other vessels used for liquid or waste storage), material processing, and waste disposal. For areas of the facility that generate storm water discharges with a reasonable potential to contain significant amounts of pollutants, the map must indicate the probable direction of storm water flow and the pollutants likely to be in the discharge. Flows with a significant potential to cause soil erosion also must be identified. In order to increase the readability of the map, the inventory of the types of discharges contained in each outfall may be kept as an attachment to the site map.

⁶ Nonstructural features such as grass swales and vegetative buffer strips also should be shown.

⁷ Significant materials include, but are not limited to the following: Raw materials; fuels; solvents, detergents, and plastic pellets; finished materials, such as metallic products; raw materials used in food processing or production; hazardous substances designated under Section 101(14) of the Comprehensive Environmental Response, Compensation and Liability Act (CERCLA); any chemical the facility is required to report pursuant to EPCRA section 313; fertilizers; pesticides; and waste products, such as ashes, slag, and sludge that have the potential to be released with storm water discharges. (See 40 CFR 122.26(b)(8)).

b. Summary of Potential Pollutant Sources (Part 4.2.4): The description of potential pollution sources culminates in a narrative assessment of the risk potential that sources of pollution pose to storm water quality. This assessment should clearly point to activities, materials, and physical features of the facility that have a reasonable potential to contribute significant amounts of pollutants to storm water. Any such activities, materials, or features must be addressed by the measures and controls subsequently described in the plan. In conducting the assessment, the facility operator must consider the following activities: Loading and unloading operations; outdoor storage activities; outdoor manufacturing or processing activities; significant dust or particulate generating processes; and onsite waste disposal practices. The assessment must list any significant pollution sources at the site and identify the pollutant parameter or parameters (i.e., biochemical oxygen demand, suspended solids, etc.) associated with each source.

c. Significant Spills and Leaks (Part 4.2.5): The plan must include a list of any significant spills and leaks of toxic or hazardous pollutants that occurred in the 3 years prior to the date of the submission of an NOI to be covered under this permit. Significant spills include, but are not limited to, releases of oil or hazardous substances in excess of quantities that are reportable under section 311 of CWA (see 40 CFR 110.10 and 40 CFR 117.21) or section 102 of the Comprehensive Environmental Response, Compensation and Liability Act (CERCLA) (see 40 CFR 302.4). Significant spills may also include releases of oil or hazardous substances that are not in excess of reporting requirements and releases of materials that are not classified as oil or a hazardous substance.

The listing should include a description of the causes of each spill or leak, the actions taken to respond to each release, and the actions taken to prevent similar such spills or leaks in the future. This effort will aid the facility operator as she or he examines existing spill prevention and response procedures and develops any additional procedures necessary to fulfill the requirements set forth in Parts 4 and 6 of the proposed permit.

d. Allowable and Prohibited Non-storm Water Discharges (Part 4.4): Each SWPPP must include a certification, signed by an authorized individual, that discharges from the site have been tested or evaluated for the presence of non-storm water discharges. The certification must describe possible significant sources of non-storm water, the results of any test and/or evaluation conducted to detect such discharges, the test method or evaluation criteria used, the dates on which tests or evaluations were performed, and the onsite drainage points directly observed during the test or evaluation. Acceptable test or evaluation techniques include dye tests, television surveillance, observation of outfalls or other appropriate locations during dry weather, water balance calculations, and analysis of piping and drainage schematics.⁸

⁸ In general, smoke tests should not be used for evaluating the discharge of non-storm water to a separate storm sewer as many sources of non-storm water typically pass through a trap that would limit the effectiveness of the smoke test.

Except for flows that originate from fire fighting activities, sources of non-storm water that are specifically identified in the permit as being eligible for authorization under the general permit must be identified in the plan. SWPPPs must identify and ensure the implementation of appropriate pollution prevention measures for the non-storm water discharge.

EPA recognizes that certification may not be feasible where facility personnel do not have access to an outfall, manhole, or other point of access to the conduit that ultimately receives the discharge. In such cases, the plan must describe why certification was not feasible. Permittees who are not able to certify that discharges have been tested or evaluated must notify the Director in accordance with Part 4.4 of the proposed MSGP.

e. Sampling Data (Part 4.2.6): Any existing data on the quality or quantity of storm water discharges from the facility must be described in the plan, including data collected for Part 2 of the group application process. These data may be useful for locating areas that have contributed pollutants to storm water. The description should include a discussion of the methods used to collect and analyze the data. Sample collection points should be identified in the plan and shown on the site map.

3. Selection and Implementation of Storm Water Controls (Part 4.2.7, et al.)

Following completion of the source identification and assessment phase, the permit requires the permittee to evaluate, select, and describe the pollution prevention measures, BMPs, and other controls that will be implemented at the facility. BMPs include processes, procedures, schedules of activities, prohibitions on practices, and other management practices that prevent or reduce the discharge of pollutants in storm water runoff.

EPA emphasizes the implementation of pollution prevention measures and BMPs that reduce possible pollutant discharges at the source. Source reduction measures include, among others, preventive maintenance, chemical substitution, spill prevention, good housekeeping, training, and proper materials management. Where such practices are not appropriate to a particular source or do not effectively reduce pollutant discharges, EPA supports the use of source control measures and BMPs such as material segregation or covering, water diversion, and dust control. Like source reduction measures, source control measures and BMPs are intended to keep pollutants out of storm water. The remaining classes of BMPs, which involve recycling or treatment of storm water, allow the reuse of storm water or attempt to lower pollutant concentrations prior to discharge.

The SWPPP must discuss the reasons each selected control or practice is appropriate for the facility and how each will address one or more of the potential pollution sources identified in the plan. The plan also must include a schedule specifying the time or times during which each control or practice will be implemented. In addition, the plan should discuss ways in which the controls and practices relate to one another and, when taken as a whole, produce an integrated and consistent approach for preventing or controlling potential storm water contamination problems. The permit requirements included for the various industry sectors in Part 6 of today's proposed MSGP generally require that the portion of the plan that describes the measures and controls address the following minimum components.

When “minimize/reduce” is used relative to SWPPP measures, EPA means to consider and implement BMPs that will result in an improvement over the baseline conditions as it relates to the levels of pollutants identified in storm water discharges with due consideration to economic feasibility and effectiveness.

a. Nonstructural Controls

• Good Housekeeping. Good housekeeping involves using practical, cost-effective methods to identify ways to maintain a clean and orderly facility and keep contaminants out of separate storm sewers. It includes establishing protocols to reduce the possibility of mishandling chemicals or equipment and training employees in good housekeeping techniques. These protocols must be described in the plan and communicated to appropriate plant personnel.

• Minimizing Exposure. Where practicable, protecting potential pollutant sources from exposure to storm water is an important control option. Pollutants that are never allowed to contaminate storm water do not require development of “treatment” type BMPs. Elimination of all exposure to storm water may also make the facility for the “No Exposure Certification” exclusion from permitting at 40 CFR 122.26(g)

• Preventive Maintenance. Permittees must develop a preventive maintenance program that involves regular inspection and maintenance of storm water management devices and other equipment and systems. The program description should identify the devices, equipment, and systems that will be inspected; provide a schedule for inspections and tests; and address appropriate adjustment, cleaning, repair, or replacement of devices, equipment, and systems. For storm water management devices such as catch basins and oil/water separators, the preventive maintenance program should provide for periodic removal of debris to ensure that the devices are operating efficiently. For other equipment and systems, the program should reveal and enable the correction of conditions that could cause breakdowns or failures that may result in the release of pollutants.

• Spill Prevention and Response Procedures. Based on an assessment of possible spill scenarios, permittees must specify appropriate material handling procedures, storage requirements, containment or diversion equipment, and spill cleanup procedures that will minimize the potential for spills and in the event of a spill enable proper and timely response. Areas and activities that typically pose a high risk for spills include loading and unloading areas, storage areas, process activities, and waste disposal activities. These activities and areas, and their accompanying drainage points, must be described in the plan. For a spill prevention and response program to be effective, employees should clearly understand the proper procedures and requirements and have the equipment necessary to respond to spills.

• Routine Inspections. In addition to the comprehensive site evaluation, facilities are required to conduct periodic inspections of designated equipment and areas of the facility. Industry-specific requirements for such inspections, if any, are set forth in Part 6 of the proposed MSGP. When required, qualified personnel must be identified to conduct inspections at appropriate intervals specified in the plan. A set of tracking or follow-up procedures must be used to ensure that appropriate actions are taken in response to the inspections. Records of inspections must be maintained. These periodic inspections are different from the comprehensive site evaluation, even though the former may be incorporated into the latter. Equipment, area, or other inspections are typically visual and are normally conducted on a regular basis, e.g., daily inspections of loading areas. Requirements for such periodic inspections are specific to each industrial sector in today's permit, whereas the comprehensive site compliance evaluation is required of all industrial sectors. Area inspections help ensure that storm water pollution prevention measures (e.g., BMPs) are operating and properly maintained on a regular basis. The comprehensive site evaluation is intended to provide an overview of the entire facility's pollution prevention activities. Refer to Part VI.C.3.h. below for more information on the comprehensive site evaluation.

• Employee Training. The SWPPP must describe a program for informing personnel at all levels of responsibility of the components and goals of the SWPPP. The training program should address topics such as good housekeeping, materials management, and spill response procedures. Where appropriate, contractor personnel also must be trained in relevant aspects of storm water pollution prevention. A schedule for conducting training must be provided in the plan. Several sections in Part 6 of today's proposed MSGP specify a minimum frequency for training of once per year. Others indicate that training is to be conducted at an appropriate interval. EPA recommends that facilities conduct training annually at a minimum. However, more frequent training may be necessary at facilities with high turnover of employees or where employee participation is essential to the storm water pollution prevention plan.

b. Structural Controls

• Sediment and Erosion Control. The SWPPP must identify areas that, due to topography, activities, soils, cover materials, or other factors have a high potential for significant soil erosion. The plan must identify measures that will be implemented to limit erosion in these areas.

• Management of Runoff. The plan must contain a narrative evaluation of the appropriateness of traditional storm water management practices (i.e., practices other than those that control pollutant sources) that divert, infiltrate, reuse, or otherwise manage storm water runoff so as to reduce the discharge of pollutants. Appropriate measures may include, among others, vegetative swales, collection and reuse of storm water, inlet controls, snow management, infiltration devices, and wet detention/retention basins.

c. Example BMPs: Part 4.2.7.2.2 includes a list of example BMPs that could be considered for use in a SWPPP, for example: Detention structures (including wet ponds); storm water retention structures; flow attenuation by use of open vegetated swales and natural depressions; infiltration of runoff onsite; and sequential systems (which combine several practices). These examples are not intended to limit the creativity of facility operators in developing alternative BMPs or applications for BMPs that increase cost effectiveness.

d. Selection of Controls: Based on the results of the evaluation, the plan must identify practices that the permittee determines are reasonable and appropriate for the facility. The plan also should describe the particular pollutant source area or activity to be controlled by each storm water management practice. Reasonable and appropriate practices must be implemented and maintained according to the provisions prescribed in the plan.

In selecting storm water management measures, it is important to consider the potential effects of each method on other water resources, such as ground water. Although storm water pollution prevention plans primarily focus on storm water management, facilities must also consider potential ground water pollution problems and take appropriate steps to avoid adversely impacting ground water quality. For example, if the water table is unusually high in an area, an infiltration pond may contaminate a ground water source unless special preventive measures are taken. Under EPA's July 1991 Ground Water Protection Strategy, States are encouraged to develop Comprehensive State Ground Water Protection Programs (CSGWPP). Efforts to control storm water should be compatible with State ground water objectives as reflected in CSGWPPs.

e. Other Controls: Today's proposed MSGP includes a new requirement that no solid materials, including floating debris may be discharged to waters of the United States, except as authorized by a permit under Section 404 of the Clean Water Act. In addition, off-site tracking of raw, final, or waste materials or sediment, and the generation of dust must be minimized. Tracking or blowing of raw, final, or waste materials from areas of no exposure to exposed areas must be minimized. These requirements are similar to requirements included in EPA's construction general storm water permit (63 FR 7858, February 17, 1998) which EPA believes would be appropriate for industrial facilities as well.

f. Maintenance (Part 4.3): All BMPs identified in the SWPPP must be maintained in effective operating condition.

g. Controls for Allowable Non-Storm Water (Part 4.4.2): Where an allowable non-storm water has been identified, appropriate controls for that discharge must be included in the permit. In many cases, the same types of controls for contaminated storm water would suffice, but the nature and volume of potential pollutants in the non-storm water discharges must be taken into consideration in selection of controls.

h. Comprehensive Site Compliance Evaluation (Part 4.9): Today's proposed MSGP requires that the SWPPP describe the scope and content of the comprehensive site evaluations that qualified personnel will conduct to (1) confirm the accuracy of the description of potential pollution sources contained in the plan, (2) determine the effectiveness of the plan, and (3) assess compliance with the terms and conditions of the permit. Note that the comprehensive site evaluations are not the same as periodic or other inspections described for certain industries in Section VI.C.3.d of this fact sheet. However, in the instances when frequencies of inspections and the comprehensive site compliance evaluation overlap they may be combined allowing for efficiency, as long as the requirements for both types of inspections are met. The plan must indicate the frequency of comprehensive evaluations which must be at least once a year, except where comprehensive site evaluations are shown in the plan to be impractical for inactive mining sites, due to remote location and inaccessibility ⁹. The individual or individuals who will conduct the comprehensive site evaluation must be identified in the plan and should be members of the pollution prevention team. Material handling and storage areas and other potential sources of pollution must be visually inspected for evidence of actual or potential pollutant discharges to the drainage system. Inspectors also must observe erosion controls and structural storm water management devices to ensure that each is operating correctly. Equipment needed to implement the SWPPP, such as that used during spill response activities, must be inspected to confirm that it is in proper working order.

⁹ Where annual site inspections are shown in the plan to be impractical for inactive mining sites, due to remote location and inaccessibility, site inspections must be conducted at least once every 3 years.

The results of each comprehensive site evaluation must be documented in a report signed by an authorized company official. The report must describe the scope of the comprehensive site evaluation, the personnel making the comprehensive site evaluation, the date(s) of the comprehensive site evaluation, and any major observations relating to implementation of the SWPPP. Comprehensive site evaluation reports must be retained for at least 3 years after the date of the evaluation. Based on the results of each comprehensive site evaluation, the description in the plan of potential pollution sources and measures and controls must be revised as appropriate within 2 weeks after each comprehensive site evaluation, unless indicated otherwise in Part 6 of the permit. Changes in procedural operations must be implemented on the site in a timely manner for non-structural measures and controls not more than 12 weeks after completion of the comprehensive site evaluation. Procedural changes that require construction of structural measures and controls are allowed up to 3 years for implementation. In both instances, an extension may be requested from the Director.

i. Applicable State, Tribal, or Local Plans (Part 4.8): The SWPPP must be consistent with any applicable requirements of State, Tribal, or Local storm water, waste disposal, sanitary sewer or septic system regulations to the extent these apply to a facility and are more stringent than the requirements of this permit.

j. Documentation of Permit Eligibility with Regards to ESA and NHPA Requirements (Parts 4.5 & 4.6): To better ensure compliance with the requirements of the ESA and NHPA, Parts 4.5 and 4.6 of today's proposed MSGP require that documentation be included with the SWPPP demonstrating permit eligibility with regards to the requirements of the ESA and NHPA. The following information would be required for the ESA:

• Information on whether listed endangered or threatened species, or critical habitat, are found in proximity to the facility;

• Whether such species may be affected by the storm water discharges or storm water discharge-related activities;

• Results of the Addendum A endangered species screening determinations; and

• A description of measures necessary to protect listed endangered or threatened species, or critical habitat, including any terms or conditions that are imposed under the eligibility requirements of Part 1.2.3.6. The proposed MSGP notes that discharges from facilities which fail to describe and implement such measures are ineligible for coverage under the permit.

The following information would be required for the NHPA determination:

• Information on whether the storm water discharges or storm water discharge-related activities would have an affect on a property that is listed or eligible for listing on the National Register of Historic Places;

• Where effects may occur, any written agreements which have been made with the State Historic Preservation Officer, Tribal Historic Preservation Officer, or other Tribal leader to mitigate those effects;

• Results of the Addendum B historic places screening determinations; and

• A description of measures necessary to avoid or minimize adverse impacts on places listed, or eligible for listing, on the National Register of Historic Places, including any terms or conditions that are imposed under the eligibility requirements of Part 1.2.3.7 of this permit. The proposed MSGP notes that discharges from facilities which fail to describe and implement such measures are ineligible for coverage under the permit.

k. Keeping a Copy of the Permit with the SWPPP (Part 4.7): A new requirement to have a copy of the permit language in the SWPPP has been added to today's permit. The “confirmation” letter received from the NOI Processing Center is not the permit; it is essentially only the equivalent of a “receipt” for a facility's “registration” (NOI) to use the general permit. Since determining permit eligibility and preparing a SWPPP is required prior to obtaining permit coverage, a copy of the permit would be needed anyway. Requiring a copy of the permit in the SWPPP ensures that facility operators, and not just whoever prepared the SWPPP, will have ready access to all permit requirements.

l. Recordkeeping and Keeping the SWPPP Current (Parts 4.9.4, 4.10, et al.): Records must be kept with the SWPPP documenting the status and effectiveness of plan implementation. At a minimum, records must address results of the annual Comprehensive Site Compliance Evaluations, routine facility inspections, spills, monitoring, and maintenance activities. The plan also must describe a system that enables timely reporting of storm water management-related information to appropriate plant personnel. Inspectors or other enforcement officers will ask for records documenting permit compliance during inspections or facility compliance reviews.

The SWPPP must be updated whenever there is a change at the facility that would significantly affect the discharges authorized under the MSGP. The SWPPP must also be updated whenever an inspection by the permittee or by local, state, tribal, or federal officials indicates a portion of the SWPPP is proving to be ineffective in controlling storm water discharge quality.

m. Signature, Plan Review, and Access to the SWPPP (Part 4.11): The SWPPP must be signed and certified in accordance with Part 7 of the permit. A copy of the SWPPP must be kept on site at the facility or locally available for the use of the Director, a State, Tribe, or local agency (e.g., MS4 operator) at the time of an onsite inspection. The SWPPP must also be made available to the U.S. Fish and Wildlife Service or National Marine Fisheries Service upon request. Facilities are encouraged, but not required, to make the SWPPP directly available to the public for viewing during normal business hours. Since SWPPPs are living documents that change over time, access to the current version of the SWPPP is critical in assessing permit compliance.

The Director may notify you at any time that your SWPPP does not meet one or more of the minimum requirements of this permit. The notification will identify provisions of the permit which are not being met, as well as the required modifications. Required changes must be made within thirty (30) calendar days and a written certification submitted to the Director confirming that the changes were made.

D. Special Requirements

1. Special Requirements for Storm Water Discharges Associated With Industrial Activity From Facilities Subject to EPCRA Section 313 Requirements (Part 4.12)

Today's proposal replaces the special requirements of the existing MSGP for certain permittees subject to reporting requirements under section 313 of the EPCRA (also known as Title III of the Superfund Amendments and Reauthorization Act (SARA)) with a requirement to identify areas with these pollutants. EPCRA section 313 requires operators of certain facilities that manufacture (including import), process, or otherwise use listed toxic chemicals to report annually their releases of those chemicals to any environmental media. Listed toxic chemicals include more than 500 chemicals and chemical classes listed at 40 CFR part 372 (including the recently added chemicals published November 30, 1994).

By requiring identification of EPCRA 313 chemicals in the summary of potential pollutant sources under the Pollution Prevention Plan (Part 4.2.4), the facility operator is then required to develop appropriate storm water controls for such areas (Part 4.2.7). EPA expects that many controls for EPCRA chemicals will continue to be driven by other state and federal environmental regulations such as Spill Prevention Control and Countermeasure (SPCC) plans required under section 311 of the CWA, etc. as long as such a requirement is incorporated into the SWPPP.

This reduction in permit complexity by eliminating redundant requirements was requested by members of the regulated community. The public is specifically requested to comment on this new approach to dealing with EPCRA chemicals exposed to storm water.

2. Special Requirements for Storm Water Discharges Associated With Industrial Activity From Salt Storage Facilities

Today's proposal retains the same special requirements as the existing MSGP for storm water discharges associated with industrial activity from salt storage facilities. Storage piles of salt used for deicing or other commercial or industrial purposes must be enclosed or covered to prevent exposure to precipitation, except for exposure resulting from adding or removing materials from the pile. This requirement only applies to runoff from storage piles discharged to waters of the United States. Facilities that collect all of the runoff from their salt piles and reuse it in their processes or discharge it subject to a separate NPDES permit do not need to enclose or cover their piles. Permittees must comply with this requirement as expeditiously as practicable, but in no event later than 3 years from the date of permit issuance.

These special requirements have been included in today's permit based on human health and aquatic effects resulting from storm water runoff from salt storage piles compounded with the prevalence of salt storage piles across the United States.

3. Consistency With Other Plans

SWPPPs may reference the existence of other plans for Spill Prevention Control and Countermeasure (SPCC) plans developed for the facility under section 311 of the CWA or BMP programs otherwise required by an NPDES permit for the facility as long as such requirement is incorporated into the SWPPP.

E. Monitoring and Reporting Requirements

The proposed MSGP-2000 retains basically the same monitoring requirements as the existing MSGP. However, EPA also recognizes the concerns that have been raised in determining the effectiveness of a facility's SWPPP regarding the usefulness of these monitoring requirements (particularly analytical monitoring) and whether facility resources are being diverted away from other activities, such as more effective implementation of the SWPPPs, which might provide greater environmental benefits. In view of such concerns, EPA is specifically requesting comments on these monitoring requirements and whether better alternatives are available for evaluating the overall effectiveness of the industrial storm water pollution control program.

One alternative which has been suggested is the submission of an annual report to EPA describing a permittee's storm water pollution control activities during the previous year. The existing MSGP already requires that permittees conduct periodic facility inspections and prepare inspection reports which are retained as part of the SWPPPs. The MSGP also sets forth certain basic and industry-specific requirements for the inspections and establishes the minimum inspection frequencies. The preparation of an annual report could conceivably enhance the pollution control program at an industrial facility by requiring a more formal review of the program than required by the existing MSGP. Inspection frequencies might also be increased as compared to the requirements of the existing MSGP. The submission of an annual report would also provide EPA and interested members of the public with readily available information from which to evaluate the pollution control program of a given facility. EPA is requesting comments on the merits of submitting an annual report as an alternative to analytical monitoring, including the type of information to be submitted and level of detail to be required.

EPA is also interested in receiving comments on other alternatives to the monitoring requirements of the existing MSGP. One possibility would be group monitoring, in which a representative group of facilities within a sector would monitor (similar to the group permit applications for the original MSGP). Yet another possibility would be watershed monitoring, in which industrial facilities in a given area would cooperate among themselves, or with other dischargers, in a regional watershed monitoring program which would focus on receiving water impacts.

In addition, EPA is requesting comments on whether alternate test methods should be allowed (such as the field test methods which were allowed for Part 1 of the permit applications for municipal separate storm sewer systems) rather than test methods approved under 40 CFR part 136. A number of field test options exist including colorimetric test kits, titrimetric test kits and spectrophotometric field test instruments. Test accuracy, according to industry literature, typically ranges from 0.1 to 20%. Field test methods are available for all the parameters in the existing MSGP except BOD5, Cd, Mg, Hg, Se and TSS. Of these parameters, however, only TSS is a commonly monitored parameter in the existing MSGP. For TSS, another monitoring option would be transparency tubes which are currently being used in some areas to assess turbidity and TSS. These tubes consist of long narrow plastic tubes in which a sample is placed. Like a Secchi disc, the tube measures turbidity by the length of the tube through which the bottom of the tube cannot be seen. These field test methods are typically cheaper and easier to use than methods approved under 40 CFR part 136, and EPA is requesting comments on whether such methods are appropriate for the industrial storm water program.

EPA is also interested in receiving comments on the role of alternate environmental indicators in the industrial storm water program such as those discussed in the publication entitled “Environmental Indicators to Assess Stormwater Control Programs and Practices” (Clayton, R. and W. Brown, 1996, Center for Watershed Protection, Silver Spring, MD).

Another alternative to the existing monitoring requirements which has been suggested is to limit the monitoring requirements to discharges to impaired waterbodies, such as those on the section 303(d) list, where additional pollution control efforts are most clearly needed. EPA also welcomes any other suggestions for alternatives to the monitoring requirements of the existing MSGP.

The MSGP (as proposed) includes three general types of monitoring: Analytical monitoring or chemical monitoring; compliance monitoring for effluent guidelines compliance, and visual examinations of storm water discharges. A general description of each of these types of monitoring which was provided with the original MSGP is repeated below.

Analytical monitoring requirements involve laboratory chemical analyses of samples collected by the permittee. The results of the analytical monitoring are quantitative concentration values for different pollutants, which can be easily compared to the results from other sampling events, other facilities, or to national benchmarks. Section VI.E.1 below describes the proposed analytical monitoring requirements and the process and criteria by which an industry sector or subsector was selected for analytical monitoring. Compliance monitoring requirements are imposed under today's proposed permit to ensure that discharges subject to numeric effluent limitations under the storm water effluent limitations guidelines are in compliance with those limitations. The compliance monitoring requirements are discussed in Section VI.E.2.

Visual examinations of storm water discharges are the least burdensome type of monitoring requirement under the proposed MSGP. Visual examinations are described in Section VI.E.8.

Actual monitoring requirements for a given facility under the permit vary depending upon the industrial activities that occur at a facility and the results of the industry-supplied discharge characterization data that was used to develop the original MSGP. Part 5 of the proposed MSGP sets forth the common monitoring requirements which apply to all sectors; the industrial-specific requirements are found in Part 6 of the proposed MSGP. These are minimum monitoring requirements and a permittee may choose to conduct additional sampling to acquire more data to improve the statistical validity of the results. Through increased analytical or visual monitoring the permittee may be able to better ascertain the effectiveness of their SWPPP.

1. Analytical Monitoring Requirements

The categories of facilities subject to analytical monitoring in the proposed MSGP are noted in Table 1 of this fact sheet. The MSGP requires analytical monitoring for the industry sectors or subsectors that demonstrated in the group application data a potential to discharge pollutants at concentrations of concern, or, in certain State-specific cases, to satisfy those States' requirements. The data submitted with the group permit applications were reviewed by EPA to determine the industry sectors and subsectors listed in Table 1 of this fact sheet that are to be subject to analytical monitoring requirements. First, EPA divided the Part 1 and Part 2 application data by the industry sectors listed in Table 1. Where a sector was found to contain a wide range of industrial activities or potential pollutant sources, it was further subdivided into the industry subsectors listed in Table 1. Next, EPA reviewed the information submitted in Part 1 of the group applications regarding the industrial activities, significant materials exposed to storm water, and the material management measures employed. This information helped identify potential pollutants that may be present in the storm water discharges. Then, EPA entered into a database, the sampling data submitted in Part 2 of the group applications. That data was arrayed according to industrial sector and subsector for the purposes of determining when analytical monitoring would be appropriate.

To conduct a comparison of the results of the statistical analyses to determine when analytical monitoring would be required, EPA established “benchmark” concentrations for the pollutant parameters on which monitoring results had been received. The “benchmarks” are the pollutant concentrations above which EPA determined represents a level of concern. The level of concern is a concentration at which a storm water discharge could potentially impair, or contribute to impairing water quality or affect human health from ingestion of water or fish. The benchmarks are also viewed by EPA as a level, that if below, a facility represents little potential for water quality concern. As such, the benchmarks also provide an appropriate level to determine whether a facility's storm water pollution prevention measures are successfully implemented. The benchmark concentrations are not effluent limitations and should not be interpreted or adopted as such. These values are merely levels which EPA has used to determine if a storm water discharge from any given facility merits further monitoring to insure that the facility has been successful in implementing a SWPPP. As such these levels represent a target concentration for a facility to achieve through implementation of pollution prevention measures at the facility. Table 3 lists the parameter benchmark values and the sources used for the benchmarks. Additional explanation information concerning the derivation of the benchmarks can be found in the fact sheet for the 1995 MSGP (60 FR 50825).

Table 3.—Parameter Benchmark Values
Parameter name | Benchmark level | Source
Biochemical Oxygen Demand (5) | 30 mg/L | 4
Chemical Oxygen Demand | 120 mg/L | 5
Total Suspended Solids | 100 mg/L | 7
Oil and Grease | 15 mg/L | 8
Nitrate + Nitrite Nitrogen | 0.68 mg/L | 7
Total Phosphorus | 2.0 mg/L | 6
pH | 6.0-9.0 s.u. | 4
Acrylonitrile (c) | 7.55 mg/L | 2
Aluminum, Total (pH 6.5-9) | 0.75 mg/L | 1
Ammonia | 19 mg/L | 1
Antimony, Total | 0.636 mg/L | 9
Arsenic, Total (c) | 0.16854 mg/L | 9
Benzene | 0.01 mg/L | 10
Beryllium, Total (c) | 0.13 mg/L | 2
Butylbenzyl Phthalate | 3 mg/L | 3
Cadmium, Total (H) | 0.0159 mg/L | 9
Chloride | 860 mg/L | 1
Copper, Total (H) | 0.0636 mg/L | 9
Dimethyl Phthalate | 1.0 mg/L | 11
Ethylbenzene | 3.1 mg/L | 3
Fluoranthene | 0.042 mg/L | 3
Fluoride | 1.8 mg/L | 6
Iron, Total | 1.0 mg/L | 12
Lead, Total (H) | 0.0816 mg/L | 1
Manganese | 1.0 mg/L | 13
Mercury, Total | 0.0024 mg/L | 1
Nickel, Total (H) | 1.417 mg/L | 1
PCB-1016 (c) | 0.000127 mg/L | 9
PCB-1221 (c) | 0.10 mg/L | 10
PCB-1232 (c) | 0.000318 mg/L | 9
PCB-1242 (c) | 0.00020 mg/L | 10
PCB-1248 (c) | 0.002544 mg/L | 9
PCB-1254 (c) | 0.10 mg/L | 10
PCB-1260 (c) | 0.000477 mg/L | 9
Phenols, Total | 1.0 mg/L | 11
Pyrene (PAH,c) | 0.01 mg/L | 10
Selenium, Total (*) | 0.2385 mg/L | 9
Silver, Total (H) | 0.0318 mg/L | 9
Toluene | 10.0 mg/L | 3
Trichloroethylene (c) | 0.0027 mg/L | 3
Zinc, Total (H) | 0.117 mg/L | 1
Sources:
1. “EPA Recommended Ambient Water Quality Criteria.” Acute Aquatic Life Freshwater
2. “EPA Recommended Ambient Water Quality Criteria.” LOEL Acute Freshwater
3. “EPA Recommended Ambient Water Quality Criteria.” Human Health Criteria for Consumption of Water and Organisms
4. Secondary Treatment Regulations (40 CFR 133)
5. Factor of 4 times BOD5 concentration—North Carolina benchmark
6. North Carolina storm water benchmark derived from NC Water Quality Standards
7. National Urban Runoff Program (NURP) median concentration
8. Median concentration of Storm Water Effluent Limitation Guideline (40 CFR Part 419)
9. Minimum Level (ML) based upon highest Method Detection Limit (MDL) times a factor of 3.18
10. Laboratory derived Minimum Level (ML)
11. Discharge limitations and compliance data
12. “EPA Recommended Ambient Water Quality Criteria.” Chronic Aquatic Life Freshwater
13. Colorado—Chronic Aquatic Life Freshwater—Water Quality Criteria
Notes:
(*) Limit established for oil and gas exploration and production facilities only.
(c) carcinogen
(H) hardness dependent
(PAH) Polynuclear Aromatic Hydrocarbon
Assumptions:
Receiving water temperature—20 C
Receiving water pH—7.8
Receiving water hardness CaCO3 100 mg/L
Receiving water salinity 20 g/kg
Acute to Chronic Ratio (ACR)—10

EPA prepared a statistical analysis of the sampling data for each pollutant parameter reported within each sector or subsector. (Only where EPA did not subdivide an industry sector into subsectors was an analysis of the entire sector's data performed.) The statistical analysis was performed assuming a delta log normal distribution of the sampling data within each sector/subsector. The analyses calculated median, mean, maximum, minimum, 95th, and 99th percentile concentrations for each parameter. The results of the analyses can be found in the appropriate section of Section VIII of the fact sheet accompanying the 1995 MSGP. From this analysis, EPA was able to identify pollutants for further evaluation within each sector or subsector.

EPA next compared the median concentration of each pollutant for each sector or subsector to the benchmark concentrations listed in Table 3. EPA also compared the other statistical results to the benchmarks to better ascertain the magnitude and range of the discharge concentrations to help identify the pollutants of concern. EPA did not conduct this analysis if a sector had data for a pollutant from less than three individual facilities. Under these circumstances, the sector or subsector would not have this pollutant identified as a pollutant of concern. This was done to ensure that a reasonable number of facilities represented the industry sector or subsector as a whole and that the analysis did not rely on data from only one facility.

For each industry sector or subsector, parameters with a median concentration higher than the benchmark level were considered pollutants of concern for the industry and identified as potential pollutants for analytical monitoring under today's permit. EPA then analyzed the list of potential pollutants to be monitored against the lists of significant materials exposed and industrial activities which occur within each industry sector or subsector as described in the Part I application information. Where EPA could identify a source of a potential pollutant which is directly related to industrial activities of the industry sector or subsector, the permit identifies that parameter for analytical monitoring. If EPA could not identify a source of a potential pollutant which was associated with the sector/subsector's industrial activity, the permit does not require monitoring for the pollutant in that sector/subsector. Industries with no pollutants for which the median concentrations are higher than the benchmark levels are not required to perform analytical monitoring under this permit, with the exceptions explained below.

In addition to the sectors and subsectors identified for analytical monitoring using the methods described above, EPA determined, based upon a review of the degree of exposure, types of materials exposed, special studies and in some cases inadequate sampling data in the group applications, that the following industries also warrant analytical monitoring not withstanding the absence of data on the presence or absence of certain pollutants in the group applications: Sector K (hazardous waste treatment storage and disposal facilities), and Sector S (airports which use more than 100,000 gallons per year of glycol-based fluids or 100 tons of urea for deicing). The proposed MSGP-2000 would retain the monitoring requirements of the existing MSGP due to the high potential for contamination of storm water discharge, which EPA believes was not adequately characterized by group applicants in the information they provided in the group application process. It should also be noted that like the existing MSGP, exemptions for the proposed MSGP-2000 would be on a pollutant-by-pollutant and outfall-by-outfall basis.

EPA analyzed the monitoring data which have been submitted under the MSGP for year 2 (year 4 data are due in March, 2000) both on a sector-and pollutant-basis. For the pollutant-basis, the need for year 4 monitoring (determined by whether the monitoring benchmarks—see Section Table 4 below—were exceeded) was performed on both a facility-wide and outfall-specific basis (i.e., many facilities submitted DMR data for more than one outfall). The facility-wide basis determined whether any of the year 2 average discharge concentrations for any of the outfalls at the given facility exceeded the benchmark value. The outfall-specific basis evaluated each outfall independently. The results of these two analyses are presented in Table 4.

Table 4.—1995 MGSP DMR Data Above Benchmark Values (Pollutant-Basis)
Pollutant | Benchmark value | Facility-wide basis: Total number of facilities | Facility-wide basis: Above benchmark | Outfall-specific basis: Total number of outfalls | Outfall-specific basis: Above benchmark
TSS | 100 mg/L | 111 | 59 (53.2%) | 185 | 86 (46.5%)
COD | 120 mg/L | 30 | 15 (50.0%) | 52 | 25 (48.1%)
Nitrate+Nitrite Nitrogen | 0.68 mg/L | 30 | 14 (46.7%) | 52 | 31 (59.6%)
Aluminum | 0.75 mg/L | 51 | 38 (74.5%) | 86 | 57 (66.3%)
Arsenic | 0.16854 mg/L | 1 | 0 (0%) | 1 | 0 (0%)
Copper | 0.0636 mg/L | 8 | 1 (12.5%) | 23 | 1 (4.3%)
Iron | 1.0 mg/L | 84 | 58 (69.0%) | 148 | 95 (64.2%)
Lead | 0.0816 mg/L | 22 | 6 (27.3%) | 33 | 6 (18.2%)
Zinc | 0.117 mg/L | 58 | 43 (74.1%) | 127 | 94 (74.0%)

As seen in Table 4, approximately 50 percent of the facilities and outfalls exceeded benchmark values for non-metallic pollutants (i.e., TSS, COD, and Nitrate + Nitrite Nitrogen) while exceedances of the benchmark values for the metals were, for the most part, slightly higher. EPA intends to evaluate year 4 data for facilities that were required to monitor both years to identify possible trends in pollutant concentrations.

For Table 5, EPA evaluated by sector the number of facilities that monitored during year 2 that would also be required to monitor in year 4. The initial analysis focused on the facility as a whole. Specifically, Table 5 identifies the number of facilities submitting DMRs during year 2 in the 13 sectors that had DMR data for any pollutants required to be analyzed for which benchmark values exist. The omission of sectors from this list may be for one or more reasons. For example, no Sector G facilities (Metal Mining) are included in the analysis since all the facilities reviewed by EPA were “no discharge” facilities and thus did not submit monitoring data. Another reason, such as for Sector B (Paper and Allied Products), is that EPA did not evaluate any DMRs from facilities within the sector that monitored for any pollutants with benchmark values.

Table 5.—1995 MGSP DMR Data Above Benchmark Values
[Sector-Basis]
Sector | Total number of facilities | At least one average above benchmark | Above benchmark (in percent)
A | 36 | 19 | 52.8
C | 10 | 8 | 80
D | 8 | 5 | 62.5
E | 7 | 5 | 71.4
F | 8 | 8 | 100
H | 6 | 6 | 100
J | 10 | 7 | 70
L | 20 | 19 | 95
M | 22 | 18 | 81.8
O | 6 | 1 | 16.7
S | 1 | 1 | 100
Y | 2 | 2 | 100
AA | 25 | 25 | 100 | Total | 161 | 124 | 77.0

As seen from this analysis, 77 percent of the facilities surveyed would be required to monitor during year 4 for at least one pollutant at a minimum of one outfall. While EPA considers this to be a somewhat limited data set, the Agency does believe that the numbers indicate that a small percentage of facilities are being excluded from year 4 monitoring based on year 2 data.

EPA believes that the year 2 data, in combination with year 4 data, should provide a better understanding of the synergy between analytical monitoring and SWPPP effectiveness, although, more information regarding steps that facilities took in response to year 2 data above benchmark values will be needed to fully understand this relationship. As such, EPA is soliciting information on the activities undertaken by permittees in response to elevated levels of pollutants above benchmark values to compare with the year 2 and year 4 data to fully evaluate the effectiveness of analytical monitoring requirements in the MSGP. This type of information would also be useful in evaluating suggestions from the public in response to EPA's specific request for comments on possible alternatives or modifications to analytical monitoring (discussed earlier in Part VI.E).

The current MSGP requires that all facilities, save for Sector G, within an industry sector or subsector identified for analytical monitoring must, at a minimum, monitor their storm water discharges quarterly during the second year of permit coverage, unless the facility exercises the Alternative Certification described in Section VI.E.3 of this fact sheet. At the end of the second year of coverage under the current permit, a facility was required to calculate the average concentration for each parameter for which the facility is required to monitor. If the average concentration for a pollutant parameter was less than or equal to the benchmark value, then the permittee was not required to conduct analytical monitoring for that pollutant during the fourth year of the permit. If, however, the average concentration for a pollutant is greater than the benchmark value, then the permittee was required to conduct quarterly monitoring for that pollutant during the fourth year of permit coverage. Analytical monitoring was not required during the first, third, and fifth year of the permit. The exclusion from analytical monitoring in the fourth year of the permit was conditional on the facility maintaining industrial operations and BMPs that will ensure a quality of storm water discharges consistent with the average concentrations recorded during the second year of the permit.

For today's proposed MSGP, EPA is also proposing to require analytical monitoring in the second and fourth year of the permit. For purposes of this monitoring, year 2 runs from October 1, 2001 to September 30, 2002; year 4 runs from October 1, 2003 to September 30, 2004.

2. Compliance Monitoring

Today's proposal retains the same compliance monitoring requirements of the existing MSGP, and also includes compliance monitoring requirements for certain storm water discharges from new and existing hazardous and non-hazardous landfills. As noted earlier, EPA has recently finalized effluent limitations guidelines for these landfills (65 FR 3007, January 19, 2000) and the compliance monitoring would be required to ensure compliance with the guidelines. These discharges must generally be sampled annually (in some cases quarterly) and tested for the parameters which are limited by the permit. Discharges subject to compliance monitoring include (in addition to the landfills discharges): Coal pile runoff, contaminated runoff from phosphate fertilizer manufacturing facilities, runoff from asphalt paving and roofing emulsion production areas, material storage pile runoff from cement manufacturing facilities, and mine dewatering discharges from crushed stone, construction sand and gravel, and industrial sand mines located in EPA Regions 1, 2, 6, 10 and Arizona. All samples are to be grabs taken within the first 30 minutes of discharge where practicable, but in no case later than the first hour of discharge. Where practicable, the samples shall be taken from the discharges subject to the numeric effluent limitations prior to mixing with other discharges.

Monitoring for these discharges is required to determine compliance with numeric effluent limitations. It should also be noted that discharges covered under today's proposed MSGP which are subject to numeric effluent limitations are not eligible for the alternative certification described in Section VI.E.3 of this fact sheet.

Where a State or Tribe has imposed a numeric effluent limitation as a condition for certification under CWA section 401, a default minimum monitoring frequency of once per year has been proposed. This default monitoring frequency would only apply if a State failed to provided a monitoring frequency along with their conditional § 401 certification.

3. Alternate Certification

Today's proposed MSGP-2000 retains the provision in the existing MSGP for an alternative certification in lieu of analytical monitoring. The MSGP includes monitoring requirements for facilities which the Agency believes have the potential for contributing significant levels of pollutants to storm water discharges. The alternative certification described below is included in the permit to ensure that monitoring requirements are only imposed on those facilities which do, in fact, have storm water discharges containing pollutants at concentrations of concern. EPA has determined that if there are no sources of a pollutant exposed to storm water at the site then the potential for that pollutant to contaminate storm water discharges does not warrant monitoring.

Therefore, a discharger is not subject to the analytical monitoring requirements provided the discharger makes a certification for a given outfall, on a pollutant-by-pollutant basis, that material handling equipment or activities, raw materials, intermediate products, final products, waste materials, by-products, industrial machinery or operations, significant materials from past industrial activity that are located in areas of the facility that are within the drainage area of the outfall are not presently exposed to storm water and will not be exposed to storm water for the certification period. Such certification must be retained in the SWPPP, and submitted to EPA in lieu of monitoring reports required under Part 7 of the permit. The permittee is required to complete any and all sampling until the exposure is eliminated. If the facility is reporting for a partial year, the permittee must specify the date exposure was eliminated. If the permittee is certifying that a pollutant was present for part of the reporting period, nothing relieves the permittee from the responsibility to sample that parameter up until the exposure was eliminated and it was determined that no significant materials remained. This certification is not to be confused with the low concentration sampling waiver. The test for the application of this certification is whether the pollutant is exposed, or can be expected to be present in the storm water discharge. If the facility does not and has not used a parameter, or if exposure is eliminated and no significant materials remain, then the facility can exercise this certification.

As noted above, the MSGP does not allow facilities with discharges subject to numeric effluent limitations guidelines to submit alternative certification in lieu of compliance monitoring requirements. The permit also does not allow air transportation facilities or hard rock mines subject to the analytical monitoring requirements in Part 6 of the proposed MSGP to exercise an alternative certification.

A facility is not precluded from exercising the alternative certification in lieu of analytical monitoring requirements in the second or fourth year of the reissued MSGP, even if that facility has failed to qualify for a low concentration waiver thus far. EPA encourages facilities to eliminate exposure of industrial activities and significant materials where practicable.

4. Reporting and Retention Requirements

Like the existing MSGP, today's proposed MSGP requires that permittees submit all analytical monitoring results obtained during the second and fourth year of permit coverage. As noted earlier, year 2 runs from October 1, 2001 to September 30, 2002; year 4 runs from October 1, 2003 to September 30, 2004. Monitoring results must be submitted by January 28, 2003 for year 2 monitoring and January 28, 2005 for year 4 monitoring.

For each outfall, one Discharge Monitoring Report (DMR) form must be submitted per storm event sampled. For facilities conducting monitoring beyond the minimum requirements an additional DMR form must be filed for each analysis. The permittee must include a measurement or estimate of the total precipitation, volume of runoff, and peak flow rate of runoff for each storm event sampled. Permittees subject to compliance monitoring requirements are required to submit all compliance monitoring results annually by October 28 following each annual sampling period (which run from October 1 of each year to September 30 of the following year). Compliance monitoring results must be submitted on signed DMR forms. For each outfall, one DMR form must be submitted for each storm event sampled.

Permittees are not required to submit records of the visual examinations of storm water discharges unless specifically asked to do so by the Director. Records of the visual examinations must be maintained at the facility. Records of visual examination of storm water discharge need not be lengthy. Permittees may prepare typed or hand written reports using forms or tables which they may develop for their facility. The report need only document: the date and time of the examination; the name of the individual making the examination; and any observations of color, odor, clarity, floating solids, suspended solids, foam, oil sheen, and other obvious indicators of storm water pollution.

The address for submission of DMR forms for today's proposed MSGP is as follows: MSGP DMR (4203), U.S. EPA, 401 M Street, SW, Washington, D.C. 20460.

Under the existing MSGP, DMRs had been sent to the EPA Regional Offices. However, to facilitate review of all DMRs from facilities operating under the MSGP, the proposed MSGP-2000 requires that they be sent to the one location specified above.

Today's proposal also retains the requirement in the existing MSGP that permittees submit signed copies of DMRs to the operator of a large or medium MS4 (those which serve a population of 100,000 or more), if there are discharges of storm water associated with industrial activity through the MS4.

The location for submission of all reports (other than DMRs) for today's proposal MSGP remains the EPA Regional Offices as found in Part 8.3 of the proposed permit. Consistent with Office of Management and Budget Circular A-105, facilities located on the following Federal Indian Reservations, which cross EPA Regional boundaries, should note that permitting authority for such lands is consolidated in one single EPA Region.

a. Duck Valley Reservations lands, located in Regions 9 and 10, are handled by Region IX.

b. Fort McDermitt Reservation lands, located in Regions 9 and 10, are handled by Region IX.

c. Goshute Reservation lands, located in Regions 8 and 9, are handled by Region IX.

d. Navajo Reservation lands, located in Regions 6, 8, and 9, are handled by Region 9.

e. Ute Mountain Reservation lands, located in Regions 6 and 8, are handled Region VIII.

Pursuant to the requirements of 40 CFR 122.41(j), today's proposal (like the existing MSGP) requires permittees to retain all records for a minimum of 3 years from the date of the sampling, examination, or other activity that generated the data.

5. Sample Type

Today's proposal retains the same requirements regarding the type of sampling as the existing MSGP. A general description is provided below. Certain industries have different requirements, however, permittees should check the industry-specific requirements in Part 6 of the proposed permit to confirm these requirements. Grab samples may be used for all monitoring unless otherwise stated. All such samples shall be collected from the discharge resulting from a storm event that is greater than 0.1 inches in magnitude and that occurs at least 72 hours from the previously measurable (greater than 0.1 inch rainfall) storm event. The required 72-hour storm event interval may be waived by the permittee where the preceding measurable storm event did not result in a measurable discharge from the facility. The 72-hour requirement may also be waived by the permittee where the permittee documents that less than a 72-hour interval is representative for local storm events during the season when sampling is being conducted. The grab sample must be taken during the first 30 minutes of the discharge. If the collection of a grab sample during the first 30 minutes is impracticable, a grab sample can be taken during the first hour of the discharge, and the discharger must submit with the monitoring report a description of why a grab sample during the first 30 minutes was impracticable. A minimum of one grab is required. Where the discharge to be sampled contains both storm water and non-storm water, the facility shall sample the storm water component of the discharge at a point upstream of the location where the non-storm water mixes with the storm water, if practicable.

6. Representative Discharge

The proposed MSGP-2000 retains the same provision as the existing MSGP regarding substantially identical outfalls which allows a facility to reduce its overall monitoring burden. This representative discharge provision provides facilities with multiple storm water outfalls, a means for reducing the number of outfalls that must be sampled and analyzed. This may result in a substantial reduction of the resources required for a facility to comply with analytical monitoring requirements. When a facility has two or more outfalls that, based on a consideration of industrial activity, significant materials, and management practices and activities within the area drained by the outfall, the permittee reasonably believes discharge substantially identical effluents, the permittee may test the effluent of one of such outfalls and report that the quantitative data also applies to the substantially identical outfalls provided that the permittee includes in the SWPPP a description of the location of the outfalls and explaining in detail why the outfalls are expected to discharge substantially identical effluent. In addition, for each outfall that the permittee believes is representative, an estimate of the size of the drainage area (in square feet) and an estimate of the runoff coefficient of the drainage area (e.g., low (under 40 percent), medium (40 to 65 percent) or high (above 65 percent)) shall be provided in the plan. Facilities that select and sample a representative discharge are prohibited from changing the selected discharge in future monitoring periods unless the selected discharge ceases to be representative or is eliminated. Permittees do not need EPA approval to claim discharges are representative, provided they have documented their rationale within the SWPPP. However, the Director may determine the discharges are not representative and require sampling of all non-identical outfalls.

The representative discharge provision in the permit is available to almost all facilities subject to the analytical monitoring requirements (not including compliance monitoring for effluent guideline limit compliance purposes) and to facilities subject to visual examination requirements.

The representative discharge provisions described above are consistent with Section 5.2 of NPDES Storm Water Sampling Guidance Document (EPA 833-B-92-001, July 1992).

7. Sampling Waiver

Today's proposal retains the same provisions for sampling waivers (as discussed below) which are found in the existing MSGP:

a. Adverse Weather Conditions. The proposed MSGP-2000 allows for temporary waivers from sampling based on adverse climatic conditions. This temporary sampling waiver is only intended to apply to insurmountable weather conditions such as drought or dangerous conditions such as lightning, flash flooding, or hurricanes. These events tend to be isolated incidents and should not be used as an excuse for not conducting sampling under more favorable conditions associated with other storm events. The sampling waiver is not intended to apply to difficult logistical conditions, such as remote facilities with few employees or discharge locations which are difficult to access. When a discharger is unable to collect samples within a specified sampling period due to adverse climatic conditions, the discharger shall collect a substitute sample from a separate qualifying event in the next sampling period as well as a sample for the routine monitoring required in that period. Both samples should be analyzed separately and the results of that analysis submitted to EPA. Permittees are not required to obtain advance approval for sampling waivers.

b. Unstaffed and Inactive Sites—Chemical Sampling Waiver. Today's proposal allows for a waiver from sampling for facilities that are both inactive and unstaffed. This waiver is only intended to apply to these facilities where lack of personnel and locational impediments hinder the ability to conduct sampling (i.e., the ability to meet the time and representative rainfall sampling specifications). This waiver is not intended to apply to remote facilities that are active and staffed, nor to facilities with just difficult logistical conditions. When a discharger is unable to collect samples as specified in this permit, the discharger shall certify to the Director in the DMR that the facility is unstaffed and inactive and the ability to conduct samples within the specifications is not possible. Permittees are not required to obtain advance approval for this waiver.

c. Unstaffed and Inactive Sites—Visual Monitoring Waiver. The proposed MSGP-2000 allows for a waiver from sampling for facilities that are both inactive and unstaffed. This waiver is only intended to apply to these facilities where lack of personnel and locational impediments hinder the ability to conduct visual examinations (i.e., the ability to meet the time and representative rainfall sampling specifications). This monitoring waiver is not intended to apply to remote facilities that are active and staffed, nor to facilities with just difficult logistical conditions. When a discharger is unable to perform visual examinations as specified in this permit, the discharger shall maintain on site with the pollution prevention plan a certification stating that the facility is unstaffed and inactive and the ability to perform visual examinations within the specifications is not possible. Permittees are not required to obtain advance approval for visual examination waivers.

8. Quarterly Visual Examination of Storm Water Quality

Today's proposal retains the requirements of the existing MSGP for quarterly visual examinations of storm water discharges which EPA continues to believe provide a useful an inexpensive means for permittees to evaluate the effectiveness of their SWPPPs (with immediate feedback) and make any necessary modifications to address the results of the visual examinations. All sectors of today's proposed MSGP are required to conduct these examinations. In the existing MSGP all sectors except Sector S (which covers air transportation) are required to conduct the examinations.

Basically, the MSGP requires that grab samples of storm water discharges be taken and examined visually for the presence of color, odor, clarity, floating solids, settled solids, suspended solids, foam, oil sheen or other obvious indicators of storm water pollution. The grab samples must be taken within the first 30 minutes after storm water discharges begin, or as soon as practicable, but not longer than 1 hour after discharges begin. The sampling must be conducted quarterly during the following time periods: January-March, April-June, July-September and October-December of each year. The reports summarizing these quarterly visual storm water examinations must be maintained on-site with the SWPPP.

The examination of the sample must be made in well lit areas. The visual examination is not required if there is insufficient rainfall or snow-melt to runoff or if hazardous conditions prevent sampling. Whenever practicable the same individual should carry out the collection and examination of discharges throughout the life of the permit to ensure the greatest degree of consistency possible in recording observations.

When conducting a storm water visual examination, the pollution prevention team, or team member, should attempt to relate the results of the examination to potential sources of storm water contamination on the site. For example, if the visual examination reveals an oil sheen, the facility personnel (preferably members of the pollution prevention team) should conduct an inspection of the area of the site draining to the examined discharge to look for obvious sources of spilled oil, leaks, etc. If a source can be located, then this information allows the facility operator to immediately conduct a clean-up of the pollutant source, and/or to design a change to the SWPPP to eliminate or minimize the contaminant source from occurring in the future.

Other examples include: If the visual examination results in an observation of floating solids, the personnel should carefully examine the solids to see if they are raw materials, waste materials or other known products stored or used at the site. If an unusual color or odor is sensed, the personnel should attempt to compare the color or odor to the colors or odors of known chemicals and other materials used at the facility. If the examination reveals a large amount of settled solids, the personnel may check for unpaved, unstabilized areas or areas of erosion. If the examination results in a cloudy sample that is very slow to settle-out, the personnel should evaluate the site draining to the discharge point for fine particulate material, such as dust, ash, or other pulverized, ground, or powdered chemicals.

To be most effective, the personnel conducting the visual examination should be fully knowledgeable about the SWPPP, the sources of contaminants on the site, the industrial activities conducted exposed to storm water and the day to day operations that may cause unexpected pollutant releases.

If the visual examination results in a clean and clear sample of the storm water discharge, this may indicate that no pollutants are present. This would be a indication of a high quality result, however, the visual examination will not provide information about dissolved contamination. If the facility is in a sector or subsector required to conduct analytical (chemical) monitoring, the results of the chemical monitoring, if conducted on the same sample, would help to identify the presence of any dissolved pollutants and the ultimate effectiveness of the pollution prevention plan. If the facility is not required to conduct analytical monitoring, it may do so if it chooses to confirm the cleanliness of the sample.

While conducting the visual examinations, personnel should constantly be attempting to relate any contamination that is observed in the samples to the sources of pollutants on site. When contamination is observed, the personnel should be evaluating whether or not additional BMPs should be implemented in the SWPPP to address the observed contaminant, and if BMPs have already been implemented, evaluating whether or not these are working correctly or need maintenance. Permittees may also conduct more frequent visual examinations than the minimum quarterly requirement, if they so choose. By doing so, they may improve their ability to ascertain the effectiveness of their plan. Using this guidance, and employing a strong knowledge of the facility operations, EPA believes that permittees should be able to maximize the effectiveness of their storm water pollution prevention efforts through conducting visual examinations which give direct, frequent feedback to the facility operator or pollution prevention team on the quality of the storm water discharge.

EPA believes that this quick and simple assessment will help the permittee to determine the effectiveness of his/her plan on a regular basis at very little cost. Although the visual examination cannot assess the chemical properties of the storm water discharged from the site, the examination will provide meaningful results upon which the facility may act quickly. EPA recommends that the visual examination be conducted at different times than the chemical monitoring, but is not requiring this. In addition, more frequent visual examinations can be conducted if the permittee so chooses. In this way, better assessments of the effectiveness of the pollution prevention plan can be achieved. The frequency of this visual examination will also allow for timely adjustments to be made to the plan. If BMPs are performing ineffectively, corrective action must be implemented. A set of tracking or follow-up procedures must be used to ensure that appropriate actions are taken in response to the examinations. The visual examination is intended to be performed by members of the pollution prevention team. This hands-on examination will enhance the staff's understanding of the site's storm water problems and the effects of the management practices that are included in the plan.

F. Regional Offices

1. Notice of Intent Address

Notices of Intent to be authorized to discharge under the MSGP should be sent to: Storm Water Notice of Intent (4203), USEPA 401 M Street, SW, Washington, DC 20460.

2. EPA Regional Contacts

For further information, please call the appropriate EPA Regional storm water contacts listed below:

• ME, MA, NH, Indian country in CT, MA, ME, RI, and Federal Facilities in VT.

EPA Region 1, Office of Ecosystem Protection, One Congress Street—CMU, Boston, MA 02114, Contact: Thelma Murphy (617) 918-1615.

• PR

U.S. EPA, Region 2, Caribbean Environmental Protection Division, Centro Europa Building, 1492 Ponce de Leon Avenue, Suite 417, San Juan, Puerto Rico 00907-4127, Contact: Sergio Bosques (787) 729-6951.

• DC and Federal Facilities in DE

EPA Region 3, Water Protection Division (3WP13), Storm Water Coordinator, 1650 Arch Street, Philadelphia, PA 19103, Contact: Mary Letzkus, (215) 814-2087.

• FL and Indian country in FL

EPA Region 4, Water Management Division, Surface Water Permits Section (SWPFB), 61 Forsyth Street, SW, Atlanta, GA 30303-3104, Contact: Floyd Wellborn (404) 562-9296.

• NM; Indian country in LA, OK, TX and NM (Except Navajo and Ute Mountain Reservation Lands); oil and gas exploration and production related industries and pipeline operations and point source discharges associated with agricultural production, services, and silviculture in OK (which under State law are regulated by the Oklahoma Corporation Commission or the Oklahoma Department of Agriculture and not the Oklahoma Department of Environmental Quality); and oil and gas sites in TX.

EPA Region 6, NPDES Permits Section (6WQ-PP) 1445 Ross Avenue, Dallas, TX 75202-2733, Contact: Brent Larsen (214) 665-7523.

• Federal facilities in the State of Colorado; Indian Country in CO, MT, ND, SD, WY and UT (except Goshute Reservation lands); Ute Mountain Reservation lands in CO and NM ; and Pine Ridge Reservation lands in SD and NE.

EPA Region 8, Ecosystems Protection Program (8EPR-EP), 999 18th Street, Suite 500, Denver, CO 80202-2466, Contact: Vern Berry (303) 312-6071.

• AZ, American Samoa, Commonwealth of Northern Mariana Islands, Johnston Atoll, Guam, Midway Island and Wake Island; all Indian country in AZ, CA, and NV; those portions of the Duck Valley, Fort McDermitt and Goshute Reservations that are outside NV; those portions of the Navajo Reservation that are outside AZ.

EPA Region 9, Water, Management Division, (WTR-5), Storm Water Staff, 75 Hawthorne Street, San Francisco, CA 94105, Contact: Eugene Bromley (415) 744-1906.

• AK and ID; Indian country in AK, ID (except the Duck Valley Reservation), OR (except the Fort McDermitt Reservation), and WA; and Federal facilities in WA.

EPA Region 10, Office of Water (OW-130), Storm Water Staff, 1200 Sixth Avenue, Seattle, WA 98101.

VII. Cost Estimates

Cost estimates for the MSGP were included with the final fact sheet accompanying the issuance of the MSGP on September 29, 1995 and are not being repeated here. However, additional costs for facilities seeking coverage under the reissued MSGP should be minor since the proposed MSGP includes few changes from the existing MSGP. Costs may actually decrease for those facilities required to perform analytic monitoring under the original MSGP if the Agency opts to forgo analytic monitoring in the MSGP-2000 (pending receipt of fourth-year monitoring data and public comments).

VIII. Special Requirements for Discharges Associated With Specific Industrial Activities

Section VIII of the fact sheet accompanying the 1995 MSGP included a detailed description of the industrial sectors covered by the permit, sources of pollutants from the different types of industries, available industry-specific BMPs, and a description of the industrial-specific permit requirements. As noted previously, EPA is not repeating all this information due to its considerable length. Table 1 in Section IV of this fact sheet listed the industrial sectors and subsectors covered by the proposed MSGP. For today's proposed MSGP, EPA reviewed the various sectors and subsectors to determine whether additional BMP opportunities have been identified subsequent to the issuance of the 1995 MSGP which would be appropriate to include in the reissued MSGP.

To update the various sectors and subsectors, EPA reviewed a variety of sources of information. As noted in Section VI.C of this fact sheet, pollution prevention is the cornerstone of the NPDES storm water permit program, and as such, EPA focused on new pollution prevention opportunities in updating the sectors. EPA itself has several ongoing programs directed toward identifying additional pollution prevention opportunities for different industrial sectors. One example would be the “sector notebooks” which EPA's Office of Compliance has published covering 28 different industries, including many of those covered by the MSGP. EPA's Design for the Environment Program and Common Sense Initiative would be additional examples. States, municipalities, industry trade associations and individual companies have also been active in recent years in trying to identify additional pollution prevention opportunities for different types of industries.

In reviewing the new information, however, EPA has identified only a few sectors where there appear to be additional storm water BMPs which would be appropriate for the reissued MSGP. For many industries, while considerable work has been conducted to reduce the environmental effects of these industries, little of the work has focused specifically on storm water. Rather the efforts have focused more in areas such as manufacturing process changes to reduce hazardous waste generation or to reduce pollutant discharges in process wastewater. Where additional storm water BMPs have been identified and are proposed to be incorporated into the reissued MSGP, these new requirements are discussed below by sector. In some sectors, additional language clarifying the permit requirements has been added and these changes are also discussed below.

A. Sector C—Chemical and Allied Products Facilities

Industry-specific requirements for the manufacture of fertilizer from leather scraps (SIC 2873) was moved from Sector Z (Leather Tanning and Finishing) to Sector C. This change places the requirements for SIC 2873 in the same sector as other manufacturers of fertilizers.

B. Sector G—Metal Mining (Ore Dressing and Mining)

To clarify the applicability of the MSGP with regards to construction activity at metal mining sites, Sector G has been modified to indicate that earth-disturbing activities which disturb 5 or more acres may require permit coverage under EPA's construction general permit (63 FR 7858, February 17, 1998), or an alternate NPDES permit authorizing storm water discharges associated with construction activity. The discharges requiring such alternate permitting would primarily occur during exploration and start-up of a metal mining activity, but may also apply to expansion of an existing mine into new areas.

Today's proposal also incorporates the MSGP modifications of August 7, 1998 (63 FR 42534) regarding storm water discharges from waste rock and overburden piles. On October 10, 1995, the National Mining Association challenged the interpretation set forth in Table G-4 of the 1995 MSGP that runoff from waste rock and overburden piles would categorically be considered mine drainage subject to effluent limitations guidelines (ELGs) at 40 CFR part 440. The litigation was settled on August 7, 1998 with a revised interpretation by EPA of the applicability of the ELGs which is incorporated into the proposed MSGP-2000. Under the revised interpretation, runoff from waste rock and overburden piles is not subject to ELGs unless it naturally drains (or is intentionally diverted) to a point source and combines with “mine drainage” that is otherwise subject to the ELGs.

The August 7, 1998 modification of the MSGP provided permit coverage for storm water discharges from waste rock and overburden piles which are not subject to ELGs. However, due to concerns regarding potential pollutants in the discharges, additional monitoring requirements were included in the permit to determine the pollutant concentrations in the discharges. These monitoring requirements are also included in today's proposed MSGP.

C. Sector J—Mineral Mining and Processing

EPA has re-evaluated the provisions of the current MSGP for industrial facilities in Sector J to determine whether these provisions need to be updated for the reissued MSGP. Although neither additional BMP nor additional monitoring requirements are being proposed, the permit language has been clarified to indicate that earth-disturbing activities which disturb 5 or more acres may require permit coverage under EPA's construction general permit (63 FR 7858, February 17, 1998), or an alternate NPDES permit authorizing storm water discharges associated with construction activity. The discharges requiring such alternate permitting would primarily occur during exploration and start-up of a mineral mining activity, but may also apply to expansion of an existing mine into new areas.

D. Sector K—Hazardous Waste Treatment, Storage or Disposal Facilities

EPA has re-evaluated the provisions of the current MSGP for industrial facilities in Sector K to determine whether these provisions need to be updated for the reissued MSGP. On January 19, 2000 (65 FR 3008), EPA promulgated final effluent limitations guidelines (ELGs) for “contaminated storm water discharges” from new and existing hazardous landfill facilities regulated under RCRA Subtitle C at 40 CFR parts 264 (subpart N) and 265 (subpart N), except for the following “captive” landfills:

(a) Landfills operated in conjunction with other industrial or commercial operations when the landfill only receives wastes generated by the industrial or commercial operation directly associated with the landfill;

(b) Landfills operated in conjunction with other industrial or commercial operations when the landfill receives wastes generated by the industrial or commercial operation directly associated with the landfill and also receives other wastes provided the other wastes received for disposal are generated by a facility that is subject to the same provisions in 40 CFR Subchapter N as the industrial or commercial operation or the other wastes received are of similar nature to the wastes generated by the industrial or commercial operation;

(c) Landfills operated in conjunction with Centralized Waste Treatment (CWT) facilities subject to 40 CFR part 437 so long as the CWT facility commingles the landfill wastewater with other non-landfill wastewater for discharge. A landfill directly associated with a CWT facility is subject to this part if the CWT facility discharges landfill wastewater separately from other CWT wastewater or commingles the wastewater from its landfill only with wastewater from other landfills; or

(d) Landfills operated in conjunction with other industrial or commercial operations when the landfill receives wastes from public service activities so long as the company owning the landfill does not receive a fee or other remuneration for the disposal service.

For Sector K of the new MSGP, EPA is proposing to include the new ELGs (40 CFR part 445 subpart A) for hazardous landfill facilities.

The term “contaminated storm water” is defined in the ELGs as “storm water which comes in direct contact with landfill wastes, the waste handling and treatment areas, or landfill wastewater.” (40 CFR 445.2). Contaminated storm water may originate from areas at a landfill including (but not limited to): “the open face of an active landfill with exposed waste (no cover added); the areas around wastewater treatment operations; trucks, equipment or machinery that has been in direct contact with the waste; and waste dumping areas.” (40 CFR 445.2).

The term “non-contaminated storm water” is defined in the ELGs as “storm water which does not come in direct contact with landfill wastes, the waste handling and treatment areas, or landfill wastewater.” (40 CFR 445.2). Non-contaminated storm water includes storm water which “flows off the cap, cover, intermediate cover, daily cover, and/or final cover of the landfill.” [40 CFR 445.2].

The term “landfill wastewater” is defined in the ELGs as “all wastewater associated with, or produced by, landfilling activities except for sanitary wastewater, non-contaminated storm water, contaminated groundwater, and wastewater from recovery pumping wells. Landfill wastewater includes, but is not limited to, leachate, gas collection condensate, drained free liquids, laboratory derived wastewater, contaminated storm water and contact washwater from washing truck, equipment, and railcar exteriors and surface areas which have come in direct contact with solid waste at the landfill facility.”

The existing MSGP authorizes discharges of storm water associated with industrial activity which includes contaminated storm water discharges (as defined above) as well as other non-contaminated storm water discharges (also defined above). The proposed MSGP would continue to authorize storm water associated with industrial activity; however, for contaminated storm water discharges as defined above, the proposed MSGP would require compliance with the promulgated ELGs for such discharges (with monitoring once/year during each year of the term of the proposed MSGP). The ELGs for the new and existing hazardous landfills are found in Table K-1 below:

Table K-1.—Effluent Limitations Guidelines for Contaminated Storm Water Discharges
[mg/l]
Pollutant | Maximum for 1 day | Monthly average maximum
BOD5 | 220 | 56
TSS | 88 | 27
Ammonia | 10 | 4.9
Alpha Terpineol | 0.042 | 0.019
Aniline | 0.024 | 0.015
Benzoic Acid | 0.119 | 0.073
Naphthalene | 0.059 | 0.022
p-Cresol | 0.024 | 0.015
Phenol | 0.048 | 0.029
Pyridine | 0.072 | 0.025
Arsenic (total) | 1.1 | 0.54
Chromium (total) | 1.1 | 0.46
Zinc (total) | 0.535 | 0.296
pH | within the range of 6-9 pH units

Today's proposed MSGP (like the existing MSGP) would not authorize non-storm water discharges such as leachate and vehicle and equipment washwater. These and other landfill-generated wastewaters are subject to the ELGs. The proposed MSGP would, however, continue to authorize certain minor non-storm water discharges (listed in Part 1.2.2.2) which are very similar to the existing MSGP.

E. Sector L—Landfills, Land Application Sites and Open Dumps

EPA has re-evaluated the provisions of the current MSGP for industrial facilities in Sector L to determine whether these provisions need to be updated for the reissued MSGP. The SWPPP requirements of the existing MSGP already include several special BMPs for this industry in addition to the MSGP's basic BMP requirements.

On January 19, 2000 (65 FR 3008), EPA promulgated final effluent limitations guidelines (ELGs) for “contaminated storm water discharges” from new and existing non-hazardous landfill facilities regulated under RCRA Subtitle D (40 CFR part 445 subpart B). For Sector L of today's proposed MSGP, EPA is proposing to include the ELGs as they apply to facilities covered by this sector. For Sector L facilities, the ELGs apply to:

Municipal solid waste landfills regulated under RCRA Subtitle D at 40 CFR part 258 and those landfills which are subject to the provisions of 40 CFR part 257, except for any of the following “captive” landfills:

(a) Landfills operated in conjunction with other industrial or commercial operations when the landfill only receives wastes generated by the industrial or commercial operation directly associated with the landfill;

(b) Landfills operated in conjunction with other industrial or commercial operations when the landfill receives wastes generated by the industrial or commercial operation directly associated with the landfill and also receives other wastes provided the other wastes received for disposal are generated by a facility that is subject to the same provisions in 40 CFR Subchapter N as the industrial or commercial operation or the other wastes received are of similar nature to the wastes generated by the industrial or commercial operation;

(c) Landfills operated in conjunction with Centralized Waste Treatment (CWT) facilities subject to 40 CFR part 437 so long as the CWT facility commingles the landfill wastewater with other non-landfill wastewater for discharge. A landfill directly associated with a CWT facility is subject to this part if the CWT facility discharges landfill wastewater separately from other CWT wastewater or commingles the wastewater from its landfill only with wastewater from other landfills; or

(d) Landfills operated in conjunction with other industrial or commercial operations when the landfill receives wastes from public service activities so long as the company owning the landfill does not receive a fee or other remuneration for the disposal service.

EPA is not proposing to modify Sector L for the discharges which are not subject to the ELGs. In addition, EPA would like to call attention to a new EPA publication entitled “Guide for Industrial Waste Management” (EPA 530-R-99-001, June, 1999) which provides a useful information resource for permittees in complying with the MSGP, and in minimizing the impact of landfills to the environment overall.

The term “contaminated storm water” is defined in the ELGs as “storm water which comes in direct contact with landfill wastes, the waste handling and treatment areas, or landfill wastewater.” (40 CFR 445.2). Contaminated storm water may originate from areas at a landfill including (but not limited to): “the open face of an active landfill with exposed waste (no cover added); the areas around wastewater treatment operations; trucks, equipment or machinery that has been in direct contact with the waste; and waste dumping areas.” (40 CFR 445.2).

The term “non-contaminated storm water” is defined in the ELGs as “storm water which does not come in direct contact with landfill wastes, the waste handling and treatment areas, or landfill wastewater.” (40 CFR 445.2). Non-contaminated storm water includes storm water which “flows off the cap, cover, intermediate cover, daily cover, and/or final cover of the landfill.” (40 CFR 445.2).

The term “landfill wastewater” is defined in the ELGs as “all wastewater associated with, or produced by, landfilling activities except for sanitary wastewater, non-contaminated storm water, contaminated groundwater, and wastewater from recovery pumping wells. Landfill wastewater includes, but is not limited to, leachate, gas collection condensate, drained free liquids, laboratory derived wastewater, contaminated storm water and contact washwater from washing truck, equipment, and railcar exteriors and surface areas which have come in direct contact with solid waste at the landfill facility.” (40 CFR 445.2).

The existing MSGP authorizes discharges of storm water associated with industrial activity from landfills including contaminated storm water discharges as defined in the ELGs as well as non-contaminated storm water. Today's proposal would continue to authorize storm water associated with industrial activity; however, for contaminated storm water discharges as defined above, the proposed MSGP would require compliance with the promulgated ELGs for such discharges (with monitoring once/year during each year of the term of the proposed MSGP). The ELGs are found in Table L-1 below:

Table L-1.—Effluent Limitations Guidelines for Contaminated Storm Water Discharges
(mg/l)
Pollutant | Maximum for 1 day | Monthly average maximum
BOD5 | 140 | 37
TSS | 88 | 27
Ammonia | 10 | 4.9
Alpha Terpineol | 0.033 | 0.016
Benzoic Acid | 0.12 | 0.071
p-Cresol | 0.025 | 0.014
Phenol | 0.026 | 0.015
Zinc (Total) | 0.20 | 0.11
pH | within the range of 6-9 pH units

The proposed MSGP (like the existing MSGP) would not authorize non-storm water discharges such as leachate and vehicle and equipment washwater. These and other landfill-generated wastewaters are subject to the ELGs. The proposed MSGP would, however, continue to authorize the same minor non-storm water discharges (listed in Part 1.2.2.2) as the existing MSGP.

F. Sector S—Air Transportation Facilities

EPA has re-evaluated the provisions of the current MSGP for industrial facilities in Sector S to determine whether these provisions need to be updated for the reissued MSGP. The SWPPP requirements of the existing MSGP include several special BMP requirements for airports in addition to the MSGP's basic BMP requirements. However, additional technologies have been developed since the original MSGP issuance for deicing operations which are proposed to be included in today's MSGP. First, with regards to deicing compounds, the existing MSGP requires that permittees consider only one compound (potassium acetate) in lieu of ethylene glycol, propylene glycol and urea. Part 6.S.5.3.6 of today's proposed MSGP also requires a consideration of magnesium acetate, calcium acetate and anhydrous sodium acetate as additional deicing alternatives which (like potassium acetate), EPA believes would be environmentally preferable.

Part 6.S.5.3.6.2 of today's proposed MSGP also requires a consideration of new technologies for aircraft deicing including infra-red treatment, hot air treatment and sonic treatment. Other new deicing options which must be considered include deicing aircraft in a dedicated area or pad with a runoff collection/recovery system, and using a deicer gantry that delivers controlled amounts of chemical to specific areas of the aircraft.

G. Sector T—Treatment Works

EPA has re-evaluated the provisions of the current MSGP for industrial facilities in Sector T to determine whether these provisions need to be updated for the reissued MSGP. The SWPPP requirements of the existing MSGP already include a few special BMP requirements for this industry in addition to the MSGP's basic BMP requirements. In reviewing the information which EPA has available on this industry, EPA has identified several additional areas at treatment works facilities which we believe should be considered more closely for potential storm water controls. As a result, EPA has included additional or modified permit requirements which we believe would be appropriate to include in Sector T.

The proposed MSGP-2000 requires that operators of Sector T treatment works include the following additional areas or activities, where they are exposed to precipitation, in their SWPPP site map, summary of potential pollutant sources, and inspections: Grit, screenings and other solids handling, storage or disposal areas; sludge drying beds; dried sludge piles; compost piles; septage and/or hauled waste receiving stations. An additional BMP that permittees must consider is routing storm water to into the treatment works, or covering exposed materials from these additional areas or activities.

H. Sector Y—Rubber, Miscellaneous Plastic Products and Miscellaneous Manufacturing Industries

EPA has re-evaluated the provisions of the current MSGP for industrial facilities in Sector Y. The existing MSGP includes several special BMP requirements for rubber manufacturers to control zinc in storm water discharges. However, no special BMPs beyond the MSGP's basic SWPPP requirements are included in the existing MSGP for manufacturers of miscellaneous plastic products or miscellaneous manufacturing industries.

EPA has several ongoing programs directed toward identifying additional pollution prevention opportunities for different industrial sectors. For example, EPA's Office of Compliance has published “sector notebooks” for a number of industries, including the rubber and miscellaneous plastics industry (EPA 310-R-95-016). The sector notebooks are intended to facilitate a multi-media analysis of environmental issues associated with different industries and include a review of pollution prevention opportunities for the industries. As discussed below, EPA's sector notebook for the rubber and plastic products industry identifies a number of additional BMPs (beyond those in the existing MSGP) which could further reduce pollutants in storm water discharges from these facilities, and which are proposed for the reissued MSGP.

1. Rubber Manufacturing Facilities

The proposed MSGP-2000 requires that rubber manufacturing facility permittees consider the following additional BMPs (which were selected from those in the sector notebook) for the rubber product compounding and mixing area:

(1) Consider the use of chemicals which are purchased in pre-weighed, sealed polyethylene bags. The sector notebook points out that some facilities place such bags directly into the banbury mixer, thereby eliminating a formerly dusty operation which could result in pollutants in storm water discharges.

(2) Consider the use of containers which can be sealed for materials which are in use; also consider ensuring an airspace between the container and the cover to minimize “puffing” losses when the container is opened.

(3) Consider the use of automatic dispensing and weighing equipment. The sector notebook observes that such equipment minimizes the chances for chemical losses due to spills.

2. Plastic Products Manufacturing Facilities

For plastic products manufacturing facilities, the proposed MSGP-2000 requires that permittees consider and include (as appropriate) specific measures in the SWPPP to minimize loss of plastic resin pellets to the environment. These measures include (at a minimum) spill minimization, prompt and thorough cleanup of spills, employee education, thorough sweeping, pellet capture and disposal precautions. Additional specific guidance on minimizing loss can be found in the EPA publication entitled “Plastic Pellets in the Aquatic Environment: Sources and Recommendations” (EPA 842-B-92-010, December, 1992) and at the website of the Society of the Plastics Industry (www.socplas.org).

3. Industry-Sponsored Efforts

Both the rubber manufacturing and plastic products industries are also active in sponsoring studies designed to reduce the environmental impacts associated with the production, use and ultimate disposal of their products. However, in reviewing recent work in this regard, EPA has not identified any additional BMPs for storm water discharges which would be appropriate for the reissued MSGP. Therefore, only the additional BMPs noted above are proposed for the reissued MSGP for these industries.

IX. Economic Impact (Executive Order 12866)

Under Executive Order 12866 (58 FR 51735 (October 4, 1993)), the Agency must determine whether the regulatory action is “significant” and therefore subject to OMB review and the requirements of the Executive Order. The Order defines “significant regulatory action” as one that is likely to result in a rule that may have an annual effect on the economy of $100 million or more or adversely affect in a material way the economy, a sector of the economy, productivity, competition, jobs, the environment, public health or safety, or State, local, or tribal governments or communities; create a serious inconsistency or otherwise interfere with an action taken or planned by another agency; materially alter the budgetary impact of entitlements, grants, user fees, or loan programs or the rights and obligations of recipients thereof; or raise novel legal or policy issues arising out of legal mandates, the President's priorities, or the principles set forth in the Executive Order.

EPA has determined that the proposed MSGP is not a “significant regulatory action” under the terms of Executive Order 12866 and is therefore not subject to formal OMB review prior to proposal.

X. Unfunded Mandates Reform Act

Section 201 of the Unfunded Mandates Reform Act (UMRA), Pub L. 104-4, generally requires Federal agencies to assess the effects of their “regulatory actions” on State, local, and tribal governments and the private sector. UMRA uses the term “regulatory actions” to refer to regulations. (See, e.g., UMRA section 201, “Each agency shall * * * assess the effects of Federal regulatory actions * * * (other than to the extent that such regulations incorporate requirements specifically set forth in law)” (emphasis added)). UMRA section 102 defines “regulation” by reference to 2 U.S.C. 658 which in turn defines “regulation” and “rule” by reference to section 601(2) of the Regulatory Flexibility Act (RFA). That section of the RFA defines “rule” as “any rule for which the agency publishes a notice of proposed rulemaking pursuant to section 553(b) of (the Administrative Procedure Act (APA)), or any other law* * * ”

As discussed in the RFA section of this notice, NPDES general permits are not “rules” under the APA and thus not subject to the APA requirement to publish a notice of proposed rulemaking. NPDES general permits are also not subject to such a requirement under the CWA. While EPA publishes a notice to solicit public comment on draft general permits, it does so pursuant to the CWA section 402(a) requirement to provide “an opportunity for a hearing.” Thus, NPDES general permits are not “rules” for RFA or UMRA purposes.

EPA has determined that today's proposal would not result in expenditures of $100 million or more for State, local and Tribal governments, in the aggregate, or the private sector in any one year.

The Agency also believes that the proposed MSGP-2000 will not significantly nor uniquely affect small governments. For UMRA purposes, “small governments” is defined by reference to the definition of “small governmental jurisdiction” under the RFA. (See UMRA section 102(1), referencing 2 U.S.C. 658, which references section 601(5) of the RFA.) “Small governmental jurisdiction” means governments of cities, counties, towns, etc., with a population of less than 50,000, unless the agency establishes an alternative definition.

The proposed MSGP also will not uniquely affect small governments because compliance with the proposed permit conditions affects small governments in the same manner as any other entities seeking coverage under the proposed permit.

XI. Paperwork Reduction Act

EPA has reviewed the requirements imposed on regulated facilities resulting from the proposed MSGP under the Paperwork Reduction Act of 1980, 44 U.S.C. 3501 et seq. The information collection requirements of the MSGP have already been approved in previous submissions made for the NPDES permit program under the provisions of the Clean Water Act.

XII. Regulatory Flexibility Act

The Agency has determined that the proposed MSGP being published today is not subject to the Regulatory Flexibility Act (“RFA”), which generally requires an agency to conduct a regulatory flexibility analysis of any significant impact the rule will have on a substantial number of small entities. By its terms, the RFA only applies to rules subject to notice-and-comment rulemaking requirements under the Administrative Procedure Act (“APA”) or any other statute. Today's proposed MSGP is not subject to notice and comment requirements under the APA or any other statute because the APA defines “rules” in a manner that excludes permits. See APA section 551 (4), (6), and (8).

APA section 553 does not require public notice and opportunity for comment for interpretative rules or general statements of policy. In addition to proposing the new MSGP to be reissued, today's notice repeats an interpretation of existing regulations promulgated almost twenty years ago. The action would impose no new or additional requirements.

XIII. Official Signatures

Authority: Clean Water Act, 33 U.S.C. 1251 et seq.

Dated: March 6, 2000.
Linda M. Murphy,
Director, Office of Ecosystem Protection, EPA—Region I.

Dated: March 10, 2000.
Kathleen C. Callahan,
Director, Division of Environmental Planning and Protection, Region 2.

Dated: March 3, 2000.
Jon M. Capacasa,
Acting Director, Water Protection Division, EPA, Region 3.

Dated: March 6, 2000.
Beverly H. Banister,
Deputy Division Director, Region 4.

Dated: March 2, 2000.
William B. Hathaway,
Director, Water Quality Protection Division, EPA Region 6.

Dated: March 6, 2000.
Kerrigan G. Clough,
Assistant Regional Administrator, Office of Pollution Prevention, State and Tribal Assistance, Region 8.

Dated: March 2, 2000.
Alexis Strauss,
Director, Water Division, EPA, Region 9.

XIII. Official Signatures

Authority: Clean Water Act, 33 U.S.C. 1251 et seq.

Dated: March 6, 2000.
Randall F. Smith,
Director, Office of Water, EPA Region 10.

[Note to the Public: “Notes” appearing in brackets [...] are used to highlight an area the Agency is particularly interested in soliciting public comment. These bracketed notes will not appear in the final permit. “Notes” or “Cautions” that do not appear in brackets are part of the proposed permit and are used to highlight or clarify permit conditions.]

NPDES Multi-Sector General Permits For Storm Water Discharges Associated With Industrial Activities

Cover Page

Permit No. (See Part 1.1)

Authorization to Discharge Under the National Pollutant Discharge Elimination System

In compliance with the provisions of the Clean Water Act, as amended, (33 U.S.C. 1251 et. seq.), operators of discharges associated with industrial activities that submit a complete Notice of Intent in accordance with part 2.2 for a discharge that is located in an area specified in part 1.1 and eligible for permit coverage under part 1.2 are authorized to discharge pollutants to waters of the United States in accordance with the conditions and requirements set forth herein.

This permit becomes effective on March 30, 2000.

This permit and the authorization to discharge expire at midnight, March 30, 2005.

Region 1

Signed and issued this ___ day of _____, 2000

(reserved for final permit decision)

______________

(Signature of Water Management Division Director)

Region 2

Signed and issued this ___ day of _____, 2000

(reserved for final permit decision)

______________

(Signature of Water Management Division Director)

Region 3

Signed and issued this ___ day of _____, 2000

(reserved for final permit decision)

______________

(Signature of Water Management Division Director)

Region 4

Signed and issued this ___ day of _____, 2000

(reserved for final permit decision)

______________

(Signature of Water Management Division Director)

Region 6

Signed and issued this ___ day of _____, 2000

(reserved for final permit decision)

______________

(Signature of Water Management Division Director)

Region 8

Signed and issued this ___ day of _____, 2000

(reserved for final permit decision)

______________

(Signature of Water Management Division Director)

Region 9

Signed and issued this ___ day of _____, 2000

(reserved for final permit decision)

______________

(Signature of Water Management Division Director)

Region 10

Signed and issued this ___ day of _____, 2000

(reserved for final permit decision)

______________

(Signature of Water Management Division Director)

NPDES Multi-Sector General Permits for Storm Water

Table of Contents

1. Coverage Under This Permit

1.1 Permit Area

1.2 Eligibility

1.3 How to Obtain Authorization Under This Permit

1.4 Terminating Coverage

1.5 Conditional Exclusion for No Exposure

2. Notice of Intent Requirements

2.1 Notice of Intent (NOI) Deadlines

2.2 Contents of Notice of Intent (NOI)

2.3 Use of NOI Form

2.4 Where to Submit

2.5 Additional Notification

3. Special Conditions

3.1 Hazardous Substances or Oil

3.2 Additional Requirements for Salt Storage

3.3 Discharge Compliance With Water Quality Standards

4. Storm Water Pollution Prevention Plans

4.1 Storm Water Pollution Prevention Plan Requirements

4.2 Contents of Plan

4.3 Maintenance

4.4 Non-Storm Water Discharges

4.5 Documentation of Permit Eligibility Related to Endangered Species

4.6 Documentation of Permit Eligibility Related to Historic

4.7 Copy of Permit Requirements

4.8 Applicable State, Tribal or Local Plans

4.9 Comprehensive Site Compliance Evaluation

4.10 Maintaining Updated SWPPP

4.11 Signature, Plan Review and Making Plans Available

5. Monitoring Requirements and Numeric Limitations

5.1 Types of Monitoring Requirements and Limitations

5.2 Monitoring Instructions

5.3 General Monitoring Waivers

5.4 Monitoring Required the Director

5.5 Reporting Monitoring Results

6. Sector-Specific Requirements for Industrial Activity

6.A Sector A—Timber Products

6.B Sector B—Paper and Allied Products Manufacturing

6.C Sector C—Chemical and Allied Products Manufacturing

6.D Sector D—Asphalt Paving and Roofing Materials and Lubricant Manufacturers.

6.E Sector E—Glass Clay, Cement, Concrete, and Gypsum Products

6.F Sector F—Primary Metals

6.G Sector G—Metal Mining (Ore Mining and Dressing)

6.H Sector H—Coal Mines and Coal Mining Related Facilities

6.I Sector I—Oil and Gas Extraction

6.J Sector J—Mineral Mining and Dressing

6.K Sector K—Hazardous Waste Treatment, Storage or Disposal Facilities

6.L Sector L—Landfills, Land Application Sites and Open Dumps

6.M Sector M—Automobile Salvage Yards

6.N Sector N—Scrap Recycling and Waste Recycling Facilities

6.O Sector O—Steam Electric Generating Facilities

6.P Sector P—Land Transportation and Warehousing

6.Q Sector Q—Water Transportation

6.R Sector R—Ship and Boat Building or Repair Yards

6.S Sector S—Air Transportation

6.T Sector T—Treatment Works

6.U Sector U—Food and Kindred Products

6.V Sector V—Textile Mills, Apparel and Other Fabric Products

6.W Sector W—Furniture and Fixtures

6.X Sector X—Printing and Publishing

6.Y Sector Y—Rubber, Miscellaneous Plastic Products and Miscellaneous Manufacturing Industries

6.Z Sector Z—Leather Tanning and Finishing

6.AA Sector AA—Fabricated Metal Products

6.AB Sector AB—Transportation Equipment, Industrial or Commercial Machinery

6.AC Sector AC—Electronic, Electrical Equipment and Components, Photographic and Optical Goods

6.AD Storm Water Discharges Designated By the Director As Requiring Permits

7. Reporting

7.1 Reporting Results of Monitoring

7.2 Additional Reporting for Dischargers to a Large or Medium Municipal Separate Storm Sewer System

7.3 Miscellaneous Reports

8. Retention of Records

8.1 Documents

8.2 Accessibility

8.3 Addresses

8.4 State, Tribal, and Other Agencies

9. Standard Permit Conditions

9.1 Duty to Comply

9.2 Continuation of the Expired General Permit

9.3 Need to Halt or Reduce Activity Not a Defense

9.4 Duty to Mitigate

9.5 Duty to Provide Information

9.6 Other Information

9.7 Signatory Requirements

9.8 Penalties for Falsification of Reports

9.9 Oil and Hazardous Substance Liability

9.10 Property Rights

9.11 Severability

9.12 Requiring Coverage Under an Individual Permit or an Alternative General Permit

9.13 State/Tribal Environmental Laws

9.14 Proper Operation and Maintenance

9.15 Inspection and Entry

9.16 Monitoring and Records

9.17 Permit Actions

10. Reopener Clause

10.1 Water Quality Protection

10.2 Procedures for Modification or Revocation

11. Transfer or Termination of Coverage

11.1 Transfer of Permit Coverage

11.2 Notice of Termination (NOT)

11.3 Addresses

11.4 Facilities Eligible for “No Exposure” Exemption for Storm Water Permitting

12. Definitions

13. Permit Conditions Applicable to Specific States, Indian Country Lands, or Territories

Addendum A—Endangered Species Guidance

Addendum B—Historic Properties Guidance

Addendum D—Notice of Intent Form

Addendum E—Notice of Termination Form

Addendum F—No Exposure Certification Form

Note: In the Spirit of the Agency's “Readable Regulations” policy, this permit was written as much as practicable in a more reader-friendly, plain language format that should make it easier for people less familiar with traditional EPA permits and regulations to read and understand the permit requirements. Terms like “you” and “your” are used to refer to the party(ies) that are operators of a discharge, applicants, permittees, etc. Terms like “must” are used instead of “shall.” Phrasing such as “If you. * * *” is used to identify conditions that may not apply to all permittees.

1. Coverage Under This Permit

1.1 Permit Area

The permit language is structured as if it were a single permit, with State, Indian Country land or other area-specific conditions contained in Part 13. Permit coverage is actually provided by legally separate and distinctly numbered permits, all of which are contained herein, and which cover each of the areas listed in Parts 1.1.1 through 1.1.10. Note: EPA can only provide permit coverage for areas and classes of discharges not within the scope of a State's NPDES authorization. For discharges not described in an area of coverage below, please contact the appropriate State NPDES permitting authority to obtain a permit.

1.1.1 EPA Region 1: CT, MA, ME, NH, RI, VT

The states of Connecticut, Rhode Island, and Vermont are the NPDES Permitting Authority for the majority of discharges within their respective states.

Permit No. | Areas of Coverage/Where EPA is Permitting Authority
CTR05*##I | Indian Country lands within the State of Connecticut.
MAR05*### | Commonwealth of Massachusetts, except Indian Country lands.
MAR05*##I | Indian Country lands within the Commonwealth of Massachusetts.
MER05*### | State of Maine, except Indian Country lands.
MER05*##I | Indian Country lands within the State of Maine.
NHR05*### | State of New Hampshire.
RIR05*##I | Indian Country lands within the State of Rhode Island.
VTR05*##F | Federal Facilities in the State of Vermont.

1.1.2 EPA Region 2: NJ, NY, PR, VI

The state of New York is the NPDES Permitting Authority for the majority of discharges within that state. New Jersey and the Virgin Islands are the NPDES Permitting Authority for all discharges within their respective states.

Permit No. | Areas of Coverage/Where EPA is Permitting Authority
NYR05*##I | Indian Country lands within the State of New York.
PRR05*### | The Commonwealth of Puerto Rico.

1.1.3 EPA Region 3: DE, DC, MD, PA, VA, WV

The state of Delaware is the NPDES Permitting Authority for the majority of discharges within that state. Maryland, Pennsylvania, and Virginia, West Virginia are the NPDES Permitting Authority for all discharges within these states.

Permit No. | Areas of Coverage/Where EPA is Permitting Authority
DCR05*### | The District of Columbia.
DER05*##F | Federal Facilities in the State of Delaware.

1.1.4 EPA Region 4: AL, FL, GA, KY, MS, NC, SC, TN

The states of Alabama, Mississippi, and North Carolina are the NPDES Permitting Authority for the majority of discharges within their respective states. Georgia, Kentucky, South Carolina and Tennessee are the NPDES Permitting Authority for all discharges within their respective states.

Permit No. | Areas of Coverage/Where EPA is Permitting Authority
ALR05*##I | Indian Country lands within the State of Alabama.
FLR05*### | State of Florida.
FLR05*##I | Indian Country lands within the State of Florida.
MSR05*##I | Indian Country lands within the State of Mississippi.
NCR05*##I | Indian Country lands within the State of North Carolina.

1.1.5 EPA Region 5: IL, IN, MI, MN, OH, WI

Coverage Not Available.

1.1.6 EPA Region 6: AR, LA, OK, TX, NM (Except See Region 9 for Navajo Lands, and See Region 8 for Ute Mountain Reservation Lands)

The states of Louisiana, Oklahoma, and Texas are the NPDES Permitting Authority for the majority of discharges within their respective states. Arkansas is the NPDES Permitting Authority for all discharges within that state.

Permit No. | Areas of Coverage/Where EPA is Permitting Authority
LAR05*##I | Indian Country lands within the State of Louisiana.
NMR05*### | The State of New Mexico, except Indian Country lands.
NMR05*##I | Indian Country lands within the State of New Mexico, except Navajo Reservation Lands that are covered under Arizona permit AZR05*##I listed in Part 1.1.9 and Ute Mountain Reservation Lands that are covered under Colorado permit COR05*##I listed in Part 1.1.8.
OKR05*##I | Indian Country lands within the State of Oklahoma.
OKR05*##F | Oil and gas facilities under SIC codes 1311, 1381, 1382, and 1389 and 5171 and point source (but not non-point source) discharges associated with agricultural production, services, and silviculture in the State of Oklahoma, except those on Indian Country lands (i.e., discharges not under the authority of the Oklahoma Department of Environmental Quality).
TXR05*##F | Oil and gas facilities in the State of Texas under SIC codes 1311, 1321, 1381, 1382, and 1389, except those on Indian Country lands (i.e., discharges not under the authority of the Texas Natural Resource Conservation Commission).
TXR05*##I | Indian Country lands within the State of Texas.

1.1.7 EPA Region 7: IA, KS, MO, NE

Coverage Not Available.

1.1.8 EPA Region 8: CO, MT, ND, SD, WY, UT (Except See Region 9 for Goshute Reservation and Navajo Reservation Lands), the Ute Mountain Reservation in NM, and the Pine Ridge Reservation in NE

The states of Colorado, Montana, North Dakota, South Dakota, Utah, and Wyoming are the NPDES Permitting Authority for the majority of discharges within their respective states.

Permit No. | Areas of Coverage/Where EPA is Permitting Authority
COR05*##F | Federal Facilities in the State of Colorado, except those located on Indian Country lands.
COR05*##I | Indian Country lands within the State of Colorado, including the portion of the Ute Mountain Reservation located in New Mexico.
MTR05*##I | Indian Country lands within the State of Montana.
NDR05*##I | Indian Country lands within the State of North Dakota, including that portion of the Standing Rock Reservation located in South Dakota except for the Lake Traverse Reservation that is covered under South Dakota permit SDR05*##I listed below.
SDR05*##I | Indian Country lands within the State of South Dakota, including the portion of the Pine Ridge Reservation located in Nebraska and the portion of the Lake Traverse Reservation located in North Dakota except for the Standing Rock Reservation that is covered under North Dakota permit NDR05*##I listed above.
UTR05*##I | Indian Country lands within the State of Utah, except Goshute and Navajo Reservation lands that are covered under Arizona permit AZR05*##I (Goshute) listed in Part 1.1.9 and Nevada permit NVR05*##I (Navaho) listed in Part 1.1.9.
WYR05*##I | Indian Country lands within the State of Wyoming.

1.1.9 EPA Region 9: AZ, CA, HI, NV, Guam, American Samoa, the Commonwealth of the Northern Mariana Islands, the Goshute Reservation in UT and NV, the Navajo Reservation in UT, NM, and AZ, the Duck Valley Reservation in ID, and the Fort McDermitt Reservation in OR

The states of California and Nevada are the NPDES Permitting Authority for the majority of discharges within their respective states. Hawaii is the NPDES Permitting Authority for all discharges within that state.

Permit No. | Areas of Coverage/Where EPA is Permitting Authority
ASR05*### | The Island of American Samoa.
AZR05*### | The State of Arizona, except Indian Country lands.
AZR05*##I | Indian Country lands within the State of Arizona, including Navajo Reservation lands in New Mexico and Utah.
CAR05*##I | Indian Country lands within the State of California.
GUR05*### | The Island of Guam.
JAR05*### | Johnston Atoll.
MWR05*### | Midway Island and Wake Island.
NIR05*### | Commonwealth of the Northern Mariana Islands.
NVR05*##I | Indian Country lands within the State of Nevada, including the Duck Valley Reservation in Idaho, the Fort McDermitt Reservation in Oregon and the Goshute Reservation in Utah.

1.1.10 Region 10: AK, ID (Except See Region 9 for Duck Valley Reservation Lands), OR (Except See Region 9 for Fort McDermitt Reservation), WA

The states of Oregon and Washington are the NPDES Permitting Authority for the majority of discharges within their respective states.

Permit No. | Areas of Coverage/Where EPA is Permitting Authority
AKR05*### | The State of Alaska, except Indian Country lands.
AKR05*##I | Indian Country lands within Alaska.
IDR05*### | The State of Idaho, except Indian Country lands.
IDR05*##I | Indian Country lands within the State of Idaho, except Duck Valley Reservation lands which are covered under Nevada permit NVR05*##I listed in Part 1.1.9.
ORR05*##I | Indian Country lands within the State of Oregon except Fort McDermitt Reservation lands that are covered under Nevada permit NVR10*#I listed in Part 1.1.9.
WAR05*##I | Indian Country lands within the State of Washington.
WAR05*##F | Federal Facilities in the State of Washington, except those located on Indian Country lands.

1.2 Eligibility

You must maintain permit eligibility to discharge under this permit. Any discharges that are not compliant with the eligibility conditions of this permit are not authorized by the permit and you must either apply for a separate permit to cover those ineligible discharges or take necessary steps to make the discharges eligible for coverage.

1.2.1 Facilities Covered

Your permit eligibility is limited to discharges from facilities in the “sectors” of industrial activity based on Standard Industrial Classification (SIC) codes and Industrial Activity Codes summarized in Table 1-1. References to “sectors” in this permit (e.g., sector-specific monitoring requirements, etc.) refer to these sectors.

Table 1-1.—Sectors of Industrial Activity Covered by This Permit
SIC Code or activity code ¹ | Activity represented
Sector A: Timber Products
2411 | Log Storage and Handling (Wet deck storage areas only authorized if no chemical additives are used in the spray water or applied to the logs).
2421 | General Sawmills and Planning Mills.
2426 | Hardwood Dimension and Flooring Mills.
2429 | Special Product Sawmills, Not Elsewhere Classified.
2431-2439 (except 2434) | Millwork, Veneer, Plywood, and Structural Wood (see Sector W).
2448, 2449 | Wood Containers.
2451, 2452 | Wood Buildings and Mobile Homes.
2491 | Wood Preserving.
2493 | Reconstituted Wood Products.
2499 | Wood Products, Not Elsewhere Classified.
Sector B: Paper and Allied Products
2611 | Pulp Mills.
2621 | Paper Mills.
2631 | Paperboard Mills.
2652-2657 | Paperboard Containers and Boxes.
2671-2679 | Converted Paper and Paperboard Products, Except Containers and Boxes.
Sector C: Chemical and Allied Products
2812-2819 | Industrial Inorganic Chemicals.
2821-2824 | Plastics Materials and Synthetic Resins, Synthetic Rubber, Cellulosic and Other Manmade Fibers Except Glass.
2833-2836 | Medicinal chemicals and botanical products; pharmaceutical preparations,; in vitro and in vivo diagnostic substances; biological products, except diagnostic substances.
2841-2844 | Soaps, Detergents, and Cleaning Preparations; Perfumes, Cosmetics, and Other Toilet Preparations.
2851 | Paints, Varnishes, Lacquers, Enamels, and Allied Products.
2861-2869 | Industrial Organic Chemicals.
2873-2879 | Agricultural Chemicals.
2873 | Facilities that Make Fertilizer Solely from Leather Scraps and Leather Dust.
2891-2899 | Miscellaneous Chemical Products.
3952 (limited to list) | Inks and Paints, Including China Painting Enamels, India Ink, Drawing Ink, Platinum Paints for Burnt Wood or Leather Work, Paints for China Painting, Artist's Paints and Artist's Watercolors.
Sector D: Asphalt Paving and Roofing Materials and Lubricants
2951, 2952 | Asphalt Paving and Roofing Materials.
2992, 2999 | Miscellaneous Products of Petroleum and Coal.
Sector E: Glass Clay, Cement, Concrete, and Gypsum Products
3211 | Flat Glass.
3221, 3229 | Glass and Glassware, Pressed or Blown.
3231 | Glass Products Made of Purchased Glass.
3241 | Hydraulic Cement.
3251-3259 | Structural Clay Products.
3262-3269 | Pottery and Related Products.
3271-3275 | Concrete, Gypsum and Plaster Products.
3295 | Minerals and Earth's, Ground, or Otherwise Treated.
3297 | Non-Clay Refractories.
Sector F: Primary Metals
3312-3317 | Steel Works, Blast Furnaces, and Rolling and Finishing Mills.
3321-3325 | Iron and Steel Foundries.
3331-3339 | Primary Smelting and Refining of Nonferrous Metals.
3341 | Secondary Smelting and Refining of Nonferrous Metals.
3351-3357 | Rolling, Drawing, and Extruding of Nonferrous Metals.
3363-3369 | Nonferrous Foundries (Castings).
3398,3399 | Miscellaneous Primary Metal Products
Sector G: Metal Mining (Ore Mining and Dressing)
1011 | Iron Ores.
1021 | Copper Ores.
1031 | Lead and Zinc Ores.
1041,1044 | Gold and Silver Ores.
1061 | Ferroalloy Ores, Except Vanadium.
1081 | Metal Mining Services.
1094,1099 | Miscellaneous Metal Ores.
Sector H: Coal Mines and Coal Mining Related Facilities
1221-1241 | Coal Mines and Coal Mining-Related Facilities.
Sector I: Oil and Gas Extraction
1311 | Crude Petroleum and Natural Gas.
1321 | Natural Gas Liquids.
1381-1389 | Oil and Gas Field Services.
2911 | Petroleum Refineries.
Sector J: Mineral Mining and Dressing
1411 | Dimension Stone.
1422-1429 | Crushed and Broken Stone, Including Rip Rap.
1442,1446 | Sand and Gravel.
1455,1459 | Clay, Ceramic, and Refractory Materials.
1474-1479 | Chemical and Fertilizer Mineral Mining.
1481 | Nonmetallic Minerals Services, Except Fuels.
1499 | Miscellaneous Nonmetallic Minerals, Except Fuels.
Sector K: Hazardous Waste Treatment, Storage, or Disposal Facilities
HZ | Hazardous Waste Treatment Storage or Disposal.
Sector L: Landfills and Land Application Sites
LF | Landfills, Land Application Sites, and Open Dumps.
Sector M: Automobile Salvage Yards
5015 | Automobile Salvage Yards.
Sector N: Scrap Recycling Facilities
5093 | Scrap Recycling Facilities.
Sector O: Steam Electric Generating Facilities
SE | Steam Electric Generating Facilities.
Sector P: Land Transportation and Warehousing
4011, 4013 | Railroad Transportation.
4111-4173 | Local and Highway Passenger Transportation.
4212-4231 | Motor Freight Transportation and Warehousing.
4311 | United States Postal Service.
5171 | Petroleum Bulk Stations and Terminals.
Sector Q: Water Transportation
4412-4499 | Water Transportation.
Sector R: Ship and Boat Building or Repairing Yards
3731, 3732 | Ship and Boat Building or Repairing Yards.
Sector S: AIr Transportation
4512-4581 | Air Transportation Facilities.
Sector T: Treatment Works
TW | Treatment Works.
Sector U: Food and Kindred Products
2011-2015 | Meat Products.
2021-2026 | Dairy Products.
2032 | Canned, Frozen and Preserved Fruits, Vegetables and Food Specialties.
2041-2048 | Grain Mill Products.
2051-2053 | Bakery Products.
2061-2068 | Sugar and Confectionery Products.
2074-2079 | Fats and Oils.
2082-2087 | Beverages.
2091-2099 | Miscellaneous Food Preparations and Kindred Products.
2111-2141 | Tobacco Products.
Sector V: Textile Mills, Apparel, and Other Fabric Product Manufacturing, Leather and Leather Products
2211-2299 | Textile Mill Products.
2311-2399 | Apparel and Other Finished Products Made From Fabrics and Similar Materials.
3131-3199 (except 3111) | Leather and Leather Products, except Leather Tanning and Finishing (see Sector Z).
Sector W: Furniture and Fixtures
2434 | Wood Kitchen Cabinets
2511-2599 | Furniture and Fixtures.
Sector X: Printing and Publishing
2711-2796 | Printing, Publishing, and Allied Industries.
Sector Y: Rubber, Miscellaneous Plastic Products, and Miscellaneous Manufacturing Industries
3011 | Tires and Inner Tubes.
3021 | Rubber and Plastics Footwear.
3052, 3053 | Gaskets, Packing, and Sealing Devices and Rubber and Plastics Hose and Belting.
3061, 3069 | Fabricated Rubber Products, Not Elsewhere Classified.
3081-3089 | Miscellaneous Plastics Products.
3931 | Musical Instruments.
3942-3949 | Dolls, Toys, Games and Sporting and Athletic Goods.
3951-3955 (except 3952 facilities as specified in Sector C) | Pens, Pencils, and Other Artists' Materials.
3961, 3965 | Costume Jewelry, Costume Novelties, Buttons, and Miscellaneous Notions, Except Precious Metal.
3991-3999 | Miscellaneous Manufacturing Industries.
Sector Z: Leather Tanning and Finishing
3111 | Leather Tanning and Finishing.
Sector AA: Fabricated Metal Products
3411-3499 | Fabricated Metal Products, Except Machinery and Transportation Equipment.
3911-3915 | Jewelry, Silverware, and Plated Ware.
Sector AB: Transportation Equipment, Industrial or Commercial Machinery
3511-3599 (except 3571-3579) | Industrial and Commercial Machinery (except Computer and Office Equipment) (see Sector AC).
3711-3799 (except 3731, 3732) | Transportation Equipment (except Ship and Boat Building and Repairing) (see Sector R).
Sector AC: Electronic, Electrical, Photographic, And Optical Goods
3571-3579 | Computer and Office Equipment.
3612-3699 | Electronic, Electrical Equipment and Components, except Computer Equipment.
3812 | Measuring, Analyzing and Controlling Instrument; Photographic and Optical Goods.
Sector AD: Non-Classified Facilities
N/A | Other storm water discharges designated by the Director as needing a permit (see 40 CFR 122.26(g)(1)(I)) or any facility discharging storm water associated with industrial activity not described by any of Sectors A-AC. NOTE: Facilities may not elect to be covered under Sector AD. Only the Director may assign a facility to Sector AD.
¹ A complete list of SIC codes (and conversions from the newer North American Industry Classification System” (NAICS)) can be obtained from the Internet at www.census.gov/epcd/www/naics.html or in paper form from various locations in the document entitled “Handbook of Standard Industrial Classifications,” Office of Management and Budget, 1987. Industrial activity codes are provided on the Multi-Sector General Permit Notice of Intent (NOI) application form (EPA Form Number xxxxx).

1.2.1.1 Co-located Activities. If you have co-located industrial activities on-site that are described in a sector(s) other than your primary sector, you must comply with all other applicable sector-specific conditions found in Part 6 for the co-located industrial activities. The extra sector-specific requirements are applied only to those areas of your facility where the extra-sector activities occur. An activity at a facility is not considered co-located if the activity, when considered separately, does not meet the description of a category of industrial activity covered by the storm water regulations, and identified by the MSGP-2000 SIC code list. For example, unless you are actually hauling substantial amounts of freight or materials with your own truck fleet or are providing a trucking service to outsiders, simple maintenance of vehicles used at your facility is unlikely to meet the SIC code group 42 description of a motor freight transportation facility. Even though Sector P may not apply, the runoff from your vehicle maintenance facility would likely still be considered storm water associated with industrial activity. As such, your SWPPP must still address the runoff from the vehicle maintenance facility—although not necessarily with the same degree of detail as required by Sector P—but you would not be required to monitor as per Sector P.

If runoff from co-located activities commingle, you must monitor the discharge as per the requirements of all applicable sectors (regardless of the actual location of the discharge). If you comply with all applicable requirements from all applicable sections of Part 6 for the co-located industrial activities, the discharges from these co-located activities are authorized by this permit.

1.2.2 Discharges Covered

1.2.2.1 Allowable Storm Water Discharges. Subject to compliance with the terms and conditions of this permit, you are authorized to discharge pollutants in:

1.2.2.1.1 Discharges of storm water runoff associated with industrial activities as defined in 40 CFR 122.26 (b)(14)((i)-(ix) and (xi)) from the sectors of industry described in Table 1-1, and that are specifically identified by outfall or discharge location in the pollution prevention plan (see Part 4.2.2.3.7);

1.2.2.1.2 Non-storm water discharges as noted in Part 1.2.2.2 or otherwise specifically allowed by the permit;

1.2.2.1.3 Discharges subject to an effluent guideline listed in Table 1-2 that also meet all other eligibility requirements of the permit. Discharges subject to a New Source Performance Standard (NSPS) effluent guideline must also meet the requirements of Part 1.2.4;

1.2.2.1.4 Discharges designated by the Director as needing a storm water permit under 40 CFR 122.26(a)(1)(v) or under 122.26(a)(9) and 122.26(g)(1)(i); and

1.2.2.1.5 Discharges comprised of a discharge listed in Parts 1.2.2.1.1 to 1.2.2.1.4 above commingled with a discharge authorized by a different NPDES permit. Also authorized are discharges not needing authorization by an NPDES permit commingled with discharges authorized by this permit.

Table 1-2.—Effluent Guidelines Applicable to Discharges That May Be Eligible for Permit Coverage
Effluent guideline | New source ¹ | Sectors ²
Runoff from material storage piles at cement manufacturing facilities [40 CFR Part 411, Subpart C (established February 23, 1977)] | Yes | E
Contaminated runoff from phosphate fertilizer manufacturing facilities [40 CFR Part 418, Subpart A (established April 8, 1974)] | Yes | C
Coal pile runoff at steam electric generating facilities [40 CFR Part 423 (established November 19, 1982)] | Yes | O
Discharges resulting from spray down or intentional wetting of logs at wet deck storage areas [40 CFR Part 429, Subpart I (established January 26, 1981)] | Yes | A
Mine dewatering discharges at crushed stone mines [40 CFR Part 436, Subpart B] | No | J
Mine dewatering discharges at construction sand and gravel mines [40 CFR Part 436, Subpart C] | No | J
Mine dewatering discharges at industrial sand mines [40 CFR Part 436, Subpart D] | No | J
Runoff from asphalt emulsion facilities [40 CFR Part 443, Subpart A (established July 24, 1975)]. | Yes | D
Runoff from landfills [40 CFR Part 445, Subpart A and B (established February 2, 2000.)] | Yes | K & L
¹ New Source Performance Standards Included in Effluent Guidelines?
² Sectors with Affected Facilities.

1.2.2.2 Allowable Non-Storm Water Discharges. You are also authorized for the following non-storm water discharges, provided the non-storm water component of your discharge is in compliance with Part 4.4.2 (non-storm water discharges):

1.2.2.2.1 Discharges from fire fighting activities;

1.2.2.2.2 Fire hydrant flushings;

1.2.2.2.3 Potable water including drinking fountain water and water line flushings;

1.2.2.2.4 Uncontaminated air conditioning or compressor condensate;

1.2.2.2.5 Irrigation drainage;

1.2.2.2.6 Landscape watering provided all pesticides, herbicides, and fertilizer have been applied in accordance with manufacturer's instructions;

1.2.2.2.7 Pavement wash waters where no detergents are used and no spills or leaks of toxic or hazardous materials have occurred (unless all spilled material has been removed);

1.2.2.2.8 Routine external building wash down which does not use detergents;

1.2.2.2.11 Uncontaminated ground water or spring water;

1.2.2.2.12 Foundation or footing drains where flows are not contaminated with process materials such as solvents;

1.2.2.2.13 Incidental windblown mist from cooling towers that collects on rooftops or adjacent portions of your facility, but NOT intentional discharges from the cooling tower (e.g., “piped” cooling tower blowdown or drains).

1.2.3 Limitations on Coverage

1.2.3.1 Prohibition on Discharges Mixed with Non-Storm Water. You are not authorized for discharges that are mixed with sources of non-storm water. This exclusion does not apply to discharges identified in Part 1.2.2.2, provided the discharges are in compliance with Part 4.4.2 (pollution prevention plan requirements for authorized non-storm water discharges), and to any discharge explicitly authorized by the permit.

1.2.3.2 Storm Water Discharges Associated with Construction Activity. You are not authorized for storm water discharges associated with construction activity as defined in 40 CFR 122.26(b)(14)(x) or 40 CFR 122.26(b)(15).

1.2.3.3 Discharges Currently or Previously Covered by Another Permit

You are not authorized for the following:

1.2.3.3.1 Storm water discharges associated with industrial activity that are currently covered under an individual permit or an alternative general permit.

1.2.3.2 Discharges previously covered by an individual permit or alternative general permit (except the 1992 “Baseline” or the 1995 Multi-Sector NPDES General Permits for Storm Water Discharges Associated With Industrial Activity) that has expired, or been terminated at the request of the permittee unless:

1.2.3.3.2.1 All wastewater discharges in the individual permit have been eliminated and only storm water discharges and eligible non-storm water discharges remain (e.g., wastewater is now discharged to a municipal sanitary sewer); and

1.2.3.3.2.2 The individual permit did not contain numeric water quality-based limitations developed for the storm water component of the discharge; and

1.2.3.3.2.3 The permittee includes any specific BMPs for storm water required under the individual permit in the SWPPP required under Part 4 of this permit.

1.2.3.3.3 Storm water discharges associated with industrial activity from facilities where any NPDES permit has been or is in the process of being denied, terminated, or revoked by the Director (other than in a replacement permit issuance process). Upon request, the Director may waive this exclusion if operator of the facility has since passed to a different owner/operator and new circumstances at the facility justify a waiver.

1.2.3.4 Discharges Subject to Effluent Limitations Guidelines. You are not authorized for discharges subject to any effluent limitation guideline that is not included in Table 1-2. For discharges subject to a New Source Performance Standard (NSPS) effluent guideline identified in Table 1-2, you must comply with Part 1.2.4 prior to being eligible for permit coverage.

1.2.3.5 Discharge Compliance with Water Quality Standards. You are not authorized for storm water discharges that the Director determines will cause, or have reasonable potential to cause or contribute to, violations of water quality standards. Where such determinations have been made, the Director may notify you that an individual permit application is necessary in accordance with Part 9.12. However, the Director may authorize your coverage under this permit after you have included appropriate controls and implementation procedures designed to bring your discharges into compliance with water quality standards in your storm water pollution prevention plan.

1.2.3.6 Endangered and Threatened Species or Critical Habitat Protection. You are not authorized for discharges that do not avoid unacceptable effects on Federally listed endangered and threatened (“listed”) species or designated critical habitat (“critical habitat”)

[Note: This Section Is Likely to Change as a Result of Consultations Under the Endangered Species Act On Issuance of The Permit.]

CAUTION: Additional endangered and threatened species have been listed and critical habit designated since the 1995 MSGP was issued. Even if you were previously covered by the 1995 MSGP, you must determine eligibility for this permit through the processes described below and in Addendum A. Where applicable, you may incorporate information from your previous endangered species analysis in your documentation of eligibility for this permit.

1.2.3.6.1 Coverage under this permit is available only if your storm water discharges, allowable non-storm water discharges, and discharge-related activities avoid unacceptable effects on Federally listed endangered and threatened (“listed”) species or designated critical habitat (“critical habitat”). Submission of a signed NOI will be deemed to also constitute your certification of eligibility.

1.2.3.6.2 “Discharge-related activities” include: activities which cause, contribute to, or result in storm water point source pollutant discharges; and measures to control storm water discharges including the siting, construction and operation of best management practices (BMPs) to control, reduce or prevent storm water pollution.

1.2.3.6.3 Determining Eligibility: You must use the most recent Endangered and Threatened Species County-Species List available from EPA and the process in Addendum A (ESA Screening Process) to determine your eligibility PRIOR to submittal of your NOI. As of the effective date of this permit, the most current version of the List is located on the EPA Office of Water Web site at www.epa.gov/owm/esalst2.htm. You must meet one or more of the criteria in 1.2.3.6.3.1 through 1.2.3.6.3.5 below for the entire term of coverage under the permit. You must include a certification of eligibility and supporting documentation on the eligibility determination in your pollution prevention plan.

1.2.3.6.3.1 Criteria A: No endangered or threatened species or critical habitat are in proximity to your facility or the point where authorized discharges reach the receiving water; or

1.3.6.3.2 Criteria B: In the course of a separate federal action involving your facility (e.g., EPA processing request for an individual NPDES permit, issuance of a CWA Section 404 wetlands dredge and fill permit, etc.), formal or informal consultation with the Fish and Wildlife Service and/or the National Marine Fisheries Service (the “Services”) under section 7 of the Endangered Species Act (ESA) has been concluded and that consultation:

(a) Addressed the effects of your storm water discharges, allowable non-storm water discharges, and discharge-related activities on listed species and critical habitat and

(b) The consultation resulted in either a no jeopardy opinion or a written concurrence by the Service on a finding that your storm water discharges, allowable non-storm water discharges, and discharge-related activities are not likely to adversely affect listed species or critical habitat; or

1.2.3.6.3.3 Criteria C: Your activities are authorized under section 10 of the ESA and that authorization addresses the effects of your storm water discharges, allowable non-storm water discharges, and discharge-related activities on listed species and critical habitat; or

1.2.3.6.3.4 Criteria D: Using due diligence, you have evaluated the effects of your storm water discharges, allowable non-storm water discharges, and discharge-related activities on listed endangered or threatened species and critical habitat and do not have reason to believe listed species or critical habitat would be adversely affected.

1.2.3.6.3.5 Criteria E: Your storm water discharges, allowable non-storm water discharges, and discharge-related activities were already addressed in another operator's certification of eligibility under Part 1.2.3.6.3.1 through 1.2.3.6.3.4 which included your facility's activities. By certifying eligibility under this Part, you agree to comply with any measures or controls upon which the other operator's certification was based;

1.2.3.6.4 The Director may require any permittee or applicant to provide documentation of the permittee or applicant's determination of eligibility for this permit using the procedures in Addendum A where EPA or the Fish and Wildlife and/or National Marine Fisheries Services determine that there is a potential impact on endangered or threatened species or a critical habitat.

1.2.3.6.5 You are not authorized to discharge if the discharges or discharge-related activities cause a prohibited “take” of endangered or threatened species (as defined under section 3 of the Endangered Species Act and 50 CFR 17.3), unless such takes are authorized under sections 7 or 10 of the Endangered Species Act.

1.2.3.6.6 You are not authorized for any discharges where the discharges or discharge-related activities are likely to jeopardize the continued existence of any species that are listed as endangered or threatened under the ESA or result in the adverse modification or destruction of habitat that is designated or proposed to be designated as critical under the ESA.

1.2.3.6.7 The Endangered Species Act (ESA) provisions upon which part 1.2.3.7 is based do not apply to state-issued permits. Should administration of all or a portion of this permit be transfer to a State as a result of that State assuming the NPDES program pursuant to Clean Water Act section 402(b), Part 1.2.3.6 will not apply to any new NOIs submitted to the State after the State assumes administration of the permit (unless otherwise provided in the state program authorization agreement). Likewise, any other permit conditions based on Part 1.2.3.6 will no longer apply to new NOIs accepted by the NPDES-authorized state.

1.2.3.7 Storm water Discharges and Storm Water Discharge-Related Activities with Unconsidered Adverse Effects on Historic Properties.

[Note: This Section Is Likely to Change as a Result of Consultations Under the National Historic Preservation Act.]

1.2.3.7.1 Determining Eligibility: In order to be eligible for coverage under this permit, you must be in compliance with the National Historic Preservation Act. Your discharges may be authorized under this permit only if:

1.2.3.7.1.1 Criteria A: your storm water discharges, allowable non-storm water discharges, and discharge-related activities do not affect a property that is listed or is eligible for listing on the National Register of Historic Places as maintained by the Secretary of the Interior; or

1.2.3.7.1.2 Criteria B: you have obtained and are in compliance with a written agreement with the State Historic Preservation Officer (SHPO) or Tribal Historic Preservation Officer (THPO) that outlines all measures you will undertake to mitigate or prevent adverse effect to the historic property.

1.2.3.7.2 Addendum B of this permit provides guidance and references to assist you with determining your permit eligibility concerning this provision.

1.2.3.7.3 The National Historic Preservation Act (NHPA) provisions upon which the provisions in Part 1.2.3.7 are based do not apply to state-issued permits. Should administration of all or a portion of this permit be transferred to a State as a result of that State assuming the NPDES program pursuant to Clean Water Act § 402(b), Part 1.2.3.7 will not apply to any new NOIs submitted to the State after the State assumes administration of the permit (unless otherwise provided in the state program authorization agreement). Likewise, any other permit conditions based on Part 1.2.3.7 will no longer apply to new NOIs accepted by the NPDES-authorized state.

1.2.3.8 Discharges to Water Quality-Impaired or Water Quality-Limited Receiving Waters.

1.2.3.8.1 You are not authorized for new discharges to waters identified by the State under section 303(d) of the Clean Water Act as not meeting applicable water quality standards (a “303(d) waterbody”), except as provided under 40 CFR 122.4(i). This provision applies only to discharges containing the pollutant(s) for which the waterbody is impaired. State 303(d) waterbody lists can be obtained from the appropriate State environmental office or their Internet sites. You are a new discharger if your facility started discharging after August 13, 1979 and your storm water was not previously permitted (see 40 CFR 122.2 for full regulatory definition of “New Discharger”).

1.2.3.8.2 You are not authorized to discharge any pollutant into any water for which a Total Maximum Daily Load (TMDL) has been either established or approved by the EPA unless your discharge is consistent with that TMDL.

1.2.3.9 Storm Water Discharges Subject to Anti-degradation Water Quality Standards. You are not authorized for discharges that do not comply with your State's anti-degradation policy for water quality standards. State anti-degradation policies can be obtained from the appropriate State environmental office or their Internet sites.

1.2.3.10 Dischargers Notified of Permit In-eligibility. Unless otherwise specified by the Director, you are not authorized for discharges after you have been notified that you do not meet the eligibility conditions of this permit.

1.2.4 Discharges Subject to New Source Performance Standards (NSPS).¹⁰ ¹¹

¹⁰ NSPS apply only to discharges from those facilities or installations that were constructed after the promulgation of NSPS. For example, storm water discharges from areas where the production of asphalt paving and roofing emulsions occurs are subject to NSPS only if the asphalt emulsion facility was constructed after July 24, 1975.

¹¹ The provisions specified in Part 1.2.2.3 and Part 1.2.4 related to documenting New Source reviews are requirements of Federal programs under the National Environmental Policy Act of 1969 and will not apply to such facilities in the event that authority for the NPDES program has been assumed by the State/Tribe agency and administration of this permit has been transferred to the State Tribe.

1.2.4.1 Documentation of New Source Review. If you have a discharge(s) subject to a NSPS effluent guideline, you must obtain and retain the following on site prior to the submittal of your Notice of Intent:

1.2.4.1.1 Documentation from EPA of “No Significant Impact” or

1.2.4.1.2 A completed Environmental Impact Statement in accordance with an environmental review conducted by EPA pursuant to 40 CFR 6.102(a)(6).

1.2.4.2 Initiating a New Source Review. If the Agency's decision has not been obtained, you may use the format and procedures specified in Addendum C to submit information to EPA to initiate the process of the environmental review.

To maintain eligibility, you must implement any mitigation required of the facility as a result of the National Environmental Policy Act (NEPA) review process. Failure to implement mitigation measures upon which the Agency's NEPA finding is based is grounds for termination of permit coverage.

1.2.4.3 NEPA Requirements after State Assumption of this Permit. The National Environmental Policy Act (NEPA) provisions upon which part 1.2.4 is based do not apply to state-issued permits. Should administration of all or a portion of this permit be transfer to a State as a result of that State assuming the NPDES program pursuant to Clean Water Act section 402(b), Part 1.2.4 will not apply to any new NOIs submitted to the State after the State assumes administration of the permit. Likewise, any other permit conditions based on Part 1.2.4 will no longer apply to new NOIs accepted by the NPDES-authorized state.

1.3 How To Obtain Authorization Under This Permit

1.3.1 Basic Eligibility

You may be authorized under this permit only if you have a discharge of storm water associated with industrial activity from your facility. In order to obtain authorization under this permit, you must:

1.3.1.1 Meet the Part 1.2 eligibility requirements; and

1.3.1.2 Develop and implement a storm water pollution prevention plan (SWPPP) (see definition in Part 12) according to the requirements in Part 4 of this permit.

1.3.1.3 Submit a complete Notice of Intent (NOI) in accordance with the requirements of Part 2 of this permit. Any new operator at a facility, including those who replace an operator who has previously obtained permit coverage, must submit an NOI to be covered for discharges for which they are the operator.

1.3.2 Effective Date of Permit Coverage

Unless notified by the Director to the contrary, if you submit a correctly completed NOI in accordance with the requirements of this permit, you are authorized to discharge under the terms and conditions of this permit two (2) days after the date that the NOI is postmarked (but in no event, earlier than the effective date of the permit). The Director may deny coverage under this permit and require submission of an application for an individual NPDES permit based on a review of your NOI or other information (see Part 9.12). Authorization to discharge is not automatically granted two days after the NOI is mailed if your NOI is materially incomplete (e.g., critical information left off, NOI unsigned, etc.) or if your discharge(s) is not eligible for coverage by the permit.

1.4 Terminating Coverage

1.4.1 Submitting a Notice of Termination

If you wish to terminate coverage under this permit, you must submit a Notice of Termination (NOT) in accordance with Part 11 of this permit. You must continue to comply with this permit until you submit an NOT. Your authorization to discharge under the permit terminates at midnight of the day the NOT is signed.

1.4.2 When To Submit an NOT

You must submit an NOT within thirty (30) days after one or more of the following conditions have been met:

1.4.2.1 A new owner/operator has assumed responsibility for the facility

1.4.2.2 You have ceased operations at the facility and there no longer are discharges of storm water associated with industrial activity from the facility

1.4.3 Discharges After the NOT Is Submitted

Enforcement actions may be taken if you submit an NOT without meeting one or more of these conditions, unless you have obtained coverage under an alternate permit or have satisfied the requirements of Part 1.5.

1.5 Conditional Exclusion for No Exposure

If you are covered by this permit, but later are able to file a “no exposure” certification to be excluded from permitting under 40 CFR 122.26(g), you are no longer authorized by nor required to comply with this permit. If you are no longer required to have permit coverage due to a “no exposure” exclusion, you are not required to submit a Notice of Termination.

2. Notice of Intent Requirements

2.1 Notice of Intent (NOI) Deadlines

Your NOI must be submitted in accordance with the deadlines in Table 2-1. You must meet all applicable eligibility conditions of Part 1.2 before you submit your NOI.

Table 2-1.—Deadlines for NOI Submittal
Category | Deadline
1. Existing discharges covered under the 1995 MSGP (see also Part 2.1.2—Interim Coverage) | December 29, 2000.
2. New discharges | Two (2) days prior to commencing operation of the facility with discharges of storm water associated with industrial activity.
3. New owner/operators of existing discharges | Two (2) days prior to taking operational control of the facility.
4. Continued coverage when the permit expires in 2005 | See Part 9.2.

Only one NOI need be submitted to cover all of your activities at the facility (e.g., you do not need to submit a separate NOI for each separate type of industrial activity located at a facility or industrial complex, provided your SWPPP covers each area for which you are an operator).

2.1.1 Submitting a Late NOI

You are not prohibited from submitting an NOI after the dates provided in Table 2-1. If a late NOI is submitted, your authorization is only for discharges that occur after permit coverage is granted. The Agency reserves the right to take appropriate enforcement actions for any unpermitted discharges.

2.1.2 Interim Permit Coverage for 1995 MSGP Permittees

If you had coverage for your facility under the 1995 MSGP, you may be eligible for continued coverage under this permit on an interim basis.

2.1.2.1 Discharges Authorized Under the 1995 MSGP. If permit coverage for your facility under the 1995 MSGP was effective as of the date the 1995 MSGP expired (or the date this permit replaced the 1995 MSGP if earlier), your authorization is automatically continued into this replacement permit on an interim basis for up to ninety (90) days from the effective date of the permit. Interim coverage will terminate earlier than the 90 days contingent on: an NOI submitted and coverage either granted or denied; or after submittal of an NOI.

2.1.2.2 Discharges Authorized Under the 1995 MSGP, But Not Clearly Eligible for Coverage Under This Permit. If you were previously covered by the 1995 MSGP, but cannot meet (or cannot immediately determine if you meet) the eligibility requirements of this permit, you may nonetheless be authorized under this permit for a period not to exceed 270 days from the date this permit is published in the Federal Register, provided you submit an application for an alternative permit within 90 days from the permit publication date.

2.1.2.3 Interim Coverage Permit Requirements. While you are operating under interim coverage status , you must:

2.1.2.3.1 Submit a complete NOI (see Part 2.2) by the deadlines listed in Table 2-1 or Part 2.1.2.2 above.

2.1.2.3.2 Comply with the terms and conditions of the 1995 MSGP.

2.1.2.3.3 Update your storm water pollution prevention plan to comply with the requirements of this permit within 90 days after the effective date of this permit.

2.2 Contents of Notice of Intent (NOI)

Your NOI for coverage under this permit must include the following information:

2.2.1 Owner/Operator Information

2.2.1.1 The name, address, and telephone number of the operator (e.g., your company, etc.) filing the NOI for permit coverage;

2.2.1.2 an indication of whether you are a Federal, State, Tribal, private, or other public entity;

2.2.2 Facility Information

2.2.2.1 The name (or other identifier), address, county, and latitude/longitude of the facility for which the NOI is submitted;

2.2.2.2 An indication of whether the facility is located on Indian Country lands;

2.2.2.3 Certification that a storm water pollution prevention plan (SWPPP) meeting the requirements of Part 4 has been developed (including attaching a copy of this permit to the plan;

2.2.2.4 The name of the receiving water(s);

2.2.2.5 The name of the municipal operator if the discharge is through a municipal separate storm sewer system;

2.2.2.6 Identification of applicable sector(s) in this permit, as designated in Table 1-1, that cover the discharges associated with industrial activity you wish to cover under this permit;

2.2.2.7 Up to four 4-digit Standard Industrial Classification (SIC) codes or the 2-letter Activity Codes for hazardous waste treatment, storage, or disposal activities (HZ); land/disposal facilities that receive or have received any industrial waste (LF); steam electric power generating facilities (SE); or treatment works treating domestic sewage (TW) that best represent the principal products produced or services rendered by your facility and major co-located activities;

2.2.2.8 The permit number of the permit for which you are filing the NOI. Your facility must be located within the area of coverage for that permit. (e.g., a facility located on Navajo Reservation lands in New Mexico would be filing for coverage under the AZR05*##I permit, a private contractor operating a federal facility in Colorado that is not located on Indian Country lands would be filing for coverage under the COR05*##F permit). See Part 1.1 for the coverage areas of the various permits.

2.2.3 Eligibility Screening

2.2.3.1 Based on the instructions in Addendum A, whether any listed or proposed threatened or endangered species, or designated critical habitat, are in proximity to the storm water discharges or storm water discharge-related activities to be covered by this permit;

2.2.3.2 Under which Part(s) of Part 1.2.3.6 (Endangered Species) you are certifying eligibility and whether the USFWS or NMFS was involved in making the determination of eligibility;

2.2.3.3 Whether any historic property listed or eligible for listing on the National Register of Historic Places is located on the facility or in proximity to the discharge;

2.2.3.4 Under which Part(s) of Part 1.2.3.7 (Historic Properties) you are certifying eligibility and whether the SHPO or THPO was involved in making the determination of eligibility;

2.2.3.5 A signed and dated certification, signed by a authorized representative of your facility as detailed in Part 9.7 that certifies the following:

I certify under penalty of law that I have read and understand the Part 1.2 eligibility requirements for coverage under the multi-sector storm water general permit including those requirements relating to the protection of endangered or threatened species or critical habitat. To the best of my knowledge, the storm water and allowable non-storm discharges authorized by this permit (and discharged related activities), are not likely and will not likely, adversely affect endangered or threatened species or critical habitat, or are otherwise eligible for coverage under Part 1.2.3.6 of the permit. To the best of my knowledge, I further certify that such discharges and discharge related activities do not have an effect on properties listed or eligible for listing on the National Register or Historic Places under the National Historic Preservation Act, or are otherwise eligible for coverage under Part 1.2.3.7 of the permit. I understand that continued coverage under the multi-sector storm water general permit is contingent upon maintaining eligibility as provided for in Part 1.2”

2.3 Use of NOI Form

You must submit the information required under Part 2.2 on the latest version of the NOI form (or photocopy thereof) contained in Addendum D. Your NOI must be signed and dated in accordance with Part 7.7 of this permit.

Note: If EPA notifies dischargers (either directly, by public notice, or by making information available on the Internet) of other NOI form options that become available at a later date (e.g., electronic submission of forms), you may take advantage of those options to satisfy the NOI use and submittal requirements of Part 2.

2.4 Where To Submit

Your NOI must be signed in accordance with Part 9.7 of this permit and submitted to the Director of the NPDES Permitting Program at the following address: Storm Water Notice of Intent (4203), US EPA 401 M. Street, SW, Washington, D.C. 20460.

2.5 Additional Notification

If your facility discharges through a large or medium municipal separate storm sewer system (MS4), or into a MS4 that has been designated by the permitting authority, you must also submit a signed copy of the NOI to the operator of that MS4 upon request by the MS4 operator.

3. Special Conditions

3.1 Hazardous Substances or Oil

You must prevent or minimize the discharge of hazardous substances or oil in your discharge(s) in accordance with the storm water pollution prevention plan for your facility. This permit does not relieve you of the reporting requirements of 40 CFR part 110, 40 CFR part 117 and 40 CFR part 302 relating to spills or other releases of oils or hazardous substances.

Where a release containing a hazardous substance or oil in an amount equal to or in excess of a reportable quantity established under either 40 CFR part 110, 40 CFR part 117 or 40 CFR part 302, occurs during a 24 hour period:

3.1.1 You must notify the National Response Center (NRC) (800-424-8802; in the Washington, DC, metropolitan area call 202-426-2675) in accordance with the requirements of 40 CFR part 110, 40 CFR part 117 and 40 CFR part 302 as soon as he or she has knowledge of the discharge;

3.1.2 You must modify your storm water pollution prevention plan required under Part 4 within 14 calendar days of knowledge of the release to: Provide a description of the release, the circumstances leading to the release, and the date of the release. In addition, you must review your plan to identify measures to prevent the reoccurrence of such releases and to respond to such releases, and you must modify your plan where appropriate.

3.2 Additional Requirements for Salt Storage

If you have storage piles of salt used for deicing or other commercial or industrial purposes and those piles generate a storm water discharge associated with industrial activity, they must be enclosed or covered to prevent exposure to precipitation (except for exposure resulting from adding or removing materials from the pile). Piles do not need to be enclosed or covered where storm water from the pile is not discharged to waters of the United States or the discharges from the piles are authorized under another permit.

3.3 Discharge Compliance With Water Quality Standards

Your discharges must not be causing or have the reasonable potential to cause or contribute to a violation of a water quality standard. Where a discharge is already authorized under this permit and is later determined to cause or have the reasonable potential to cause or contribute to the violation of an applicable water quality standard, the Director will notify you of such violation(s). You must take all necessary actions to ensure future discharges do not cause or contribute to the violation of a water quality standard and document these actions in the storm water pollution prevention plan. If violations remain or re-occur, then coverage under this permit may be terminated by the Director, and an alternative general permit or individual permit may be issued. Compliance with this requirement does not preclude any enforcement activity as provided by the Clean Water Act for the underlying violation.

4. Storm Water Pollution Prevention Plans

4.1 Storm Water Pollution Prevention Plan Requirements

You must prepare a storm water pollution prevention plan (SWPPP) for your facility before submitting your Notice of Intent for permit coverage. Your SWPPP must be prepared in accordance with good engineering practices. Use of a registered professional engineer for SWPPP preparation is not required by the permit, but may be independently required under state law and/or local ordinance. Your SWPPP must:

4.1.1 Identify potential sources of pollution which may reasonably be expected to affect the quality of storm water discharges from your facility;

4.1.2 Describe and ensure implementation of practices which you will use to reduce the pollutants in storm water discharges from the facility; and

4.1.3 Assure compliance with the terms and conditions of this permit.

4.2 Contents of Plan

4.2.1 Pollution Prevention Team

You must identify the staff individual(s) (by name or title) that comprise the facility's storm water Pollution Prevention Team. Your Pollution Prevention Team is responsible for assisting the facility/plant manager in developing, implementing, maintaining and revising the facility's SWPPP. Responsibilities of each staff individual on the team must be listed.

4.2.2 Site Description

Your SWPPP must include the following:

4.2.2.1 Activities at Facility. description of the nature of the industrial activity(ies) at your facility;

4.2.2.2 General Location Map. a general location map (e.g., U.S.G.S. quadrangle, or other map) with enough detail to identify the location of your facility and the receiving waters within one mile of the facility;

4.2.2.3 A legible site map identifying the following:

4.2.2.3.1 Directions of storm water flow (e.g, use arrows to show which ways storm water will flow);

4.2.2.3.2 Locations of all existing structural BMPs

4.2.2.3.3 Locations of all surface water bodies

4.2.2.3.4 Locations of potential pollutant sources identified under 4.2.4 and where significant materials are exposed to precipitation;

4.2.2.3.5 Locations where major spills or leaks identified under 4.2.5 have occurred;

4.2.2.3.6 Locations of the following activities where such activities are exposed to precipitation: fueling stations, vehicle and equipment maintenance and/or cleaning areas, loading/unloading areas, locations used for the treatment, storage or disposal of wastes, and liquid storage tanks;

4.2.2.3.7 Locations of storm water outfalls and an approximate outline of the area draining to each outfall;

4.2.2.3.8 Location and description of non-storm water discharges;

4.2.2.3.9 Locations of the following activities where such activities are exposed to precipitation: processing and storage areas; access roads, rail cars and tracks; the location of transfer of substance in bulk; and machinery;

4.2.2.3.10 Location and source of runoff from adjacent property containing significant quantities of pollutants of concern to the facility (an evaluation of how the quality of the runoff impacts your storm water discharges may be included).

4.2.3 Receiving Waters and Wetlands

You must provide the name of the nearest receiving water(s), including intermittent streams, dry sloughs, arroyos and the areal extent and description of wetland or other “special aquatic sites” (see Part 12 for definition) that may receive discharges from your facility;

4.2.4 Summary of Potential Pollutant Sources

You must identify each separate area at your facility where industrial materials or activities are exposed to storm water. Industrial materials or activities include, but are not limited to, material handling equipment or activities, industrial machinery, raw materials, intermediate products, by-products, final products, or waste products. Material handling activities include the storage, loading and unloading, transportation, or conveyance of any raw material, intermediate product, final product or waste product. For each, separate area identified, the description must include:

4.2.4.1 Activities in Area. A list of the activities (e.g., material storage, equipment fueling and cleaning, cutting steal beams); and

4.2.4.2 Pollutants. A list of the associated pollutant(s) or pollutant parameter(s) (e.g., crankcase oil, iron, biochemical oxygen demand, pH, etc.) for each activity. The pollutant list must include all significant materials that have been handled, treated, stored or disposed in a manner to allow exposure to storm water between the time of three (3) years before being covered under this permit and the present.

4.2.5 Spills and Leaks

You must clearly identify areas where potential spills and leaks, which can contribute pollutants to storm water discharges, can occur, and their accompanying drainage points. For areas that are exposed to precipitation or that otherwise drain to a storm water conveyance at the facility to be covered under this permit, you must provide a list of significant spills and leaks of toxic or hazardous pollutants that occurred during the three (3) year period prior to the date of the submission of a Notice of Intent (NOI). Your list must be updated if significant spills or leaks occur in exposed areas of your facility during the time you are covered by the permit.

Significant spills and leaks include, but are not limited to releases of oil or hazardous substances in excess of quantities that are reportable under CWA section 311 (see 40 CFR 110.10 and 40 CFR 117.21) or section 102 of the Comprehensive Environmental Response, Compensation and Liability Act (CERCLA). Significant spills may also include releases of oil or hazardous substances that are not in excess of reporting requirements.

4.2.6 Sampling Data

You must provide a summary of existing storm water discharge sampling data taken at your facility. All storm water sampling data collected during the term of this permit must also be summarized and included in this part of the SWPPP.

4.2.7 Storm Water Controls

4.2.7.1 Description of Existing and Planned BMPs. Describe the type and location of existing non-structural and structural best management practices (BMPs) selected for each of the areas where industrial materials or activities are exposed to storm water. All the areas identified in Part 4.2.4 should have a BMP(s) identified for the area's discharges. For areas where BMPs are not currently in place, describe appropriate BMPs that you will use to control pollutants in storm water discharges. Selection of BMPs should take into consideration:

4.2.7.1.1 The quantity and nature of the pollutants, and their potential to impact the water quality of receiving waters;

4.2.7.1.2 Opportunities to combine the dual purposes of water quality protection and local flood control benefits (including physical impacts of high flows on streams—e.g., bank erosion, impairment of aquatic habitat, etc.);

4.2.7.1.3 Opportunities to offset the impact of impervious areas of the facility on ground water recharge and base flows in local streams (taking into account the potential for ground water contamination—See “User's Guide to the MSGP-2000” section on groundwater considerations).

4.2.7.2 BMP Types to be Considered. The following types of structural, non-structural and other BMPs must be considered for implementation at your facility. Describe how each is, or will be, implemented. This requirement may have been fulfilled with the area-specific BMPs identified under Part 4.2.7.2, in which case the previous description is sufficient. However, many of the following BMPs may be more generalized or non site-specific and therefore not previously considered. If you determine that any of these BMPs are not appropriate for your facility, you must include an explanation of why they are not appropriate. The BMP examples listed below are not intended to be an exclusive list of BMPs that you may use. You are encouraged to keep abreast of new BMPs or new applications of existing BMPs to find the most cost effective means of permit compliance for your facility. If BMPs are being used or planned at the facility which are not listed here (e.g., replacing a chemical with a less toxic alternative, adopting a new or innovative BMP, etc.), include descriptions of them in this section of the SWPPP.

4.2.7.2.1 Non-Structural BMPs

4.2.7.2.1.1 Good Housekeeping: You must keep all exposed areas of the facility in a clean, orderly manner where such exposed areas could contribute pollutants to storm water discharges. Common problem areas include: around trash containers, storage areas and loading docks. Measures must also include: a schedule for regular pickup and disposal of garbage and waste materials; routine inspections for leaks and conditions of drums, tanks and containers.

4.2.7.2.1.2 Minimizing Exposure: Where practicable, industrial materials and activities should be protected by a storm resistant shelter to prevent exposure to rain, snow, snowmelt, or runoff. Note: Eliminating exposure at all industrial areas may make the facility eligible for the 40 CFR 122.26(g) “No Exposure” exclusion from needing to have a permit.

4.2.7.2.1.3 Preventive Maintenance: You must have a preventive maintenance program which includes timely inspection and maintenance of storm water management devices, (e.g., cleaning oil/water separators, catch basins) as well as inspecting, testing, maintaining and repairing facility equipment and systems to avoid breakdowns or failures that may result in discharges of pollutants to surface waters.

4.2.7.2.1.4 Spill Prevention and Response Procedures: You must describe the procedures which will be followed for cleaning up spills or leaks. Those procedures, and necessary spill response equipment, must be made available to those employees that may cause or detect a spill or leak. Where appropriate, you must explain existing or planned material handling procedures, storage requirements, secondary containment, and equipment (e.g., diversion valves), which are intended to minimize spills or leaks at the facility. Measures for cleaning up hazardous material spills or leaks must be consistent with applicable RCRA regulations at 40 CFR part 264 and 40 CFR part 265.

4.2.7.2.1.5 Routine Facility Inspections: In addition to or as part of the comprehensive site evaluation required under Part 4.9, you must have qualified facility personnel inspect all areas of the facility where industrial materials or activities are exposed to storm water. The inspections must include an evaluation of existing storm water BMPs. Your SWPPP must identify how often these inspections will be conducted. You must correct any deficiencies in implementation of your SWP3 you find as soon as practicable, but not later than within 14 days of the inspection. You must document in your SWPPP the results of your inspections and the corrective actions you took in response to any deficiencies or opportunities for improvement that you identify.

4.2.7.2.1.6 Employee Training : You must describe the storm water employee training program for the facility. The description should include the topics to be covered, such as spill response, good housekeeping and material management practices, and must identify periodic dates (e.g., every 6 months during the months of July and January) for such training. You must provide employee training for all employees that work in areas where industrial materials or activities are exposed to storm water, and for employees that are responsible for implementing activities identified in the SWPPP (e.g., inspectors, maintenance people). The employee training should inform them of the components and goals of your SWPPP.

4.2.7.2.2 Structural BMPs

4.2.7.2.2.1 Sediment and Erosion Control: You must identify the areas at your facility which, due to topography, land disturbance (e.g., construction), or other factors, have a potential for significant soil erosion. You must describe the structural, vegetative, and/or stabilization BMPs that you will be implementing to limit erosion.

4.2.7.2.2.2 Management of Runoff: You must describe the traditional storm water management practices (permanent structural BMPs other than those which control the generation or source(s) of pollutants) that currently exist or that are planned for your facility. These types of BMPs typically are used to divert, infiltrate, reuse, or otherwise reduce pollutants in storm water discharges from the site. All BMPs that you determine are reasonable and appropriate, or are required by a State or local authority; or are necessary to maintain eligibility for the permit (see Part 1.2.3—Limitations on Coverage) must be implemented and maintained. Factors to consider when you are selecting appropriate BMPs should include: (1) The industrial materials and activities that are exposed to storm water, and the associated pollutant potential of those materials and activities; and (2) the beneficial and potential detrimental effects on surface water quality, ground water quality, receiving water base flow (dry weather stream flow), and physical integrity of receiving waters. [See “User's Guide to the MSGP-2000” for Considerations in Selection of BMPs]. Structural measures should be placed on upland soils, avoiding wetlands and floodplains, if possible. Structural BMPs may require a separate permit under section 404 of the CWA before installation begins.

4.2.7.2.2.3 Example BMPs: BMPs you could use include but are not limited to: Storm water detention structures (including wet ponds); storm water retention structures; flow attenuation by use of open vegetated swales and natural depressions; infiltration of runoff onsite; and sequential systems (which combine several practices).

4.2.7.2.3 Other Controls

No solid materials, including floatable debris, may be discharged to waters of the United States, except as authorized by a permit issued under section 404 of the CWA. Off-site vehicle tracking of raw, final, or waste materials or sediments, and the generation of dust must be minimized. Tracking or blowing of raw, final, or waste materials from areas of no exposure to exposed areas must be minimized. Velocity dissipation devices must be placed at discharge locations and along the length of any outfall channel to provide a non-erosive flow velocity from the structure to a water course so that the natural physical and biological characteristics and functions are maintained and protected (e.g., no significant changes in the hydrological regime of the receiving water).

4.3 Maintenance

All BMPs you identify in your SWPPP must be maintained in effective operating condition. If site inspections required by Part 4.9 identify BMPs that are not operating effectively, maintenance must be performed before the next anticipated storm event, or as necessary to maintain the continued effectiveness of storm water controls. If maintenance prior to the next anticipated storm event is impracticable, maintenance must be scheduled and accomplished as soon as practicable. In the case of non-structural BMPs, the effectiveness of the BMP must be maintained by appropriate means (e.g., spill response supplies available and personnel trained, etc.).

4.4 Non-Storm Water Discharges

4.4.1 Certification of Non-Storm Water Discharges

4.4.1.1 Your SWPPP must include a certification that all discharges (i.e., outfalls) have been tested or evaluated for the presence of non-storm water. The certification must be signed in accordance with Part 9.7 of this permit, and include:

4.4.1.1.1 The date of any testing and/or evaluation;

4.4.1.1.2 Identification of potential significant sources of non-storm water at the site;

4.4.1.1.3 A description of the results of any test and/or evaluation for the presence of non-storm water discharges;

4.4.1.1.4 A description of the evaluation criteria or testing method used; and

4.4.1.1.5 A list of the outfalls or onsite drainage points that were directly observed during the test.

4.4.1.2 You do not need to sign a new certification if one was already completed for either the 1992 baseline Industrial General Permit or the 1995 Multi-sector General Permit and you have no reason to believe conditions at the facility have changed.

4.4.1.3 If you are unable to provide the certification required (testing for non-storm water discharges), you must notify the Director 180 days after submitting an NOI to be covered by this permit. If the failure to certify is caused by the inability to perform adequate tests or evaluations, such notification must describe:

4.4.1.3.1 Reason(s) why certification was not possible;

4.4.1.3.2 The procedure of any test attempted;

4.4.1.3.3 The results of such test or other relevant observations; and

4.4.1.3.4 Potential sources of non-storm water discharges to the storm sewer.

4.4.1.4 A copy of the notification must be included in the SWPPP at the facility. Non-storm water discharges to waters of the United States which are not authorized by an NPDES permit are unlawful, and must be terminated.

4.4.2 Allowable Non-Storm Water Discharges

4.4.2.1 Certain sources of non-storm water are allowable under this permit (see 1.2.2.2—Allowable Non-Storm Water Discharges). In order for these discharges to be allowed, your SWPPP must include:

4.4.2.1.1 Identification of each allowable non-storm water source;

4.4.2.1.2 The location where it is likely to be discharged; and

4.4.2.1.3 Descriptions of appropriate BMPs for each source.

4.4.2.2 Except for flows from fire fighting activities, you must identify in your SWPPP all sources of allowable non-storm water that are discharged under the authority of this permit.

4.4.2.3 If you include mist blown from cooling towers amongst your allowable non-storm water discharges, you must specifically evaluate the potential for the discharges to be contaminated by chemicals used in the cooling tower and determined that the levels of such chemicals in the discharges would not cause or contribute to a violation of an applicable water quality standard after implementation of the BMPs you have selected to control such discharges.

4.5 Documentation of Permit Eligibility Related to Endangered Species

Your SWPPP must include documentation supporting your determination of permit eligibility with regard to Part 1.2.3.6 (Endangered Species), including:

4.5.1 Information on whether listed endangered or threatened species, or critical habitat, are found in proximity to your facility;

4.5.2 Whether such species may be affected by your storm water discharges or storm water discharge-related activities;

4.5.3 Results of your Addendum A endangered species screening determinations; and

4.5.4 A description of measures necessary to protect listed endangered or threatened species, or critical habitat, including any terms or conditions that are imposed under the eligibility requirements of Part 1.2.3.6. If you fail to describe and implement such measures, your discharges are ineligible for coverage under this permit.

4.6 Documentation of Permit Eligibility Related to Historic Places

Your SWPPP must include documentation supporting your determination of permit eligibility with regard to Part 1.2.3.7 (Historic Places), including:

4.6.1 Information on whether your storm water discharges or storm water discharge-related activities would have an effect on a property that is listed or eligible for listing on the National Register of Historic Places;

4.6.2 Where effects may occur, any written agreements you have made with the State Historic Preservation Officer, Tribal Historic Preservation Officer, or other Tribal leader to mitigate those effects;

4.6.3 Results of your Addendum B historic places screening determinations; and

4.6.4 Description of measures necessary to avoid or minimize adverse impacts on places listed, or eligible for listing, on the National Register of Historic Places, including any terms or conditions that are imposed under the eligibility requirements of Part 1.2.3.7 of this permit. If you fail to describe and implement such measures, your discharges are ineligible for coverage under this permit.

4.7 Copy of Permit Requirements

You must include a copy of the permit requirements (attaching a copy of this permit is acceptable) in your SWPPP.

Note: The confirmation of coverage letter you receive from the NOI Processing Center assigning your permit number IS NOT your permit—it merely acknowledges that your NOI has been accepted and you have been authorized to discharge subject to the terms and conditions of today's permit.

4.8 Applicable State, Tribal or Local Plans

Your SWPPP must be consistent (and updated as necessary to remain consistent) with applicable State, Tribal and/or local storm water, waste disposal, sanitary sewer or septic system regulations to the extent these apply to your facility and are more stringent than the requirements of this permit.

4.9 Comprehensive Site Compliance Evaluation

4.9.1 Frequency and Inspectors

You must conduct facility inspections at least once a year. The inspections must be done by qualified personnel provided by you. The qualified personnel you use may be either your own employees or outside consultants that you have hired, provided they are knowledgeable and possess the skills to assess conditions at your facility that could impact storm water quality and assess the effectiveness of the BMPs you have chosen to use to control the quality of your storm water discharges. If you decide to conduct more frequent inspections, your SWPPP must specify the frequency of inspections.

4.9.2 Scope of the Compliance Evaluation

Your inspections must include all areas where industrial materials or activities are exposed to storm water, as identified in 4.2.4, and areas where spills and leaks have occurred within the past 3 years. Inspectors should look for: (a) Industrial materials, residue or trash on the ground that could contaminate or be washed away in storm water; (b) leaks or spills from industrial equipment, drums, barrels, tanks or similar containers; (c) offsite tracking of industrial materials or sediment where vehicles enter or exit the site; (d) tracking or blowing of raw, final, or waste materials from areas of no exposure to exposed areas and (e) for evidence of, or the potential for, pollutants entering the drainage system. Storm water BMPs identified in your SWPPP must be observed to ensure that they are operating correctly. Where discharge locations or points are accessible, they must be inspected to see whether BMPs are effective in preventing significant impacts to receiving waters. Where discharge locations are inaccessible, nearby downstream locations must be inspected if possible.

4.9.3 Followup Actions

Based on the results of the inspection, you must modify your SWPPP as necessary (e.g., show additional controls on map required by Part 4.4.2.4; revise description of controls required by Part 4.4.5) to include additional or modified BMPs designed to correct problems identified. You must complete revisions to the SWPPP within 14 calendar days following the inspection. If existing BMPs need to be modified or if additional BMPs are necessary, implementation must be completed before the next anticipated storm event. If implementation before the next anticipated storm event is impracticable, they must be implemented as soon as practicable.

4.9.4 Compliance Evaluation Report

You must insure a report summarizing the scope of the inspection, name(s) of personnel making the inspection, the date(s) of the inspection, and major observations relating to the implementation of the SWPPP is completed and retained as part of the SWPPP for at least three years from the date permit coverage expires or is terminated. Major observations should include: The location(s) of discharges of pollutants from the site; location(s) of BMPs that need to be maintained; location(s) of BMPs that failed to operate as designed or proved inadequate for a particular location; and location(s) where additional BMPs are needed that did not exist at the time of inspection. You must retain a record of actions taken in accordance with 4.9 of this permit as part of the storm water pollution prevention plan for at least three years from the date that permit coverage expires or is terminated. The inspection reports must identify any incidents of non-compliance. Where an inspection report does not identify any incidents of non-compliance, the report must contain a certification that the facility is in compliance with the storm water pollution prevention plan and this permit. Both the inspection report and any reports of follow-up actions must be signed in accordance with Part 6 (reporting) of this permit.

4.9.5 Credit As a Routine Facility Inspection

Where compliance evaluation schedules overlap with inspections required under Part 4.2.7.5, your annual compliance evaluation may also be used as one of the Part 4.2.7.5 routine inspections.

4.10 Maintaining Updated SWPPP

You must amend the storm water pollution prevention plan whenever:

4.10.1 There is a change in design, construction, operation, or maintenance at your facility which has a significant effect on the discharge, or potential for discharge, of pollutants from your facility;

4.10.2 During inspections or investigations by you or by local, State, Tribal or Federal officials it is determined the SWPPP is ineffective in eliminating or significantly minimizing pollutants from sources identified under 4.2.4, or is otherwise not achieving the general objectives of controlling pollutants in discharges from your facility.

4.11 Signature, Plan Review and Making Plans Available

4.11.1 You must sign your SWPPP in accordance with Part 9.7, and retain the plan on-site at the facility covered by this permit (see Part 8 for records retention requirements).

4.11.2 You must keep a copy of the SWPPP on-site or locally available to the Director for review at the time of an on-site inspection. You must make your SWPPP available upon request to the Director, a State, Tribal or local agency approving storm water management plans, or the operator of a municipal separate storm sewer receiving discharge from the site. Also, in the interest of public involvement, EPA encourages you to make your SWPPPs available to the public for viewing during normal business hours.

4.11.3 The Director may notify you at any time that your SWPPP does not meet one or more of the minimum requirements of this permit. The notification will identify provisions of this permit which are not being met, as well as the required modifications. Within thirty (30) calendar days of receipt of such notification, you must make the required changes to the SWPPP and submit to the Director a written certification that the requested changes have been made.

4.11.4 You must make the SWPPP available to the USFWS or NMFS upon request.

4.12 Additional Requirements for Storm Water Discharges Associated With Industrial Activity From Facilities Subject to EPCRA Section 313 Reporting Requirements.

Potential pollutant sources for which you have reporting requirements under EPCRA 313 must be identified in your summary of potential pollutant sources as per Part 4.2.4. Note this additional requirement only applies to you if you are subject to reporting requirements under EPCRA 313.

5. Monitoring Requirements and Numeric Limitations

[Note: EPA is requesting comment on the monitoring requirements presented in this section. Specifically, EPA is requesting input on the value of benchmark monitoring in meeting its intended goal, as well as alternative approaches that are more efficient and cost-effective. Unlike compliance monitoring where results are use to determine compliance with numerical effluent limitations, the purpose of benchmark monitoring is to determine the overall effectiveness of a facility's storm water pollution prevention plan in controlling the discharge of pollutants to receiving waters. The goal of benchmark monitoring is to provide facility operators with information on whether additional or alternative best management practices are necessary at their facility, as well as identify specific areas that need additional attention. EPA is requesting input on alternatives to benchmark monitoring that are more effective in assisting facility operators in evaluating the effectiveness of their storm water pollution prevention plans.

Presentation of the benchmark monitoring option in the proposed permit language is included simply to allow the public and permittees familiar with the process used in the current permit to better comment on ways EPA has identified that benchmark monitoring, if selected for use in the final permit, could be improved. A decision on whether to continue use of benchmark monitoring, and if so, with what modifications, will NOT be made until considering all input received during the public comment period. The Fact Sheet section of today's notice provides more detail on potential alternatives to benchmark monitoring to encourage comment on this issue.]

There are five individual and separate categories of monitoring requirements and numeric limitations that your facility may be subject to under this permit. The monitoring requirements and numeric limitations applicable to your facility depend on a number of factors, including: (1) The types of industrial activities generating storm water runoff from your facility, and (2) the state or tribe where your facility is located. Part 6 identifies monitoring requirements applicable to specific sectors of industrial activity. Part 13 contains additional requirements that apply only to facilities located in a particular State or Indian Country land. You must review Parts 5, 6 and 13 of the permit to determine which monitoring requirements and numeric limitations apply to your facility. Unless otherwise specified, limitations and monitoring requirements under Parts 5, 6, and 13 are additive.

Sector-specific monitoring requirements and limitations are applied discharge by discharge at facilities with co-located activities. Where storm water from the co-located activities are co-mingled, the monitoring requirements and limitations are additive. Where more than one numeric limitation for a specific parameter applies to a discharge, compliance with the more restrictive limitation is required. Where monitoring requirements for a monitoring quarter overlap (e.g., need to monitor TSS 1/year for a limit and also 1/quarter for benchmark monitoring), you may use a single sample to satisfy both monitoring requirements.

5.1 Types of Monitoring Requirements and Limitations

5.1.1 Quarterly Visual Monitoring

The requirements and procedures for quarterly visual monitoring are applicable to all facilities covered under this permit, regardless of your facility's sector of industrial activity.

5.1.1.1 You must perform and document a quarterly visual examination of a storm water discharge associated with industrial activity from each outfall, except discharges exempted below. The visual examination must be made during daylight hours (e.g., normal working hours). If no storm event resulted in runoff from the facility during a monitoring quarter, you are excused from visual monitoring for that quarter provided you document in your monitoring records that no runoff occurred. You must sign and certify the documentation in accordance with Part 9.7.

5.1.1.2 Your visual examinations must be made of samples collected within the first 30 minutes (or as soon thereafter as practical, but not to exceed 1 hour) of when the runoff or snowmelt begins discharging from your facility. The examination must document observations of color, odor, clarity, floating solids, settled solids, suspended solids, foam, oil sheen, and other obvious indicators of storm water pollution. The examination must be conducted in a well lit area. No analytical tests are required to be performed on the samples. All such samples must be collected from the discharge resulting from a storm event that is greater than 0.1 inches in magnitude and that occurs at least 72 hours from the previously measurable (greater than 0.1 inch rainfall) storm event. Where practicable, the same individual should carry out the collection and examination of discharges for the entire permit term. If no qualifying storm event resulted in runoff from the facility during a monitoring quarter, you are excused from visual monitoring for that quarter provided you document in your monitoring records that no qualifying storm event occurred that resulted in storm water runoff during that quarter. You must sign and certify the documentation in accordance with Part 9.7.

5.1.1.3 You must maintain your visual examination reports onsite with the pollution prevention plan. The report must include the examination date and time, examination personnel, the nature of the discharge (i.e., runoff or snow melt), visual quality of the storm water discharge (including observations of color, odor, clarity, floating solids, settled solids, suspended solids, foam, oil sheen, and other obvious indicators of storm water pollution), and probable sources of any observed storm water contamination.

5.1.1.4 Inactive and Unstaffed Sites: When you are unable to conduct visual storm water examinations at an inactive and unstaffed site, you may exercise a waiver of the monitoring requirement as long as the facility remains inactive and unstaffed. If you exercise this waiver, you must maintain a certification with the pollution prevention plan stating that the site is inactive and unstaffed and that performing visual examinations during a qualifying event is not feasible. You must sign and certify the waiver in accordance with Part 9.7.

5.1.2 Benchmark Monitoring of Discharges Associated With Specific Industrial Activities

Table 5-1 identifies the specific industrial sectors subject to the Benchmark Monitoring requirements of this permit and the industry-specific pollutants of concern. You must refer to the tables found in the individual Sectors in Part 6 for Benchmark Monitoring Cut-Off Concentrations. If your facility has co-located activities (see Part 1.2.1.1) described in more than one sector in Part 6, you must comply with all applicable benchmark monitoring requirements from each sector.

The results of benchmark monitoring are primarily for your use to determine the overall effectiveness of your SWPPP in controlling the discharge of pollutants to receiving waters. Benchmark values, included in Part 6 of this permit, are not viewed as effluent limitations. An exceedence of a benchmark value does not, in and of itself, constitute a violation of this permit. While exceedence of a benchmark value does not automatically indicate that violation of a water quality standard has occurred, it does signal that modifications to the SWPPP may be necessary. In addition, exceedence of benchmark values may identify facilities that would be more appropriately covered under an individual, or alternative general permit where more specific pollution prevention controls could be required.

Table 5-1.—Industry Sectors/Sub-Sectors Subject to Benchmark Monitoring
MSGP sector ¹ | Industry Sub-sector | Required parameters for benchmark Monitoring
A | General Sawmills and Planing Mills | COD, TSS, Zinc.
| Wood Preserving Facilities | Arsenic, Copper.
| Log Storage and Handling | TSS.
| Hardwood Dimension and Flooring Mills | COD, TSS.
B | Paperboard Mills | COD.
C | Industrial Inorganic Chemicals | Aluminum, Iron, Nitrate + Nitrite N.
| Plastics, Synthetic Resins, etc. | Zinc.
| Soaps, Detergents, Cosmetics, Perfumes | Nitrate + Nitrite N, Zinc.
| Agricultural Chemicals | Nitrate + Nitrite N, Lead, Iron, Zinc, Phosphorus.
D | Asphalt Paving and Roofing Materials | TSS.
E | Clay Products | Aluminum.
| Concrete Products | TSS, Iron.
F | Steel Works, Blast Furnaces, and Rolling and Finishing Mills | Aluminum, Zinc.
| Iron and Steel Foundries | Aluminum, TSS, Copper, Iron, Zinc.
| Non-Ferrous Rolling and Drawing | Copper, Zinc.
| Non-Ferrous Foundries (Castings) | Copper, Zinc.
G ² | Copper Ore Mining and Dressing | COD, TSS, Nitrate + Nitrite N.
H | Coal Mines and Coal-Mining Related Facilities | TSS, Aluminum, Iron.
J | Dimension Stone, Crushed Stone, and Nonmetallic Minerals (except fuels) | TSS.
| Sand and Gravel Mining | Nitrate + Nitrite N, TSS.
K | Hazardous Waste Treatment Storage or Disposal | Ammonia, Magnesium, COD, Arsenic, Cadmium, Cyanide, Lead, Mercury, Selenium, Silver.
L | Landfills, Land Application Sites, and Open Dumps | Iron, TSS.
M | Automobile Salvage Yards | TSS, Aluminum, Iron, Lead.
N | Scrap Recycling | Copper, Aluminum, Iron, Lead, Zinc, TSS, COD.
O | Steam Electric Generating Facilities | Iron.
Q | Water Transportation Facilities | Aluminum, Iron, Lead, Zinc.
S | Airports with deicing activities ³ | BOD, COD, Ammonia, pH.
U | Grain Mill Products | TSS.
| Fats and Oils | BOD, COD, Nitrate + Nitrite N, TSS.
Y | Rubber Products | Zinc.
AA | Fabricated Metal Products Except Coating | Iron, Aluminum, Zinc, Nitrate + Nitrite N.
| Fabricated Metal Coating and Engraving | Zinc, Nitrate + Nitrite N.
¹ Table does not include parameters for compliance monitoring under effluent limitations guidelines.
² See Sector G (Part 6.G) for additional monitoring discharges from waste rock and overburden piles from active ore mining or dressing facilities.
³ Monitoring requirement is for airports with deicing activities that utilize more than 100 tons of urea or more than 100,000 gallons of ethylene glycol per year.

5.1.2.1 Monitoring Periods for Benchmark Monitoring. Unless otherwise specified in Part 6, benchmark monitoring periods are October 1, 2001 to September 30, 2002 (year two of the permit) and October 1, 2003 to September 30, 2004 (year four of the permit). If your facility falls within a Sector(s) required to conduct benchmark monitoring, you must monitor quarterly (4 times a year) during at least one, and potentially both, monitoring periods; unless otherwise specified in the sector-specific requirements of Part 6. Depending on the results of the 2001-2002 monitoring year, you may not be required to conduct benchmark monitoring in the 2003-2004 monitoring year (see Part 5.1.2.2).

5.1.2.2 Benchmark Monitoring Year 2003-2004 Waivers for Facilities Testing Below Benchmark Values. All of the provisions of Part 5.1.2.2 are available to permittees except as noted in Part 6. Waivers from benchmark monitoring are available to facilities whose discharges are below benchmark values, thus there is an incentive for facilities to improve the effectiveness of their SWPPPs in eliminating discharges of pollutants and avoid the cost of monitoring.

On both a parameter by parameter and outfall by outfall basis, you are not required to conduct sector-specific benchmark monitoring in the 2003-2004 monitoring year provided:

• You collected samples for all four quarters of the 2001-2002 monitoring year and the average concentration was below the benchmark value in Part 6; and

• You are not subject to a numeric limitation or State/Tribal-specific monitoring requirement for that parameter established in Part 5.2 or Part 13; and

• You include a certification in the SWPPP that based on current potential pollutant sources and BMPs used, discharges from the facility are reasonable expected to be essentially the same (or cleaner) compared to when the benchmark monitoring for the 2001-2002 monitoring year was done.

5.1.3 Coal Pile Runoff

5.1.3.1 If your facility has discharges of storm water from coal storage piles , you must comply with the limitations and monitoring requirements of Table 5-2 for all discharges containing the coal pile runoff, regardless of your facility's sector of industrial activity.

Table 5-2.—Numeric Limitations for Coal Pile Runoff
Parameter | Limit | Monitoring frequency | Sample type
Total Suspended Solids (TSS) | 50 mg/l, max | 1/year | Grab.
pH | 6.0—9.0, min. and max | 1/year | Grab.

5.1.3.2 You must not dilute coal pile runoff with storm water or other flows in order to meet this limitation.

5.1.3.3 If your facility is designed, constructed and operated to treat the volume of coal pile runoff that is associated with a 10-year, 24-hour rainfall event, any untreated overflow of coal pile runoff from the treatment unit is not subject to the 50 mg/L limitation for total suspended solids.

5.1.3.4 You must collect and analyze your samples in accordance with Parts 5.2.2. Results of the testing must be retained and reported in accordance with Part 8 and 9.16.

5.1.4 Compliance Monitoring for Discharges Subject to Numerical Effluent Limitation Guidelines

Table 1-2 of Part 1.2.2.1.3 of the permit identifies storm water discharges subject to effluent limitation guidelines that are authorized for coverage under the permit. Facilities subject to storm water effluent limitation guidelines are required to monitor such discharges to evaluate compliance with numerical effluent limitations. Industry-specific numerical limitations and compliance monitoring requirements are described in Part 6 of the permit.

5.1.5 Monitoring for Limitations Required by a State or Tribe

Unless otherwise specified in Part 13 (state/tribal-specific permit conditions), you must sample once per year for any permit limit established as a result of a state or tribe's conditions for certification of this permit under CWA § 401.

5.2 Monitoring Instructions

5.2.1 Monitoring Periods

If you are required to conduct monitoring on an annual or quarterly basis, you must collect your samples within the following time periods (unless otherwise specified in Part 6):

• the monitoring year is from October 1 to September 30

• if your permit coverage was effective less than one month from the end of a quarterly or yearly monitoring period, your first monitoring period starts with the next respective monitoring period. (e.g., if permit coverage begins June 5th, you would not need to start quarterly sampling until the July-September quarter, but you would only have from June 5th to September 30th to complete that year's annual monitoring)

5.2.2 Collection and Analysis of Samples

You must assess your sampling requirements on an outfall by outfall basis. You must collect and analyze your samples in accordance with the requirements of Part 9.16.

5.2.2.1 When and How to Sample. Take a minimum of one grab sample from the discharge associated with industrial activity resulting from a storm event with at least 0.1 inch of precipitation (defined as a “measurable” event), providing the interval from the preceding measurable storm is at least 72 hours. The 72-hour storm interval is waived when the preceding measurable storm did not yield a measurable discharge, or if you are able to document that less than a 72-hour interval is representative for local storm events during the sampling period.

Take the grab sample during the first 30 minutes of the discharge. If it is not practicable to take the sample during the first 30 minutes, sample during the first hour of discharge and describe why a grab sample during the first 30 minutes was impracticable. Submit this information on or with the discharge monitoring report (see Part 7.1). If the sampled discharge commingles with process or non-process water, attempt to sample the storm water discharge before it mixes with the non-storm water.

To get help with monitoring, consult the Guidance Manual for the Monitoring and Reporting Requirements of the NPDES Storm Water Multi-Sector General Permit which can be down loaded from the EPA Web Site at www.epa.gov/OWM/sw/industry/index.htm. It can also be ordered from the Office of Water Resource Center by calling 202-260-7786.

5.2.3 Storm Event Data

Along with the results of your monitoring, you must provide the date and duration (in hours) of the storm event(s) samples; rainfall measurements or estimates (in inches) of the storm event that generated the sampled runoff; the duration between the storm event samples and the end of the previous measurable (greater than 0.1 inch rainfall) storm event; and an estimate of the total volume (in gallons) of the discharge samples.

5.2.4 Representative Outfalls—Essential Identical Discharges

If your facility has two (2) or more outfalls that you believe discharge substantially identical effluents, based on similarities of the industrial activities, significant materials or storm water management practices occurring within the outfalls' drainage areas, you may test the effluent of just one of the outfalls and report that the quantitative data also applies to the substantially identical outfall(s). For this to be permissible, you must describe in the pollution prevention plan and include in the Discharge Monitoring Report the following: locations of the outfalls; why the outfalls are expected to discharge substantially identical effluents; estimates of the size of the drainage area (in square feet) for each of the outfalls; and an estimate of the runoff coefficient of the drainage areas (low: under 40 percent; medium: 40 to 65 percent; high: above 65 percent).

5.3 General Monitoring Waivers

The following waivers may be applied to any monitoring required under this permit.

5.3.1 Adverse Climatic Conditions Waiver

When adverse weather conditions prevent the collection of samples, take a substitute sample during a qualifying storm event in the next monitoring period. Adverse conditions (i.e., those which are dangerous or create inaccessibility for personnel) may include such things as local flooding, high winds, electrical storms, or situations which otherwise make sampling impracticable such as drought or extended frozen conditions.

5.3.2 Alternative Certification of “Not Present or No Exposure”

You are not subject to the analytical monitoring requirements of this Part provided:

5.3.2.1 you make a certification for a given outfall, or on a pollutant-by-pollutant basis in lieu of monitoring required under Part 5, that material handling equipment or activities, raw materials, intermediate products, final products, waste materials, by-products, industrial machinery or operations, or significant materials from past industrial activity that are located in areas of the facility within the drainage area of the outfall are not presently exposed to storm water and are not expected to be exposed to storm water for the certification period; and

5.3.2.2 your certification is signed in accordance with Part 9.7, retained in the storm water pollution prevention plan, and submitted to EPA in accordance with Part 6. In the case of certifying that a pollutant is not present, the permittee must submit the certification along with the monitoring reports required Part 6; and

5.3.2.3 if you cannot certify for an entire period, you must submit the date exposure was eliminated and any monitoring required up until that date; and

5.3.2.4 no numeric limitation or State-specific monitoring requirement for that parameter is established in Part 5 or Part 12.

5.4 Monitoring Required the Director

The Director may provide written notice to any facility, including those otherwise exempt from the sampling requirements of Parts 5, 6 and 12, requiring discharge sampling for a specific monitoring frequency for specific parameters. Any such notice will briefly state the reasons for the monitoring, parameters to be monitored, frequency and period of monitoring, sample types, and reporting requirements.

5.5 Reporting Monitoring Results

Deadlines and procedures for submitting monitoring reports are contained in Part 7.

6. Sector-Specific Requirements for Industrial Activity

You only need to comply with the additional requirements of Part 6 that apply to the sector(s) of industrial activity at your facility. These sector-specific requirements are in addition to the “basic” requirements specified in Parts 1-5 and 7-13 of this permit.

6.A Sector A—Timber Products

6.A.1 Covered Storm Water Discharges

The requirements in Part 6.A apply to storm water discharges associated with industrial activity from Timber Products facilities as identified by the SIC Codes specified under Sector A in Table 1-1 of Part 1.2.1.

6.A.2 Industrial Activities Covered by Sector A

The types of activities that permittees under Sector A are primarily engaged in are:

6.A.2.1 Cutting timber and pulpwood (those that have log storage or handling areas);

6.A.2.2 Mills, including merchant, lath, shingle, cooperage stock, planing, plywood and veneer;

6.A.2.3 Producing lumber and wood basic materials;

6.A.2.4 Wood preserving;

6.A.2.5 Manufacturing finished articles made entirely of wood or related materials except wood kitchen cabinet manufacturers (covered under Part 6.23);

6.A.2.6 Manufacturing wood buildings or mobile homes.

6.A.3 Special Coverage Conditions.

6.A.3.1 Prohibition of Discharges. (See also Part 1.2.3.1)

Not covered by this permit: Storm water discharges from areas where there may be contact with the chemical formulations sprayed to provide surface protection. These discharges must be covered by a separate NPDES permit.

6.A.3.2 Authorized Non-Storm Water Discharges.

(See also Part 1.2.3.1) Also authorized by this permit, provided the non-storm water component of the discharge is in compliance with SWPPP requirements in Part 4.2.7 (Controls): Discharges from the spray down of lumber and wood product storage yards where no chemical additives are used in the spray down waters and no chemicals are applied to the wood during storage.

6.A.4 Storm Water Pollution Prevention Plan (SWPPP) Requirements.

In addition to the following requirements, you must also comply with the requirements listed in Part 4.

6.A.4.1 Drainage Area Site Map. (See also Part 4.2.2.3) Also identify where any of the following may be exposed to precipitation/surface runoff: Processing areas; treatment chemical storage areas; treated wood and residue storage areas; wet decking areas; dry decking areas; untreated wood and residue storage areas; and treatment equipment storage areas.

6.A.4.2 Inventory of Exposed Materials. (See also Part 4.2.4) Where such information exists, if your facility has used chlorophenolic, creosote or chromium-copper-arsenic formulations for wood surface protection or preserving, identify the following: Areas where contaminated soils, treatment equipment and stored materials still remain, and the management practices employed to minimize the contact of these materials with storm water runoff.

6.A.4.3 Description of Storm Water Management Controls. (See also Part 4.2.7). Describe and implement measures to address the following activities/sources: Log, lumber and wood product storage areas; residue storage areas; loading and unloading areas; material handling areas; chemical storage areas; and equipment/vehicle maintenance, storage and repair areas. If your facility performs wood surface protection/preservation activities, address the specific BMPs for these activities.

6.A.4.4 Good Housekeeping. (See also Part 4.2.7.2.1.1). In areas where storage, loading/unloading and material handling occur, perform good housekeeping to limit the discharge of wood debris; minimize the leachate generated from decaying wood materials; and minimize the generation of dust.

6.A.4.5 Inspections. (See also Part 4.2.7.2.1.5). If your facility performs wood surface protection/preservation activities, inspect processing areas, transport areas and treated wood storage areas monthly to assess the usefulness of practices to minimize the deposit of treatment chemicals on unprotected soils and in areas that will come in contact with storm water discharges.

6.A.5 Monitoring and Reporting Requirements. (See also Part 5)

Table A-1.—Sector-Specific Numeric Limitations and Benchmark Monitoring
[Sector of permit affected/supplemental requirements]
Subsector ¹ | Parameter | Benchmark monitoring cutoff concentration ² | Numeric limitation ³
General Sawmills and Planning Mills (SIC 2421) | Chemical Oxygen Demand (COD) | 120.0 mg/L
| Total Suspended Solids (TSS) | 100 mg/L
| Total Zinc | 0.117 mg/L
Wood Preserving (SIC 2491) | Total Arsenic | 0.16854 mg/L
| Total Copper | 0.0636 mg/L
Log Storage and Handling (SIC 2411) | Total Suspended Solids (TSS) | 100 mg/L
Wet Decking Discharges at Log Storage and Handling Areas (SIC 2411) | pH |  | 6.0-9.0 s.u.
| Debris (woody material such as bark, twigs, branches, heartwood, or sapwood) |  | No Discharge of debris that will not pass through a 2.54 cm (1”) diameter round opening.
Hardwood Dimension and Flooring Mills; Special Products Sawmills, not elsewhere classified; Millwork, Veneer, Plywood and Structural Wood; Wood Containers; Wood Buildings and Mobile Homes; Reconstituted Wood Products; and Wood Products Facilities not elsewhere classified (SIC Codes 2426, 2429, 2431-2439 (except 2434), 2448, 2449, 2451, 2452, 2493, and 2499) | Chemical Oxygen Demand (COD) | 120.0 mg/L.
| Total Suspended Solids (TSS) | 100.0 mg/L.
¹ Discharges may be subject to requirements for more than one sector/subsector.
² Monitor once/quarter for the year 2 and year 4 monitoring years.
³ Monitor once per year for each monitoring year.

6.B Sector B. Paper and Allied Products Manufacturing

6.B.1 Covered Storm Water Discharges

The requirements in Part 6.B apply to storm water discharges associated with industrial activity from Paper and Allied Products Manufacturing facilities as identified by the SIC Codes specified under Sector B in Table 1-1 of Part 1.2.1.

6.B.2 Industrial Activities Covered by Sector B

The types of activities that permittees under Sector B are primarily engaged in are:

6.B.2.1 manufacture of pulps from wood and other cellulose fibers and from rags;

6.B.2.2 manufacture of paper and paperboard into converted products, i.e. paper coated off the paper machine, paper bags, paper boxes and envelopes;

6.B.2.3 manufacture of bags of plastic film and sheet.

6.B.3 Monitoring and Reporting Requirements

(See also Part 5)

Table B-1.—Sector-Specific Numeric Effluent Limitations and Benchmark Monitoring
[Part of permit affected/supplemental requirements]
Subsector ¹ | Parameter | Benchmark monitoring cutoff concentration ² | Numeric limitation
Paperboard Mills (SIC Code 2631) | COD | 120.0 mg/L. |
¹ Discharges may be subject to requirements for more than one sector/subsector.
² Monitor once/quarter for the year 2 and year 4 monitoring years.

6.C Sector C—Chemical and Allied Products Manufacturing

6.C.1 Covered Storm Water Discharges

The requirements in Part 6.C apply to storm water discharges associated with industrial activity from Chemical and Allied Products Manufacturing facilities as identified by the SIC Codes specified under Sector C in Table 1-1 of Part 1.2.1.

6.C.2 Industrial Activities Covered by Sector C

The requirements listed under this part apply to storm water discharges associated with industrial activity from a facility engaged in manufacturing the following products:

6.C.2.1 basic industrial inorganic chemicals;

6.C.2.2 plastic materials and synthetic resins, synthetic rubbers, and cellulosic and other human made fibers, except glass;

6.C.2.3 soap and other detergents, including facilities producing glycerin from vegetable and animal fats and oils; speciality cleaning, polishing and sanitation preparations; surface active preparations used as emulsifiers, wetting agents and finishing agents, including sulfonated oils; and perfumes, cosmetics and other toilet preparations;

6.C.2.4 paints (in paste and ready mixed form); varnishes; lacquers; enamels and shellac; putties, wood fillers, and sealers; paint and varnish removers; paint brush cleaners; and allied paint producers;

6.C.2.5 industrial organic chemicals;

6.C.2.6 industrial and household adhesives, glues, caulking compounds, sealants, and linoleum, tile and rubber cements from vegetable, animal or synthetic plastic materials; explosives; printing ink, including gravure, screen process and lithographic inks; miscellaneous chemical preparations such as fatty acids, essential oils, gelatin (except vegetable), sizes, bluing, laundry sours, writing and stamp pad ink, industrial compounds such as boiler and heat insulating compounds, and chemical supplies for foundries;

6.C.2.7 ink and paints, including china painting enamels, indian ink, drawing ink, platinum paints for burnt wood or leather work, paints for china painting, artists' paints and artists' water colors.

6.C.3 Limitations on Coverage

6.C.3.1 Prohibition of Non-Storm Water Discharges. (See also Part 1.2.3.3)

Not covered by this permit: non-storm water discharges containing inks, paints or substances (hazardous, nonhazardous, etc.) resulting from an onsite spill, including materials collected in drip pans; washwater from material handling and processing areas; and washwater from drum, tank or container rinsing and cleaning.

6.C.4 Storm Water Pollution Prevention Plan (SWPPP) Requirements

In addition to the following requirements, you must also comply with the requirements listed in Part 4.

6.C.4.1 Drainage Area Site Map. (See also Part 4.2.2.3)

Also identify where any of the following may be exposed to precipitation/surface runoff: Processing and storage areas; access roads, rail cars and tracks; areas where substances are transferred in bulk; and operating machinery.

6.C.4.2 Potential Pollutant Sources. (See also Part 4.2.4)

Describe the following sources and activities that have potential pollutants associated with them: Loading, unloading and transfer of chemicals; outdoor storage of salt, pallets, coal, drums, containers, fuels, fueling stations; vehicle and equipment maintenance/cleaning areas; areas where the treatment, storage or disposal (on-or off-site) of waste/wastewater occur; storage tanks and other containers; processing and storage areas; access roads, rail cars and tracks; areas where the transfer of substances in bulk occurs; and areas where machinery operates.

6.C.4.3 Good Housekeeping Measures. (See also Part 4.2.7.2.1.1)

As part of your good housekeeping program, include a schedule for regular pickup and disposal of garbage and waste materials, or adopt other appropriate measures to reduce the potential for discharging storm water that has contacted garbage or waste materials. Routinely inspect the condition of drums, tanks and containers for potential leaks.

6.C.5 Monitoring and Reporting Requirements

(See also Part 5)

Table C-1.—Sector-Specific Numeric Effluent Limitations and Benchmark Monitoring
[Part of permit affected/supplemental requirements]
Subsector ¹ | Parameter | Benchmark monitoring cutoff concentration ² | Numeric Limitation ³
Phosphate Subcategory of the Fertilizer Manufacturing Point Source Category (40 CFR § 418.10)—applies to precipitation runoff, that during manufacturing or processing, comes into contact with any raw materials, intermediate product, finished product, by-products or waste product (SIC 2874) | Total Phosphorus (as P) |  | 105.0 mg/L, daily max. 35 mg/L, 30-day avg.
| Fluoride |  | 105.0 mg/L, daily max. 25.0 mg/L, 30-day avg.
Agricultural Chemicals (2873-2879) | Nitrate plus Nitrite Nitrogen | 0.68 mg/L. |
| Total Recoverable Lead | 0.0816 mg/L. |
| Total Recoverable Iron | 1.0 mg/L. |
| Total Recoverable Zinc | 0.117 mg/L. |
| Phosphorus | 2.0 mg/L. |
Industrial Inorganic Chemicals (2812-2819) | Total Recoverable Aluminum | 0.75 mg/L. |
| Total Recoverable Iron | 1.0 mg/L. |
| Nitrate plus Nitrite Nitrogen | 0.68 mg/L. |
Soaps, Detergents, Cosmetics, and Perfumes (SIC 2841-2844) | Nitrate plus Nitrite Nitrogen | 0.68 mg/L. |
| Total Recoverable Zinc | 0.117 mg/L. |
Plastics, Synthetics, and Resins (SIC 2821-2824) | Total Recoverable Zinc | 0.117 mg/L. |
¹ Discharges may be subject to requirements for more than one sector/subsector.
² Monitor once/quarter for the year 2 and year 4 Monitoring Years.
³ Monitor once/year for each Monitoring Year.

6.D Sector D—Asphalt Paving and Roofing Materials and Lubricant Manufacturers

6.D.1 Covered Storm Water Discharges

The requirements in Part 6.D apply to storm water discharges associated with industrial activity from Asphalt Paving and Roofing Materials and Lubricant Manufacturers facilities as identified by the SIC Codes specified under Sector D in Table 1-1 of Part 1.2.1.

6.D.2 Industrial Activities Covered by Sector D.

The types of activities that permittees under Sector D are primarily engaged in are:

6.D.2.1 manufacturing asphalt paving and roofing materials;

6.D.2.2 portable asphalt plant facilities;

6.D.2.3 manufacturing lubricating oils and greases.

6.D.3 Limitations on Coverage

The following storm water discharges associated with industrial activity are not authorized by this permit:

6.D.3.1 discharges from petroleum refining facilities, including those that manufacture asphalt or asphalt products that are classified as SIC code 2911;

6.D.3.2 discharges from oil recycling facilities;

6.D.3.3 discharges associated with fats and oils rendering.

6.D.4 Storm Water Pollution Prevention Plan (SWPPP) Requirements

In addition to the following requirements, you must also comply with the requirements listed in Part 4.

6.D.4.1 Inspections. (See also Part 4.2.7.2.1.5) Inspect at least once per month, as part of the maintenance program, the following areas: Material storage and handling areas, liquid storage tanks, hoppers/silos, vehicle and equipment maintenance, cleaning and fueling areas, material handling vehicles, equipment and processing areas. Ensure appropriate action is taken in response to the inspection by implementing tracking or follow up procedures.

6.D.5 Monitoring and Reporting Requirements

(See also Part 5)

Table D-1.—Sector-Specific Numeric Limitations and Benchmark Monitoring
[Sector of permit affected/supplemental requirements]
Subsector ¹ | Parameter | Benchmark monitoring cutoff concentration ² | Numeric limitation ³
Asphalt Paving and Roofing Materials (SIC 2951, 2952) | Total Suspended Solids (TSS) | 100 mg/L. |
Discharges from areas where production of asphalt paving and roofing emulsions occurs (SIC 2951, 2952) | TSS |  | 23.0 mg/L, daily max. 15.0 mg/L 30-day avg.
| Oil and Grease |  | 15.0 mg/L daily max. 10 mg/L, 30-day avg.
| pH |  | 6.0-9.0.
¹ Discharges may be subject to requirements for more than one sector/subsector.
² Monitor once/quarter for the year 2 and year 4 monitoring years.
³ Monitor once per year for each monitoring year.

6.E Sector E—Glass Clay, Cement, Concrete, and Gypsum Products

6.E.1 Covered Storm Water Discharges

The requirements in Part 6.E apply to storm water discharges associated with industrial activity from Glass, Clay, Cement, Concrete, and Gypsum Products facilities as identified by the SIC Codes specified under Sector E in Table 1-1 of Part 1.2.1.

6.E.2 Industrial Activities Covered by Sector E

The requirements listed under this permit apply to storm water discharges associated with industrial activity from a facility engaged in either manufacturing the following products or performing the following activities:

6.E.2.1 flat, pressed, or blown glass or glass containers;

6.E.2.2 hydraulic cement;

6.E.2.3 clay products including tile and brick;

6.E.2.4 Pottery and porcelain electrical supplies;

6.E.2.5 concrete products;

6.E.2.6 gypsum products;

6.E.2.7 minerals and earths, ground or otherwise treated;

6.E.2.8 non-clay refractories.

6.E.3 Limitations on Coverage

Facilities engaged in the following activities are not eligible for coverage under this permit:

6.E.3.1 lime manufacturing;

6.E.3.2 cut stone and stone products;

6.E.3.3 asbestos products;

6.E.3.4 mineral wool and mineral wool insulation products.

6.E.4 Storm Water Pollution Prevention Plan (SWPPP) Requirements.

In addition to the following requirements, you must also comply with the requirements listed in Part 4.

6.E.4.1 Drainage Area Site Map. (See also Part 4.2.2.3)

Identify the locations of the following, as applicable: Bag house or other dust control device; recycle/sedimentation pond, clarifier or other device used for the treatment of process wastewater, and the areas that drain to the treatment device.

6.E.4.2 Good Housekeeping Measures. (See also Part 4.2.2.3)

With good housekeeping prevent or minimize the discharge of: Spilled cement; aggregate (including sand or gravel); kiln dust; fly ash; settled dust; or other significant material in storm water from paved portions of the site that are exposed to storm water. Consider using regular sweeping or other equivalent measures to minimize the presence of these materials. Indicate in your SWPPP the frequency of sweeping or equivalent measures. Determine the frequency from the amount of industrial activity occurring in the area and the frequency of precipitation, but it must be performed at least once a week if cement, aggregate, kiln dust, fly ash or settled dust are being handled/processed. You must also prevent the exposure of fine granular solids (cement, fly ash, kiln dust, etc.) to storm water where practicable, by storing these materials in enclosed silos/hoppers, buildings or under other covering.

6.E.4.3 Inspections. (See also Part 4.2.7.2.1.5)

Perform inspections while the facility is in operation and include all of the following areas exposed to storm water: Material handling areas, above ground storage tanks, hoppers or silos, dust collection/containment systems, truck wash down/ equipment cleaning areas.

6.E.4.4 Certification. (See also Part 4.4.1)

For facilities producing ready-mix concrete, concrete block, brick or similar products, include in the non-storm water discharge certification a description of measures that insure that process waste water resulting from truck washing, mixers, transport buckets, forms or other equipment are discharged in accordance with NPDES requirements or are recycled.

6.E.5 Monitoring and Reporting Requirements

(See also Part 5)

Table E-1.—Sector-Specific Numeric Limitations and Benchmark Monitoring
[Sector of permit affected/supplemental requirements]
Subsector \1\ | Parameter | Benchmark monitoring cutoff concentration ² | Numeric limitation ³
Clay Product Manufacturers (SIC 3251-3259, 3262-3269) | Total Recoverable Aluminum | 0.75 mg/L
¹ Discharge may be subject to requirements for more than one sector/subsector.
² Monitor once/quarter for the year 2 and year 4 monitoring years.
³ Monitor once per year for each monitoring year.

Table E-1.—Sector-Specific Numeric Limitations and Benchmark Monitoring
[Sector of permit affected/supplemental requirements]
Subsector ¹ | Parameter | Benchmark monitoring cutoff concentration ² | Numeric limitation ³
Concrete and Gypsum Product Manufacturers (SIC 3271-3275) | TSS | 100 mg/L.
| Total Recoverable Iron | 1.0 mg/L.
Cement Manufacturing Facility, Material Storage Runoff: Any discharge composed of runoff that derives from the storage of materials including raw materials, intermediate products, finished products, and waste materials that are used in or derived from the manufacture of cement. | Total Suspended Solids (TSS) |  | 50 mg/L, daily max.
| pH |  | 6.0-9.0 S.U.
¹ Discharge may be subject to requirements for more than one sector/subsector.
² Monitor once/quarter for the year 2 and year 4 monitoring years.
³ Monitor once per year for each monitoring year.

6.F Sector F—Primary Metals

6.F.1 Covered Storm Water Discharges

The requirements in Part 6.F apply to storm water discharges associated with industrial activity from Primary Metals facilities as identified by the SIC Codes specified under Sector F in Table 1-1 of Part 1.2.1.

6.F.2 Industrial Activities Covered by Sector F

The types of activities under this Part are facilities primarily engaged in are:

6.F.2.1 steel works, blast furnaces, and rolling and finishing mills including: Steel wire drawing and steel nails and spikes; cold-rolled steel sheet, strip, and bars; and steel pipes and tubes;

6.F.2.2 iron and steel foundries, including: Gray and ductile iron, malleable iron, steel investment, and steel foundries not elsewhere classified;

6.F.2.3 primary smelting and refining of nonferrous metals, including: Primary smelting and refining of copper, and primary production of aluminum;

6.F.2.4 secondary smelting and refining of nonferrous metals;

6.F.2.5 rolling, drawing, and extruding of nonferrous metals, including: Rolling, drawing, and extruding of copper; rolling, drawing and extruding of nonferrous metals except copper and aluminum; and drawing and insulating of nonferrous wire;

6.F.2.6 nonferrous foundries (castings), including: Aluminum die-casting, nonferrous die-casting, except aluminum, aluminum foundries, copper foundries, and nonferrous foundries, except copper and aluminum;

6.F.2.7 miscellaneous primary metal products, not elsewhere classified, including: Metal heat treating, and primary metal products not elsewhere classified;

Activities covered include but are not limited to storm water discharges associated with cooking operations, sintering plants, blast furnaces, smelting operations, rolling mills, casting operations, heat treating, extruding, drawing, or forging all types of ferrous and nonferrous metals, scrap and ore.

6.F.3 Storm Water Pollution Prevention Plan (SWPPP) Requirements

In addition to the following requirements, you must also comply with the requirements listed in Part 4.

6.F.3.1 Drainage Area Site Map. (See also Part 4.2.2.3) Also identify where any of the following activities may be exposed to precipitation/surface runoff: Storage or disposal of wastes such as spent solvents/baths, sand, slag/dross; liquid storage tanks/drums; processing areas including pollution control equipment (e.g., baghouses); and storage areas of raw material such as coal, coke, scrap, sand, fluxes, refractories or metal in any form. In addition, indicate where an accumulation of significant amounts of particulate matter could occur from such sources as furnace or oven emissions, losses from coal/coke handling operations, etc., and which could result in a discharge of pollutants to waters of the United States.

6.F.3.2 Inventory of Exposed Material. (See also Part 4.2.4) Include in the inventory of materials handled at the site that potentially may be exposed to precipitation/runoff, areas where deposition of particulate matter from process air emissions or losses during material handling activities are possible.

6.F.3.3 Good Housekeeping Measures. (See also Part 4.2.7.2.1.1) As part of your good housekeeping program, include: A cleaning/maintenance program for all impervious areas of the facility where particulate matter, dust or debris may accumulate, especially areas where material loading/unloading, storage, handling and processing occur; the paving of areas where vehicle traffic or material storage occur but where vegetative or other stabilization methods are not practicable (institute a sweeping program in these areas too). For unstabilized areas where sweeping is not practicable, consider using storm water management devices such as sediment traps, vegetative buffer strips, filter fabric fence, sediment filtering boom, gravel outlet protection or other equivalent measures that effectively trap or remove sediment.

6.F.3.4 Inspections. (See also Part 4.2.7.2.1.5) Conduct inspections routinely, or at least on a quarterly basis, and address all potential sources of pollutants, including (if applicable): Air pollution control equipment (e.g., baghouses, electrostatic precipitators, scrubbers and cyclones) for any signs of degradation (e.g., leaks, corrosion or improper operation) that could limit their efficiency and lead to excessive emissions. Consider monitoring air flow at inlets/outlets (or use equivalent measures) to check for leaks (e.g., particulate deposition) or blockage in ducts. Also inspect all process and material handling equipment (e.g., conveyors, cranes and vehicles) for leaks, drips or the potential loss of material; and material storage areas (e.g., piles, bins or hoppers for storing coke, coal, scrap or slag, as well as chemicals stored in tanks/drums) for signs of material losses due to wind or storm water runoff.

6.F.4 Monitoring and Reporting Requirements (See also Part 5)

Table F-1.—Sector-specific Numeric Effluent Limitations and Benchmark Monitoring
[Sector of permit affected/supplemental requirements]
Subsector ¹ | Parameter | Benchmark monitoring cutoff concentration ᶠ ² | Numeric limitation
Steel Works, Blast Furnaces, and Rolling and Finishing Mills (SIC 3312-3317) | Total Recoverable Aluminum | 0.75 mg/L. |
| Total Recoverable Zinc | 0.117 mg/L. |
Iron and Steel Foundries (SIC 3321-3325) | Total Recoverable Aluminum | 0.75 mg/L. |
| Total Suspended Solids | 100 mg/L. |
| Total Recoverable Copper | 0.0636 mg/L. |
| Total Recoverable Iron | 1.0 mg/L. |
| Total Recoverable Zinc | 0.117 mg/L. |
Rolling, Drawing, and Extruding of Non-Ferrous Metals (SIC 3351-3357) | Total Recoverable Copper | 0.0636 mg/L. |
| Total Recoverable Zinc | 0.117 mg/L. |
Non-Ferrous Foundries (SIC 3363-3369) | Total Recoverable Copper | 0.0.636 mg/L. |
| Total Recoverable Zinc | 0.117 mg/L. |
¹ Discharges may be subject to requirements for more than one sector/subsector.
² Monitor once/quarter for the year 2 and year 4 Monitoring Years.

6.G Sector G—Metal Mining (Ore Mining and Dressing)

6.G.1 Covered Storm Water Discharges

The requirements in Part 6.G apply to storm water discharges associated with industrial activity from active, temporarily inactive and inactive metal mining and ore dressing facilities, including mines abandoned on Federal Lands, as identified by the SIC Codes specified under Sector G in Table 1-1 of Part 1.2.1. Coverage is required for storm water discharges that have come into contact (directly or indirectly) with any overburden, raw material, intermediate product, finished product, byproduct, or waste product located on the site of the operation.

6.G.1.1 Covered Discharges from Inactive Facilities: All storm water discharges.

6.G.1.2 Covered Discharges from Active and Temporarily Inactive Facilities: Only the discharges from these following areas are covered: Waste rock/overburden piles if composed entirely of storm water and not combined with mine drainage; topsoil piles; offsite haul/access roads; onsite haul roads constructed of waste rock/overburden/spent ore if composed entirely of storm water and not combining with mine drainage; onsite haul roads not constructed of waste rock/overburden/spent ore except if mine drainage is used for dust control; runoff from tailings dams/dikes not constructed of waste rock/tailings if no process fluids are present; runoff from dams/dikes constructed of waste rock/tailings if no process fluids are present, and not combining with mine drainage; concentration building if no contact with material piles; mill site, if no contact with material piles; office/administrative building and housing if mixed with storm water from industrial area; chemical storage piles; docking facility if no excessive contact with waste product that would otherwise constitute mine drainage; explosive storage; fuel storage; vehicle/equipment maintenance area/buildings; parking areas (if necessary); power plant; truck wash areas if no excessive contact with waste product that would otherwise constitute mine drainage; unreclaimed disturbed areas outside of active mining area; reclaimed areas released from reclamation bonds prior to December 17, 1990; partially/inadequately reclaimed areas; areas not released from reclamation bonds.

6.G.2 Industrial Activities Covered by Sector G

Note: “metal mining” will connote any of the separate activities listed in Part 6.G.2.

The types of activities that permittees under Sector G are primarily engaged in are:

6.G.2.1 exploring for metallic minerals (ores), developing mines and the mining of ores;

6.G.2.1 ore dressing and beneficiating, whether performed at co-located, dedicated mills or separate (i.e., custom) mills.

6.G.3 Limitations on Coverage

6.G.3.1 Prohibition of Storm Water Discharges: Storm water discharges not authorized by this permit: Discharges from active metal mining facilities which are subject to effluent limitation guidelines for the Ore Mining and Dressing Point Source Category (40 CFR part 440).

Note: discharges that come in contact with overburden/waste rock are subject to 40 CFR part 440, providing: The discharges drain to a point source (either naturally or as a result of intentional diversion) and they combine with “mine drainage” that is otherwise regulated under the part 440 regulations. Discharges from overburden/waste rock can be covered under this permit if they are composed entirely of storm water, do not combine with sources of mine drainage that are subject to 40 CFR Part 440, and meet other eligibility criteria contained in Part 1.2.2.1.

6.G.3.2 Prohibition of Non-Storm Water Discharges. Not authorized by this permit: Adit drainage and contaminated springs or seeps (see also the standard Limitations on Coverage in Part 1.2.3).

6.G.4 Definitions

6.G.4.1 Mining operation—typically consists of three phases, any one of which individually qualifies as a “mining activity.” The phases are the exploration and construction phase, the active phase, and the reclamation phase.

6.G.4.2 Exploration and construction phase—entails exploration and land disturbance activities to determine the financial viability of a site. Construction includes the building of site access roads and removal of overburden and waste rock to expose mineable minerals.

6.G.4.3 Active phase—activities including each step from extraction through production of a salable product.

6.G.4.4 Reclamation phase—activities intended to return the land to its pre-mining state.

The following definitions are not intended to supercede the definitions of active and inactive mining facilities established by 40 CFR 122.26(b)(14)(iii).

6.G.4.5 Active Metal Mining Facility—a place where work or other activity related to the extraction, removal or recovery of metal ore is being conducted. For surface mines, this definition does not include any land where grading has returned the earth to a desired contour and reclamation has begun.

6.G.4.6 Inactive Metal Mining Facility—a site or portion of a site where metal mining and/or milling occurred in the past but is not an active facility as defined above, and where the inactive portion is not covered by an active mining permit issued by the applicable State or Federal government agency.

6.G.4.7 Temporarily Inactive Metal Mining Facility—a site or portion of a site where metal mining and/or milling occurred in the past but currently are not being actively undertaken, and the facility is covered by an active mining permit issued by the applicable State or Federal government agency.

6.G.5 Clearing, Grading and Excavation Activities

Clearing, grading and excavation (activities typically associated with the exploration and construction phase of a mining operation, but may also apply to active mining operations such as the expansion of existing pits) cannot be covered under this permit if these activities will disturb 5 or more acres of land. If the land disturbance is from 1 to 5 acres, you may or may not be able to utilize the MSGP-2000 to cover your clearing, grading and excavation activities. All mining activities disturbing less than 1 acre must continue to comply with the requirements of this permit. The 5-acre cut-off may not be simply determined by the extent of earth disturbance at a given time, rather it could depend on whether there is a “common plan of development or sale” totaling 5 acres (i.e., a plan to disturb, or the possibility of disturbing, at least 5 acres at some later date). For further information on common plan of development or sale, refer to the EPA's General Permit for Storm Water Discharges from Construction Activities (the “Construction General Permit;” Federal Register, Vol. 63, p. 7858).

6.G.5.1 Requirements for Activities Disturbing 5 or More Acres of Earth. If the 5-acre limit as defined in Part 6.G.5 is attained, coverage for these activities must be under the latest version of EPA's General Permit for Storm Water Discharges from Construction Activities (the “Construction General Permit”), or an applicable State-issued permit. You must obtain and comply with the Construction General Permit's requirements before submitting the separate Construction General Permit Notice of Intent (NOI) form (EPA Form 3510-9) to obtain coverage. The February 17, 1998 version of the permit can be downloaded from the EPA's Web Site at www.epa.gov/owm/sw/construction/cgp/cgp-nat.pdf or obtained from the Office of Water Resource Center at 202.260.7786. The NOI form is also available from the Web Site at www.epa.gov/owm/sw/construction/connoi.pdf or from your EPA Regional office at the address listed under Part 8.3. Discharges in compliance with the provisions of the Construction General Permit are also authorized under the MSGP.

6.G.5.2 Requirements for Activities Disturbing From 1 to 5 Acres of Earth. For earth disturbances of 1 to 5 acres, coverage of mining activities under a construction permit may be required pursuant to the Regulations for Revision of the Water Pollution Control Program Addressing Storm Water Discharges (also known as the Storm Water Phase II Rule; see Federal Register, Vol. 64, p. 68722). Under these regulations there are provisions that allow certain dischargers to waive out of the Phase II construction permit requirement, so you must refer to the Phase II Rule to determine the waivers' applicability to your site. If you choose to waive out of the Phase II construction permit requirement, you still must maintain compliance with the MSGP-2000. As of the publication date of the MSGP-2000, there is not yet available a construction permit for land disturbances of 1 to 5 acres. This permit may be available at any time up to March 10, 2003. Until such time when application for coverage under the Phase II construction permit is required, compliance with the MSGP-2000 must be maintained. Alternatively, you may opt to apply for coverage under the CGP as per Part 6.G.5.1 at any time. Information and updates on the Phase II Rule can be obtained from the EPA's Web Site at www.epa.gov/owm/sw/phase2/index.htm.

6.G.5.3 Cessation of Earth Disturbing Activities. If exploration phase clearing, grading and excavation activities are completed and no further mining activities will occur at the site, you must comply with the requirements for terminating the Construction General Permit (i.e., stabilize the disturbed land, submit a Notice of Termination, etc.). If further mining activities will occur, you may opt for either of the following: Maintain coverage under the CGP (i.e., maintain necessary BMPs, perform inspections, etc.) and apply for coverage under the MSGP for those discharges associated with mineral mining and dressing activities that will occur under the active and reclamation phases; or terminate coverage under the CGP and apply for coverage under the MSGP for all discharges from the site.

6.G.6 Storm Water Pollution Prevention Plan (SWPPP) Requirements

In addition to the following requirements, you must also comply with the requirements listed in Part 4.

6.G.6.1 SWPPP Requirements for Active and Temporarily Inactive Metal Mining Facilities.

6.G.6.1.1 Nature of Industrial Activities. (See also Part 4.2.2.1 ) Briefly describe the mining and associated activities that can potentially affect the storm water discharges covered by this permit, including: The total acreage within the mine site; the estimated acreage of disturbed land; the estimated acreage of land proposed to be disturbed throughout the life of the mine; and a general description of the location of the site relative to major transportation routes and communities.

6.G.6.1.2 Site Map. (See also Part 4.2.2.3) Also identify the locations of the following (as appropriate): Mining/milling site boundaries; access and haul roads; outline of the drainage areas of each storm water outfall within the facility and indicate the types of discharges from the drainage areas; equipment storage, fueling and maintenance areas; materials handling areas; outdoor manufacturing, storage or material disposal areas; chemicals and explosives storage areas; overburden, materials, soils or waste storage areas; location of mine drainage (where water leaves mine) or other process water; tailings piles/ponds (including proposed ones); heap leach pads; off-site points of discharge for mine drainage/process water; surface waters; and boundary of tributary areas that are subject to effluent limitations guidelines.

6.G.6.1.3 Potential Pollutant Sources. (See also Part 4.2.4)

For each area of the mine/mill site where storm water discharges associated with industrial activities occur, identify the types of pollutants (e.g., heavy metals, sediment) likely to be present in significant amounts. Consider these factors: The mineralogy of the ore and waste rock (e.g., acid forming); toxicity and quantity of chemicals used, produced or discharged; the likelihood of contact with storm water; vegetation of site (if any); history of significant leaks/spills of toxic or hazardous pollutants. Also include a summary of any existing ore or waste rock/overburden characterization data and test results for potential generation of acid rock. If any new data is acquired due to changes in ore type being mined, update your SWPPP with this information.

6.G.6.1.4 Site Inspections. (See also Part 4.2.7.2.1.5)

Inspect active mining sites at least monthly. Inspect temporarily inactive sites at least quarterly unless adverse weather conditions make the site inaccessible.

6.G.6.1.5 Employee Training. (See also Part 4.2.7.2.1.6)

Conduct employee training at least annually at active mining and temporarily inactive sites.

6.G.6.1.6 Controls. (See also Part 4.2.7)

Consider each of the following BMPs. The potential pollutants identified in Part 6.G.6.1.3 shall determine the priority and appropriateness of the BMPs selected. If you determine that one or more of these BMPs are not appropriate for your facility, explain why it is not appropriate. If BMPs are implemented or planned but are not listed here (e.g., substituting a less toxic chemical for a more toxic one), include descriptions of them in your SWPPP.

6.G.6.1.6.1 Storm Water Diversions. Consider diverting storm water away from potential pollutant sources. BMP options: Interceptor/diversion controls (e.g., dikes, swales, curbs or berms); pipe slope drains; subsurface drains; conveyance systems (e.g., channels or gutters, open top box culverts and waterbars; rolling dips and road sloping; roadway surface water deflector, and culverts); or their equivalents.

6.G.6.1.6.2 Sediment and Erosion Control. (See also Part 4.2.7.2.2.1)

At active and temporarily inactive sites consider a range of erosion controls within the broad categories of: Flow diversion (e.g., swales); stabilization (e.g., temporary or permanent seeding); and structural controls (e.g., sediment traps, dikes, silt fences).

6.G.6.1.6.3 Management of Runoff. (See also Part 4.2.7.2.2.2)

Consider the potential pollutant sources given in Part 6.G.6.1.3 when determining reasonable and appropriate measures for managing runoff.

6.G.6.1.6.4 Capping. When capping is necessary to minimize pollutant discharges in storm water, identify the source being capped and the material used to construct the cap.

6.G.6.1.6.5 Treatment. If treatment of storm water (e.g., chemical or physical systems, oil/water separators, artificial wetlands, etc.) from active and temporarily inactive sites is necessary to protect water quality, describe the type and location of treatment used.

6.G.6.1.6.6 Certification of Discharge Testing. (See also Part 4.4.1)

Test for specific mining-related discharges such as seeps or adit discharges or discharges subject to effluent limitations guidelines (e.g., 40 CFR part 440), such as mine drainage or process water. Alternatively (if applicable), you may certify in your SWPPP that a particular discharge comprised of commingled storm water and non-storm water is covered under a separate NPDES permit; and that permit subjects the non-storm water portion to effluent limitations prior to any commingling. This certification shall identify the non-storm water discharges, the applicable NPDES permit(s), the effluent limitations placed on the non-storm water discharge by the permit(s), and the points at which the limitations are applied.

6.G.6.2 SWPPP Requirements for Inactive Metal Mining Facilities

6.G.6.2.1 Nature of Industrial Activities. (See also Part 4.2.2.1)

Briefly describe the mining and associated activities that took place at the site that can potentially affect the storm water discharges covered by this permit. Include: Approximate dates of operation; total acreage within the mine and/or processing site; estimate of acres of disturbed earth; activities currently occurring onsite (e.g., reclamation); a general description of site location with respect to transportation routes and communities.

6.G.6.2.2 Site Map. (See also Part 4.2.2.3)

See Part 6.G.6.1.2 for requirements.

6.G.6.2.3 Potential Pollutant Sources.

(See also Part 4.2.4) See Part 6.G.6.1.3 for requirements.

6.G.6.2.4 Controls. (See also Part 4.2.7)

Consider each of the following BMPs. The potential pollutants identified in Part 6.G.6.2.3 shall determine the priority and appropriateness of the BMPs selected. If you determine that one or more of these BMPs are not appropriate for your facility, explain why it is not appropriate. If BMPs are implemented or planned but are not listed here (e.g., substituting a less toxic chemical for a more toxic one), include descriptions of them in your SWPPP. The non-structural controls in the general requirements at Part 4.2.7.2.1 are not required for inactive facilities.

6.G.6.2.4.1 Storm Water Diversions. See Part 6.G.6.1.6.2 for requirements.

6.G.6.2.4.2 Sediment and Erosion Control. (See also Part 4.2.7.2.2.1)

See Part 6.G.6.1.6 for requirements.

6.G.6.2.4.3 Management of Runoff. (See also Part 4.2.7.2.2.2)

Also consider the potential pollutant sources as described in Part 6.G.6.2.3 (Summary of Potential Pollutant Sources) when determining reasonable and appropriate measures for managing runoff.

6.G.6.2.4.4 Capping. See Part 6.G.6.1.7 for requirements.

6.G.6.2.4.5 Treatment. See Part 6.G.6.1.8 for requirements.

6.G.6.2.5 Comprehensive Site Compliance Evaluation. (See also Part 4.9)

Annual site compliance evaluations may be impractical for inactive mining sites due to remote location/inaccessibility of the site; in which case conduct the evaluation at least once every 3 years. Document in the SWPPP why annual compliance evaluations are not possible. If the evaluations will be conducted more often than every 3 years, specify the frequency of evaluations.

6.G.7 Monitoring and Reporting Requirements

(See also Part 5)

6.G.7.1 Analytic Monitoring for Copper Ore Mining and Dressing Facilities. Active copper ore mining and dressing facilities must sample and analyze storm water discharges for the pollutants listed in Table G-1.

Table G-1.—Sector-Specific Numeric Effluent Limitations and Benchmark Monitoring for Copper Ore Mining and Dressing Facilities
[Part of permit affected/supplemental requirements]
Subsector ¹ | Parameter | Benchmark monitoring cutoff concentration ² | Numeric limitation
Copper Ore Mining and Dressing Facilities | Total Suspended Solids (TSS) | 100 mg/L.
| Nitrate plus Nitrite Nitrogen | 0.68 mg/L.
(SIC 1021) | Chemical Oxygen Demand (COD) | 120 mg/L.
¹ Discharges may be subject to requirements for more than one sector/subsector.
² Monitor once/quarter for the year 2 and year 4 Monitoring Years.

6.G.7.2 Analytic Monitoring Requirements for Discharges From Waste Rock and Overburden Piles. For discharges from waste rock and overburden piles, perform analytic monitoring at least twice annually for the parameters listed in Table G-2. Sample once between January 1 and June 30 and once between July 1 and December 31, with at least 3 months separating the storm events. A parameter whose level is below the benchmark value in Table G-2 for the first monitoring period of the year does not have to be monitored for a second time that year. The director may, however, notify you that you must perform additional monitoring to accurately characterize the quality and quantity of pollutants discharged from your waste rock/overburden piles. Monitoring requirements for discharges from waste rock and overburden piles are not eligible for the waivers in Part 5.3.

Table G-2.—Sector-Specific Numeric Effluent Limitations and Benchmark Monitoring for Discharges From Waste Rock and Overburden Piles From Active Ore Mining or Dressing Facilities
[Part of permit affected/supplemental requirements]
Subsector ¹ | Parameter | Benchmark monitoring cutoff concentration ² | Numeric limitation
Iron Ores; Copper Ores; Lead and Zinc Ores; Gold and Silver Ores; Ferroalloy Ores Except Vanadium; Miscellaneous Metal Ores (SIC Codes 1011, 1021,1031, 1041, 1044, 1061, 1081, 1094, 1099) | Total Suspended Solids (TSS) | 100 mg/L
| Turbidity (NTUs) | 5 NTUs above background
| pH | 6.0-9.0 standard units
| Hardness (as CaCO3) | No benchmark value
See above, as applicable | Antimony, Total | 0.636 mg/L
| Arsenic, Total | 0.16854 mg/L
| Beryllium, Total | 0.13 mg/L
| Cadmium, Total (hardness dependent) | 0.0159 mg/L
| Copper, Total (hardness dependent) | 0.0636 mg/L
| Iron, Total | 1.0 mg/L
| Lead, Total (hardness dependent) | 0.0816 mg/L
| Manganese, Total | 1.0 mg/L
| Mercury, Total | 0.0024 mg/L
| Nickel, Total (hardness dependent) | 1.417 mg/L
| Selenium, Total | 0.2385 mg/L
| Silver, Total (hardness dependent) | 0.0318 mg/L
| Zinc, Total (hardness dependent) | 0.117 mg/L
¹ Discharges may be subject to requirements for more than one sector/subsector.
² Monitor twice annually.

6.G.7.2.1 Additional Analytic Monitoring Requirements for Discharges From Waste Rock and Overburden Piles. Table G-3 contains additional monitoring requirements for specific ore mine categories. Perform the monitoring biannually using the schedule established in Part 6.G.7.2. The initial sampling event for a pollutant parameter required in Table G-2 satisfies the requirement for the first sample of any pollutant measurement in Table G-3. Compare with the benchmarks as given in Table G-2.

Table G-3.—Additional Monitoring Requirements for Discharges From Waste Rock and Overburden Piles From Active Ore Mining or Dressing Facilities
[Supplemental requirements]
Type of ore mined | Pollutants of concern: Total Suspended solids (TSS) | Pollutants of concern: pH | Pollutants of concern: Metals, total
Tungsten Ore | X | X | Arsenic, Cadmium (H), Copper (H), Lead (H), Zinc (H).
Nickel Ore | X | X | Arsenic, Cadmium (H), Copper (H), Lead (H), Zinc (H).
Aluminum Ore | X | X | Iron.
Mercury Ore | X | X | Nickel (H).
Iron Ore | X | X | Iron (Dissolved).
Platinum Ore |  |  | Cadmium (H), Copper (H), Mercury, Lead (H), Zinc (H).
Titanium Ore | X | X | Iron, Nickel (H), Zinc (H).
Vanadium Ore | X | X | Arsenic, Cadmium (H), Copper (H), Lead, Zinc (H).
Copper, Lead, Zinc, Gold, Silver and Molybdenum | X | X | Arsenic, Cadmium (H), Copper (H), Lead, Mercury, Zinc (H).
Uranium, Radium and Vanadium | X | X | Chemical Oxygen Demand, Arsenic, Radium (Dissolved and Total), Uranium, Zinc (H).
Note:(H) indicates that hardness must also be measured when this pollutant is measured.

6.G.7.2.2 Reporting Requirements Storm Water Discharges From Waste Rock And Overburden Piles From Active Ore Mining or Dressing Facilities. From active ore mining and dressing facilities, submit monitoring results for each outfall discharging storm water from waste rock and overburden piles, or certifications in accordance with Part 7. Submit monitoring reports on discharge monitoring report (DMR) forms postmarked no later than January 28 of the next year after the samples were collected.

6.H Sector H—Coal Mines and Coal Mining Related Facilities

6.H.1 Covered Storm Water Discharges

The requirements in Part 6.H apply to storm water discharges associated with industrial activity from Coal Mines and Coal Mining Related facilities as identified by the SIC Codes specified under Sector H in Table 1-1 of Part 1.2.1.

6.H.2 Industrial Activities Covered by Sector H

Storm water discharges from the following portions of coal mines may be eligible for this permit:

6.H.2.1 haul roads (nonpublic roads on which coal or coal refuse is conveyed);

6.H.2.2 access roads (nonpublic roads providing light vehicular traffic within the facility property and to public roadways);

6.H.2.3 railroad spurs, siding and internal haulage lines (rail lines used for hauling coal within the facility property and to offsite commercial railroad lines or loading areas);

6.H.2.4 conveyor belts, chutes and aerial tramway haulage areas (areas under and around coal or refuse conveyer areas, including transfer stations); and

6.H.2.5 equipment storage and maintenance yards, coal handling buildings and structures, and inactive coal mines and related areas (abandoned and other inactive mines, refuse disposal sites and other mining-related areas).

6.H.3 Limitation on Coverage

6.H.3.1 Prohibition of Non-Storm Water Discharges. (See also Part 1.2.2.2) Not covered by this permit: Discharges from pollutant seeps or underground drainage from inactive coal mines and refuse disposal areas that do not result from precipitation events; and discharges from floor drains in maintenance buildings and other similar drains in mining and preparation plant areas.

6.H.3.2 Discharges Subject to Storm Water Effluent Guidelines. (See also Part 1.2.3.4) Not authorized by this permit: Storm water discharges subject to an existing effluent limitation guideline at 40 CFR part 434.

6.H.4 Storm Water Pollution Prevention Plan (SWPPP) Requirements

In addition to the following requirements, you must also comply with the requirements listed in Part 4 of the MSGP.

6.H.4.1 Other Applicable Regulations. Most active coal mining-related areas (SIC Codes 1221-1241) are subject to sediment and erosion control regulations of the U.S. Office of Surface Mining (OSM) that enforces the Surface Mining Control and Reclamation Act (SMCRA). OSM has granted authority to most coal producing states to implement SMCRA through State SMCRA regulations. All SMCRA requirements regarding control of storm water-related pollutant discharges must be addressed in the SWPPP (directly or by reference).

6.H.4.2 Drainage Area Site Map. (See also Part 4.2.2.3) Also identify where any of the following may be exposed to precipitation/surface runoff: All applicable mining related areas described in Part 6.H.2; acidic spoil, refuse or unreclaimed disturbed areas, and liquid storage tanks containing pollutants such as caustics, hydraulic fluids and lubricants.

6.H.4.3 Potential Pollutant Sources. (See also Part 4.2.4) Describe the following sources and activities that have potential pollutants associated with them: Truck traffic on haul roads and resulting generation of sediment subject to runoff and dust generation; fuel or other liquid storage; pressure lines containing slurry, hydraulic fluid or other potential harmful liquids; and loading or temporary storage of acidic refuse/spoil.

6.H.4.4 Good Housekeeping Measures. (See also Part 4.2.7.2.1.1) As part of your good housekeeping program, consider: Using sweepers; covered storage; watering haul roads to minimize dust generation; and conserving vegetation (where possible) to minimize erosion.

6.H.4.5 Preventive Maintenance. (See also Part 4.2.7.2.1.3) Also perform inspections of storage tanks and pressure lines of fuels, lubricants, hydraulic fluid or slurry to prevent leaks due to deterioration or faulty connections; or other equivalent measures.

6.H.4.6 Inspections of Active Mining-Related Areas and Inactive Areas Under SMCRA Bond Authority. (See also Part 4.2.7.2.1.5) Perform quarterly inspections of areas covered by this permit, corresponding with the inspections, as performed by SMCRA inspectors, of all mining-related areas required by SMCRA. Also maintain the records of the SMCRA authority representative.

6.H.4.7 Sediment and Erosion Control. (See also Part 4.2.7.2.2.1) As indicated in Part 6.H.4.1 above, SMCRA requirements regarding sediment and erosion control measures are primary requirements of the SWPPP for mining-related areas subject to SMCRA authority.

6.H.4.8 Comprehensive Site Compliance Evaluation. (See also Part 4.9.2) Include in your evaluation program, inspections for pollutants entering the drainage system from activities located on or near coal mining-related areas. Among the areas to be inspected: Haul and access roads; railroad spurs, sliding and internal hauling lines; conveyor belts, chutes and aerial tramways; equipment storage and maintenance yards; coal handling buildings/structures; and inactive mines and related areas.

6.H.6 Monitoring and Reporting Requirements

(See also Part 5).

Table H-1.—Sector-specific Numeric Effluent Limitations and Benchmark Monitoring
[Part of Permit Affected/Supplemental Requirements]
Subsector ¹ | Parameter | Benchmark monitoring cutoff concentration ² | Numeric limitation
Coal Mines and Related Areas (SIC 1221-1241) | Total Recoverable Aluminum | 0.75 mg/L. |
| Total Recoverable Iron | 1.0 mg/L. |
| Total Suspended Solids | 100 mg/L. |
¹ Discharges may be subject to requirements for more than one sector/subsector.
² Monitor once/quarter for the year 2 and year 4 Monitoring Years.

6.I Sector I—Oil and Gas Extraction

6.I.1 Covered Storm Water Discharges

The requirements in Part 6.I apply to storm water discharges associated with industrial activity from Oil and Gas Extraction facilities as identified by the SIC Codes specified under Sector I in Table 1-1 of Part 1.2.1.

6.I.2 Industrial Activities Covered By Sector I

The types of activities that permittees under Sector I are primarily engaged in are:

6.I.2.1 oil and gas exploration, production, processing or treatment operations, or transmission facilities;

6.I.2.2 extraction and production of crude oil, natural gas, oil sands and shale; the production of hydrocarbon liquids and natural gas from coal; and associated oil field service, supply and repair industries.

6.I.3 Limitations On Coverage

6.I.3.1 Prohibition of Storm Water Discharges. This permit does not authorize contaminated storm water discharges from petroleum refining or drilling operations that are subject to nationally established BAT or BPT guidelines found at 40 CFR parts 419 and 435, respectively. Note: Most contaminated discharges at petroleum refining and drilling facilities are subject to these effluent guidelines and are not eligible for coverage by this permit.

6.I.3.2 Prohibition of Non-Storm Water Discharges. Not authorized by this permit: Discharges of vehicle and equipment washwater, including tank cleaning operations. Alternatively, washwater discharges must be authorized under a separate NPDES permit, or be discharged to a sanitary sewer in accordance with applicable industrial pretreatment requirements.

6.I.4 Storm Water Pollution Prevention Plan (SWPPP) Requirements

In addition to the following requirements, you must also comply with the requirements listed in Part 4.

6.I.4.1 Drainage Area Site Map. (See also Part 4.2.2.3) Identify where any of the following may be exposed to precipitation/surface runoff: Reportable Quantity (RQ) releases; locations used for the treatment, storage or disposal of wastes; processing areas and storage areas; chemical mixing areas; construction and drilling areas; all areas subject to the effluent guidelines requirements for “No Discharge” in accordance with 40 CFR 435.32; and the structural controls to achieve compliance with the “No Discharge” requirements.

6.I.4.2 Potential Pollutant Sources. (See also Part 4.2.4) Also describe the following sources and activities that have potential pollutants associated with them: Chemical, cement, mud or gel mixing activities; drilling or mining activities; and equipment cleaning and rehabilitation activities. In addition, include information about the RQ release that triggered the permit application requirements; the nature of release (e.g., spill of oil from a drum storage area); the amount of oil or hazardous substance released; amount of substance recovered; date of the release; cause of the release (e.g., poor handling techniques and lack of containment in the area); areas affected by the release (i.e., land and water); procedure to clean up release; actions or procedures implemented to prevent or improve response to a release; and remaining potential contamination of storm water from release (taking into account human health risks, the control of drinking water intakes and the designated uses of the receiving water).

6.I.4.3 Inspections. (See also Part 4.2.7.2.1.5)

6.I.4.3.1 Inspection Frequency. Inspect all equipment and areas addressed in the SWPPP at a minimum of 6-month intervals. Routinely (but not less than quarterly) inspect equipment and vehicles which store, mix (including all on and offsite mixing tanks) or transport chemicals/hazardous materials (including those transporting supplies to oil field activities).

6.I.4.3.2 Temporarily or Permanently Inactive Oil and Gas Extraction Facilities. For these facilities that are remotely located and unstaffed, perform the inspections at least annually.

6.I.4.4 Sediment and Erosion Control. (See also Part 4.2.7.2.2.1) Unless covered by the General Permit for Construction Activity, the additional sediment and erosion control requirements for well drillings, and sand/shale mining areas include the following:

6.I.4.4.1 Site Description: Also include: a description of the nature of the exploration activity; estimates of the total area of site and area disturbed due to exploration activity; an estimate of runoff coefficient of the site; site drainage map, including approximate slopes; and the name of all receiving waters. All sediment and erosion control measures must be inspected once every seven days.

6.I.4.4.2 Vegetative Controls: Describe and implement vegetative practices designed to preserve existing vegetation where attainable and re-vegitate open areas as soon as practicable after grade drilling. Consider the following (or equivalent measures): temporary or permanent seeding, mulching, sod stabilization, vegetative buffer strips, tree protection practices. Begin implementing appropriate vegetative practices on all disturbed areas within 14 days following the last activity in that area.

6.I.4.5 Good Housekeeping Measures. (See also Part 4.2.7.2.1.1)

6.I.4.5.1 Vehicle and Equipment Storage Areas. Confine vehicles/equipment awaiting or having undergone maintenance to designated areas (as marked on site map). Describe and implement measures to minimize contaminants from these areas (e.g., drip pans under equipment, indoor storage, use of berms or dikes, or other equivalent measures).

6.I.4.5.2 Material and Chemical Storage Areas. Maintain these areas in good conditions to prevent contamination of storm water. Plainly label all hazardous materials.

6.I.4.5.3 Chemical Mixing Areas. (See also Part 4.4) Describe and implement measures that prevent or minimize contamination of storm water runoff from chemical mixing areas.

6.J Sector J—Mineral Mining and Dressing

6.J.1 Covered Storm Water Discharges

The requirements in Part 6.J apply to storm water discharges associated with industrial activity from active and inactive mineral mining and dressing facilities as identified by the SIC Codes specified under Sector J in Table 1-1 of Part 1.2.1.

6.J.2 Industrial Activities Covered by Sector J

The types of activities that permittees under Sector J are primarily engaged in are:

6.J.2.1 exploring for minerals (e.g., stone, sand, clay, chemical and fertilizer minerals, non-metallic minerals, etc.), developing mines and the mining of minerals; and

6.J.2.2 mineral dressing, and non-metallic mineral services.

6.J.3 Limitations on Coverage

Not authorized by this permit: most storm water discharges subject to an existing effluent limitation guideline at 40 CFR part 436. The exceptions to this limitation and which are therefore covered by the MSGP-2000 are mine dewatering discharges composed entirely of storm water or ground water seepage from: construction sand and gravel, industrial sand, and crushed stone mining facilities in Arizona.

6.J.4 Definitions

6.J.4.1 Mining Operation—typically consists of three-phases, any one of which individually qualifies as a “mining activity.” The phases are the exploration and construction phase, the active phase and the reclamation phase.

6.J.4.2 Exploration and Construction Phase—entails exploration and land disturbance activities to determine the financial viability of a site. Construction includes the building of site access roads and removal of overburden and waste rock to expose mineable minerals.

6.J.4.3 Active Phase—activities including each step from extraction through production of a salable product.

6.J.4.4 Reclamation phase—activities intended to return the land to its pre-mining state.

Note: The following definitions are not intended to supercede the definitions of active and inactive mining facilities established by 40 CFR 122.26(b)(14)(iii).

6.J.4.5 Active Mineral Mining Facility—a place where work or other activity related to the extraction, removal or recovery of minerals is being conducted. This definition does not include any land where grading has returned the earth to a desired contour and reclamation has begun.

6.J.4.6 Inactive Mineral Mining Facility—a site or portion of a site where mineral mining and/or dressing occurred in the past but is not an active facility as defined above, and where the inactive portion is not covered by an active permit issued by the applicable State or Federal government agency.

6.J.4.7 Temporarily Inactive Mineral Mining Facility—a site or portion of a site where mineral mining and/or dressing occurred in the past but currently are not being actively undertaken, and the facility is covered by an active mining permit issued by the applicable State or Federal government agency.

6.J.5 Clearing, Grading and Excavation Activities

Clearing, grading and excavation (activities typically associated with the exploration and construction phase of a mining operation, but may also apply to active mining operations such as the expansion of existing pits) cannot be covered under this permit if these activities will disturb 5 or more acres of land. If the land disturbance is from 1 to 5 acres, you may or may not be able to utilize the MSGP-2000 to cover your clearing, grading and excavation activities. All mining activities disturbing less than 1 acre must continue to comply with the requirements of this permit. The 5-acre cut-off may not be simply determined by the extent of earth disturbance at a given time, rather it could depend on whether there is a “common plan of development or sale” totaling 5 acres (i.e., a plan to disturb, or the possibility of disturbing, at least 5 acres at some later date). For further information on common plan of development or sale, refer to the EPA's General Permit for Storm Water Discharges from Construction Activities (the “Construction General Permit;” Federal Register, Vol. 63, p. 7858).

6.J.5.1 Requirements for Activities Disturbing 5 or More Acres of Earth. If the 5-acre limit as defined in Part 6.G.5 is attained, coverage for these activities must be under the latest version of EPA's General Permit for Storm Water Discharges from Construction Activities (the “Construction General Permit”), or an applicable State-issued permit. You must obtain and comply with the Construction General Permit's requirements before submitting the separate Construction General Permit Notice of Intent (NOI) form (EPA Form 3510-9) to obtain coverage. The February 17, 1998 version of the permit can be downloaded from the EPA's Web Site at www.epa.gov/owm/sw/construction/cgp/cgp-nat.pdf or obtained from the Office of Water Resource Center at 202.260.7786. The NOI form is also available from the Web Site at www.epa.gov/owm/sw/construction/connoi.pdf or from your EPA Regional office at the address listed under Part 8.3. Discharges in compliance with the provisions of the Construction General Permit are also authorized under the MSGP.

6.J.5.2 Requirements for Activities Disturbing From 1 to 5 Acres of Earth. For earth disturbances of 1 to 5 acres, coverage of mining activities under a construction permit may be required pursuant to the Regulations for Revision of the Water Pollution Control Program Addressing Storm Water Discharges (also known as the Storm Water Phase II Rule; see Federal Register, Vol. 64, p. 68722). Under these regulations there are provisions that allow certain dischargers to waive out of the Phase II construction permit requirement, so you must refer to the Phase II Rule to determine the waivers' applicability to your site. If you choose to waive out of the Phase II construction permit requirement, you still must maintain compliance with the MSGP-2000. As of the publication date of the MSGP-2000, there is not yet available a construction permit for land disturbances of 1 to 5 acres. This permit may be available at any time up to March 10, 2003. Until such time when application for coverage under the Phase II construction permit is required, compliance with the MSGP-2000 must be maintained. Alternatively, you may opt to apply for coverage under the CGP as per Part 6.G.5.1 at any time. Information and updates on the Phase II Rule can be obtained from the EPA's Web Site at www.epa.gov/owm/sw/phase2/index.htm.

6.J.5.3 Cessation of Earth Disturbing Activities. If exploration phase clearing, grading and excavation activities are completed and no further mining activities will occur at the site, you must comply with the requirements for terminating the Construction General Permit (i.e., stabilize the disturbed land, submit a Notice of Termination, etc.). If further mining activities will occur, you may opt for either of the following: maintain coverage under the CGP (i.e., maintain BMPs, perform inspections, etc.) and apply for coverage under the MSGP for those discharges associated with mineral mining and dressing activities that will occur under the active and reclamation phases; or terminate coverage under the CGP and apply for coverage under the MSGP for all discharges from the site.

6.J.6 Storm Water Pollution Prevention Plan (SWPPP) Requirements

In addition to the following requirements, you must also comply with the requirements listed in Part 4 of the MSGP.

6.J.6.1 Inspections. (See also Part 4.2.7.2.1.5) Conduct quarterly visual inspections of all BMPs at active mining facilities. At temporarily or permanently inactive facilities, perform annual inspections. Include in your inspection program: assessment of the integrity of storm water discharge diversions, conveyance systems, sediment control and collection systems and containment structures; inspections to determine if soil erosion has occurred at, or as a result of vegetative BMPs, serrated slopes and benched slopes; inspections of material handling and storage areas and other potential sources of pollution for evidence of actual or potential discharges of contaminated storm water.

6.J.7 Monitoring and Reporting Requirements. (See also Part 5)

Table J-2.—Sector-Specific Numeric Effluent Limitations and Benchmark Monitoring
[Part of Permit Affected/Supplemental Requirements]
Subsector ¹ | Parameter | Benchmark monitoring cutoff concentration ² | Numeric limitation ³
Mine Dewatering Activities at Construction Sand and Gravel Stone Mining Facilities (SIC 1422-1429, 1442, 1446) | Total Suspended Solids pH |  | 45 mg/L, daily max. 6.0-9.0.
Sand and Gravel Mining (SIC 1442, 1446) | Nitrate plus Nitrite Nitrogen | 0.68 mg/L. |
| Total Suspended Solids | 100 mg/L. |
Dimension and Crushed Stone and Nonmetallic Minerals (except fuels) (SIC 1411, 1422-1429, 1481, 1499) | Total Suspended Solids | 100 mg/L. |
¹ Discharges may be subject to requirements for more than one sector/subsector.
² Monitor once/quarter for the year 2 and year 4 Monitoring Years.
³ Monitor once/year for Each Monitoring Year.

6.K Sector K—Hazardous Waste Treatment, Storage or Disposal Facilities

6.K.1 Covered Storm Water Discharges

The requirements in Part 6.K apply to storm water discharges associated with industrial activity from Hazardous Waste Treatment, Storage or Disposal facilities as identified by the Activity Code specified under Sector K in Table 1-1 of Part 1.2.1.

6.K.2 Industrial Activities Covered by Sector K

This permit authorizes storm water discharges associated with industrial activity from facilities that treat, store or dispose of hazardous wastes, including those that are operating under interim status or a permit under subtitle C of RCRA.

6.K.3 Limitations on Coverage

For facilities located in Region 6, coverage is limited to Hazardous Waste Treatment Storage or Disposal Facilities (TSDF's) that are self-generating or handle residential wastes only and to those facilities that only store hazardous wastes and do not treat or dispose. Those permits are issued by EPA Region 6 for Louisiana (LAR05*###), New Mexico (NMR05*###), Oklahoma (OKR05*###), and Federal Indian Reservations in these States (LAR05*##F, NMR05*##F, OKR05*##F, or TXR05*##F). Coverage under this permit is not available to commercial hazardous waste disposal / treatment facilities located in Region 6 that dispose and treat on a commercial basis any produced hazardous wastes (not their own) as a service to generators.

6.K.3.1 Prohibition of Non-Storm Water Discharges. (See also Part 1.2.3.1) Not authorized by this permit: Leachate, gas collection condensate, drained free liquids, contaminated ground water, laboratory-derived wastewater and contact washwater from washing truck and railcar exteriors and surface areas which have come in direct contact with solid waste at the landfill facility.

6.K.4 Definitions

6.K.4.1 Contaminated storm water—storm water which comes in direct contact with landfill wastes, the waste handling and treatment areas, or landfill wastewater as defined in Part 6.K.4.5. Some specific areas of a landfill that may produce contaminated storm water include (but are not limited to): The open face of an active landfill with exposed waste (no cover added); the areas around wastewater treatment operations; trucks, equipment or machinery that has been in direct contact with the waste; and waste dumping areas.

6.K.4.2 Drained free liquids—aqueous wastes drained from waste containers (e.g., drums, etc.) prior to landfilling.

6.K.4.3 Land treatment facility—a facility or part of a facility at which hazardous waste is applied onto or incorporated into the soil surface; such facilities are disposal facilities if the waste will remain after closure.

6.K.4.4 Landfill—an area of land or an excavation in which wastes are placed for permanent disposal, that is not a land application or land treatment unit, surface impoundment, underground injection well, waste pile, salt dome formation, a salt bed formation, an underground mine or a cave as these terms are defined in 40 CFR 257.2, 258.2 and 260.10.

6.K.4.5 Landfill wastewater—as defined in 40 CFR part 445 (Landfills Point Source Category) all wastewater associated with, or produced by, landfilling activities except for sanitary wastewater, non-contaminated storm water, contaminated groundwater, and wastewater from recovery pumping wells. Landfill wastewater includes, but is not limited to, leachate, gas collection condensate, drained free liquids, laboratory derived wastewater, contaminated storm water and contact washwater from washing truck, equipment, and railcar exteriors and surface areas which have come in direct contact with solid waste at the landfill facility.

6.K.4.6 Leachate—liquid that has passed through or emerged from solid waste and contains soluble, suspended, or miscible materials removed from such waste.

6.K.4.7 Non-contaminated storm water—storm water which does not come into direct contact with landfill wastes, the waste handling and treatment areas, or landfill wastewater as defined in Part 6.K.4.5. Non-contaminated storm water includes storm water which flows off the cap, cover, intermediate cover, daily cover, and/or final cover of the landfill.

6.K.4.8 Pile—any non-containerized accumulation of solid, nonflowing hazardous waste that is used for treatment or storage and that is not a containment building.

6.K.4.9 Surface impoundment—a facility or part of a facility which is a natural topographic depression, man-made excavation or diked area formed primarily of earthen materials (although it may be lined with man-made materials), which is designed to hold an accumulation of liquid wastes or wastes containing free liquids, and which is not an injection well. Examples of surface impoundments are holding, storage, settling, and aeration pits, ponds and lagoons.

6.K.5 Numeric Limitations, Monitoring and Reporting Requirements

(See also Part 5)

Table K-1.—Sector-specific Numeric Effluent Limitations and Benchmark and Compliance Monitoring
[Part of permit affected/supplemental requirements]
Subsector ¹ | Parameter | Benchmark monitoring cutoff concentration ² | Numeric limitation ³
ALL—Industrial Activity Code “HZ” (Note: permit coverage limited in some States) | Ammonia | 19.0 mg/L. |
| Total Recoverable Magnesium | 0.0636 mg/L. |
| Chemical Oxygen Demand (COD) | 120.0 mg/L. |
| Total Recoverable Arsenic | 0.16854 mg/L. |
| Total Recoverable Cadmium | 0.0159 mg/L. |
| Total Cyanide | 0.0636 mg/L |
| Total Recoverable Lead | 0.0816 mg/L. |
| Total Recoverable Mercury | 0.0024 mg/L. |
| Total Recoverable Selenium | 0.2385 mg/L. |
| Total Recoverable Silver | 0.0318 mg/L. |
ALL—Industrial Activity Code “HZ” Subject to the Provisions of 40 CFR Part 445 Subpart A | BOD5 |  | 220 mg/l, daily max. 56 mg/l, monthly avg maximum.
| TSS |  | 88 mg/l, daily max.P27 mg/l, monthly ave maximum.
| Ammonia |  | 10 mg/l, daily maximum.
|  |  | 4.9 mg/l, monthly avg. maximum.
| Alpha Terpineol |  | 0.042 mg/l, daily max. 0.019 mg/l, monthly avg. maximum.
| Aniline |  | 0.024 mg/l, daily max. 0.015 mg/l, monthly avg. maximum.
| Benzoic Acid |  | 0.119 mg/l, daily max. 0.073 mg/l, monthly avg. maximum.
| Naphthalene |  | 0.059 mg/l, daily max. 0.022 mg/l, monthly avg. maximum.
| p-Cresol |  | 0.024 mg/l, daily max. 0.015 mg/l, monthly avg. maximum.
| Phenol |  | 0.048 mg/l, daily max. 0.029 mg/l, monthly avg. maximum.
| Pyridine |  | 0.072 mg/l, daily max. 0.025 mg/l, monthly avg. maximum.
| Arsenic (Total) |  | 1.1 mg/l, daily maximum. 0.54 mg/l, monthly avg. maximum.
| Chromium (Total) |  | 1.1 mg/l, daily maximum. 0.46 mg/l, monthly avg. maximum.
| Zinc (Total) |  | 0.535 mg/l, daily max. 0.296 mg/l, monthly avg. maximum.
| pH |  | Within the range of 6-9 pH units.
¹ Discharges may be subject to requirements for more than one sector/subsector.
² These benchmark monitoring cutoff concentrations apply to storm water discharges associated with industrial activity other than contaminated storm water discharges from landfills subject to the numeric effluent limitations set forth in Table K-1. Monitor once/quarter for the year 2 and year 4 monitoring years.
³ As set forth at 40 CFR part 445 subpart A, these numeric limitations apply to contaminated storm water discharges from hazardous waste landfills subject to the provisions of RCRA Subtitle C at 40 CFR parts 264 (subpart N) and 265 (subpart N) except for any of the facilities described below:
(a) landfills operated in conjunction with other industrial or commercial operations when the landfill only receives wastes generated by the industrial or commercial operation directly associated with the landfill;
(b) landfills operated in conjunction with other industrial or commercial operations when the landfill receives wastes generated by the industrial or commercial operation directly associated with the landfill and also receives other wastes provided the other wastes received for disposal are generated by a facility that is subject to the same provisions in 40 CFR subchapter N as the industrial or commercial operation or the other wastes received are of similar nature to the wastes generated by the industrial or commercial operation;
(c) landfills operated in conjunction with Centralized Waste Treatment (CWT) facilities subject to 40 CFR part 437 so long as the CWT facility commingles the landfill wastewater with other non-landfill wastewater for discharge. A landfill directly associated with a CWT facility is subject to this part if the CWT facility discharges landfill wastewater separately from other CWT wastewater or commingles the wastewater from its landfill only with wastewater from other landfills; or
(d) landfills operated in conjunction with other industrial or commercial operations when the landfill receives wastes from public service activities so long as the company owning the landfill does not receive a fee or other remuneration for the disposal service.
For the discharges subject to the numeric effluent limitations, monitoring for the specified parameters is required once/year during each year of the term of the permit.

6.L Sector L—Landfills, Land Application Sites and Open Dumps

6.L.1 Covered Storm Water Discharges

The requirements in Part 6.L apply to storm water discharges associated with industrial activity from Landfills and Land Application Sites and Open Dumps as identified by the Activity Codes specified under Sector L in Table 1-1 of Part 1.2.1.

6.L.2 Industrial Activities Covered by Sector L

This permit may authorize storm water discharges for Sector L facilities associated with waste disposal at landfills, land application sites and open dumps that receive or have received industrial waste, including sites subject to regulation under Subtitle D of RCRA.

6.L.3 Limitations on Coverage

6.L.3.1 Prohibition of Non-Storm Water Discharges. (See also Part 1.2.3.1)

Not authorized by this permit: Leachate, gas collection condensate, drained free liquids, contaminated ground water, laboratory wastewater, and contact washwater from washing truck and railcar exteriors and surface areas which have come in direct contact with solid waste at the landfill facility.

6.L.4 Definitions

6.L.4.1 Contaminated storm water—storm water which comes in direct contact with landfill wastes, the waste handling and treatment areas, or landfill wastewater. Some specific areas of a landfill that may produce contaminated storm water include (but are not limited to): The open face of an active landfill with exposed waste (no cover added); the areas around wastewater treatment operations; trucks, equipment or machinery that has been in direct contact with the waste; and waste dumping areas.

6.L.4.2 Drained free liquids—aqueous wastes drained from waste containers (e.g., drums, etc.) prior to landfilling.

6.L.4.3 Landfill wastewater—as defined in 40 CFR part 445 (Landfills Point Source Category) all wastewater associated with, or produced by, landfilling activities except for sanitary wastewater, non-contaminated storm water, contaminated groundwater, and wastewater from recovery pumping wells. Landfill process wastewater includes, but is not limited to, leachate, gas collection condensate, drained free liquids, laboratory derived wastewater, contaminated storm water and contact washwater from washing truck, equipment and railcar exteriors and surface areas which have come in direct contact with solid waste at the landfill facility.

6.L.4.4 Leachate—liquid that has passed through or emerged from solid waste and contains soluble, suspended or miscible materials removed from such waste.

6.L.4.5 Non-contaminated storm water—storm water which does not come in direct contact with landfill wastes, the waste handling and treatment areas, or landfill wastewater. Non-contaminated storm water includes storm water which flows off the cap, cover, intermediate cover, daily cover, and/or final cover of the landfill.

6.L.5 Storm Water Pollution Prevention Plan (SWPPP) Requirements

In addition to the following requirements, you must also comply with the requirements listed in part 4.

6.L.5.1 Drainage Area Site Map. (See also Part 4.2.2.3)

Identify where any of the following may be exposed to precipitation/ surface runoff: Active and closed landfill cells or trenches, active and closed land application areas, locations where open dumping is occurring or has occurred, locations of any known leachate springs or other areas where uncontrolled leachate may commingle with runoff, leachate collection and handling systems.

6.L.5.2 Summary of Potential Pollutant Sources. (See also Part 4.2.4)

Describe the following sources and activities that have potential pollutants associated with them: Fertilizer, herbicide and pesticide application; earth/soil moving; waste hauling and loading/unloading; outdoor storage of significant materials including daily, interim and final cover material stockpiles as well as temporary waste storage areas; exposure of active and inactive landfill and land application areas; uncontrolled leachate flows; failure or leaks from leachate collection and treatment systems.

6.L.5.3 Good Housekeeping Measures. (See also Part 4.2.7.2.1.1)

As part of your good housekeeping program, consider providing protected storage areas for pesticides, herbicides, fertilizer and other significant materials.

6.L.5.4 Preventative Maintenance Program. (See also Part 4.2.7.1)

As part of your preventive maintenance program, maintain: All containers used for outdoor chemical/significant materials storage to prevent leaking; all elements of leachate collection and treatment systems to prevent commingling of leachate with storm water; the integrity and effectiveness of any intermediate or final cover (including repairing the cover as necessary to minimize the effects of settlement, sinking and erosion).

6.L.5.5 Inspections.

6.L.5.5.1 Inspections of Active Sites. (See also Part 4.2.7.2.1.2) Inspect operating landfills, open dumps and land application sites at least once every 7 days. Focus on areas of landfills that have not yet been finally stabilized, active land application areas, areas used for storage of material/wastes that are exposed to precipitation, stabilization and structural control measures, leachate collection and treatment systems, and locations where equipment and waste trucks enter/exit the site. Ensure that sediment and erosion control measures are operating properly. For stabilized sites and areas where land application has been completed, or where the climate is seasonally arid (annual rainfall averages from 0 to 10 inches) or semi-arid (annual rainfall averages from 10 to 20 inches), conduct inspections at least once every month.

6.L.5.5.2 Inspections of Inactive Sites. (See also Part 4.2.7.2.1.5) Inspect inactive landfills, open dumps and land application sites at least quarterly. Qualified personnel must inspect landfill (or open dump) stabilization and structural erosion control measures and leachate collection and treatment systems, and all closed land application areas.

6.L.5.6 Recordkeeping and Internal Reporting. Implement a tracking system for the types of wastes disposed of in each cell or trench of a landfill or open dump. For land application sites, track the types and quantities of wastes applied in specific areas.

6.L.5.7 Non-Storm Water Discharge Test Certification. (See also Part 4.) The discharge test and certification must also be conducted for the presence of leachate and vehicle washwater.

6.L.5.8 Sediment and Erosion Control Plan. (See also Part 4.2.7.2.2.1) Provide temporary stabilization (e.g., consider temporary seeding, mulching and placing geotextiles on the inactive portions of stockpiles): For materials stockpiled for daily, intermediate and final cover; for inactive areas of the landfill or open dump; for any landfill or open dump area that have gotten final covers but where vegetation has yet to established itself; and where waste application has been completed at land application sites but final vegetation has not yet been established.

6.L.5.9 Comprehensive Site Compliance Evaluation. (See also Part 4.9.2) Evaluate areas contributing to a storm water discharge associated with industrial activities at landfills, open dumps and land application sites for evidence of, or the potential for, pollutants entering the drainage system.

6.L.6 Numeric Limitations, Monitoring and Reporting Requirements

(See also Part 5)

Table L-1.—Sector-Specific Numeric Effluent Limitations and Benchmark and Compliance Monitoring
[Section of Permit Affected/Supplemental Requirements]
Subsector ¹ | Parameter | Benchmark monitoring cutoff concentration ² | Numeric limitation ³
All Landfill, Land Application Sites and Open Dumps (Industrial Activity Code “LF”) | Total Suspended Solids (TSS) | 100 mg/L. |
All Landfill, Land Application Sites and Open Dumps, Except Municipal Solid Waste Landfill (MSWLF) Areas Closed in Accordance with 40 CFR 258.60 (Industrial Activity Code “LF”) | Total Recoverable Iron | 1.0 mg/L. |
All Landfills Which are Subject to the Requirements of 40 CFR Part 445 Subpart B (Industrial Activity Code “LF”). | BOD5 |  | 140 mg/l, daily max. 37 mg/l, monthly ave maximum.
| TSS |  | 88 mg/l, daily max. 27 mg/l, monthly ave maximum.
| Ammonia |  | 10 mg/l, daily max. 4.9 mg/l, monthly ave maximum.
| Alpha Terpineol |  | 0.033 mg/l, daily max. 0.016 mg/l, monthly ave maximum.
| Benzoic Acid |  | 0.12 mg/l, daily max. 0.071 mg/l, monthly ave maximum.
| p-Cresol |  | 0.025 mg/l, daily max. 0.014 mg/l, monthly ave maximum.
| Phenol |  | 0.026 mg/l, daily max. 0.015 mg/l, monthly ave maximum.
| Zinc (Total) |  | 0.20 mg/l, daily max. 0.11 mg/l, monthly ave maximum.
| pH |  | Within the range of 6-9 pH units.
¹ Discharges may be subject to requirements for more than one sector/subsector.
² These benchmark monitoring cutoff concentrations apply to storm water discharges associated with industrial activity other than contaminated storm water discharges from landfills subject to the numeric effluent limitations set forth in Table L-1. Monitor once/quarter for the year 2 and year 4 monitoring years.
³ As set forth at 40 CFR part 445 subpart B, these numeric limitations apply to contaminated storm water discharges from MSWLFs which have not been closed in accordance with 40 CFR 258.60, and contaminated storm water discharges from those landfills which are subject to the provisions of 40 CFR part 257 except for discharges from any of facilities described in (a) through (d) below:
(a) landfills operated in conjunction with other industrial or commercial operations when the landfill only receives wastes generated by the industrial or commercial operation directly associated with the landfill;
(b) landfills operated in conjunction with other industrial or commercial operations when the landfill receives wastes generated by the industrial or commercial operation directly associated with the landfill and also receives other wastes provided the other wastes received for disposal are generated by a facility that is subject to the same provisions in 40 CFR Subchapter N as the industrial or commercial operation or the other wastes received are of similar nature to the wastes generated by the industrial or commercial operation;
(c) landfills operated in conjunction with Centralized Waste Treatment (CWT) facilities subject to 40 CFR part 437 so long as the CWT facility commingles the landfill wastewater with other non-landfill wastewater for discharge. A landfill directly associated with a CWT facility is subject to this part if the CWT facility discharges landfill wastewater separately from other CWT wastewater or commingles the wastewater from its landfill only with wastewater from other landfills; or
(d) landfills operated in conjunction with other industrial or commercial operations when the landfill receives wastes from public service activities so long as the company owning the landfill does not receive a fee or other remuneration for the disposal service.
For the discharges subject to the numeric effluent limitations, monitoring for the specified parameters is required once/year during each year of the term of the permit.

6.M Sector M—Automobile Salvage Yards

6.M.1 Covered Storm Water Discharges

The requirements in Part 6.M apply to storm water discharges associated with industrial activity from Automobile Salvage Yards as identified by the Activity Code specified under Sector M in Table 1-1 of Part 1.2.1.

6.M.2 Industrial Activities Covered by Sector M

The types of activities that permittees under Sector M are primarily engaged in are dismantling or wrecking used motor vehicles for parts recycling/resale and for scrap.

6.M.3 Storm Water Pollution Prevention Plan (SWPPP) Requirements

In addition to the following requirements, you must also comply with the requirements listed in Part 4.

6.M.3.1 Drainage Area Site Map. (See also Part 4.2.2.3) Indicate the location of each monitoring point, and estimate the total acreage used for industrial activity including, but not limited to, dismantling, storage and maintenance of used motor vehicle parts. Also identify where any of the following may be exposed to precipitation/surface runoff: dismantling areas; parts (e.g., engine blocks, tires, hub caps, batteries, hoods, mufflers) storage areas; liquid storage tanks and drums for fuel and other fluids.

6.M.3.2 Potential Pollutant Sources. (See also Part 4.2.4) Assess the potential for the following to contribute pollutants to storm water discharges: Vehicle storage areas; dismantling areas; parts storage area (e.g., engine blocks, tires, hub caps, batteries, hoods, mufflers); fueling stations.

6.M.3.3 Spill and Leak Prevention Procedures. (See also Part 4.2.7.2.1.4) Drain vehicles intended to be dismantled of all fluids upon arrival at the site (or as soon thereafter as feasible); or employ some other equivalent means to prevent spills/leaks.

6.M.3.4 Inspections. (See also Part 4.2.7.2.1.5) Immediately (or as soon thereafter as feasible) inspect vehicles arriving at the site for leaks. Inspect quarterly for signs of leakage, all equipment containing oily parts, hydraulic fluids or any other types of fluids. Also inspect quarterly for signs of leakage, all vessels and areas where fluids are stored, including, but not limited to, brake fluid, transmission fluid, radiator water and antifreeze.

6.M.3.5 Employee Training. (See also Part 4.2.7.2.1.6) If applicable to your facility, address the following areas (at a minimum) in your employee training program: proper handling (collection, storage, and disposal) of oil, used mineral spirits, anti-freeze and solvents.

6.M.3.6 Management of Runoff. (See also Part 4.2.7.2.2.2) Consider the following management practices: Berms or drainage ditches on the property line (to help prevent run-on from neighboring properties); berms for uncovered outdoor storage of oily parts, engine blocks and above-ground liquid storage; installation of detention ponds; and the installation of filtering devices and oil/water separators.

6.M.4 Monitoring and Reporting Requirements

(See also Part 5)

Table M-1.—Sector-Specific Numeric Limitations and Benchmark Monitoring
[Sector of permit affected/supplemental requirements]
Subsector ¹ | Parameter | Benchmark monitoring cutoff concentration ² | Numeric limitation
Automobile Salvage Yards (SIC 5015) | Total Suspended Solids (TSS) | 100.0 mg/L. |
| Total Recoverable Aluminum | 0.75 mg/L. |
| Total Recoverable Iron | 1.0 mg/L. |
| Total Recoverable Lead | 0.0816 mg/L. |
¹ Discharges may be subject to requirements for more than one sector/subsector.
² Monitor once/quarter for the year 2 and year 4 monitoring years.

6.N Sector N—Scrap Recycling and Waste Recycling Facilities

6.N.1 Covered Storm Water Discharges

The requirements in Part N apply to storm water discharges associated with industrial activity from Scrap Recycling and Waste Recycling facilities as identified by the SIC Codes specified under Sector N in Table 1-1 of Part 1.2.1.

6.N.2 Industrial Activities Covered by Sector N

The types of activities that permittees under Sector N are primarily engaged in are:

6.N.2.1 processing, reclaiming and wholesale distribution of scrap and waste materials such as ferrous and nonferrous metals, paper, plastic, cardboard, glass, animal hides;

6.N.2.2 reclaiming and recycling liquid wastes such as used oil, antifreeze, mineral spirits and industrial solvents.

6.N.3 Coverage Under This Permit

Separate permit requirements have been established for recycling facilities that only receive source-separated recyclable materials primarily from non-industrial and residential sources (i.e., common consumer products including paper, newspaper, glass, cardboard, plastic containers, aluminum and tin cans). This includes recycling facilities commonly referred to as material recovery facilities (MRF).

6.N.3.1 Prohibition of Non-Storm Water Discharges. (See also Part 1.2.2.2) Not covered by this permit: Non-storm water discharges from turnings containment areas (see also Part 6.N.5.1.3). Discharges from containment areas in the absence of a storm event are prohibited unless covered by a separate NPDES permit.

6.N.4 Storm Water Pollution Prevention Plan (SWPPP) Requirements

In addition to the following requirements, you must also comply with the requirements listed in Part 4 of the MSGP. Part 6.N.4.1 contains a requirement that applies to all recycling facilities and is followed by Parts 6.N.4.2 to 6.N.4.4.4, which have requirements for specific types of recycling facilities. Implement and describe in your SWPPP a program to address those items that apply. Included are lists of BMP options which, along with any functional equivalents, should be considered for implementation. Selection or deselection of a particular BMP or approach is up to the best professional judgement of the operator, as long as the objective of the requirement is met.

6.N.4.1 Drainage Area Site Map. (See also Part 4.2.2.3)

Identify the locations of any of the following activities or sources which may be exposed to precipitation/surface runoff: Scrap and waste material storage, outdoor scrap and waste processing equipment, and containment areas for turnings exposed to cutting fluids.

6.N.4.2 Scrap and Waste Recycling Facilities (Non-Source Separated, Non-Liquid Recyclable Materials). Requirements for facilities that receive, process and do wholesale distribution of non-liquid recyclable wastes (e.g., ferrous and nonferrous metals, plastics, glass, cardboard and paper). These facilities may receive both nonrecyclable and recyclable materials. This section is not intended for those facilities that only accept recyclables from primarily non-industrial and residential sources.

6.N.4.2.1 Inbound Recyclable and Waste Material Control Program. Minimize the chance of accepting materials that could be significant sources of pollutants by conducting inspections of inbound recyclables and waste materials. BMP options: (a) Provide information/education to suppliers of scrap and recyclable waste materials on draining and properly disposing of residual fluids (e.g., from vehicles and equipment engines, radiators and transmissions, oil filled transformers and individual containers or drums), prior to delivery to your facility; (b) procedures to minimize the potential of any residual fluids from coming into contact with precipitation/runoff; (c) procedures for accepting scrap lead-acid batteries (additional requirements for the handling, storage and disposal or recycling of batteries are contained in the scrap lead-acid battery program provisions in N.5.1.6); (d) training targeted for those personnel engaged in the inspection and acceptance of inbound recyclable materials. In addition, (e) liquid wastes, including used oil, must be stored in materially compatible and non-leaking containers and disposed or recycled in accordance with RCRA.

6.N.4.2.2 Scrap and Waste Material Stockpiles/Storage (Outdoor). Minimize contact of storm water runoff with stockpiled materials, processed materials and non-recyclable wastes. BMP options: (a) Permanent or semi-permanent covers; (b) to facilitate settling or filtering of pollutants: Sediment traps, vegetated swales and strips, catch basin filters and sand filters; (c) divert runoff away from storage areas via dikes, berms, containment trenches, culverts and surface grading; (d) silt fencing; (e) oil/water separators, sumps and dry absorbents for areas where potential sources of residual fluids are stockpiled (e.g., automobile engine storage areas).

6.N.4.2.3 Stockpiling of Turnings Exposed to Cutting Fluids (Outdoor). Minimize contact of surface runoff with residual cutting fluids. BMP options (use singularly or in combination): (a) Store all turnings exposed to cutting fluids under some form of permanent or semi-permanent cover. Storm water discharges from these areas are permitted provided the runoff is first treated by an oil/water separator or its equivalent. Identify procedures to collect, handle and dispose/recycle residual fluids which may be present; (b) establish dedicated containment areas for all turnings that have been exposed to cutting fluids. Storm water runoff from these areas can be discharged provided: The containment areas are constructed of either concrete, asphalt or other equivalent types of impermeable material; there is a barrier around the perimeter of the containment areas (e.g., berms, curbing, elevated pads, etc.) to prevent contact with storm water run-on; there is a drainage collection system for runoff generated from containment areas; you have a schedule to maintain the oil/water separator (or its equivalent); and you identify procedures for properly disposing or recycling collected residual fluids.

6.N.4.2.4 Scrap and Waste Material Stockpiles/Storage (Covered or Indoor Storage). Minimize contact of residual liquids and particulate matter from materials stored indoors or under cover with surface runoff. BMP options: (a) Good housekeeping measures including the use of dry absorbent or wet vacuuming to contain or dispose/recycle residual liquids originating from recyclable containers; (b) not allowing washwater from tipping floors or other processing areas to discharge to the storm sewer system; (c) disconnect or seal off all floor drains connected to the storm sewer system.

6.N.4.2.5 Scrap and Recyclable Waste Processing Areas. Minimize surface runoff from coming in contact with scrap processing equipment. Pay attention to operations that generate visible amounts of particulate residue (e.g., shredding) to minimize the contact of accumulated particulate matter and residual fluids with runoff (i.e., through good housekeeping, preventive maintenance, etc.). BMP options: (a) Regularly inspect equipment for spills/leaks, and malfunctioning/worn/corroded parts or equipment; (b) a preventive maintenance program for processing equipment; (c) use of dry-absorbents or other cleanup practices to collect and dispose/recycle spilled/leaking fluids; (d) on unattended hydraulic reservoirs over 150 gallons in capacity, install such protection devices as low-level alarms or other equivalent devices, or, alternatively, secondary containment that can hold the entire volume of the reservoir; (e) containment or diversion structures such as dikes, berms, culverts, trenches, elevated concrete pads, grading to minimize contact of storm water runoff with outdoor processing equipment or stored materials; (f) oil/water separators or sumps; (g) permanent or semi-permanent covers in processing areas where there are residual fluids and grease; (h) retention/detention ponds or basins; sediment traps, vegetated swales or strips (for pollutant settling/filtration); (i) catch basin filters or sand filters.

6.N.4.2.6 Scrap Lead-Acid Battery Program. Properly handle, store and dispose of scrap lead-acid batteries. BMP options: (a) Segregate scrap lead-acid batteries from other scrap materials; (b) proper handling, storage and disposal of cracked or broken batteries; (c) collect and dispose leaking lead-acid battery fluid; (d) minimize/eliminate (if possible) exposure of scrap lead-acid batteries to precipitation or runoff; (e) employee training for the management of scrap batteries.

6.N.4.2.7 Spill Prevention and Response Procedures. (See also Part 4.2.7.2.1.4)

Minimize storm water contamination at loading/unloading areas, and from equipment or container failures. BMP options: (a) Prevention and response measures for areas that are potential sources of fluid leaks/spills; (b) immediate containment and clean up of spills/leaks. If malfunctioning equipment is responsible for the spill/leak, repairs should also be conducted as soon as possible; (c) cleanup measures including the use of dry absorbents. If this method is employed, there should be an adequate supply of dry absorbent materials kept onsite and used absorbent must be properly disposed of; (d) store drums containing liquids—especially oil and lubricants—either: Indoors, in a bermed area, in overpack containers or spill pallets, or in other containment devices; (e) install overfill prevention devices on fuel pumps or tanks; (f) place drip pans or equivalent measures under leaking stationary equipment until the leak is repaired. The drip pans should be inspected for leaks and potential overflow and all liquids must be properly disposed of (as per RCRA); (g) install alarms and/or pump shut off systems on outdoor equipment with hydraulic reservoirs exceeding 150 gallons in the event of a line break. Alternatively, a secondary containment system capable of holding the entire contents of the reservoir plus room for precipitation can be used.

6.N.4.2.8 Quarterly Inspection Program. (See also Part 4.2.7.2.1.5)

Inspect all designated areas of the facility and equipment identified in the plan quarterly.

6.N.4.2.9 Supplier Notification Program. As appropriate, notify major suppliers which scrap materials will not be accepted at the facility or are only accepted under certain conditions.

6.N.4.3 Waste Recycling Facilities (Liquid Recyclable Materials).

6.N.4.3.1 Waste Material Storage (Indoor). Minimize/eliminate contact between residual liquids from waste materials stored indoors and surface runoff. The plan may refer to applicable portions of other existing plans such as SPCC plans required under 40 CFR part 112. BMP options: (a) Procedures for material handling (including labeling and marking); (b) clean up spills/leaks with dry-absorbent materials or a wet vacuum system; (c) appropriate containment structures (trenching, curbing, gutters, etc.); (d) a drainage system, including appurtenances (e.g., pumps or ejectors, manually operated valves), to handle discharges from diked or bermed areas. Drainage should be discharged to an appropriate treatment facility, sanitary sewer system, or otherwise disposed of properly. These discharges may require coverage under a separate NPDES wastewater permit or industrial user permit under the pretreatment program.

6.N.4.3.2 Waste Material Storage (Outdoor). Minimize contact between stored residual liquids and precipitation or runoff. The plan may refer to applicable portions of other existing plans such as SPCC plans required under 40 CFR part 112. Discharges of precipitation from containment areas containing used oil must also be in accordance with applicable sections of 40 CFR part 112. BMP options: (a) Appropriate containment structures (e.g., dikes, berms, curbing, pits) to store the volume of the largest tank with sufficient extra capacity for precipitation; (b) drainage control and other diversionary structures; (c) for storage tanks, provide corrosion protection and/or leak detection systems; (d) use dry-absorbent materials or a wet vacuum system to collect spills.

6.N.4.3.3 Trucks and Rail Car Waste Transfer Areas. Minimize pollutants in discharges from truck and rail car loading / unloading areas. Include measures to clean up minor spills/leaks resulting from the transfer of liquid wastes. BMP options: (a) Containment and diversionary structures to minimize contact with precipitation or runoff; (b) use dry-clean up methods, wet vacuuming, roof coverings, or runoff controls.

6.N.4.3.4 Quarterly Inspections. (See also Part 4.2.7.2.1.5)

At a minimum, the inspections must also include all areas where waste is generated, received, stored, treated or disposed and that are exposed to either precipitation or storm water runoff.

6.N.4.4 Recycling Facilities (Source Separated Materials). The following identifies considerations for facilities that receive only source-separated recyclables, primarily from non-industrial and residential sources.

6.N.4.4.1 Inbound Recyclable Material Control. Minimize the chance of accepting non-recyclables (e.g., hazardous materials) which could be a significant source of pollutants by conducting inspections of inbound materials. BMP options: (a) Information/education measures to inform suppliers of recyclables which materials are acceptable and which are not; (b) training drivers responsible for pickup of recycled material; (c) clearly marking public drop-off containers regarding which materials can be accepted; (d) reject non-recyclable wastes or household hazardous wastes at the source; (e) procedures for handling and disposal of non-recyclable material.

6.N.4.4.2 Outdoor Storage. Minimize exposure of recyclables to precipitation and runoff. Use good housekeeping measures to prevent accumulation of particulate matter and fluids, particularly in high traffic areas. Other BMP options: (a) Provide totally-enclosed drop-off containers for the public; (b) install a sump/pump with each container pit and treat or discharge collected fluids to a sanitary sewer system; (c) provide dikes and curbs for secondary containment (e.g., around bales of recyclable waste paper); (d) divert surface water runoff away from outside material storage areas; (e) provide covers over containment bins, dumpsters, roll-off boxes; (f) store the equivalent one days's volume of recyclable material indoors.

6.N.4.4.3 Indoor Storage and Material Processing. Minimize the release of pollutants from indoor storage and processing areas. BMP options: (a) Schedule routine good housekeeping measures for all storage and processing areas; (b) prohibit tipping floor washwater from draining to the storm sewer system; (c) provide employee training on pollution prevention practices.

6.N.4.4.4 Vehicle and Equipment Maintenance. BMP options for those areas where vehicle and equipment maintenance are occurring outdoors: (a) Prohibit vehicle and equipment washwater from discharging to the storm sewer system; (b) minimize or eliminate outdoor maintenance areas whenever possible; (c) establish spill prevention and clean-up procedures in fueling areas; (d) avoid topping off fuel tanks; (e) divert runoff from fueling areas; (f) store lubricants and hydraulic fluids indoors; (g) provide employee training on proper handling, storage of hydraulic fluids and lubricants.

6.N.5 Monitoring and Reporting Requirements

(See also Part 5)

Table N-1.—Sector-Specific Numeric Effluent Limitations and Benchmark Monitoring
[Part of Permit Affected/Supplemental Requirements]
Subsector ¹ | Parameter | Benchmark monitoring cutoff concentration ² | Numeric limitation
Scrap Recycling Facility (SIC 5093) | Chemical Oxygen Demand (COD) | 120 mg/L. |
| Total Suspended Solids (TSS) | 100 mg/L. |
| Total Recoverable Aluminum | 0.75 mg/L. |
| Total Recoverable Copper | 0.0636 mg/L. |
| Total Recoverable Iron | 1.0 mg/L. |
| Total Recoverable Lead | 0.0816 mg/L. |
| Total Recoverable Zinc | 0.117 mg/L. |
¹ Discharge may be subject to requirements for more than one sector/subsector.
² Monitor once/quarter for the year 2 and year 4 Monitoring Years.

6.O Sector O—Steam Electric Generating Facilities

6.O.1 Covered Storm Water Discharges

The requirements in Part 6.O apply to storm water discharges associated with industrial activity from Steam Electric Power Generating Facilities as identified by the Activity Code specified under Sector O in Table 1-1 of Part 1.2.1.

6.O.2 Industrial Activities Covered by Sector O.

This permit authorizes storm water discharges from the following industrial activities at Sector O facilities:

6.O.2.1 Steam electric power generation using coal, natural gas, oil, nuclear energy, etc. to produce a steam source, including coal handling areas;

6.O.2.2 Coal pile runoff, including effluent limitations established by 40 CFR Part 423;

6.O.2.3 Dual fuel co-generation facilities.

6.O.3 Limitations on Coverage

6.O.3.1 Prohibition of Non-Storm Water Discharges. Not covered by this permit: Non-storm water discharges subject to effluent limitations guidelines.

6.O.3.2 Prohibition of Storm Water Discharges. Not covered by this permit: Storm water discharges from ancillary facilities (e.g., fleet centers, gas turbine stations and substations) that are not contiguous to a stream electric power generating facility; and heat capture co-generation facilities.

6.O.4 Storm Water Pollution Prevention Plan (SWPPP) Requirements

In addition to the following requirements, you must also comply with the requirements listed in Part 4.

6.O.4.1 Drainage Area Site Map. (See also Part 4.2.2.3) Identify the locations of any of the following activities or sources which may be exposed to precipitation/surface runoff: Storage tanks, scrap yards, general refuse areas; short and long term storage of general materials (including but not limited to: supplies, construction materials, paint equipment, oils, fuels, used and unused solvents, cleaning materials, paint, water treatment chemicals, fertilizer and pesticides); landfills, construction sites; stock piles areas (e.g., coal or limestone piles).

6.O.4.2 Good Housekeeping Measures. (See also Part 4.2.7.2.1.1)

6.O.4.2.1 Fugitive Dust Emissions. Describe and implement measures that prevent or minimize fugitive dust emissions from coal handling areas. Consider such procedures to minimize the tracking of coal dust offsite as installing specially designed tires, or washing vehicles in a designated area before they leave the site and controlling the wash water.

6.O.4.2.2 Delivery Vehicles. Describe and implement measures that prevent or minimize contamination of storm water runoff from delivery vehicles arriving at the plant site. Consider the following: procedures to inspect delivery vehicles arriving at the plant site and ensure overall integrity of the body or container; and procedures to deal with leakage/spillage from vehicles or containers.

6.O.4.2.3 Fuel Oil Unloading Areas. Describe and implement measures that prevent or minimize contamination of precipitation/surface runoff from fuel oil unloading areas. Consider, at a minimum (or their equivalents): Using containment curbs in unloading areas; having personnel familiar with spill prevention and response procedures present during deliveries to ensure that any leaks/spills are immediately contained and cleaned up; using spill and overflow protection (e.g., drip pans, drip diapers or other containment devices placed beneath fuel oil connectors to contain potential spillage during deliveries or from leaks at the connectors).

6.O.4.2.4 Chemical Loading/Unloading. Describe and implement measures that prevent or minimize contamination of precipitation/surface runoff from chemical loading/unloading areas. Consider, at a minimum (or their equivalents): Using containment curbs at chemical loading/unloading areas to contain spill; having personnel familiar with spill prevention and response procedures present during deliveries to ensure that any leaks/spills are immediately contained and cleaned up; and load/unload in covered areas and store chemicals indoors.

6.O.4.2.5 Miscellaneous Loading/Unloading Areas. Describe and implement measures that prevent or minimize contamination of precipitation/surface runoff from loading/unloading areas. Consider, at a minimum (or their equivalents): Covering the loading area; grading, berming, or curbing around the loading area to divert run-on; or locating the loading/unloading equipment and vehicles so leaks are contained in existing containment and flow diversion systems.

6.O.4.2.6 Liquid Storage Tanks. Describe and implement measures that prevent or minimize contamination of surface runoff from above ground liquid storage tanks. Consider using, at a minimum (or their equivalents): Protective guards around tank; containment curbs; spill and overflow protection; and dry cleanup methods.

6.O.4.2.7 Large Bulk Fuel Storage Tanks. Describe and implement measures that prevent or minimize contamination of surface runoff from large bulk fuel storage tanks. Consider, at a minimum, using containment berms (or its equivalent). You must also comply with applicable State and Federal laws, including Spill Prevention Control and Countermeasures (SPCC).

6.O.4.2.8 Spill Reduction Measures. Describe and implement measures to reduce the potential for an oil/chemical spill or reference the appropriate Part of your SPCC plan. At a minimum, visually inspect on a weekly basis, the structural integrity of all above ground tanks, pipelines, pumps and other related equipment, and effect any necessary repairs immediately.

6.O.4.2.9 Oil Bearing Equipment in Switchyards. Describe and implement measures that prevent or minimize contamination of surface runoff from oil bearing equipment in switchyard areas. Consider using level grades and gravel surfaces to retard flows and limit the spread of spills or collecting runoff in perimeter ditches.

6.O.4.2.10 Residue Hauling Vehicles. Inspect all residue hauling vehicles for proper covering over the load, adequate gate sealing and overall integrity of the container body. Repair as soon as practicable, vehicles without load covering or adequate gate sealing, or with leaking containers or beds.

6.O.4.2.11 Ash Loading Areas. Describe and implement procedures to reduce or control the tracking of ash/residue from ash loading areas. Where practicable, clear the ash building floor and immediately adjacent roadways of spillage, debris and excess water before departure of each loaded vehicle.

6.O.4.2.12 Areas Adjacent to Disposal Ponds or Landfills. Describe and implement measures that prevent or minimize contamination of surface runoff from areas adjacent to disposal ponds or landfills. Develop procedures to reduce ash residue that may be tracked on to access roads traveled by residue handling vehicles, and reduce ash residue on exit roads leading into and out of residue handling areas.

6.O.4.2.13 Landfills, Scrap yards, Surface Impoundments, Open Dumps, General Refuse Sites. Address these areas in your SWPPP and include appropriate BMPs as referred to in Part 4.

6.O.4.2.14 Vehicle Maintenance Activities. For vehicle maintenance activities performed on the plant site, use the applicable BMPs outlined in Part 6.P.

6.O.4.2.15 Material Storage Areas. Describe and implement measures that prevent or minimize contamination of storm water runoff from material storage areas (including areas used for temporary storage of miscellaneous products and construction materials stored in lay-down areas). Consider using (or their equivalents): Flat yard grades; collecting runoff in graded swales or ditches; erosion protection measures at steep outfall sites (e.g., concrete chutes, riprap, stilling basins); covering lay-down areas; storing materials indoors; and covering materials temporarily with polyethylene, polyurethane, polypropylene or hypalon. Storm water run-on may be minimized by constructing an enclosure or building a berm around the area.

6.O.4.3 Comprehensive Site Compliance Evaluation. (See also Part 4.9.3) As part of your evaluation, inspect the following areas on a monthly basis: Coal handling areas, loading / unloading areas, switchyards, fueling areas, bulk storage areas, ash handling areas, areas adjacent to disposal ponds and landfills, maintenance areas, liquid storage tanks, and long term and short term material storage areas.

6.O.5 Monitoring and Reporting Requirements

(See also Part 5)

Table O-1.—Sector-Specific Numeric Effluent Limitations and Benchmark Monitoring
[Part of Permit Affected/Supplemental Requirements]
Subsector ¹ | Parameter | Benchmark monitoring cutoff concentration ² | Numeric limitation
Steam Electric Generating Facilities (Industrial Activity Code “SE”) | Total recoverable iron | 1.0 mg/L. |
¹ Discharges may be subject to requirements for more than one sector/subsector.
² Monitor once/quarter for the year 2 and year 4 monitoring years.

6.P Sector P—Land Transportation and Warehousing

6.P.1 Covered Storm Water Discharges

The requirements in Part 6.P apply to storm water discharges associated with industrial activity from Land Transportation and Warehousing facilities as identified by the Activity Code specified under Sector P in Table 1-1 of Part 1.2.1.

6.P.2 Industrial Activities Covered by Sector P

The types of activities that permittees under Sector P are primarily engaged in are:

6.P.2.1 vehicle and equipment maintenance (vehicle and equipment rehabilitation, mechanical repairs, painting, fueling and lubrication);

6.P.2.2 equipment cleaning.

6.P.3 Storm Water Pollution Prevention Plan (SWPPP) Requirements

In addition to the following requirements, you must also comply with the requirements listed in Part 4.

6.P.3.1 Drainage Site Map. (See also Part 4.2.2.3) Identify the locations of any of the following activities or sources: Fueling stations; vehicle/equipment maintenance or cleaning areas; storage areas for vehicle/equipment with actual or potential fluid leaks; loading/unloading areas; areas where treatment, storage or disposal of wastes occur; liquid storage tanks; processing areas; storage areas; and all monitoring areas.

6.P.3.2 Potential Pollutant Sources. (See also Part 4.2.4) Describe and assess the potential for the following to contribute pollutants to storm water discharges: Onsite waste storage or disposal; dirt/gravel parking areas for vehicles awaiting maintenance; and fueling areas.

6.P.3.3 Good Housekeeping Measures. (See also Part 4.2.7.2.1.1)

6.P.3.3.1 Vehicle and Equipment Storage Areas. Confine the storage of leaky or leak-prone vehicles/equipment awaiting maintenance to designated areas. Consider the following (or other equivalent measures): The use of drip pans under vehicles/equipment, indoor storage of vehicles and equipment, installation of berms or dikes, use of absorbents, roofing or covering storage areas, and cleaning pavement surfaces to remove oil and grease.

6.P.3.3.2 Fueling Areas. Implement and describe measures that prevent or minimize contamination of storm water runoff from fueling areas. Consider the following (or other equivalent measures): Covering the fueling area; using spill/overflow protection and cleanup equipment; minimizing storm water runon/runoff to the fueling area; using dry cleanup methods; and treating and/or recycling collected storm water runoff.

6.P.3.3.3 Material Storage Areas. Maintain all material storage vessels (e.g., for used oil/oil filters, spent solvents, paint wastes, hydraulic fluids) to prevent contamination of storm water and plainly label them (e.g., “Used Oil,” “Spent Solvents,” etc.). Consider the following (or other equivalent measures): Storing the materials indoors; installing berms/dikes around the areas; minimizing runoff of storm water to the areas; using dry cleanup methods; and treating and/or recycling collected storm water runoff.

6.P.3.3.4. Vehicle and Equipment Cleaning Areas. Implement and describe measures that prevent or minimize contamination of storm water runoff from all areas used for vehicle/equipment cleaning. Consider the following (or other equivalent measures): Performing all cleaning operations indoors; covering the cleaning operation, ensuring that all washwater drains to a proper collection system (i.e., not the storm water drainage system unless NPDES permitted); treating and/or recycling collected storm water runoff, or other equivalent measures. Note: The discharge of vehicle/equipment washwater, including tank cleaning operations, are not authorized by this permit and must be covered under a separate NPDES permit or discharged to a sanitary sewer in accordance with applicable industrial pretreatment requirements.

6.P.3.3.5 Vehicle and Equipment Maintenance Areas. Implement and describe measures that prevent or minimize contamination of storm water runoff from all areas used for vehicle/equipment maintenance. Consider the following (or other equivalent measures): Performing maintenance activities indoors; using drip pans; keeping an organized inventory of materials used in the shop; draining all parts of fluid prior to disposal; prohibiting wet clean up practices if these practices would result in the discharge of pollutants to storm water drainage systems; using dry cleanup methods; treating and/or recycling collected storm water runoff, minimizing run on/runoff of storm water to maintenance areas.

6.P.3.3.6 Locomotive Sanding (Loading Sand for Traction) Areas. Consider the following (or other equivalent measures): Covering sanding areas; minimizing storm water run on/runoff; or appropriate sediment removal practices to minimize the offsite transport of sanding material by storm water.

6.P.3.4 Inspections. (See also Part 4.2.7.2.1.4) Inspect all the following areas/activities: Storage areas for vehicles/equipment awaiting maintenance, fueling areas, indoor and outdoor vehicle/equipment maintenance areas, material storage areas, vehicle/equipment cleaning areas and loading/unloading areas.

6.P.3.5 Employee Training. (See also Part 4.2.7.2.1.5) Train personnel at least once a year and address the following, as applicable: Used oil and spent solvent management; fueling procedures; general good housekeeping practices; proper painting procedures; and used battery management.

6.P.3.6 Vehicle and Equipment Washwater Requirements. (See also Part 4.4) Attach to or reference in your SWPPP, a copy of the NPDES permit issued for vehicle/equipment washwater or, if an NPDES permit has not been issued, a copy of the pending application. If an industrial user permit is issued under a pretreatment program, attach a copy to your SWPPP. In any case, address all non-storm water permit conditions or pretreatment conditions in your SWPPP. If washwater is handled in another manner (e.g., hauled offsite), describe the disposal method and attach all pertinent documentation/information (e.g., frequency, volume, destination, etc.) in the plan.

6.Q Sector Q—Water Transportation

6.Q.1 Covered Storm Water Discharges

The requirements in Part 6.Q apply to storm water discharges associated with industrial activity from Water Transportation facilities as identified by the Activity Code specified under Sector Q in Table 1-1 of Part 1.2.1.

6.Q.2 Industrial Activities Covered by Sector Q

The requirements listed under this part apply to storm water discharges associated with the following activities:

6.Q.2.1 water transportation facilities classified in SIC Code major group 44 that have vehicle (vessel) maintenance shops and/or equipment cleaning operations including:

6.Q.2.1.1 water transportation industry includes facilities engaged in foreign or domestic transport of freight or passengers in deep sea or inland waters;

6.Q.2.1.2 marine cargo handling operations;

6.Q.2.1.3 ferry operations;

6.Q.2.1.4 towing and tugboat services;

6.Q.2.1.5 marinas.

6.Q.3 Limitations on Coverage

6.Q.3.1 Prohibition of Non-Storm Water Discharges. (See also Part 1.2.3.1) Not covered by this permit: Bilge and ballast water, sanitary wastes, pressure wash water and cooling water originating from vessels.

6.Q.4 Storm Water Pollution Prevention Plan (SWPPP) Requirements

In addition to the following requirements, you must also comply with the requirements listed in Part 4.

6.Q.4.1 Drainage Area Site Map. (See also Part 4.2.2.3) Identify where any of the following may be exposed to precipitation/surface runoff: Fueling; engine maintenance/repair; vessel maintenance/repair; pressure washing; painting; sanding; blasting; welding; metal fabrication; loading/unloading areas; locations used for the treatment, storage or disposal of wastes; liquid storage tanks; liquid storage areas (e.g., paint, solvents, resins); and material storage areas (e.g., blasting media, aluminum, steel, scrap iron).

6.Q.4.2 Summary of Potential Pollutant Sources. (See also Part 4.2.4) Describe the following additional sources and activities that have potential pollutants associated with them: Outdoor manufacturing or processing activities (i.e., welding, metal fabricating); and significant dust or particulate generating processes (e.g., abrasive blasting, sanding, painting)

6.Q.4.3 Good Housekeeping Measures. (See also Part 4.2.7.2.1.1)

6.Q.4.3.1 Pressure Washing Area. If pressure washing is used to remove marine growth from vessels, the discharge water must be permitted by a separate NPDES permit. Describe in the SWPPP: The measures to collect or contain the discharges from the pressures washing area; the method for the removal of the visible solids; the methods of disposal of the collected solids; and where the discharge will be released.

6.Q.4.3.2 Blasting and Painting Area. Implement and describe measures to prevent spent abrasives, paint chips and over spray from discharging into the receiving water or the storm sewer systems. Consider containing all blasting/painting activities or use other measures to prevent or minimize the discharge the contaminants (e.g., hanging plastic barriers or tarpaulins during blasting or painting operations to contain debris). Where necessary, regularly clean storm water conveyances of deposits of abrasive blasting debris and paint chips. Detail in the SWPPP any standard operating practices relating to blasting/painting (e.g., prohibiting uncontained blasting/painting over open water, or prohibiting blasting/painting during windy conditions which can render containment ineffective).

6.Q.4.3.3 Material Storage Areas. Store and plainly label all containerized materials (e.g., fuels, paints, solvents, waste oil, antifreeze, batteries) in a protected, secure location away from drains. Implement and describe measures to prevent or minimize the contamination of precipitation/surface runoff from the storage areas. Specify which materials are stored indoors and consider containment or enclosure for those stored outdoors. If abrasive blasting is performed, discuss the storage and disposal of spent abrasive materials generated at the facility. Consider implementing an inventory control plan to limit the presence of potentially hazardous materials onsite.

6.Q.4.3.4 Engine Maintenance and Repair Areas. Implement and describe measures to prevent or minimize the contamination of precipitation/surface runoff from all areas used for engine maintenance and repair. Consider the following (or their equivalents): Performing all maintenance activities indoors; maintaining an organized inventory of materials used in the shop; draining all parts of fluid prior to disposal; prohibiting the practice of hosing down the shop floor; using dry cleanup methods; and treating and/or recycling storm water runoff collected from the maintenance area.

6.Q.4.3.5 Material Handling Area. Implement and describe measures to prevent or minimize the contamination of precipitation/surface runoff from material handling operations and areas (e.g., fueling, paint and solvent mixing, disposal of process wastewater streams from vessels). Consider the following (or their equivalents): Covering fueling areas; using spill/overflow protection; mixing paints and solvents in a designated area (preferably indoors or under a shed); and minimize runoff of storm water to material handling areas.

6.Q.4.3.6 Drydock Activities. Describe your procedures for routinely maintaining/cleaning the drydock to prevent or minimize pollutants in storm water runoff. Address the cleaning of accessible areas of the drydock prior to flooding, and final cleanup following removal of the vessel and raising the dock. Include procedures for cleaning up oil, grease or fuel spills occurring on the drydock. Consider the following (or their equivalents): Sweeping rather than hosing off debris/spent blasting material from accessible areas of the drydock prior to flooding, and having absorbent materials and oil containment booms readily available to contain/cleanup any spills.

6.Q.4.3.7 General Yard Area. Implement and describe a schedule for routine yard maintenance and cleanup. Regularly remove from the general yard area: scrap metal, wood, plastic, miscellaneous trash, paper, glass, industrial scrap, insulation, welding rods, packaging, etc.

6.Q.4.4 Preventative Maintenance. (See also Part 4.2.7.2.1.4)

As part of your preventive maintenance program, perform timely inspection and maintenance of storm water management devices (e.g., cleaning oil/water separators and sediment traps to ensure that spent abrasives, paint chips and solids will be intercepted and retained prior to entering the storm drainage system) as well as inspecting and testing facility equipment and systems to uncover conditions that could cause breakdowns or failures resulting in discharges of pollutants to surface waters.

6.Q.4.5 Inspections. (See also Part 4.2.7.2.1.5)

Include the following areas in all monthly inspections: Pressure washing area; blasting, sanding and painting areas; material storage areas; engine maintenance/repair areas; material handling areas; drydock area; and general yard area.

6.Q.4.6 Employee Training. (See also Part 4.2.7.2.1.6)

As part of your employee training program, address, at a minimum, the following activities (as applicable): Used oil management; spent solvent management; disposal of spent abrasives; disposal of vessel wastewaters; spill prevention and control; fueling procedures; general good housekeeping practices; painting and blasting procedures; and used battery management.

6.Q.4.7 Comprehensive Site Compliance Evaluation.

(See also Part 4.9) Conduct regularly scheduled evaluations at least once a year and address those areas contributing to a storm water discharge associated with industrial activity (e.g., pressure washing area, blasting/sanding areas, painting areas, material storage areas, engine maintenance/repair areas, material handling areas, and drydock area). Inspect these sources for evidence of, or the potential for, pollutants entering the drainage system.

6.Q.5 Monitoring and Reporting Requirements

(See also Part 5)

Table Q-1.—Sector-Specific Numeric Effluent Limitations and Benchmark Monitoring
[Part of Permit Affected/Supplemental Requirements]
Subsector ¹ | Parameter | Benchmark monitoring cutoff concentration ² | Numeric limitation
Water Transportation Facilities (SIC 4412-4499) | Total recoverable aluminum | 0.75 mg/L. |
| Total recoverable iron | 1.0 mg/L. |
| Total recoverable lead | 0.0816 mg/L. |
| Total recoverable zinc | 0.117 mg/L. |
¹ Discharges may be subject to requirements for more than one sector/subsector.
² Monitor once/quarter for the year 2 and year 4 monitoring years.

6.R Sector R—Ship and Boat Building or Repair Yards

6.R.1 Covered Storm Water Discharges

The requirements in Part 6.R apply to storm water discharges associated with industrial activity from Ship and Boat Building or Repair Yards as identified by the Activity Codes specified under Sector R in Table 1-1 of Part 1.2.1.

6.R.2 Industrial Activities Covered by Sector R

The types of activities that permittees under Sector R are primarily engaged in are:

6.R.2.1 ship building and repairing and boat building and repairing.¹²

¹² According to the U.S. Coast Guard, a vessel 65 feet or greater in length is referred to as a ship, and a vessel smaller than 65 feet is a boat.

6.R.3 Limitations on Coverage

6.R.3.1 Prohibition of Non-Storm Water Discharges. (See also Part 1.2.3.1) Not covered by this permit: discharges containing bilge and ballast water, sanitary wastes, pressure wash water and cooling water originating from vessels.

6.R.4 Storm Water Pollution Prevention Plan (SWPPP) Requirements

In addition to the following requirements, you must also comply with the requirements listed in Part 4.

6.R.4.1 Drainage Area Site Map. (See also Part 4.2.2.3) Identify where any of the following may be exposed to precipitation/surface runoff: Fueling; engine maintenance/repair; vessel maintenance/repair; pressure washing; painting; sanding; blasting; welding; metal fabrication; loading/unloading areas; locations used for the treatment, storage or disposal of wastes; liquid storage tanks; liquid storage areas (e.g., paint, solvents, resins); and material storage areas (e.g., blasting media, aluminum, steel, scrap iron).

6.R.4.2 Potential Pollutant Sources. (See also Part 4.2.4) Describe the following additional sources and activities that have potential pollutants associated with them (if applicable): Outdoor manufacturing/processing activities (e.g., welding, metal fabricating); and significant dust/particulate generating processes (e.g., abrasive blasting , sanding, painting).

6.R.4.3 Good Housekeeping Measures. (See also Part 4.2.7.2.1.1)

6.R.4.3.1 Pressure Washing Area. If pressure washing is used to remove marine growth from vessels, the discharge water must be permitted as a process wastewater by a separate NPDES permit.

6.R.4.3.2 Blasting and Painting Area. Implement and describe measures to prevent spent abrasives, paint chips and over spray from discharging into the receiving water or the storm sewer systems. Consider containing all blasting/painting activities or use other measures to prevent or minimize the discharge the contaminants (e.g., hanging plastic barriers or tarpaulins during blasting or painting operations to contain debris). Where necessary, regularly clean storm water conveyances of deposits of abrasive blasting debris and paint chips. Detail in the SWPPP any standard operating practices relating to blasting/painting (e.g., prohibiting uncontained blasting/painting over open water, or prohibiting blasting/painting during windy conditions which can render containment ineffective).

6.R.4.3.3 Material Storage Areas. Store and plainly label all containerized materials (e.g., fuels, paints, solvents, waste oil, antifreeze, batteries) in a protected, secure location away from drains. Implement and describe measures to prevent or minimize the contamination of precipitation/surface runoff from the storage areas. Specify which materials are stored indoors and consider containment or enclosure for those stored outdoors. If abrasive blasting is performed, discus the storage and disposal of spent abrasive materials generated at the facility. Consider implementing an inventory control plan to limit the presence of potentially hazardous materials onsite.

6.R.4.3.4 Engine Maintenance and Repair Areas. Implement and describe measures to prevent or minimize the contamination of precipitation/surface runoff from all areas used for engine maintenance and repair. Consider the following (or their equivalents): Performing all maintenance activities indoors; maintaining an organized inventory of materials used in the shop; draining all parts of fluid prior to disposal; prohibiting the practice of hosing down the shop floor; using dry cleanup methods; and treating and/or recycling storm water runoff collected from the maintenance area.

6.R.4.3.5 Material Handling Area. Implement and describe measures to prevent or minimize the contamination of precipitation/surface runoff from material handling operations and areas (e.g., fueling, paint and solvent mixing, disposal of process wastewater streams from vessels). Consider the following (or their equivalents): Covering fueling areas; using spill/overflow protection; mixing paints and solvents in a designated area (preferably indoors or under a shed); and minimize runon of storm water to material handling areas.

6.R.4.3.6 Drydock Activities. Describe your procedures for routinely maintaining/cleaning the drydock to prevent or minimize pollutants in storm water runoff. Address the cleaning of accessible areas of the drydock prior to flooding, and final cleanup following removal of the vessel and raising the dock. Include procedures for cleaning up oil, grease or fuel spills occurring on the drydock. Consider the following (or their equivalents): sweeping rather than hosing off debris/spent blasting material from accessible areas of the drydock prior to flooding, and having absorbent materials and oil containment booms readily available to contain/cleanup any spills.

6.R.4.3.7 General Yard Area. Implement and describe a schedule for routine yard maintenance and cleanup. Regularly remove from the general yard area: Scrap metal, wood, plastic, miscellaneous trash, paper, glass, industrial scrap, insulation, welding rods, packaging, etc.

6.R.4.4 Preventative Maintenance. (See also Part 4.2.7.2.1.4) As part of your preventive maintenance program, perform timely inspection and maintenance of storm water management devices (e.g., cleaning oil/water separators and sediment traps to ensure that spent abrasives, paint chips and solids will be intercepted and retained prior to entering the storm drainage system) as well as inspecting and testing facility equipment and systems to uncover conditions that could cause breakdowns or failures resulting in discharges of pollutants to surface waters.

6.R.4.5 Inspections. (See also Part 4.2.7.2.1.5) Include the following areas in all monthly inspections: Pressure washing area; blasting, sanding and painting areas; material storage areas; engine maintenance/repair areas; material handling areas; drydock area; and general yard area.

6.R.4.6 Employee Training. (See also Part 4.2.7.2.1.6) As part of your employee training program, address, at a minimum, the following activities (as applicable): Used oil management; spent solvent management; disposal of spent abrasives; disposal of vessel wastewaters; spill prevention and control; fueling procedures; general good housekeeping practices; painting and blasting procedures; and used battery management.

6.R.4.7 Comprehensive Site Compliance Evaluation. (See also Part 4.9) Conduct regularly scheduled evaluations at least once a year and address those areas contributing to a storm water discharge associated with industrial activity (e.g., pressure washing area, blasting/sanding areas, painting areas, material storage areas, engine maintenance/repair areas, material handling areas, and drydock area). They must be visually inspected for evidence of, or the potential for, pollutants entering the drainage system.

6.S Sector S—Air Transportation

6.S.1 Covered Storm Water Discharges

The requirements in Part 6.S apply to storm water discharges associated with industrial activity from Air Transportation facilities as identified by the SIC Codes specified under Sector S in Table 1-1 of Part 1.2.1.

6.S.2 Industrial Activities Covered by Sector S

The types of activities that permittees under Sector S are primarily engaged in are:

6.S.2.1 air transportation, scheduled, and air courier;

6.S.2.2 air transportation, non scheduled;

6.S.2.3 airports; flying fields, except those maintained by aviation clubs; and airport terminal services including: Air traffic control, except government; aircraft storage at airports; aircraft upholstery repair; airfreight handling at airports; airport hangar rental; airport leasing, if operating airport; airport terminal services; and hangar operations.

6.S.2.4 airport and aircraft service and maintenance including: aircraft cleaning and janitorial service; aircraft servicing/repairing, except on a factory basis; vehicle maintenance shops; material handling facilities; equipment clearing operations; and airport and aircraft deicing/anti-icing.

Note: “deicing” will generally be used to imply both deicing (removing frost, snow or ice) and anti-icing (preventing accumulation of frost, snow or ice) activities, unless specific mention is made regarding anti-icing and/or deicing activities.

6.S.3 Limitations on Coverage

Only those portions of the facility that are involved in vehicle maintenance (including vehicle rehabilitation, mechanical repairs, painting, fueling and lubrication), equipment cleaning operations or deicing operations are addressed in Part 6.S.

6.S.3.1 Prohibition of Non-Storm Water Discharges. (See also Part 1.2.3.1) Not covered by this permit: Aircraft, ground vehicle, runway and equipment washwaters; and dry weather discharges of deicing chemicals. These discharges must be covered by a separate NPDES permit.

6.S.4 Special Conditions

6.S.4.1 Hazardous Substances or Oil. (See also Part 3.1) Each individual permittee is required to report spills equal to or exceeding the reportable quantity (RQ) levels specified at 40 CFR, parts 110, 117 and 302 as described at Part 3.2. If an airport authority is the sole permittee, then the sum total of all spills at the airport must be assessed against the RQ. If the airport authority is a co-permittee with other deicing operators at the airport, such as numerous different airlines, the assessed amount must be the summation of spills by each co-permittee. If separate, distinct individual permittees exist at the airport, then the amount spilled by each separate permittee must be the assessed amount for the RQ determination.

6.S.5 Storm Water Pollution Prevention Plan (SWPPP) Requirements

In addition to the following requirements, you must also comply with the requirements listed in Part 4 of the MSGP.

(See also Part 4.1) If an airport's tenant has a SWPPP for discharges from their own areas of the airport, that SWPPP must be integrated with the plan for the entire airport. Tenants of the airport facility include air passenger or cargo companies, fixed based operators and other parties who have contracts with the airport authority to conduct business operations on airport property and whose operations result in storm water discharges associated with industrial activity.

6.S.5.1 Drainage Area Site Map. (See also Part 4.2.2.3) Identify where any of the following may be exposed to precipitation/surface runoff: Aircraft and runway deicing operations; fueling stations; aircraft, ground vehicle and equipment maintenance / cleaning areas; storage areas for aircraft, ground vehicles and equipment awaiting maintenance.

6.S.5.2 Potential Pollutant Sources. (See also Part 4.2.4) Include in your inventory of exposed materials a description of the potential pollutant sources from the following activities: Aircraft, runway, ground vehicle and equipment maintenance and cleaning; aircraft and runway deicing operations (including apron and centralized aircraft deicing stations, runways, taxiways and ramps). If you conduct deicing operations, you must maintain a record of the types [including the Material Safety Data Sheets (MSDS)] and monthly quantities of deicing chemicals used. Tenants and fixed-based operations who conduct deicing operations must provide the above information to the airport authority for inclusion in the SWPPP for the entire facility.

6.S.5.3 Good Housekeeping Measures. (See also 4.2.7)

6.S.5.3.1 Aircraft, Ground Vehicle and Equipment Maintenance Areas. Describe and implement measures that prevent or minimize the contamination of storm water runoff from all areas used for aircraft, ground vehicle and equipment maintenance (including the maintenance conducted on the terminal apron and in dedicated hangers). Consider the following practices (or their equivalents): Performing maintenance activities indoors; maintaining an organized inventory of material used in the maintenance areas; draining all parts of fluids prior to disposal; preventing the practice of hosing down the apron or hanger floor; using dry cleanup methods; and collecting the storm water runoff from the maintenance area and providing treatment or recycling.

6.S.5.3.2 Aircraft, Ground Vehicle and Equipment Cleaning Areas. Clean equipment only in the areas identified in the SWPPP and site map and clearly demarcate these areas on the ground. Describe and implement measures that prevent or minimize the contamination of storm water runoff from cleaning areas.

6.S.5.3.3 Aircraft, Ground Vehicle and Equipment Storage Areas. Store all aircraft, ground vehicles and equipment awaiting maintenance in designated areas only. Consider the following BMPs (or their equivalents): Storing aircraft and ground vehicles indoors; using drip pans for the collection of fluid leaks; and perimeter drains, dikes or berms surrounding the storage areas.

6.S.5.3.4 Material Storage Areas. Maintain the vessels of stored materials (e.g., used oils, hydraulic fluids, spent solvents, and waste aircraft fuel) in good condition, to prevent or minimize contamination of storm water. Also plainly label the vessels (e.g., “used oil,” “Contaminated Jet A,” etc.). Describe and implement measures that prevent or minimize contamination of precipitation/runoff from these areas. Consider the following BMPs (or their equivalents): Storing materials indoors; storing waste materials in a centralized location; and installing berms/dikes around storage areas.

6.S.5.3.5 Airport Fuel System and Fueling Areas. Describe and implement measures that prevent or minimize the discharge of fuel to the storm sewer/surface waters resulting from fuel servicing activities or other operations conducted in support of the airport fuel system. Consider the following BMPs (or their equivalents): Implementing spill and overflow practices (e.g., placing absorptive materials beneath aircraft during fueling operations); using dry cleanup methods; and collecting storm water runoff.

6.S.5.3.6 Source Reduction. Consider alternatives to the use of urea and glycol-based deicing chemicals to reduce the aggregate amount of deicing chemicals used and/or lessen the environmental impact. Chemical options to replace ethylene glycol, propylene glycol and urea include: Potassium acetate; magnesium acetate; calcium acetate; anhydrous sodium acetate.

6.S.5.3.6.1 Runway Deicing Operation: Regarding runway deicing, evaluate, at a minimum: Whether over-application of deicing chemicals occurs by analyzing present application rates, and adjusting as necessary. Also consider these BMP options (or their equivalents): Metered application of chemicals; pre-wetting dry chemical constituents prior to application; installing a runway ice detection system; implementing anti-icing operations as a preventive measure against ice buildup.

6.S.5.3.6.2 Aircraft Deicing Operations: As in Part 6.S.5.4.6.1, determine if excessive application of deicing chemicals occurs and adjust as necessary. Also consider these BMP options (or their equivalents): Pretreating aircraft with hot water prior to the application of deicing chemical; infra-red treatment; hot air treatment; and sonic treatment. Other deicing options: Deicing aircraft in a dedicated area or pad, with a runoff collection/recovery system; and using a deicer gantry that delivers controlled amounts of chemical to specific areas of the aircraft.

6.S.5.3.7 Management of Runoff. Where deicing operations occur, describe and implement a program to control or manage contaminated runoff to reduce the amount of pollutants being discharged from the site. Consider these BMP options (or their equivalents): A dedicated deicing facility with a runoff collection/recovery system; using vacuum/collection trucks; storing contaminated storm water/deicing fluids in tanks and releasing controlled amounts to a publicly owned treatment works; collecting contaminated runoff in a wet pond for biochemical decomposition (be aware of attracting wildlife that may prove hazardous to flight operations); and directing runoff into vegetative swales or other infiltration measures. Also consider recovering deicing materials when these materials are applied during non-precipitation events (e.g., covering storm sewer inlets, using booms, installing absorptive interceptors in the drains, etc.) to prevent these materials from later becoming a source of storm water contamination. Used deicing fluid should be recycled whenever possible.

6.S.5.4 Inspections. (See also 4.2.7.2.1.5) Specify the frequency of inspections in your SWPPP. At a minimum they must be conducted once per week during deicing application periods for areas where deicing operations are being conducted.

6.S.5.5 Comprehensive Site Compliance Evaluation. (See also 4.9) Using only qualified personnel, conduct your annual site compliance evaluations during periods of deicing operations.

6.S.6 Monitoring and Reporting Requirements.

(See also Part 5.)

Table S-1.—Sector-Specific Numeric Limitations and Benchmark Monitoring
[Sector of permit affected/supplemental requirements]
Subsector ¹ | Parameter | Benchmark monitoring cutoff concentration ² | Numeric limitation
Facilities at airports that use more than 100,000 gallons of glycol-based deicing/anti-icing chemicals and/or 100 tons or more of urea on an average annual basis: monitor ONLY those outfalls from the airport facility that collect runoff from areas where deicing/anti-icing activities occur (SIC 45XX) | Biochemical Oxygen Demand (BOD5) | 30 mg/L. |
| Chemical Oxygen Demand (COD) | 120.0 mg/L. |
| Ammonia | 19 mg/L. |
| pH. | 6.0 to 9 s.u |
¹ Discharge may be subject to requriements for more than one sector/subsector.
² Monitor once/quarter for the year 2 and year 4 monitoring years.

6.T Sector T—Treatment Works

6.T.1 Covered Storm Water Discharges

The requirements in Part 6.T apply to storm water discharges associated with industrial activity from Treatment Works as identified by the Activity Code specified under Sector T in Table 1-1 of Part 1.2.1.

6.T.2 Industrial Activities Covered by Sector T

The requirements listed under this Part apply to all existing point source storm water discharges associated with the following activities:

6.T.2.1 treatment works treating domestic sewage;

6.T.2.2 any other sewage sludge or wastewater treatment device or system, used in the storage, treatment, recycling and reclamation of municipal or domestic sewage;

6.T.2.3 lands dedicated to the disposal of sewage sludge that are located within the confines of the facility with a design flow of 1.0 MGD or more;

6.T.2.4 facilities required to have an approved pretreatment program under 40

CFR Part 403.

6.T.3 Limitations on Coverage

Not covered by this permit: farm lands; domestic gardens or lands used for sludge management where sludge is beneficially reused and which are not physically located within the facility; or areas that are in compliance with Section 405 of the CWA.

6.T.3.1 Prohibition of Non-Storm Water Discharges. (See also Part 1.2.3.1) Not authorized by this permit: Sanitary and industrial wastewater; and equipment/vehicle washwater.

6.T.4 Storm Water Pollution Prevention Plan (SWPPP) Requirements

In addition to the following requirements, you must also comply with the requirements listed in Part 4.

6.T.4.1 Site Map. (See also Part 4.2.2.3.6) Identify where any of the following may be exposed to precipitation/surface runoff: Grit, screenings and other solids handling, storage or disposal areas; sludge drying beds; dried sludge piles; compost piles; septage or hauled waste receiving station; and storage areas for process chemicals, petroleum products, solvents, fertilizers, herbicides and pesticides.

6.T.4.2 Potential Pollutant Sources. (See also Part 4.2.4) Describe the following additional sources and activities that have potential pollutants associated with them, as applicable: Grit, screenings and other solids handling, storage or disposal areas; sludge drying beds; dried sludge piles; compost piles; septage or hauled waste receiving station; and access roads/rail lines.

6.T.4.3 Best Management Practices (BMPs). (See also Part 4.2.7.2) In addition to the other BMPs considered, consider the following: Routing storm water to the treatment works; or covering exposed materials (i.e., from the following areas: Grit, screenings and other solids handling, storage or disposal areas; sludge drying beds; dried sludge piles; compost piles; septage or hauled waste receiving station).

6.T.4.4 Inspections. (See also Part 4.2.7.2.1.5) Include the following areas in all inspections: Access roads/rail lines; grit, screenings and other solids handling, storage or disposal areas; sludge drying beds; dried sludge piles; compost piles; septage or hauled waste receiving station areas.

6.T.4.5 Employee Training. (See also Part 4.2.7.2.1.6) At a minimum, must address the following areas when applicable to a facility: Petroleum product management; process chemical management; spill prevention and controls; fueling procedures; general good housekeeping practices; proper procedures for using fertilizer, herbicides and pesticides.

6.T.4.6 Wastewater and Washwater Requirements. (See also Part 4.4) Attach to your SWPPP a copy of all your current NPDES permits issued for wastewater, industrial, vehicle and equipment washwater discharges or, if an NPDES permit has not yet been issued, a copy of the pending applications. Address any requirements/conditions from the other permits, as appropriate, in the SWPPP. If the washwater is handled in another manner, the disposal method must be described and all pertinent documentation must be attached to the plan.

6.U Sector U—Food and Kindred Products

6.U.1 Covered Storm Water Discharges

The requirements in Part 6.U apply to storm water discharges associated with industrial activity from Food and Kindred Products facilities as identified by the SIC Codes specified in Table 1-1 of Part 1.2.1.

6.U.2 Industrial Activities Covered by Sector U

The types of activities that permittees under Sector U are primarily engaged in are:

6.U.2.1 meat products;

6.U.2.2 dairy products;

6.U.2.3 canned, frozen and preserved fruits, vegetables, and food specialties;

6.U.2.4 grain mill products;

6.U.2.5 bakery products;

6.U.2.6 sugar and confectionery products;

6.U.2.7 fats and oils;

6.U.2.8 beverages;

6.U.2.9 miscellaneous food preparations and kindred products and tobacco products manufacturing.

6.U.3 Limitations on Coverage

Not covered by this permit: Storm water discharges identified under Part 1.2.3 from industrial plant yards, material handling sites; refuse sites; sites used for application or disposal of process wastewaters; sites used for storage and maintenance of material handling equipment; sites used for residential wastewater treatment, storage, or disposal; shipping and receiving areas; manufacturing buildings; and storage areas for raw material and intermediate and finished products. This includes areas where industrial activity has taken place in the past and significant materials remain. “Material handling activities” include the storage, loading/unloading, transportation or conveyance of any raw material, intermediate product, finished product, by-product or waste product.

6.U.3.1 Prohibition of Non-Storm Water Discharges. (See also Part 1.2.2.2) Not authorized by this permit: discharges subject to Part 1.2.2.2 include discharges containing: boiler blowdown, cooling tower overflow and blowdown, ammonia refrigeration purging and vehicle washing/clean-out operations.

6.U.4 Storm Water Pollution Prevention Plan (SWPPP) Requirements

In addition to the following requirements, you must also comply with the requirements listed in Part 4.

6.U.4.1 Drainage Area Site Map. (See also Part 4.2.2.3) Identify the locations of the following activities if they are exposed to precipitation/runoff: Vents/stacks from cooking, drying and similar operations; dry product vacuum transfer lines; animal holding pens; spoiled product; and broken product container storage areas.

6.U.4.2 Potential Pollutant Sources. (See also Part 4.2.4) Describe, in addition to food and kindred products processing-related industrial activities, application and storage of pest control chemicals (e.g., rodenticides, insecticides, fungicides, etc.) used on plant grounds.

6.U.4.3 Inspections. (See also Part 4.2.7.2.1.5) Inspect on a regular basis, at a minimum, the following areas where the potential for exposure to storm water exists: Loading and unloading areas for all significant materials; storage areas including associated containment areas; waste management units; vents and stacks emanating from industrial activities; spoiled product and broken product container holding areas; animal holding pens; staging areas; and air pollution control equipment.

6.U.4.4 Employee Training. (See also Part 4.2.7.2.1.6) Address pest control in the training program.

6.U.5 Monitoring and Reporting Requirements

(See also Part 5)

Table U-1.—Sector-Specific Numeric Effluent Limitations and Benchmark Monitoring
[Part of permit affected/supplemental requirements]
Subsector ¹ | Parameter | Benchmark monitoring cutoff concentration ² | Numeric limitation
Grain Mill Products (SIC 2041-2048) | Total Suspended Solids (TSS) | 100 mg/L. |
Fats and Oils Products (SIC 2074-2079) | Biochemical Oxygen Demand (BOD5) | 30 mg/L. |
| Chemical Oxygen Demand (COD) | 120 mg/L. |
| Nitrate plus Nitrite Nitrogen | 0.68 mg/L. |
| Total Suspended Solids (TSS) | 100 mg/L. |
¹ Discharges may be subject to requirements for more than one Sector/Subsector.
² Monitor once/quarter for the year 2 and year 4 Monitoring Years.

6.V Sector V—Textile Mills, Apparel and Other Fabric Products

6.V.1 Covered Storm Water Discharges

The requirements in Part 6.V apply to storm water discharges associated with industrial activity from Textile Mills, Apparel, and Other Fabric Product Manufacturing as identified by the Activity Code specified under Sector V in Table 1-1 of Part 1.2.1.

6.V.2 Industrial Activities Covered by Sector V

The types of activities that permittees under Sector V are primarily engaged in are:

6.V.2.1 textile mill products, of and regarding facilities and establishments engaged in the preparation of fiber and subsequent manufacturing of yarn, thread, braids, twine, and cordage, the manufacturing of broadwoven fabrics, narrow woven fabrics, knit fabrics, and carpets and rugs from yarn;

6.V.2.2 processes involved in the dyeing and finishing of fibers, yarn fabrics, and knit apparel;

6.V.2.3 the integrated manufacturing of knit apparel and other finished articles of yarn;

6.V.2.4 the manufacturing of felt goods (wool), lace goods, non-woven fabrics, miscellaneous textiles, and other apparel products.

6.V.3 Limitations on Coverage

6.V.3.1 Prohibition of Non-Storm Water Discharges. (See also Part 1.2.3.1) Not authorized by this permit: Discharges of wastewater (e.g., wastewater resulting from wet processing or from any processes relating to the production process); reused/recycled water; and waters used in cooling towers. If you have these types of discharges from your facility, you must cover them under a separate NPDES permit.

6.V.4 Storm Water Pollution Prevention Plan (SWPPP) Requirements

In addition to the following requirements, you must also comply with the requirements listed in Part 4.

6.V.4.1 Potential Pollutant Sources. (See also Part 4.2.4) Describe the following additional sources and activities that have potential pollutants associated with them: Industrial-specific significant materials and industrial activities (e.g., backwinding, beaming, bleaching, backing bonding, carbonizing, carding, cut and sew operations, desizing, drawing, dyeing locking, fulling, knitting, mercerizing, opening, packing, plying, scouring, slashing, spinning, synthetic-felt processing, textile waste processing, tufting, turning, weaving, web forming, winging, yarn spinning, and yarn texturing).

6.V.4.2 Good Housekeeping Measures. (See also Part 4.2.7.2.1.1)

6.V.4.2.1 Material Storage Area. Plainly label and store all containerized materials (e.g., fuels, petroleum products, solvents, dyes, etc.) in a protected area, away from drains. Describe and implement measures that prevent or minimize contamination of the storm water runoff from such storage areas, including a description of the containment area or enclosure for those materials stored outdoors. Also consider an inventory control plan to prevent excessive purchasing of potentially hazardous substances. For storing empty chemical drums/containers, ensure the drums/containers are clean (consider triple-rinsing) and there is no contact of residuals with precipitation/runoff. Collect and dispose of washwater from these cleanings properly.

6.V.4.2.2 Material Handling Area. Describe and implement measures that prevent or minimize contamination of storm water runoff from material handling operations and areas. Consider the following (or their equivalents): Use of spill/overflow protection; covering fueling areas; and covering/enclosing areas where the transfer of material may occur. Where applicable address the replacement or repair of leaking connections, valves, transfer lines and pipes that may carry chemicals, dyes or wastewater.

6.V.4.2.3 Fueling Areas. Describe and implement measures that prevent or minimize contamination of storm water runoff from fueling areas. Consider the following (or their equivalents): Covering the fueling area, using spill and overflow protection, minimizing runon of storm water to the fueling areas, using dry cleanup methods, and treating and/or recycling storm water runoff collected from the fueling area.

6.V.4.2.4 Above Ground Storage Tank Area. Describe and implement measures that prevent or minimize contamination of the storm water runoff from above ground storage tank areas, including the associated piping and valves. Consider the following (or their equivalents): Regular cleanup of these areas; preparation of the spill prevention control and countermeasure program, provide spill and overflow protection; minimizing runoff of storm water from adjacent areas; restricting access to the area; insertion of filters in adjacent catch basins; providing absorbent booms in unbermed fueling areas; using dry cleanup methods; and permanently sealing drains within critical areas that may discharge to a storm drain.

6.V.4.3 Inspections. (See also Part 4.2.7.2.1.5) Inspect, at least on a monthly basis, the following activities and areas (at a minimum): Transfer and transmission lines; spill prevention; good housekeeping practices; management of process waste products; all structural and non structural management practices.

6.V.4.4 Employee Training. (See also Part 4.2.7.2.1.6) As part of your employee training program, address, at a minimum, the following activities (as applicable): use of reused/recycling waters; solvents management; proper disposal of dyes; proper disposal of petroleum products and spent lubricants; spill prevention and control; fueling procedures; and general good housekeeping practices.

6.V.4.5 Comprehensive Site Compliance Evaluation. (See also Part 4.9) Conduct regularly scheduled evaluations at least once a year and address those areas contributing to a storm water discharge associated with industrial activity for evidence of, or the potential for, pollutants entering the drainage system. Inspect, at a minimum, as appropriate: Storage tank areas; waste disposal and storage areas; dumpsters and open containers stored outside; materials storage areas; engine maintenance and repair areas; material handing areas and loading dock areas.

6.W Sector W—Furniture and Fixtures

6.W.1 Covered Storm Water Discharges

The requirements in Part 6.W apply to storm water discharges associated with industrial activity from Furniture and Fixtures facilities as identified by the Activity Code specified under Sector W in Table 1-1 of Part 1.2.1.

6.W.2 Industrial Activities Covered by Sector W

The types of activities that permittees under Sector W are primarily engaged in the manufacturing of:

6.W.2.1 wood kitchen cabinets;

6.W.2.2 household furniture;

6.W.2.3 office furniture;

6.W.2.4 public buildings and related furniture;

6.W.2.5 partitions, shelving, lockers, and office and store fixtures;

6.W.2.6 miscellaneous furniture and fixtures.

6.W.3 Storm Water Pollution Prevention Plan (SWPPP) Requirements

In addition to the following requirements, you must also comply with the requirements listed in Part 4.

6.W.3.1 Drainage Area Site Map. (See also Part 4.2.2.3) Identify where any of the following may be exposed to precipitation/surface runoff: Material storage (including tanks or other vessels used for liquid or waste storage) areas; outdoor material processing areas; areas where wastes are treated, stored or disposed; access roads; and rail spurs.

6.X Sector X—Printing and Publishing

6.X.1 Covered Storm Water Discharges

The requirements in Part 6.X apply to storm water discharges associated with industrial activity from Printing and Publishing facilities as identified by the Activity Code specified under Sector X in Table 1.1 of Part 1.2.1.

6.X.2 Industrial Activities Covered by Sector X

The types of activities that permittees under Sector X are primarily engaged in are:

6.X.2.1 book printing;

6.X.2.2 commercial printing and lithographics;

6.X.2.3 plate making and related services;

6.X.2.4 commercial printing, gravure;

6.X.2.5 commercial printing not elsewhere classified.

6.X.3 Storm Water Pollution Prevention Plan Requirements

In addition to the following requirements, you must also comply with the requirements listed in Part 4.

6.X.3.1 Drainage Area Site Map. (See also Part 4.2.2.3) Identify where any of the following may be exposed to precipitation/surface runoff: Above ground storage tanks, drums and barrel permanently stored outside.

6.X.3.2 Potential Pollutant Sources. (See also Part 4.2.4) Describe the following additional sources and activities that have potential pollutants associated with them, as applicable: Loading and unloading operations; outdoor storage activities; significant dust or particulate generating processes; and onsite waste disposal practices (e.g., blanket wash). Also identify the pollutant or pollutant parameter (e.g., oil and grease, scrap metal, etc.) associated with each pollutant source.

6.X.3.3 Good Housekeeping Measures. (See also Part 4.2.7.2.1.1)

6.X.3.3.1 Material Storage Areas. Plainly label and store all containerized materials (e.g., skids, pallets, solvents, bulk inks, and hazardous waste, empty drums, portable/mobile containers of plant debris, wood crates, steel racks, fuel oil, etc.) in a protected area, away from drains. Describe and implement measures that prevent or minimize contamination of the storm water runoff from such storage areas, including a description of the containment area or enclosure for those materials stored outdoors. Also consider an inventory control plan to prevent excessive purchasing of potentially hazardous substances.

6.X.3.3.2 Material Handling Area. Describe and implement measures that prevent or minimize contamination of storm water runoff from material handling operations and areas (e.g., blanket wash, mixing solvents, loading/unloading materials). Consider the following (or their equivalents): Use of spill/overflow protection; covering fueling areas; and covering/enclosing areas where the transfer of materials may occur. Where applicable address the replacement or repair of leaking connections, valves, transfer lines and pipes that may carry chemicals or wastewater.

6.X.3.3.3 Fueling Areas. Describe and implement measures that prevent or minimize contamination of storm water runoff from fueling areas. Consider the following (or their equivalents): Covering the fueling area, using spill and overflow protection, minimizing runoff of storm water to the fueling areas, using dry cleanup methods, and treating and/or recycling storm water runoff collected from the fueling area.

6.X.3.3.4 Above Ground Storage Tank Area. Describe and implement measures that prevent or minimize contamination of the storm water runoff from above ground storage tank areas, including the associated piping and valves. Consider the following (or their equivalents): Regular cleanup of these areas; preparation of the spill prevention control and countermeasure program, provide spill and overflow protection; minimizing runoff of storm water from adjacent areas; restricting access to the area; insertion of filters in adjacent catch basins; providing absorbent booms in unbermed fueling areas; using dry cleanup methods; and permanently sealing drains within critical areas that may discharge to a storm drain.

6.X.3.4 Employee Training. (See also Part 4.2.7.2.1.6) As part of your employee training program, address, at a minimum, the following activities (as applicable): Spent solvent management; spill prevention and control; used oil management; fueling procedures; and general good housekeeping practices.

6.Y Sector Y—Rubber, Miscellaneous Plastic Products and Miscellaneous Manufacturing Industries

6.Y.1 Covered Storm Water Discharges

The requirements in Part 6.Y apply to storm water discharges associated with industrial activity from Rubber, Miscellaneous Plastic Products and Miscellaneous Manufacturing Industries facilities as identified by the Activity Code specified under Sector Y in Table 1-1 of Part 1.2.1.

6.Y.2 Storm Water Pollution Prevention Plan (SWPPP) Requirements

In addition to the following requirements, you must also comply with the requirements listed in Part 4.

6.Y.2.1 Potential Pollutant Sources. (See also Part 4.2.4) Review the use of zinc at your facility and the possible pathways through which zinc may be discharged in storm water runoff.

6.Y.2.2 Controls for Rubber Manufacturers. (See also Part 4.2.7) Describe and implement specific controls to minimize the discharge of zinc in your storm water discharges. Parts 6.Y.2.2.1 to 6.Y.2.2.5 give possible sources of zinc to be reviewed and list some specific BMPs to be considered for implementation (or their equivalents). Some general BMP options to consider: Using chemicals which are purchased in pre-weighed, sealed polyethylene bags; storing materials which are in use in sealable containers; ensuring an airspace between the container and the cover to minimize “puffing” losses when the container is opened; and using automatic dispensing and weighing equipment.

6.Y.2.2.1 Inadequate Housekeeping. Review the handling and storage of zinc bags at your facility. BMP options: Employee training on the handling/storage of zinc bags; indoor storage of zinc bags; cleanup zinc spills without washing the zinc into the storm drain, and the use of 2,500-pound sacks of zinc rather than 50- to 100-pound sacks;

6.Y.2.2.2 Dumpsters. Reduce discharges of zinc from dumpsters. BMP options: Covering the dumpster; moving the dumpster indoors; or provide a lining for the dumpster.

6.Y.2.2.3 Malfunctioning Dust Collectors or Baghouses. Review dust collectors/baghouses as possible sources in zinc in storm water runoff. Replace or repair, as appropriate, improperly operating dust collectors/baghouses.

6.Y.2.2.4 Grinding Operations. Review dust generation from rubber grinding operations and, as appropriate, install a dust collection system.

6.Y.2.2.5 Zinc Stearate Coating Operations. Detail appropriate measures to prevent or clean up drips/spills of zinc stearate slurry that may be released to the storm drain. BMP option: using alternate compounds to zinc stearate.

6.Y.2.3 Controls for Plastic Products Manufacturers. Describe and implement specific controls to minimize the discharge of plastic resin pellets in your storm water discharges. BMPs to be considered for implementation (or their equivalents): Minimizing spills; cleaning up of spills promptly and thoroughly; sweeping thoroughly; pellet capturing; employee education and disposal precautions.

6.Y.3 Monitoring and Reporting Requirements

(See also Part 5)

Table Y-1.—Sector-Specific Numeric Effluent Limitations and Benchmark Monitoring
[Part of permit affected/supplemental requirements]
Subsector ¹ | Parameter | Benchmark monitoring cutoff concentration ² | Numeric limitation
Tires and Inner Tubes; Rubber Footwear; Gaskets, Packing and Sealing Devices; Rubber Hose and Belting; and Fabricated Rubber Products, Not Elsewhere Classified (SIC 3011-3069, rubber manufacturing only) | Total Recoverable Zinc | 0.117 mg/L. |
¹ Discharges may be subject to requirements for more than one sector/subsector.
² Monitor once/quarter for the year 2 and year 4 Monitoring Years.

6.Z Sector Z—Leather Tanning and Finishing

6.Z.1 Covered Storm Water Discharges

The requirements in Part 6.Z apply to storm water discharges associated with industrial activity from Leather Tanning and Finishing facilities as identified by the Activity Code specified under Sector Z in Table 1-1 of Part 1.2.1.

6.Z.2 Industrial Activities Covered by Sector Z

The types of activities that permittees under Sector Z are primarily engaged are leather tanning, curry and finishing;

6.Z.3 Storm Water Pollution Prevention Plan (SWPPP) Requirements

In addition to the following requirements, you must also comply with the requirements listed in Part 4.

6.Z.3.1 Drainage Area Site Map. (See also Part 4.2.2.3)

Identify where any of the following may be exposed to precipitation/surface runoff: Processing and storage areas of the beamhouse, tanyard, and re-tan wet finishing and dry finishing operations; and haul roads, access roads and rail spurs.

6.Z.3.2 Potential Pollutant Sources. (See also Part 4.2.4)

At a minimum, describe the following additional sources and activities that have potential pollutants associated with them (as appropriate): Temporary or permanent storage of fresh and brine cured hides; extraneous hide substances and hair; leather dust, scraps, trimmings and shavings; chemical drums, bags, containers and above ground tanks; empty chemical containers and bags; spent solvents; floor sweepings/washings; refuse, waste piles and sludge; and significant dust/particulate generating processes (e.g., buffing).

6.Z.3.3 Good Housekeeping Measures. (See also Part 4.2.7.2.1.1)

6.Z.3.3.1 Storage Areas for Raw, Semiprocessed or Finished Tannery Byproducts. Pallets/bales of raw, semiprocessed or finished tannery byproducts (e.g., splits, trimmings, shavings, etc.) should be stored indoors or protected by polyethylene wrapping, tarpaulins, roofed storage, etc. Consider placing materials on an impermeable surface, and enclosing or putting berms (or equivalent measures) around the area to prevent storm water runon/runoff.

6.Z.3.3.2 Material Storage Areas. Label storage containers of all materials (e.g., specific chemicals, hazardous materials, spent solvents, waste materials). Describe and implement measures that prevent/minimize contact with storm water.

6.Z.3.3.3 Buffing and Shaving Areas. Describe and implement measures that prevent or minimize contamination of storm water runoff with leather dust from buffing/shaving areas. Consider dust collection enclosures, preventive inspection/maintenance programs or other appropriate preventive measures.

6.Z.3.3.4 Receiving, Unloading, and Storage Areas. Describe and implement measures that prevent or minimize contamination of storm water runoff from receiving, unloading, and storage areas. If these areas are exposed, consider (or their equivalent): Covering all hides and chemical supplies; diverting drainage to the process sewer; or grade berming/curbing area to prevent runoff of storm water.

6.Z.3.3.5 Outdoor Storage of Contaminated Equipment. Describe and implement measures that prevent or minimize contact of storm water with contaminated equipment. Consider (or their equivalent): Covering equipment; diverting drainage to the process sewer; and cleaning thoroughly prior to storage.

6.Z.3.3.6 Waste Management. Describe and implement measures that prevent or minimize contamination of storm water runoff from waste storage areas. Consider (or their equivalent): Inspection/maintenance programs for leaking containers or spills; covering dumpsters; moving waste management activities indoors; covering waste piles with temporary covering material such as tarpaulins or polyethylene; and minimizing storm water runoff by enclosing the area or building berms around the area.

6.AA Sector AA—Fabricated Metal Products

6.AA.1 Covered Storm Water Discharges

The requirements in Part 6.AA apply to storm water discharges associated with industrial activity from Fabricated Metal Products facilities as identified by the Activity Code specified under Sector AA in Table 1-1 of Part 1.2.1.

6.AA.2 Industrial Activities Covered by Sector AA

The types of activities that permittees under Sector AA are primarily engaged in are:

6.AA.2.1 fabricated metal products; except for electrical related industries;

6.AA.2.2 fabricated metal products; except machinery and transportation equipment;

6.AA.2.3 jewelry, silverware, and plated ware.

6.AA.3 Storm Water Pollution Prevention Plan (SWPPP) Requirements

In addition to the following requirements, you must also comply with the requirements listed in Part 4.

6.AA.3.1 Drainage Area Site Map. (See also Part 4.2.2.3) Identify where any of the following may be exposed to precipitation/surface runoff: Raw metal storage areas; finished metal storage areas; scrap disposal collection sites; equipment storage areas; retention and detention basins; temporary/permanent diversion dikes or berms; right-of-way or perimeter diversion devices; sediment traps/barriers; processing areas including outside painting areas; wood preparation; recycling; and raw material storage.

6.AA.3.2 Spills and Leaks. (See also Part 4.2.5) When listing significant spills/leaks, pay attention to the following materials at a minimum: Chromium, toluene, pickle liquor, sulfuric acid, zinc and other water priority chemicals and hazardous chemicals and wastes.

6.AA.3.3 Potential Pollutant Sources. (See also Part 4.2.4) Describe the following additional sources and activities that have potential pollutants associated with them: Loading and unloading operations for paints, chemicals and raw materials; outdoor storage activities for raw materials, paints, empty containers, corn cob, chemicals, and scrap metals; outdoor manufacturing or processing activities such as grinding, cutting, degreasing, buffing, brazing, etc; onsite waste disposal practices for spent solvents, sludge, pickling baths, shavings, ingots pieces, refuse and waste piles.

6.AA.3.4 Good Housekeeping Measures. (See also Part 4.2.7.2.1.1)

6.AA.3.4.1 Raw Steel Handling Storage. Describe and implement measures controlling or recovering scrap metals, fines and iron dust. Include measures for containing materials within storage handling areas.

6.AA.3.4.2 Paints and Painting Equipment. Describe and implement measures to prevent or minimize exposure of paint and painting equipment to storm water.

6.AA.3.5 Spill Prevention and Response Procedures. (See also Part 4.2.7.2.1.4) Ensure the necessary equipment to implement a clean up is available to personnel. The following areas should be addressed:

6.AA.3.5.1 Metal Fabricating Areas. Describe and implement measures for maintaining clean, dry, orderly conditions in these areas. Consider the use of dry clean-up techniques.

6.AA.3.5.2 Storage Areas for Raw Metal. Describe and implement measures to keep these areas free of condition that could cause spills or leakage of materials. Consider the following (or their equivalents): Maintaining storage areas such that there is easy access in the event of a spill; and labeling stored materials to aid in identifying spill contents.

6.AA.3.5.3 Receiving, Unloading, and Storage Areas. Describe and implement measures to prevent spills and leaks; plan for quick remedial clean up; and instruct employees on clean-up techniques and procedures.

6.AA.3.5.4 Storage of Equipment. Describe and implement measures for preparing equipment for storage and the proper storage of equipment. Consider the following (or their equivalents): Protecting with covers; storing indoors; and cleaning potential pollutants from equipment to be stored outdoors.

6.AA.3.5.5 Metal Working Fluid Storage Areas. Describe and implement measures for storage of metal working fluids.

6.AA.3.5.6 Cleaners and Rinse Water. Describe and implement measures: To control/cleanup spills of solvents and other liquid cleaners; control sand buildup and disbursement from sand-blasting operations; and prevent exposure of recyclable wastes. Substitute environmentally-benign cleaners when possible.

6.AA.3.5.7 Lubricating Oil and Hydraulic Fluid Operations. Consider using monitoring equipment or other devices to detect and control leaks/overflows. Consider installing perimeter controls such as dikes, curbs, grass filter strips or other equivalent measures.

6.AA.3.5.8 Chemical Storage Areas. Describe and implement proper storage methods that prevent storm water contamination and accidental spillage. Include a program to inspect containers and identify proper disposal methods.

6.AA.3.6 Inspections. (See also Part 4.2.7.2.1.5) Include, at a minimum, the following areas in all inspections: Raw metal storage areas; finished product storage areas; material and chemical storage areas; recycling areas; loading and unloading areas; equipment storage areas; paint areas; vehicle fueling and maintenance areas.

6.AA.3.7 Comprehensive Site Compliance Evaluation. (See also Part 4.9.2) As part of your evaluation, also inspect: Areas associated with the storage of raw metals; storage of spent solvents and chemicals; outdoor paint areas; and drainage from roof. Potential pollutants include chromium, zinc, lubricating oil, solvents, aluminum, oil and grease, methyl ethyl ketone, steel and other related materials.

6.AA.4 Monitoring and Reporting Requirements

(See also Part 5)

Table AA-1.—Sector-Specific Numeric Limitations and Benchmark Monitoring
[Part of permit affected/supplemental requirements]
Subsector ¹ | Parameter | Benchmark monitoring cutoff concentration ² | Numeric limitation
Fabricated Metal Products Except Coating (SIC 3411-3471, 3482-3499, 3911-3915) | Total Recoverable Aluminum | 0.75 mg/L. |
| Total Recoverable Iron | 1.0 mg/L. |
| Total Recoverable Zinc | 0.117 mg/L. |
| Nitrate plus Nitrite Nitrogen | 0.68 mg/L. |
Fabricated Metal Coating and Engraving (SIC 3479) | Total Recoverable Zinc | 0.117 mg/L. |
| Nitrate plus Nitrite Nitrogen | 0.068 mg/L. |
¹ Discharges may be subject to requirements for more than one sector/subsector.
² Monitor once/quarter for the year 2 and year 4 Monitoring Years.

6.AB Sector AB—Transportation Equipment, Industrial or Commercial Machinery

6.AB.1 Covered Storm Water Discharges

The requirements in Part 6.AB apply to storm water discharges associated with industrial activity from Transportation Equipment, Industrial or Commercial Machinery facilities as identified by the Activity Code specified under Sector AB in Table 1-1 of Part 1.2.1.

6.AB.2 Industrial Activities Covered by Sector AB

The types of activities that permittees under Sector AB are primarily engaged in are:

6.AB.2.1 industrial plant yards;

6.AB.2.2 material handling sites;

6.AB.2.3 refuse sites;

6.AB.2.4 sites used for application or disposal of process wastewaters;

6.AB.2.5 sites used for storage and maintenance of material handling equipment;

6.AB.2.6 sites used for residual treatment, storage, or disposal;

6.AB.2.7 shipping and receiving areas;

6.AB.2.8 manufacturing buildings;

6.AB.2.9 storage areas for raw material and intermediate and finished products;

6.AB.2.1 areas where industrial activity has taken place in the past and significant materials remain and are exposed to storm water.

6.AB.3 Storm Water Pollution Plan (SWPPP) Requirements

In addition to the following requirements, you must also comply with the requirements listed in Part 4.

6.AB.3.1 Drainage Area Site Map. (See also Part 4.2.2.3) Identify where any of the following may be exposed to precipitation/surface runoff: Vents and stacks from metal processing and similar operations.

6.AB.3.2 Non-Storm Water Discharges. (See also Part 4.4) If your facility has a separate NPDES permit (or has applied for a permit) authorizing discharges of wastewater, attach a copy of the permit (or the application) to your SWPPP. Any new wastewater permits issued/reissued to you must then replace the old one in your SWPPP. If you discharge wastewater, other than solely domestic wastewater, to a Publicly Owned Treatment Works (POTW), you must notify the POTW of the discharge (identify the types of wastewater discharged, including any storm water). As proof of this notification, attach to your SWPPP a copy of the permit issued to your facility by the POTW or a copy of your notification to the POTW.

6.AC Sector AC—Electronic, Electrical Equipment and Components, Photographic and Optical Goods

6.AC.1 Covered Storm Water Discharges

The requirements in Part 6.AC apply to storm water discharges associated with industrial activity from facilities that manufacture Electronic, Electrical Equipment and Components, Photographic and Optical Goods as identified by the SIC Codes specified in Table 1-1 of Part 1.2.1.

6.AC.2 Industrial Activities Covered by Sector AC

The types of manufacturing activities that permittees under Sector AC are primarily engaged in are:

6.AC.2.1 measuring, analyzing, and controlling instruments;

6.AC.2.2 photographic, medical and optical goods;

6.AC.2.3 watches and clocks; and

6.AC.2.4 computer and office equipment.

6.AC.3 Additional Requirements

No additional sector-specific requirements apply to this sector.

6.AD Storm Water Discharges Designated By the Director As Requiring Permits

6.AD.1 Covered Storm Water Discharges

Sector AD is used to provide permit coverage for facilities designated by the Director as needing a storm water permit, or any discharges of industrial activity that do not meet the description of an industrial activity covered by Sectors A-AC. Therefore, almost any type of storm water discharge could be covered under this sector. You must be assigned to Sector AD by the Director and may NOT choose sector AD as the sector describing your activities on your own.

6.AD.1.1 Eligibility for Permit Coverage. Because this Sector only covers discharges designated by the Director as needing a storm water permit (which is an atypical circumstance) or your facility's industrial activities were inadvertently left out of Sectors A-AC, and your facility may or may not normally be discharging storm water associated with industrial activity, you must obtain the Director's written permission to use this permit prior to submitting a Notice of Intent. If you are authorized to use this permit, you will be required to ensure your discharges meet the basic eligibility provisions of this permit at Part 1.2.

6.AD.4 Storm Water Pollution Prevention Plan (SWPPP) Requirements

The Director will establish any additional storm water pollution prevention plan requirements for your facility at the time of accepting your Notice of Intent to be covered by this permit. Additional requirements would be based on the nature of activities at your facility and your storm water discharges.

6.AD.5 Monitoring and Reporting Requirements

The Director will establish any additional monitoring and reporting requirements for your facility at the time of accepting your Notice of Intent to be covered by this permit. Additional requirements would be based on the nature of activities at your facility and your storm water discharges.

7. Reporting

7.1 Reporting Results of Monitoring

Depending on the types of monitoring required for your facility, you may have to submit the results of your monitoring or you may only have to keep the results with your pollution prevention plan. You must follow the reporting requirements and deadlines in Table 7-1 that apply to the types of monitoring that apply to your facility.

If required, you must submit analytical monitoring results obtained from each outfall associated with industrial activity (or a certification as per 5.3.1) on a Discharge Monitoring Report (DMR) form (one form must be submitted for each storm event sampled). An example of a form is found in the Guidance Manual for the Monitoring and Reporting Requirements of the NPDES Storm Water Multi-Sector General Permit. A copy of the DMR is also available on the Internet at www.epa.gov/owm/sw/permits-and-forms/index.htm The signed DMR must be sent to: MSGP DMR (4203), US EPA, 401 M Street, SW, Washington, DC 20460.

Note: If EPA notifies dischargers (either directly, by public notice or by making information available on the Internet) of other DMR form options that become available at a later date (e.g., electronic submission of forms), you may take advantage of those options to satisfy the DMR use and submission requirements of Part 7.

Table 7-1.—DMR/Alternative Certification Submission Deadlines
Type of monitoring | Reporting deadline (postmark)
Monitoring for numeric limitations | Submit results by the 28th day of the month following the monitoring period.
Benchmark monitoring:
Monitoring year 2001-2002 | Save and submit all results for year in one package by January 28, 2003.
Monitoring year 2003-2004 | Save and submit all results for year in one package by January 28, 2005.
Biannual monitoring for metal mining facilities (see Part 6.G) | Save and submit all results for year in one package by January 28 of the year following the monitoring year.
Visual monitoring | Retain results with SWPPP—do not submit unless requested to do so by permitting authority.
State/Tribal/Territory-specific monitoring | See Part 13 (conditions for specific States, indian country, and territories).

7.2 Additional Reporting for Dischargers to a Large or Medium Municipal Separate Storm Sewer System

If you discharge storm water discharge associated with industrial activity through a large or medium municipal separate storm sewer system (systems serving a population of 100,000 or more), you must also submit signed copies of your discharge monitoring reports to the operator of the municipal separate storm sewer system in accordance with the dates provided in Table 7-1.

7.3 Miscellaneous Reports

You must submit any other reports required by this permit to the Director of the NPDES program at the address of the appropriate Regional Office listed in Part 8.3.

8. Retention of Records

8.1 Documents

You must retain copies of storm water pollution prevention plans and all reports required by this permit, and records of all data used to complete the Notice of Intent to be covered by this permit, for a period of at least three years from the date that the facility's coverage under this permit expires or is terminated. This period may be extended by request of the Director at any time.

8.2 Accessibility

You must retain a copy of the storm water pollution prevention plan required by this permit (including a copy of the permit language) at the facility (or other local location accessible to the Director, a State, Tribal or Territorial agency with jurisdiction over water quality protection; local government officials; or the operator of a municipal separate storm sewer receiving discharges from the site) from the date of permit coverage to the date of permit coverage ceases.

8.3 Addresses

Except for the submittal of NOIs and NOTs (see Parts 2.1 and 11.2, respectively), all written correspondence concerning discharges in any State, Indian Country land, Territory, or from any Federal facility covered under this permit and directed to the EPA, including the submittal of individual permit applications, must be sent to the address of the appropriate EPA Regional Office listed below:

8.3.1 Region 1: CT, MA, ME, NH, RI, VT

EPA Region 1, Office of Ecosystem Protection, One Congress Street—CMU, Boston, MA 02114.

8.3.2 Region 2: NJ, NY, PR, VI

United States EPA, Region 2, Caribbean Environmental Protection Division, Environmental Management Branch, Centro Europa Building, 1492 Ponce de Leon Ave., Suite 417, San Juan, PR 00907-4127.

8.3.3 Region 3: DE, DC, MD, PA, VA, WV

EPA Region 3, Water Protection Division (3WP13), Storm Water Coordinator, 1650 Arch Street, Philadelphia, PA 19103.

8.3.4 Region 4: AL, FL, GA, KY, MS, NC, SC, TN

Environmental Protection Agency, Region 4, Clean Water Act Enforcement Section, Water Programs Enforcement Branch, Water Management Division, Atlanta Federal Center, 61 Forsyth Street, SW, Atlanta, GA 30303.

8.3.5 Region 5: IL, IN, MI, MN, OH, WI (Coverage Not Available Under this Permit)

8.3.6 Region 6: AR, LA, OK, TX, NM (except see Region 9 for Navajo lands, and see Region 8 for Ute Mountain Reservation lands)

United States EPA, Region 6, Storm Water Staff, Enforcement and Compliance Assurance Division (GEN-WC), EPA SW Construction GP, P.O. Box 50625, Dallas, TX 75205.

8.3.7 Region 7: (Coverage Not Available Under this Permit)

8.3.8 Region 8: CO, MT, ND, SD, WY, UT (except see Region 9 for Goshute Reservation and Navajo Reservation lands), the Ute Mountain Reservation in NM, and the Pine Ridge Reservation in NE

United States EPA, Region 8, Ecosystems Protection Program (8EPR-EP), Storm Water Staff, 999 18th Street, Suite 500, Denver, CO 80202-2466.

8.3.9 Region 9: AZ, CA, HI, NV, Guam, American Samoa, the Commonwealth of the Northern Mariana Islands, the Goshute Reservation in UT and NV, the Navajo Reservation in UT, NM, and AZ, the Duck Valley Reservation in ID, Fort McDermitt Reservation in OR

United States EPA, Region 9, Water Management Division, WTR-5, Storm Water Staff, 75 Hawthorne Street, San Francisco, CA 94105.

8.3.10 Region 10: AK, WA, ID (except see Region 9 for Duck Valley Reservation lands), OR (except see Region 9 for Fort McDermitt Reservation)

United States EPA, Region 10, Office of Water OW-130, Storm Water Staff, 1200 6th Avenue, Seattle, WA 98101.

8.4 State, Tribal, and Other Agencies

The following addresses are provided for convenience and to accommodate any special reporting requirements under Part 13 of the Permit.

Reserved

9. Standard Permit Conditions

9.1 Duty To Comply

9.1.1 You must comply with all conditions of this permit. Any permit noncompliance constitutes a violation of CWA and is grounds for enforcement action; for permit termination, revocation and reissuance, or modification; or for denial of a permit renewal application.

9.1.2 Penalties for Violations of Permit Conditions: The Director will adjust the civil and administrative penalties listed below in accordance with the Civil Monetary Penalty Inflation Adjustment Rule (Federal Register: December 31, 1996, Volume 61, Number 252, pages 69359-69366, as corrected, March 20, 1997, Volume 62, Number 54, pages 13514-13517) as mandated by the Debt Collection Improvement Act of 1996 for inflation on a periodic basis. This rule allows EPA's penalties to keep pace with inflation. The Agency is required to review its penalties at least once every four years thereafter and to adjust them as necessary for inflation according to a specified formula. The civil and administrative penalties listed below were adjusted for inflation starting in 1996.

9.1.2.1 Criminal Penalties

9.1.2.1.1 Negligent Violations.

The CWA provides that any person who negligently violates permit conditions implementing sections 301, 302, 306, 307, 308, 318, or 405 of the Act is subject to a fine of not less than $2,500 nor more than $25,000 per day of violation, or by imprisonment for not more than 1 year, or both.

9.1.2.1.2 Knowing Violations.

The CWA provides that any person who knowingly violates permit conditions implementing sections 301, 302, 306, 307, 308, 318, or 405 of the Act is subject to a fine of not less than $5,000 nor more than $50,000 per day of violation, or by imprisonment for not more than 3 years, or both.

9.1.2.1.3 Knowing Endangerment.

The CWA provides that any person who knowingly violates permit conditions implementing sections 301, 302, 306, 307, 308, 318, or 405 of the Act and who knows at that time that he is placing another person in imminent danger of death or serious bodily injury is subject to a fine of not more than $250,000, or by imprisonment for not more than 15 years, or both.

9.1.2.1.4 False Statement.

The CWA provides that any person who knowingly makes any false material statement, representation, or certification in any application, record, report, plan, or other document filed or required to be maintained under the Act or who knowingly falsifies, tampers with, or renders inaccurate, any monitoring device or method required to be maintained under the Act, shall upon conviction, be punished by a fine of not more than $10,000 or by imprisonment for not more than two years, or by both. If a conviction is for a violation committed after a first conviction of such person under this paragraph, punishment shall be by a fine of not more than $20,000 per day of violation, or by imprisonment of not more than four years, or by both. (See section 309(c)(4) of the Clean Water Act).

9.1.2.2 Civil Penalties

The CWA provides that any person who violates a permit condition implementing sections 301, 302, 306, 307, 308, 318, or 405 of the Act is subject to a civil penalty not to exceed $27,500 per day for each violation.

9.1.2.3 Administrative Penalties

The CWA provides that any person who violates a permit condition implementing sections 301, 302, 306, 307, 308, 318, or 405 of the Act is subject to an administrative penalty, as follows:

9.1.2.3.1 Class I Penalty.

Not to exceed $11,000 per violation nor shall the maximum amount exceed $27,500.

9.1.2.3.2 Class II Penalty.

Not to exceed $11,000 per day for each day during which the violation continues nor shall the maximum amount exceed $137,500.

9.2 Continuation of the Expired General Permit

If this permit is not reissued or replaced prior to the expiration date, it will be administratively continued in accordance with the Administrative Procedures Act and remain in force and effect. Any permittee who was granted permit coverage prior to the expiration date will automatically remain covered by the continued permit until the earlier of:

9.2.1 Reissuance or replacement of this permit, at which time you must comply with the Notice of Intent conditions of the new permit to maintain authorization to discharge; or

9.2.2 your submittal of a Notice of Termination; or

9.2.3 issuance of an individual permit for your discharges; or

9.2.4 a formal permit decision by the Director not to reissue this general permit, at which time you must seek coverage under an alternative general permit or an individual permit.

9.3 Need To Halt or Reduce Activity Not a Defense

It shall not be a defense for a permittee in an enforcement action that it would have been necessary to halt or reduce the permitted activity in order to maintain compliance with the conditions of this permit.

9.4 Duty To Mitigate

You must take all reasonable steps to minimize or prevent any discharge in violation of this permit which has a reasonable likelihood of adversely affecting human health or the environment.

9.5 Duty To Provide Information

You must furnish to the Director or an authorized representative of the Director any information which is requested to determine compliance with this permit or other information.

9.6 Other Information

When you becomes aware that he or she failed to submit any relevant facts or submitted incorrect information in the Notice of Intent or in any other report to the Director, he or she must promptly submit such facts or information.

9.7 Signatory Requirements

All Notices of Intent, Notices of Termination, storm water pollution prevention plans, reports, certifications or information either submitted to the Director or the operator of a large or medium municipal separate storm sewer system, or that this permit requires be maintained by you, must be signed as follows:

9.7.1 All Notices of Intent and Notices of Termination must be signed as follows:

9.7.1.1 for a corporation: By a responsible corporate officer. For the purpose of this section, a responsible corporate officer means: A president, secretary, treasurer, or vice-president of the corporation in charge of a principal business function, or any other person who performs similar policy or decision-making functions for the corporation; or the manager of one or more manufacturing, production or operating facilities employing more than 250 persons or having gross annual sales or expenditures exceeding $25,000,000 (in second-quarter 1980 dollars) if authority to sign documents has been assigned or delegated to the manager in accordance with corporate procedures;

9.7.1.2 for a partnership or sole proprietorship: By a general partner or the proprietor, respectively; or

9.7.1.3 for a municipality, State, Federal, or other public agency: By either a principal executive officer or ranking elected official. For purposes of this section, a principal executive officer of a Federal agency includes (1) the chief executive officer of the agency, or (2) a senior executive officer having responsibility for the overall operations of a principal geographic unit of the agency (e.g., Regional Administrators of EPA).

9.7.2 All reports required by this permit and other information must be signed as follows:

9.7.2.1 all reports required by this permit and other information requested by the Director or authorized representative of the Director must be signed by a person described in Part 9.7.1 or by a duly authorized representative of that person.

9.7.2.2 A person is a duly authorized representative only if the authorization is made in writing by a person described Part 9.7.1 and submitted to the Director.

9.7.2.3 The authorization must specify either an individual or a position having responsibility for the overall operation of the regulated facility or activity, such as the position of manager, operator, superintendent, or position of equivalent responsibility or an individual or position having overall responsibility for environmental matters for the company. (A duly authorized representative may thus be either a named individual or any individual occupying a named position).

9.7.3 Changes to Authorization

If the information on the NOI filed for permit coverage is no longer accurate because a different operator has responsibility for the overall operation of the facility, a new Notice of Intent satisfying the requirements of Part 2 must be submitted to the Director prior to or together with any reports, information, or applications to be signed by an authorized representative. The change in authorization must be submitted within the time frame specified in Part 2.1, and sent to the address specified in Part 2.4.

9.7.4 Certification

Any person signing documents under Part 9.7 must make the following certification:

“I certify under penalty of law that this document and all attachments were prepared under my direction or supervision in accordance with a system designed to assure that qualified personnel properly gathered and evaluated the information submitted. Based on my inquiry of the person or persons who manage the system, or those persons directly responsible for gathering the information, the information submitted is, to the best of my knowledge and belief, true, accurate, and complete. I am aware that there are significant penalties for submitting false information, including the possibility of fine and imprisonment for knowing violations.”

9.8 Penalties for Falsification of Reports

Section 309(c)(4) of the Clean Water Act provides that any person who knowingly makes any false material statement, representation, or certification in any record or other document submitted or required to be maintained under this permit, including reports of compliance or noncompliance shall, upon conviction, be punished by a fine of not more than $10,000, or by imprisonment for not more than two years, or by both.

9.9 Oil and Hazardous Substance Liability

Nothing in this permit shall be construed to preclude the institution of any legal action or relieve you from any responsibilities, liabilities, or penalties to which you are or may be subject under section 311 of the CWA or section 106 of the Comprehensive Environmental Response, Compensation and Liability Act of 1980 (CERCLA).

9.10 Property Rights

The issuance of this permit does not convey any property rights of any sort, nor any exclusive privileges, nor does it authorize any injury to private property nor any invasion of personal rights, nor any infringement of Federal, State or local laws or regulations.

9.11 Severability

The provisions of this permit are severable, and if any provision of this permit, or the application of any provision of this permit to any circumstance, is held invalid, the application of such provision to other circumstances, and the remainder of this permit shall not be affected thereby.

9.12 Requiring Coverage Under an Individual Permit or an Alternative General Permit

9.12.1 Eligibility for this permit does not confer a vested right to coverage under the permit. The Director may require any person authorized by this permit to apply for and/or obtain either an individual NPDES permit or an alternative NPDES general permit. Any interested person may petition the Director to take action under this paragraph. Where the Director requires a permittee authorized to discharge under this permit to apply for an individual NPDES permit, the Director will notify you in writing that a permit application is required. This notification will include a brief statement of the reasons for this decision, an application form, a statement setting a deadline for you to file the application, and a statement that on the effective date of issuance or denial of the individual NPDES permit or the alternative general permit as it applies to the individual permittee, coverage under this general permit will automatically terminate. Applications must be submitted to the appropriate Regional Office indicated in Part 8.3 of this permit. The Director may grant additional time to submit the application upon request of the applicant. If a permittee fails to submit in a timely manner an individual NPDES permit application as required by the Director under this paragraph, then the applicability of this permit to the individual NPDES permittee is automatically terminated at the end of the day specified by the Director for application submittal.

9.12.2 Any permittee authorized by this permit may request to be excluded from the coverage of this permit by applying for an individual permit. In such cases, you must submit an individual application in accordance with the requirements of 40 CFR 122.26(c)(1)(ii), with reasons supporting the request, to the Director at the address for the appropriate Regional Office indicated in Part 8.3 of this permit. The request may be granted by issuance of any individual permit or an alternative general permit if the reasons cited by you are adequate to support the request.

9.12.3 When an individual NPDES permit is issued to a permittee otherwise subject to this permit, or the permittee is authorized to discharge under an alternative NPDES general permit, the applicability of this permit to the individual NPDES permittee is automatically terminated on the effective date of the individual permit or the date of authorization of coverage under the alternative general permit, whichever the case may be. When an individual NPDES permit is denied to an owner or operator otherwise subject to this permit, or the owner or operator is denied for coverage under an alternative NPDES general permit, the applicability of this permit to the individual NPDES permittee is automatically terminated on the date of such denial, unless otherwise specified by the Director.

9.12.4 The Director's notification that coverage under an alternative permit is required does not imply that any discharge that did not or does not meet the eligibility requirements of Part 1.2 is or has been covered by this permit.

9.13 State/Tribal Environmental Laws

9.13.1 Nothing in this permit will be construed to preclude the institution of any legal action or relieve you from any responsibilities, liabilities, or penalties established pursuant to any applicable State/Tribal law or regulation under authority preserved by section 510 of the Act.

9.13.2 No condition of this permit releases you from any responsibility or requirements under other environmental statutes or regulations.

9.14 Proper Operation and Maintenance

You must at all times properly operate and maintain all facilities and systems of treatment and control (and related appurtenances) which are installed or used by you to achieve compliance with the conditions of this permit and with the requirements of storm water pollution prevention plans. Proper operation and maintenance also includes adequate laboratory controls and appropriate quality assurance procedures. Proper operation and maintenance requires the operation of backup or auxiliary facilities or similar systems, installed by a permittee only when necessary to achieve compliance with the conditions of this permit.

9.15 Inspection and Entry

You must allow the Director or an authorized representative of EPA, the State/Tribe, or, in the case of a construction site which discharges through a municipal separate storm sewer, an authorized representative of the municipal owner/operator or the separate storm sewer receiving the discharge, upon the presentation of credentials and other documents as may be required by law, to:

9.15.1 Enter upon the your premises where a regulated facility or activity is located or conducted or where records must be kept under the conditions of this permit;

9.15.2 Have access to and copy at reasonable times, any records that must be kept under the conditions of this permit; and

9.15.3 Inspect at reasonable times any facilities or equipment (including monitoring and control equipment).

9.16 Monitoring and Records

9.16.1 Representative Samples/Measurements

Samples and measurements taken for the purpose of monitoring must be representative of the monitored activity.

9.16.2 Retention of Records

9.16.2.1 You must retain records of all monitoring information, copies of all reports required by this permit, and records of all data used to complete the application of this permit for a period of at least three (3) years from the date of sample, measurement, evaluation or inspection, report, or application. This period may be extended by request of the Director at any time. Permittees must submit any such records to the Director upon request.

9.16.2.2 You must retain the pollution prevention plan developed in accordance with Part 4 of this permit until a date 3 years after the last modification or amendment is made to the plan, and at least 1 year after coverage under this permit terminates.

9.16.3 Records Contents. Records of monitoring information must include:

9.16.3.1 The date, exact place, and time of sampling or measurements;

9.16.3.2 The initials or name(s) of the individual(s) who performed the sampling or measurements;

9.16.3.3 The date(s) analyses were performed;

9.16.3.4 The time(s) analyses were initiated;

9.16.3.5 The initials or name(s) of the individual(s) who performed the analyses;

9.16.3.6 References and written procedures, when available, for the analytical techniques or methods used; and

9.16.3.7 The results of such analyses, including the bench sheets, instrument readouts, computer disks or tapes, etc., used to determine these results.

9.16.4 Approved Monitoring Methods

Monitoring must be conducted according to test procedures approved under 40 CFR Part 136, unless other test procedures have been specified in this permit.

9.17 Permit Actions

This permit may be modified; revoked and reissued; or terminated for cause. Your filing of a request for a permit modification; revocation and reissuance; or your submittal of a notification of planned changes or anticipated non-compliance also does not stay any permit condition

10. Reopener Clause

10.1 Water Quality Protection

If there is evidence indicating that the storm water discharges authorized by this permit cause, have the reasonable potential to cause, or contribute to a violation of a water quality standard, you may be required to obtain an individual permit or an alternative general permit in accordance with Part 3.3 of this permit, or the permit may be modified to include different limitations and/or requirements.

10.2 Procedures for Modification or Revocation

Permit modification or revocation will be conducted according to 40 CFR 122.62, 122.63, 122.64 and 124.5.

11. Transfer or Termination of Coverage

11.1 Transfer of Permit Coverage

Automatic transfers of permit coverage under 40 CFR 122.61(b) are not allowed for this general permit.

11.1.1 Transfer of coverage from one operator to a different operator (e.g., facility sold to a new company): The new owner/operator must complete and file an NOI in accordance with Part 1.3 at least 2 days prior to taking over operational control of the facility. The old owner/operator may file an NOT (Notice of Termination) following acceptance of operational control by the new owner/operator.

11.1.2 Simple name changes of the permittee (e.g., Company “A” changes name to “ABC, Inc.” or Company “B” buys out Company “A”) may be done by filing an amended NOI referencing the facility's assigned permit number and requesting a simple name change.

11.2 Notice of Termination (NOT)

You must submit a completed Notice of Termination (NOT) that is signed in accordance with Part 9.7 when one or more of the conditions contained in Part 1.4 (Terminating Coverage) have been met. The NOT form found in Addendum E will be used unless it has been replaced by a revised version by the Director. The Notice of Termination must include the following information:

11.2.1 The NPDES permit number for the storm water discharge identified by the Notice of Termination;

11.2.2 An indication of whether the storm water discharges associated with industrial activity have been eliminated (i.e., regulated discharges of storm water are being terminated); you are no longer an operator of the facility; or you have obtained coverage under an alternative permit;

11.2.3 The name, address and telephone number of the permittee submitting the Notice of Termination;

11.2.4 The name and the street address (or a description of location if no street address is available) of the facility for which the notification is submitted;

11.2.5 The latitude and longitude of the facility; and

11.2.6 The following certification, signed in accordance with Part 9.7 (signatory requirements) of this permit. For facilities with more than one permittee and/or operator, you need only make this certification for those portions of the facility where the you were authorized under this permit and not for areas where the you were not an operator:

“I certify under penalty of law that all storm water discharges associated with industrial activity from the identified facility that authorized by a general permit have been eliminated or that I am no longer the operator of the facility or construction site. I understand that by submitting this notice of termination, I am no longer authorized to discharge storm water associated with industrial activity under this general permit, and that discharging pollutants in storm water associated with industrial activity to waters of the United States is unlawful under the Clean Water Act where the discharge is not authorized by a NPDES permit. I also understand that the submittal of this Notice of Termination does not release an operator from liability for any violations of this permit or the Clean Water Act.”

11.3 Addresses

All Notices of Termination must be submitted using the form provided by the Director (or a photocopy thereof) to the address specified on the NOT form.

11.4 Facilities Eligible for “No Exposure” Exemption for Storm Water Permitting

By filing a certification of “No Exposure” under 40 CFR 122.26(g), you are automatically removed from permit coverage and a NOT to terminate permit coverage is not required.

12. Definitions

“Best Management Practices” (“BMPs”) means schedules of activities, prohibitions of practices, maintenance procedures, and other management practices to prevent or reduce the discharge of pollutants to waters of the United States. BMPs also include treatment requirements, operating procedures, and practices to control plant site runoff, spillage or leaks, sludge or waste disposal, or drainage from raw material storage.

“Control Measure” as used in this permit, refers to any Best Management Practice or other method used to prevent or reduce the discharge of pollutants to waters of the United States.

“Commencement of Construction” the initial disturbance of soils associated with clearing, grading, or excavating activities or other construction activities.

“CWA” means the Clean Water Act or the Federal Water Pollution Control Act, 33 U.S.C. 1251 et seq.

“Director” means the Regional Administrator of the Environmental Protection Agency or an authorized representative.

“Discharge” when used without qualification means the “discharge of a pollutant.”

“Discharge of Storm Water Associated with Construction Activity” as used in this permit, refers to a discharge of pollutants in storm water runoff from areas where soil disturbing activities (e.g., clearing, grading, or excavation), construction materials or equipment storage or maintenance (e.g., fill piles, borrow areas, concrete truck washout, fueling), or other industrial storm water directly related to the construction process (e.g., concrete or asphalt batch plants) are located. (See 40 CFR 122.26(b)(14)(x) and 40 CFR 122.26(b)(15) for the two regulatory definitions on regulated storm water associated with construction sites)

“Discharge of Storm Water Associated with Industrial Activity” is defined at 40 CFR 122.26(b)(14).

“Facility or Activity” means any NPDES “point source” or any other facility or activity (including land or appurtenances thereto) that is subject to regulation under the NPDES program.

“Flow-Weighted Composite Sample” means a composite sample consisting of a mixture of aliquots collected at a constant time interval, where the volume of each aliquot is proportional to the flow rate of the discharge.

“Industrial Activity” as used in this permit refers to the eleven categories of industrial activities included in the definition of “discharges of storm water associated with industrial activity”.

“Industrial Storm Water” as used in this permit refers to storm water runoff associated with the definition of “discharges of storm water associated with industrial activity”.

“Large and Medium Municipal Separate Storm Sewer System”—means all municipal separate storm sewers that are either:

1. Located in an incorporated place (city) with a population of 100,000 or more as determined by the latest Decennial Census by the Bureau of Census (these cities are listed in Appendices F and G of 40 CFR part 122); or

2. Located in the counties with unincorporated urbanized populations of 100,000 or more, except municipal separate storm sewers that are located in the incorporated places, townships or towns within such counties (these counties are listed in Appendices H and I of 40 CFR part 122); or

3. Owned or operated by a municipality other than those described in paragraph (i) or (ii) and that are designated by the Director as part of the large or medium municipal separate storm sewer system.

“Municipal Separate Storm Sewer” is defined at 40 CFR 122.26.

“No exposure” means that all industrial materials or activities are protected by a storm resistant shelter to prevent exposure to rain, snow, snowmelt and/or runoff.

“NOI” means Notice of Intent to be covered by this permit (see Part 2 of this permit.)

“NOT” means Notice of Termination (see Part 11.2 of this permit).

“Owner or operator” means the owner or operator of any “facility or activity” subject to regulation under the NPDES program.

“Point source” means any discernible, confined, and discrete conveyance, including but not limited to, any pipe, ditch, channel, tunnel, conduit, well, discrete fissure, container, rolling stock, concentrated animal feeding operation, landfill leachate collection system, vessel or other floating craft from which pollutants are or may be discharged. This term does not include return flows from irrigated agriculture or agricultural storm water runoff.

“Pollutant” is defined at 40 CFR 122.2. A partial listing from this definition includes: Dredged spoil, solid waste, sewage, garbage, sewage sludge, chemical wastes, biological materials, heat, wrecked or discarded equipment, rock, sand, cellar dirt, and industrial or municipal waste.

“Runoff coefficient” means the fraction of total rainfall that will appear at the conveyance as runoff.

“Special Aquatic Sites,” as defined at 40 CFR 230.3(q-1), means those sites identified in 40 CFR part 230 Subpart E. They are geographic areas, large or small, possessing special ecological characteristics of productivity, habitat, wildlife protection, or other important and easily disrupted ecological values. These areas are generally recognized as significantly influencing or positively contributing to the general overall environmental health or vitality of the entire ecosystem of a region. (See 40 CFR 230.10(a)(3)).

“Storm Water” means storm water runoff, snow melt runoff, and surface runoff and drainage.

“Storm Water Associated with Industrial Activity” refers to storm water, that if allowed to discharge, would constitute a “discharge of storm water associated with industrial activity” as defined at 40 CFR 122.26(b)(14) and incorporated here by reference. Most relevant to this permit is 40 CFR 122.26(b)(14)(x), which relates to construction activity including clearing, grading and excavation activities that result in the disturbance of five (5) or more acres of total land area, or are part of a larger common plan of development or sale.

“Waters of the United States”—means:

1. All waters which are currently used, were used in the past, or may be susceptible to use in interstate or foreign commerce, including all waters which are subject to the ebb and flow of the tide;

2. All interstate waters, including interstate “wetlands”;

3. All other waters such as interstate lakes, rivers, streams (including intermittent streams), mudflats, sandflats, wetlands, sloughs, prairie potholes, wet meadows, playa lakes, or natural ponds the use, degradation, or destruction of which would affect or could affect interstate or foreign commerce including any such waters:

a. Which are or could be used by interstate or foreign travelers for recreational or other purposes;

b. From which fish or shellfish are or could be taken and sold in interstate or foreign commerce; or

c. Which are used or could be used for industrial purposes by industries in interstate commerce;

4. All impoundments of waters otherwise defined as waters of the United States under this definition;

5. Tributaries of waters identified in paragraphs (1) through (4) of this definition;

6. The territorial sea; and

7. Wetlands adjacent to waters (other than waters that are themselves wetlands) identified in paragraphs 1. through 6. of this definition.

Waste treatment systems, including treatment ponds or lagoons designed to meet the requirements of the CWA (other than cooling ponds for steam electric generation stations per 40 CFR 423) which also meet the criteria of this definition) are not waters of the United States. Waters of the United States do not include prior converted cropland. Notwithstanding the determination of an area's status as prior converted cropland by any other federal agency, for the purposes of the Clean Water Act, the final authority regarding Clean Water Act jurisdiction remains with EPA.

“You” and “Your” as used in this permit is intended to refer to the permittee, the operator, or the discharger as the context indicates and that party's facility or responsibilities. The use of “you” and “your” refers to a particular facility and not to all facilities operated by a particular entity. For example, “you must submit” means the permittee must submit something for that particular facility. Likewise, “all your discharges” would refer only to discharges at that one facility.

13. Permit Conditions Applicable to Specific States, Indian Country Lands, or Territories

The provisions of Part 13 provide modifications or additions to the applicable conditions of Parts 1 through 12 of this permit to reflect specific additional conditions required as part of the State or Tribal CWA Section 401 certification process, or Coastal Zone Management Act certification process, or as otherwise established by the permitting authority. The additional revisions and requirements listed below are set forth in connection with, and only apply to, the following States, Indian Country lands and Federal facilities.

[Reserved for Final Permit Decision Pending Completion of Required Consultations and State/Tribal Certification Processes]

Addendum A—Endangered Species Guidance

Note: The following is a model of what the Endangered Species Guidance may look like. Final guidance will be prepared to reflect any requirements resulting from any required consultations under the Endangered Species Act on issuance of this permit. This example is based on the general process used in the 1995 MSGP and the 1998 Construction General Permits issued by EPA.

I. Assessing Permit Eligibility Regarding Endangered Species

A. Background

To meet its obligations under the Clean Water Act and the Endangered Species Act (ESA) and to promote those Acts' goals, the Environmental Protection Agency (EPA) is seeking to ensure the activities regulated by this Multi-sector General Permit (MSGP) avoid unacceptable effects on endangered and threatened species and critical habitat. To ensure that those goals are met, applicants for MSGP coverage are required under Part 1.2.3.6 to assess the impacts of their storm water discharges, allowable non-storm water discharges, and discharge-related activities on Federally listed endangered and threatened species (“listed species”) and designated critical habitat (“critical habitat”) by following the process listed below. EPA strongly recommends that you follow these steps at the earliest possible stage to ensure that measures to protect listed species and critical habitat are incorporated early in your planning process.

You also have an independent ESA obligation to ensure that your activities do not result in any prohibited “takes” of listed species.¹³ Many of the measures required in the MSGP and in these instructions to protect species may also assist you in ensuring that your activities do not result in a prohibited take of species in violation of section 9 of the ESA. If you have or plan activities in areas that harbor endangered and threatened species, you may wish to ensure that you are protected from potential takings liability under ESA section 9 by obtaining an ESA section 10 permit or, if there is a separate federal action regarding the facility, by requesting formal consultation under ESA section 7 regarding that action. If you are not sure whether to pursue a section 10 permit or a section 7 consultation for takings protection, you should confer with the appropriate Fish and Wildlife Service (FWS) and/or National Marine Fisheries Service (NMFS) (collectively the “Services”) office.

¹³ Section 9 of the ESA prohibits any person from “taking” a listed species (e.g., harassing or harming it) unless: (1) The taking is authorized through a “incidental take statement” as part of undergoing ESA section 7 formal consultation; (2) where an incidental take permit it obtained under ESA section 10 (which requires the development of a habitat conservation plan); or (3) where otherwise authorized or exempted under the ESA. This prohibition applies to all entities including private individuals, businesses, and governments.

B. How Does The Basic Eligibility Assessment Process Work?

In order to determine if you are eligible to use the permit, you need to go through a series of steps to determine:

1. Are there any listed endangered or threatened species or critical habitat in proximity to your facility or the point where your discharges reach a receiving water?

2. If there are listed species in proximity, are your discharges or discharge-related activities going to adversely affect them?

3. If adverse effects on listed species or critical habitat are likely, what can you do to eliminate or reduce these effects?

4. Have any adverse effects already been addressed under the Endangered Species Act?

5. Which, if any, of the eligibility criteria make you eligible for permit coverage?

C. What Are the Eligibility Criteria?

The Part 1.2.3.6 eligibility requirement may be satisfied by documenting that one or more of the following criteria has been met:

Criteria A. No Listed Species or Critical Habitat are in Proximity to Your Facility or the Point Where Authorized Discharges Reach a Water of the United States (See Part 1.2.3.6.3.1)

Using the latest County Species List available from EPA and any other relevant information sources, you have determined that no listed species or critical habitat are in proximity to your facility. Listed species and critical habitat are in proximity to a facility when they are:

• Located in the path or immediate area through which or over which contaminated point source storm water flows from industrial activities to the point of discharge into the receiving water. This may also include areas where storm water from your facility enters groundwater that has a direct hydrological connection to a receiving water (e.g., groundwater infiltrates at your facility and re-emerges to enter a surface waterbody within a short period of time.)

• Located in the immediate vicinity of, or nearby, the point of discharge into receiving waters.

• Located in the area of a facility where storm water BMPs are planned or are to be constructed.

Please be aware that no protection from incidental takings liability is provided under this criteria.

Criteria B. An ESA Section 7 Consultation has Been Performed for a Separate Federal Action Regarding Your Facility (See Part 1.2.3.6.3.2)

A formal or informal ESA section 7 consultation on a separate federal action (e.g., New Source review under NEPA, application for a dredge and fill permit under CWA section 404, application for an individual NPDES permit, etc.) addressed the effects of your discharges and discharge-related activities on listed species and critical habitat. If your facility was the subject of a formal consultation, it must have resulted in either a “no jeopardy opinion” or a “jeopardy opinion” and you agree to implement any reasonable and prudent alternatives or other conditions upon which the consultation was based. If your facility was the subject of an informal consultation, it must have resulted in a written concurrence by the Service(s) on a finding that the applicant's activities are not likely to adversely affect listed species or critical habitat (for informal consultation, see 50 CFR 402.13).

Criteria C. An Incidental Taking Permit Under Section 10 of the ESA was Issued for Your Facility (See Part 1.2.3.6.3.3)

You have a permit under section 10 of the ESA and that authorization addresses the effects of your wastewater and storm water discharges and discharge-related activities on listed species and critical habitat. Note: You must follow FWS/NMFS procedures when applying for an ESA section 10 permit (see 50 CFR 17.22(b)(1)).

Criteria D. You have Determined Adverse Effects are Not Likely (See Part 1.2.3.6.3.4)

Using due diligence, you have investigated potential effects your discharges and discharges-related activities may have on listed species and critical habitat and have no reason to believe there would be adverse effects. Any terms and/or conditions to protect listed species and critical habitat you relied on in order to determine adverse effects would be unlikely must be incorporated into your Pollution Prevention Plan (required by the permit) and implemented in order to maintain permit eligibility.

Please be aware that no protection from incidental takings liability is provided under this criteria.

Criteria E. Your Facility Was Covered Under the Eligibility Certification of Another Operator for the Facility Area (See Part 1.2.3.6.3.5)

Your storm water discharges, allowable non-storm water discharges, and discharge-related activities were already addressed in another operator's certification of eligibility under Part 1.2.3.6.3 which covered your facility. By certifying eligibility under Part 1.2.3.6.3.4, you agree to comply with any measures or controls upon which the other operator's certification under Part 1.2.3.6.3 was based.

Please be aware that in order to meet the permit eligibility requirements by relying on another operator's certification of eligibility, the other operator's certification must apply to the location of your facility and must address the effects from your storm water discharges, allowable non-storm water discharges, and discharge-related activities on listed species and critical habitat. This situation will typically occur where an ownership of a facility covered by this permit changes or when there are multiple operators within an industrial park or an airport. However, before you rely on another operator's certification, you should carefully review that certification along with any supporting information. You also need to confirm that no additional species have been listed or critical habitat designated in the area of your facility since the other operator's endangered species assessment was done. If you do not believe that the other operator's certification provides adequate coverage for your facility, you should provide your own independent endangered species assessment and certification.

Please be aware that no protection from incidental takings liability is provided under this criteria.

D. What Procedures Do I Use To Determine if an Eligibility Criteria Can Be Satisfied?

CAUTION: Additional endangered and threatened species have been listed and critical habit designated since the 1995 MSGP was issued and will continue to be added after the effective date of this permit. You must verify any earlier determination of eligibility is still valid before relying on that assessment to certify eligibility for this permit. Where applicable, you may incorporate information from your previous endangered species analysis in your documentation of eligibility for this permit.

To determine eligibility, you must assess (or have previously assessed) the potential effects of your storm water discharges, allowable non-storm water discharges and discharge-related activities on listed species and critical habitat. PRIOR to completing and submitting Notice of Intent (NOI) form, you must follow the steps outlined below and document the results of your eligibility determination.

Step One: Are there any endangered species or critical habitat in your county (or other area) and if so, are they in proximity to your facility or discharge locations?

1-A. Check for Listed Species. Look in the latest county species list to see if any listed species are found where your facility and discharge point(s) are located. If you are located in close to the border of a county or your facility is located in one county and your discharge points are located in another, you must look under both counties. Since species are listed and de-listed periodically, you will need the most current list at the time you are doing your endangered species assessment. EPA's most current county-species list is on the Internet at www.epa.gov/owm/esalst2.htm.

=>Proceed to 1-B

1-B. Check for Critical Habitat. Some (but not all) listed species have designated critical habitat. Exact locations of such habitat is provided in the endangered species regulations at 50 CFR part 17 and part 226. To determine if facility or discharge locations are within designated critical habitat, you should either:

• Review those regulations (which can be found in many larger libraries); or

• Contact the nearest Fish and Wildlife Service (FWS) and National Marine Fisheries Service (NMFS) Office. A list of FWS and NMFS offices is found at section II of this Addendum, or

• Contact the State Natural Heritage centers. These centers compile and disseminate information on Federally listed and other protected species. They frequently have the most current information on listed species and critical habitat. A list of these centers is provided in section III of the Addendum.

=>Proceed to 1-C.

1-C. Check for Proximity. If there are listed species in your county, are they in proximity to your facility or discharge locations? You will need to use the proximity criteria in Eligibility Criteria A to determine if the listed species are in your part of the county. The area in proximity to be searched/ surveyed for listed species will vary with the size of the facility, the nature and quantity of the storm water discharges, and the type of receiving waters. Given the number of facilities potentially covered by the MSGP, no specific method to determine whether species are in proximity is required for permit coverage under the MSGP. Instead, you should use the method or methods which best allow you to determine to the best of their knowledge whether species are in proximity to your particular facility. These methods may include:

• Conducting visual inspections. This method may be particularly suitable for facilities that are smaller in size, facilities located in non-natural settings such as highly urbanized areas or industrial parks where there is little or no nature habitat; and facilities that discharge directly into municipal storm water collection systems. For other facilities, a visual survey of the facility site and storm water drainage areas may be insufficient to determine whether species are likely to be located in proximity to the discharge.

• Contacting the nearest State Wildlife Agency or U.S. Fish and Wildlife Service (FWS) or National Marine Fisheries Service (NMFS) offices. Many endangered and threatened species are found in well-defined areas or habitats. That information is frequently known to state or federal wildlife agencies. FWS has offices in every state. NMFS has regional offices in: Gloucester, Massachusetts; St. Petersburg, Florida; Long Beach, California; Portland, Oregon; and Juneau, Alaska.

• Contacting local/regional conservation groups. These groups inventory species and their locations and maintain lists of sightings and habitats.

• Conducting a formal biological survey. Larger facilities with extensive storm water discharges may choose to conduct biological surveys as the most effective way to assess whether species are located in proximity and whether there are likely adverse effects.

If neither your facility nor discharge locations are located in designated critical habitat, then you need not consider impacts to critical habitat when following Steps Two through Five below. If your facility or discharge locations are located within critical habitat, then you must look at impacts to critical habitat when following Steps Two through Five. EPA notes that many measures imposed to protect listed species under these steps will also protect critical habitat. However, obligations to protect habitat under this permit are separate from those of protecting listed species. Thus, meeting the eligibility requirements of this permit may require measures to protect critical habitat that are separate from those to protect listed species.

=>Proceed to 1-D

1-D. Check for Criteria “A” Eligibility. IF NO SPECIES WERE LISTED FOR YOUR COUNTY OR THE SPECIES THAT WERE LISTED WERE NOT IN PROXIMITY TO YOUR DISCHARGE AND YOUR FACILITY AND DISCHARGE LOCATIONS WERE NOT IN PROXIMITY TO CRITICAL HABITAT, YOU ARE ELIGIBLE UNDER CRITERIA “A”. Document your endangered species assessment and certify eligibility under Part 1.2.3.6.3.1 of the permit. Congratulations, go to Step Five!

=> If There Were Listed Species or Critical Habitat, Proceed to Step Two

Step Two: Can You Meet Eligibility Criteria “B”, “C”, or “E”?

2-A Check for Criteria “B”, “C”, or “E” Basis Do one of the following apply:

• There was a competed consultation under ESA section 7 for your facility (Criteria B) => proceed to 2-B

• There is a previously issued ESA section 10 permit for your facility (Criteria C) => proceed to 2-C

• Another operator previously certified eligibility for the area where your facility is located (Criteria E) => proceed to 2-D

=> If no, Proceed to Step Three

2-B Check for Criteria “B” Eligibility Did the previously completed ESA section 7 consultation consider all currently listed species and critical habitat and address your storm water, allowable non-storm water, and discharge related activities?

=> If no, Proceed to Step Three

2-B-1 Did the ESA section 7 consultation result in a either a “no jeopardy” opinion by the Service (for formal consultations) or a concurrence by the service that your activities would be “unlikely to adversely affect” listed species or critical habitat?

=> If no, Proceed to Step Three

2-B-2 IF YOU AGREE TO IMPLEMENT ANY MEASURES UPON WHICH THE CONSULTATION WAS CONDITIONED, YOU ARE ELIGIBLE UNDER CRITERIA “B”. Incorporate any necessary measures into your Storm Water Pollution Prevention Plan, document your endangered species assessment, and certify eligibility under Part 1.2.3.6.3.2. Congratulations, go to Step Five!

=> If You Do Not Agree to Implement Conditions Upon Which the Consultation was Based, Proceed to Step Three

2-C Check for Criteria “C” Eligibility IF YOUR ESA SECTION 10 PERMIT CONSIDERED ALL CURRENTLY LISTED SPECIES AND CRITICAL HABITAT AND ADDRESSES YOUR STORM WATER, ALLOWABLE NON-STORM WATER, AND DISCHARGE RELATED ACTIVITIES, YOU ARE ELIGIBLE UNDER CRITERIA “C”. Incorporate any necessary measures into your Storm Water Pollution Prevention Plan, document your endangered species assessment, and certify eligibility under Part 1.2.3.6.3.3 of the permit. Congratulations, go to Step Five!

=> If Your ESA Section 10 Permit Did Not Meet These Criteria, Proceed to Step Three

2-D Check for Criteria “E” Eligibility Did the other operator's certification of eligibility consider all currently listed species and critical habitat and address your storm water, allowable non-storm water, and discharge related activities?

=> If no, Proceed to Step Three

2-D-1 IF YOU AGREE TO IMPLEMENT ANY MEASURES UPON WHICH THE OTHER OPERATOR'S CERTIFICATION WAS BASED, YOU ARE ELIGIBLE UNDER CRITERIA “E”. Incorporate any necessary measures into your Storm Water Pollution Prevention Plan, document your endangered species assessment, and certify eligibility under Part 1.2.3.6.3.5 of the Permit. Congratulations, go to Step Five!

=> If You Do Not Agree to Implement Conditions Upon Which Other Operator's Certification Was Based, Proceed to Step Three

Step Three: Are Listed Species or Critical Habitat Likely to be Adversely Affected by Your Facility's Storm Water Discharges, Allowable Non-storm Water Discharges, or Discharge-related Activities?

If you unable to certify eligibility under Criteria A, B, C, or E, you must assess whether their storm water discharges, allowable non-storm water discharges, and discharge-related activities are likely to adversely affect listed species or critical habitat. “Storm water discharge-related activities” include:

• Activities which cause, contribute to, or result in point source storm water pollutant discharges; and

• Measures to control storm water discharges and allowable non-storm water discharges including the siting, construction, operation of best management practices (BMPs) to control, reduce or prevent water pollution.

Potential adverse effects from storm water discharges, allowable non-storm water discharges, and discharge-related activities include:

• Hydrological. Wastewater or storm water discharges may cause siltation, sedimentation or induce other changes in receiving waters such as temperature, salinity or pH. These effects will vary with the amount of wastewater or storm water discharged and the volume and condition of the receiving water. Where a discharge constitutes a minute portion of the total volume of the receiving water, adverse hydrological effects are less likely.

• Habitat. Excavation, site development, grading, and other surface disturbance activities, including the installation or placement of wastewater or storm water ponds or BMPs, may adversely affect listed species or their habitat. Wastewater or storm water associated with facility operation may drain or inundate listed species habitat.

• Toxicity. In some cases, pollutants in wastewater or storm water may have toxic effects on listed species.

The scope of effects to consider will vary with each facility. If you are having difficulty in determining whether your facility is likely to adversely effect a listed specie or critical habitat, then the appropriate office of the FWS, NMFS, or Natural Heritage Center listed in Sections II and III of this Addendum should be contacted for assistance.

Document the results of your assessment and make a preliminary determination on whether or not there would likely be adverse effects on listed species or critical habitat. You will need to determine that your activities are either “unlikely to adversely affect” or “may adversely affect”. Your determination may be based on measures that you implement to avoid, eliminate, or minimize adverse affects.

=> Proceed to Step Four

Step Four: Can You Meet Eligibility Criteria “D”?

Using due diligence, can you determine your facility's storm water discharges, allowable non-storm water discharges, and discharge-related activities are unlikely to have adverse affects on listed species or critical habitat?

4-A IF STEP THREE DETERMINATION IS “UNLIKELY TO ADVERSELY AFFECT”, YOU ARE ELIGIBLE UNDER CRITERIA “D”. Incorporate appropriate measures upon which your eligibility was based into your Storm Water Pollution Prevention Plan and certify eligibility under Part 1.2.3.6.3.4 of the permit. Congratulations, go to Step Five.

=> If There May Be Adverse Effects, Proceed to Step 4-B

4-B Step Three (or Step 4-A-1) Determination is “May Adversely Affect” You must contact the Service(s) to discuss your findings and measures you could implement to avoid, eliminate, or minimize adverse affects.

4-B-1 IF YOU AND THE SERVICE(S) REACH AGREEMENT ON MEASURES TO AVOID ADVERSE EFFECTS, YOU ARE ELIGIBLE UNDER CRITERIA “D”. Incorporate appropriate measures upon which your eligibility was based into your Storm Water Pollution Prevention Plan and certify eligibility under Part 1.2.3.6.3.4 of the permit. Congratulations, go to Step Five.

4-C Endangered Species Issues Cannot be Resolved If you cannot reach agreement with the Service(s) on measures to avoid, eliminate, or reduce adverse effects to an acceptable level; and if any likely adverse effects cannot otherwise be addressed through meeting the other criteria of Part 1.2.3.6; then you are not eligible for coverage under the MSGP at this time and must seek coverage under an individual permit. Proceed to 40 CFR 122.26(c) for individual permit application requirements.

Step Five: Submit Notice of Intent and Document Results of the Eligibility Determination.

Once all other Part 1.2 eligibility requirements have been met, you may submit the Notice of Intent (NOI). Signature and submittal of the NOI is also deemed to constitute your certification, under penalty of law, of your eligibility for permit coverage.

You must include documentation of Part 1.2.3.6 eligibility in the pollution prevention plan required for the facility. Documentation required for the various eligibility criteria are as follows:

Criteria A—A copy of the County-Species List pages with the county(ies) where your facility and discharges are located and a statement on how you determine no listed species or critical habitat was in proximity to your discharge.

Criteria B—A copy of the Service(s)'s Biological Opinion or concurrence on a finding of “unlikely to adversely effect” regarding the ESA section 7 consultation.

Criteria C—A copy of the Service(s)'s letter transmitting the ESA section 10 authorization.

Criteria D—Documentation on how you determined adverse effects on listed species and critical habitat were unlikely.

Criteria E—A copy of the documents originally used by the other operator of your facility (or area including your facility) to satisfy the documentation requirement of Criteria A, B, C or D.

E. Duty To Implement Terms and Conditions Upon Which Eligibility Was Determined

You must comply with any terms and conditions imposed under the eligibility requirements of Part 1.2.3.6.3 to ensure that your storm water discharges, allowable non-storm water discharges, and discharge-related activities avoid unacceptable effects on listed species and/or critical habitat. You must incorporate such terms and conditions in the your facility's pollution prevention plan as required by the permit. If the eligibility requirements of Part 1.2.3.6 cannot be met, then you may not receive coverage under this permit. You should then consider applying to the permitting authority for an individual permit.

II. U.S. Fish and Wildlife Service Offices

National Website for Endangered Species Information

Endangered Species Home page: http://www.fws.gov/~r9endspp/endspp.html

Regional, State, Field and Project Offices

<<<RESERVED FOR ADDRESSES>>>

III. National Marine Fisheries Service Offices

<RESERVED FOR ADDRESSES>

IV. Natural Heritage Centers

The Natural Heritage Network comprises 85 biodiversity data centers throughout the Western Hemisphere. These centers collect, organize, and share data relating to endangered and threatened species and habitat. The network was developed to inform land-use decisions for developers, corporations, conservationists, and government agencies and is also consulted for research and educational purposes. The centers maintain a Natural Heritage Network Control Server Website (http://www.heritage.tnc.org) which provides website and other access to a large number of specific biodiversity centers. Some of these centers are listed below:

<<<RESERVED FOR ADDRESSES>>>

Addendum B—Historic Properties Guidance

Note: The following is a model of what the Historic Properties Guidance may look like. Final guidance will be prepared to reflect any requirements resulting from any required consultations under the National Historic Preservation Act on issuance of this permit. This example is based on the general process initially proposed, but not finalized (section reserved in final permit), for use in the 1998 Construction general Permits issued by EPA.

In order to do this, applicants must determine whether their facility's storm water discharges, allowable non-storm water discharges, or construction of best management practices (BMPs) to control such discharges, has potential to affect a property that is either listed or eligible for listing on the National Register of Historic Places.

For existing dischargers who do not need to construct BMPs for permit coverage, a simple visual inspection may be sufficient to determine whether historic properties are affected. However, for facilities which are new industrial storm water dischargers and for existing facilities which are planning to construct BMPs for permit eligibility, applicants should conduct further inquiry to determine whether historic properties may be affected by the storm water discharge or BMPs to control the discharge. In such instances, applicants should first determine whether there are any historic properties or places listed on the National Register or if any are eligible for listing on the register (e.g., they are “eligible for listing”).

Due to the large number of entities seeking coverage under this permit and the limited number of personnel available to State and Tribal Historic Preservation Officers nationwide to respond to inquiries concerning the location of historic properties, EPA suggests that applicants to first access the “National Register of Historic Places” information listed on the National Park Service's web page (see Part I of this addendum). Addresses for State Historic Preservation Officers and Tribal Historic Preservation Officers are listed in Parts II and III of this addendum, respectively. In instances where a Tribe does not have a Tribal Historic Preservation Officer, applicants should contact the appropriate Tribal government office when responding to this permit eligibility condition. Applicants may also contact city, county or other local historical societies for assistance, especially when determining if a place or property is eligible for listing on the register.

The following three scenarios describe how applicants can meet the permit eligibility criteria for protection of historic properties under this permit:

(1) If historic properties are not identified in the path of a facility's storm water and allowable non-storm water discharges or where construction activities are planned to install BMPs to control such discharges (e.g., diversion channels or retention ponds), then the applicant has met the permit eligibility criteria under Part 1.2.3.7.1.

(2) If historic properties are identified but it is determined that they will not be affected by the discharges or construction of BMPs to control the discharge, the applicant has met the permit eligibility criteria under Part 1.2.3.7.1.

(3) If historic properties are identified in the path of a facility's storm water and allowable non-storm water discharges or where construction activities are planned to install BMPs to control such discharges, and it is determined that there is the potential to adversely affect the property, the applicant can still meet the permit eligibility criteria under Part 1.2.3.7.2 if he/she obtains and complies with a written agreement with the appropriate State or Tribal Historic Preservation Officer which outlines measures the applicant will follow to mitigate or prevent those adverse effects. The contents of such a written agreement must be included in the facility's storm water pollution prevention plan.

In situations where an agreement cannot be reached between an applicant and the State or Tribal Historic Preservation Officer, applicants should contact the Advisory Council on Historic Preservation listed in Part IV of this addendum for assistance.

The term “adverse effects” includes but is not limited to damage, deterioration, alteration or destruction of the historic property or place. EPA encourages applicants to contact the appropriate State or Tribal Historic Preservation Officer as soon as possible in the event of a potential adverse effect to a historic property.

Applicants are reminded that they must comply with applicable State, Tribal and local laws concerning the protection of historic properties and places.

I. Internet Information on the National Register of Historic Places

An electronic listing of the “National Register of Historic Places,” as maintained by the National Park Service on its National Register Information System (NRIS), can be accessed on the Internet at “http://www.nr.nps.gov/nrishome.htm”. Remember to use small case letters when accessing Internet addresses.

II. State Historic Preservation Officers (SHPO)

(....RESERVED FOR CONTACT INFORMATION....)

III. Tribal Historic Preservation Officers (THPO)

In instances where a Tribe does not have a Tribal Historic Preservation Officer, please contact the appropriate Tribal government office when responding to this permit eligibility condition.

(....RESERVED FOR CONTACT INFORMATION....)

IV. Advisory Council on Historic Preservation

Advisory Council on Historic Preservation, 1100 Pennsylvania Avenue, NW., Suite 809, Washington, DC 20004, Telephone: (202) 606-8503/8505, Fax: (202) 606-8647/8672, E-mail: achp@achp.gov

Addendum C—New Source Environmental Assessments

Basic Format for Environmental Assessment

This is the basic format for the Environmental Assessment prepared by EPA from the review of the applicant's Environmental Information Document (EID) required for new source NPDES permits. Comprehensive information should be provided for those items or issues that are affected; the greater the impact, the more detailed information needed. The EID should contain a brief statement addressing each item listed below, even if the item is not applicable. The statement should at least explain why the item is not applicable.

A. General Information

1. Name of applicant

2. Type of facility

3. Location of facility

4. Product manufactured

B. Description Summaries

1. Describe the proposed facility and construction activity

2. Describe all ancillary construction not directly involved with the production processes

3. Describe briefly the manufacturing processes and procedures

4. Describe the plant site, its history, and the general area

C. Environmental Concerns

1. Historical and Archeological (include a statement from the State Historical Preservation Officer)

2. Wetlands Protection and 100-year Floodplain Management (the Army Corps of Engineers must be contacted if any wetland area or floodplain is affected)

3. Agricultural Lands (a prime farmland statement from the Soil Conservation Service must be included)

4. Coastal Zone Management and Wild and Scenic Rivers

5. Endangered Species Protection and Fish and Wildlife Protection (a statement from the U.S. Fish and Wildlife Service must be included)

6. Air, Water and Land Issues: Quality, effects, usage levels, municipal services used, discharges and emissions, runoff and wastewater control, geology and soils involved, land-use compatibility, solid and hazardous waste disposal, natural and man-made hazards involved.

7. Biota concerns: Floral, faunal, aquatic resources, inventories and effects

8. Community Infrastructures available and resulting effects: Social, economic, health, safety, educational, recreational, housing, transportation and road resources.

Addendum D—Notice of Intent Form

BILLING CODE 6560-50-U

BILLING CODE 6560-50-C

Addendum E—Notice of Termination Form

EPA does not plan to change the current NOT form—a copy will be included with the final permit.

Addendum F—No Exposure Certification Form

In conjunction with the new Phase II storm water rule, EPA created a “No Exposure” permitting exclusion option for Phase I storm water discharges associated with industrial activity (other than construction). In order to claim this exclusion, a discharger must meet the eligibility conditions at 40 CFR 122.26(g) and submit, once every five years, a certification of eligibility. While a copy of the “No Exposure” form was published along with the Phase II storm water rule (64 FR 68722, December 8, 1999), EPA requests comment on whether an additional copy should be provided as an addendum to the MSGP.

[FR Doc. 00-7203 Filed 3-29-00; 8:45 am]

BILLING CODE 6560-50-U